DEPARTMENT OF HEALTH AND HUMAN SERVICES

Health Resources and Services Administration

Lists of Designated Primary Medical Care, Mental Health, and Dental Health Professional Shortage Areas

AGENCY: Health Resources and Services Administration, HHS.

ACTION: Notice.

SUMMARY: This notice provides lists of all areas, population groups, and facilities designated as primary medical care, mental health, and dental health professional shortage areas (HPSAs) as of July 31, 2000. HPSAs are designated or withdrawn by the Secretary of Health and Human Services (HHS) under the authority of section 332 of the Public Health Service (PHS) Act.

FOR FURTHER INFORMATION CONTACT: Requests for further information on the HPSA designations listed below and requests for additional designations, withdrawals, or reinstatement of a withdrawn designation should be submitted to Jerilyn A. Thornburg, R.N., M.P.H., Director, Division of Shortage Designation, Bureau of Primary Health Care, Health Resources and Services Administration, 4350 East-West Highway, Bethesda, Maryland 20814 (301-594-0816).

SUPPLEMENTARY INFORMATION:

1. Background

Section 332 of the PHS Act, 42 U.S.C. 254e, provides that the Secretary of HHS shall designate HPSAs based on criteria established by regulation. HPSAs are defined in section 332 to include (1) urban and rural geographic areas with shortages of health professionals, (2) population groups with such shortages, and (3) facilities with such shortages. Section 332 further requires that the Secretary annually publish a list of the designated geographic areas, population groups, and facilities. The list of HPSAs is to be reviewed at least annually and revised as necessary. The Health Resources and Services Administration's (HRSA) Bureau of Primary Health Care (BPHC) has the responsibility for designating and updating HPSAs.

Public or private nonprofit entities are eligible to apply for assignment of National Health Service Corps (NHSC) personnel to provide primary health services in or to these HPSAs. NHSC health professionals with a service obligation may serve only in federally designated HPSAs. Programs with clinical training sites located in HPSAs are eligible to receive priority for certain residency training program grants administered by HRSA's Bureau of Health Professions.

Several programs administered by the Health Care Financing Administration also use the HPSA designation. Certain qualified providers in HPSAs are eligible for increased levels of Medicare and Medicaid reimbursement.

2. Development of the Designation and Withdrawal Lists

Criteria for designating HPSAs were published as final regulations (42 CFR part 5) in 1980. Criteria were then defined for each of seven health professional types (primary medical care, dental, psychiatric, vision care, podiatric, pharmacy, and veterinary care). The criteria for correctional facility HPSAs were revised at 54 FR 8738 in 1989, and the criteria for psychiatric HPSAs were expanded to mental health HPSAs at 57 FR 2477 in 1992. The currently-funded PHS programs which use the HPSA designations involve only the primary medical care, mental health, or dental HPSAs.

Individual requests for designation or withdrawal of a particular area, population group, or a facility as a HPSA are received and reviewed continuously by BPHC. The review process includes routine submission of such requests to the appropriate State Health Planning and Development Agency (SHPDA) and/or a unit of the State Health Department, the Governor, and other interested organizations and individuals for their comments and recommendations. Requests regarding primary medical care and mental health HPSAs are also submitted to the appropriate State medical society for comment, and dental HPSA requests are submitted to the appropriate State dental society.

Annually, lists of designated HPSAs are provided to all SHPDAs and/or State health departments, State medical and dental societies and others, together with a request to review and update the data on which the designations are based. Emphasis is placed on updating those designations which are more than three years old or where significant changes relevant to the designation criteria have occurred.

Recommendations for possible additions, continuations, revisions or withdrawals from the HPSA list are reviewed by BPHC, and the review findings are provided by letter to the agency or individual requesting action or providing data, with copies to other interested organizations and individuals. These letters constitute the official notice of designation as a HPSA, rejection of recommendations for HPSA designation, revision of a HPSA designation, and/or advance notice of pending withdrawals from the HPSA list. Designations (or revisions of designations) are effective as of the date of the notification letter from BPHC. Proposed withdrawals become effective only after interested parties in the area affected have been afforded the opportunity to submit additional information to BPHC in support of its continued or revised designation. If no new data are submitted or if the BPHC review confirms the proposed withdrawal, it becomes effective upon publication in the Federal Register of a list of HPSAs that does not include the proposed withdrawals.

This notice contains three lists of designated HPSAs. Each list (primary medical care, mental health, and dental) includes all those areas, population groups, and facilities which were designated HPSAs as of July 31, 2000. This notice incorporates the most recent annual review of designated HPSAs and supersedes the HPSA list published in the Federal Register on September 20, 1999. The lists below include 2,706 primary medical care, 661 mental health, and 1,178 dental HPSAs.

3. Format of Lists

Each list of designated HPSAs (primary medical care, mental health, and dental) is arranged by State. Within each State, the list is first presented by county. If only a portion (or portions) of a county is (are) designated, or if the county is part of a larger designated service area, or if a population group residing in the county or a facility located in the county has been designated, the name of the service area, population group, or facility involved is listed under the county name. Counties which have a geographic HPSA designation in addition to one or more facility designations within the county are indicated by a “(g)” following the county name.

Following the county listing, a list of any designated service areas is presented, identifying their component parts—counties, towns, townships, census tracts (CTs), minor civil divisions (MCDs), census county divisions (CCDs), block numbering areas (BNAs), or magisterial districts, as defined by the Bureau of the Census. Those counties (or parts of counties included in service areas) which are classified as nonmetropolitan are indicated by an asterisk (*). “Nonmetropolitan” refers to those counties not included in the definition of metropolitan areas established by the Office of Management and Budget (OMB Bulletin 94-07 dated July 5, 1994).

Following the service area listing, a list of designated population groups (if any) is presented identifying each group and the geographic area wherein it resides. Following the population group listing, a list by name and location of any separately designated facilities (including prisons, correctional institutions, health centers, or hospitals) is presented.

In addition to the specific listings included in this notice, all Indian tribes which meet the definition of such tribes in the Indian Health Care Improvement Act of 1976, 25 U.S.C. 1603(d), are automatically designated as population groups with primary medical care and dental health professional shortages.

4. Future Updates of Lists of Designated HPSAs

The lists of HPSAs below consist of all those which were designated as of July 31, 2000. It should be noted that additional HPSAs may have been designated by letter since July 31. The appropriate agencies and individuals have been or will be notified of these actions by letter.

Any designated HPSA listed below is subject to withdrawal from designation if new information received and confirmed by HRSA indicates that the relevant data for the area involved have significantly changed since its designation or that incorrect or incomplete data were used in making the original designation.

All requests for new designations, updates, or withdrawals should be based on the relevant criteria in regulations published at 42 CFR part 5 (1997).

(Authority: 42 U.S.C. 254e)

5. Electronic Access Address

Information on HPSAs is also available at http://www.bphc.hrsa.gov.

Dated: August 30, 2000.
Claude Earl Fox,
Administrator.

PRIMARY MEDICAL CARE: Alabama County Listing
County Name
Autauga
Service Area: Autaugaville
Population Group: Low Inc—Montgomery/Prattville
Baldwin
Service Area: Atmore/Century (AL/FL)
Population Group: Low Inc—Central/South Baldwin
*Barbour
Service Area: Clayton
Population Group: Low Inc—Eufaula
*Bibb
Blount
*Bullock
Service Area: Bullock-Macon
*Butler
Service Area: Butler/South Lowndes
*Chambers
Service Area: La Fayette
Population Group: Low Inc—Valley
*Cherokee
*Chilton
*Choctaw
*Clarke
Service Area: Coffeeville
Service Area: Grove Hill/Fulton
*Clay
*Cleburne
*Coffee
Population Group: Low Inc—Coffee Co
Colbert
Service Area: Cherokee
*Conecuh
*Coosa
*Covington
Service Area: South Covington
Population Group: Low Inc—North Covington
*Crenshaw
*Cullman
Population Group: Low Inc—Cullman Co
Dale
*Dallas
Population Group: Low Inc—Dallas
*De Kalb
Population Group: Low Inc—Dekalb
Elmore
*Escambia
Service Area: Atmore/Century (AL/FL)
Etowah
Population Group: Low Inc—Etowah Co
*Fayette
*Franklin
Population Group: Low Inc—Franklin
*Geneva
*Greene
Service Area: Greene-Hale
*Hale
Service Area: Greene-Hale
*Henry
*Jackson
Population Group: Low Inc—Jackson Co
Jefferson
Population Group: Low Inc—Central Birmingham
*Lamar
Lauderdale
Population Group: Low Inc—Lauderdale Co
Lawrence
*Lee
Population Group: Low Inc—Lee County
Limestone
Population Group: Low Inc—Limestone Co
*Lowndes
Service Area: Butler/South Lowndes
Service Area: North Lowndes
*Macon
Service Area: Bullock-Macon
Madison
Population Group: Low Inc—C Huntsville
*Marion
Population Group: Low Inc—Marion Co
*Marshall
Population Group: Low Inc—Marshall Co
Mobile
Service Area: Bayou La Batre/Grand Bay
Service Area: North Mobile
Population Group: Low Inc—NW Mobile
Population Group: Low Inc—Central Mobile/Prichard
Population Group: Low Inc—SE Mobile
*Monroe
Service Area: Atmore/Century (AL/FL)
Population Group: Low Inc—Monroeville
Montgomery
Population Group: Low Inc—Montgomery/Prattville
Morgan
Population Group: Low Inc—Morgan Co
*Perry
*Pickens
*Randolph
Russell
Population Group: Low Inc—Russell
Shelby
St Clair
*Sumter
Population Group: Low Inc—Sumter
*Talladega
Population Group: Low Inc—Talladega Co
Facility: FCI Talladega
*Tallapoosa
Service Area: Camp Hill
Tuscaloosa
Population Group: Low Inc—Tuscaloosa Co
*Walker
Population Group: Low Inc—Walker Co
*Washington
*Wilcox
*Winston

PRIMARY MEDICAL CARE: Alabama Service Area Listing
Service Area Name
Atmore/Century (AL/FL)
County—Baldwin
Parts:
C.T. 101
County—Escambia
Parts:
C.T. 9703-9707
County—Monroe
Parts:
C.T. 9862
Autaugaville
County—Autauga
Parts:
Autaugaville Division
Billingsley Division
Marbury Division
Bayou La Batre/Grand Bay
County—Mobile
Parts:
C.T. 65-67
C.T. 72.01-72.02
C.T. 73
Bullock-Macon
County—Bullock
County—Macon
Butler/South Lowndes
County—Butler
County—Lowndes
Parts:
Braggs-Prairie Hill Division
Fort Deposit Division
Camp Hill
County—Tallapoosa
Parts:
Camp Hill Division
Dadeville Division
Tallassee Division
Cherokee
County—Colbert
Parts:
Cherokee Division
Clayton
County—Barbour
Parts:
Clayton Division
Clio Division
Louisville Division
Coffeeville
County—Clarke
Parts:
Coffeeville Division
Greene-Hale
County—Greene
County—Hale
Grove Hill/Fulton
County—Clarke
Parts:
Fulton CCD
Grove Hill CCD
La Fayette
County—Chambers
Parts:
Five Points Division
Lafayette Division
Milltown Division
North Lowndes
County—Lowndes
Parts:
Benton-Collirene Division
Hayneville Division
Lowndesboro Division
North Mobile
County—Mobile
Parts:
C.T. 58-60
South Covington
County—Covington
Parts:
Falco Division
Florala Division

PRIMARY MEDICAL CARE: Alabama Population Group Listing
Population Group
Low Inc—C Huntsville
County—Madison
Parts:
C.T. 1
C.T. 2.01-2.02
C.T. 3.01-3.02
C.T. 7.01-7.02
C.T. 8
C.T. 10-13
C.T. 15-16
C.T. 20-24
C.T. 25.01-25.02
Low Inc—Central Birmingham
County—Jefferson
Parts:
C.T. 3-5
C.T. 7-8
C.T. 11-12
C.T. 14-16
C.T. 19.02
C.T. 22
C.T. 23.03-23.04
C.T. 24
C.T. 27
C.T. 29
C.T. 30.01-30.02
C.T. 31-34
C.T. 39-40
C.T. 42
C.T. 45
C.T. 51.01
C.T. 55
Low Inc—Central Mobile/Prichard
County—Mobile
Parts:
C.T. 1-3
C.T. 4.01-4.02
C.T. 5-6
C.T. 7.01-7.02
C.T. 8
C.T. 12.01
C.T. 26
C.T. 38.01
C.T. 39.01
C.T. 40-48
Low Inc—Central/South Baldwin
County—Baldwin
Parts:
C.T. 102-106
C.T. 107.01-107.03
C.T. 108
C.T. 109.01-109.02
C.T. 110-111
C.T. 112.01-112.02
C.T. 113
C.T. 114.01-114.02
C.T. 115-116
Low Inc—Coffee Co
County—Coffee
Low Inc—Cullman Co
County—Cullman
Parts:
Low Income
Low Inc—Dallas
County—Dallas
Parts:
Low Inc
Low Inc—Dekalb
County—De Kalb
Parts:
Low Income
Low Inc—Etowah Co
County—Etowah
Parts:
Low Income
Low Inc—Eufaula
County—Barbour
Parts:
C.T. 9501
C.T. 9505-9509
Low Inc—Franklin
County—Franklin
Parts:
Low Income
Low Inc—Jackson Co
County—Jackson
Parts:
Low Inc—Jackson
Low Inc—Lauderdale Co
County—Lauderdale
Parts:
Low Inc
Low Inc—Lee County
County—Lee
Parts:
Low Income
Low Inc—Limestone Co
County—Limestone
Parts:
Low Income
Low Inc—Marion Co
County—Marion
Parts:
Low Income
Low Inc—Marshall Co
County—Marshall
Parts:
Low Income
Low Inc—Monroeville
County—Monroe
Parts:
Beatrice CCD
Frisco City CCD
Monroeville CCD
Peterman CCD
Vredenburgh CCD
Low Inc—Montgomery/Prattville
County—Autauga
Parts:
C.T. 201-208
County—Montgomery
Parts:
Low Income
Low Inc—Morgan Co
County—Morgan
Parts:
Low Income
Low Inc—North Covington
County—Covington
Parts:
Andalusia Division
Opp Division
Rosehill-Gantt Division
Low Inc—NW Mobile
County—Mobile
Parts:
C.T. 34.01-34.02
C.T. 49-50
C.T. 61.03
C.T. 161.03
Low Inc—Russell
County—Russell
Parts:
Low Income
Low Inc—Sumter
County—Sumter
Parts:
Low Income
Low Inc—SE Mobile
County—Mobile
Parts:
C.T 10.01
C.T 9.02
C.T. 9.01
C.T. 10.02
C.T. 11
C.T. 13.01-13.02
C.T. 14
C.T. 15.01-15.02
C.T. 16
C.T. 21-22
C.T. 23.01-23.02
C.T. 24
C.T. 25.01-25.02
C.T. 27-29
Low Inc—Talladega Co
County—Talladega
Parts:
Low Income
Low Inc—Tuscaloosa Co
County—Tuscaloosa
Parts:
Low Income
Low Inc—Valley
County—Chambers
Parts:
Lanett CCD
Langdale CCD
Low Inc—Walker Co
County—Walker
Parts:
Low Inc—Walker

PRIMARY MEDICAL CARE: Alabama Facility Listing
Facility Name
FCI Talladega
County—Talladega

PRIMARY MEDICAL CARE: Alaska Census Area Listing
Census Area Name
*Aleutians East Borough
*Aleutians West Borough
Anchorage Borough
Population Group: Low Inc—N. Anchorage City
*Bethel Area
*Bristol Bay Borough
*Denali Borough
*Fairbanks North Star Boro
Population Group: Low Inc—Fairbanks North Star Boro
*Lake And Peninsula Borough
*Matanuska-Susitna Borough
Service Area: Talkeetna/Trapper Creek
*Nome Area
Service Area: Norton Sound
*North Slope Borough
*Northwest Arctic Borough
*Prince Of Wales-Outer Ket
*Skagway-Hoonah-Angoon Borough
*Southeast Fairbanks
*Wade Hampton Borough
*Yakutat Borough
*Yukon-Koyukuk

PRIMARY MEDICAL CARE: Alaska Service Area Listing
Service Area Name
Norton Sound
Census Area—Nome Area
Parts:
C.T. 9510
Talkeetna/Trapper Creek
Census Area—Matanuska-Susitna Borough
Parts:
C.T. 9743-9745

PRIMARY MEDICAL CARE: Alaska Population Group Listing
Population Group
Low Inc—Fairbanks North Star Boro
Census Area—Fairbanks North Star Boro
Parts:
Low Income
Low Inc—N. Anchorage City
Census Area—Anchorage Borough
Parts:
Ct 10
Ct 11
Ct 14
Ct 15
Ct 16
Ct 19
Ct 20
Ct 21
Ct 22.02
Ct 5
Ct 6
Ct 7.01
Ct 7.02
Ct 7.03
Ct 8.01
Ct 8.02
Ct 9.01
Ct 9.02

PRIMARY MEDICAL CARE: Arizona County Listing
County Name
*Apache
Service Area: Ganado
Service Area: Sanders
Service Area: Tsaile
Population Group: Low Inc—St Johns/Springerville
*Cochise
Service Area: Elfrida
Service Area: Tombstone
Population Group: Low Inc—Bowie/Wilcox
Population Group: Low Inc—Douglas
Population Group: Low Inc—Bisbee
*Coconino
Service Area: Grand Canyon Village
Service Area: Kanab/Fredonia (UT/AZ)
Service Area: Page/Tuba City
*Gila
Service Area: Young
*La Paz
Maricopa
Service Area: Gila Bend
Service Area: Guadalupe
Service Area: Wickenburg
Population Group: El Mirage- Low Inc/MFW
Population Group: Low Inc—Avondale/Tolleson
Population Group: Low Inc—South Mountain
Population Group: Low Inc—South Central Phoenix
Facility: FCI Phoenix
Facility: Maricopa Co Jails
Mohave
Service Area: Dolan Springs
Service Area: Mohave North
Service Area: Needles/Topock (CA/AZ)
*Navajo
Service Area: Heber/Overgaard
Service Area: Hopi
Population Group: Low Inc—Holbrook
Population Group: Low Inc—Winslow
Pima
Service Area: Arivaca
Service Area: Continental
Population Group: Low Inc—Ajo
Population Group: Low Inc—Marana
Population Group: Low Inc—South Tucson
Facility: Child. Rehab. Cl—PC Clinic
Facility: FCI Tucson
Pinal
Service Area: San Pedro Valley
Population Group: Low Inc—Superior
Population Group: Low Inc/MFW—Central/West Pinal
Facility: INS Med Fac—Florence
*Santa Cruz
*Yavapai
Service Area: Ash Fork
Service Area: Cordes Junction
Yuma
Service Area: Somerton
Service Area: Wellton/Mohawk

PRIMARY MEDICAL CARE: Arizona Service Area Listing
Service Area Name
Arivaca
County—Pima
Parts:
C.T. 43.05
Ash Fork
County—Yavapai
Parts:
C.T. 1
Continental
County—Pima
Parts:
C.T. 41.02
Cordes Junction
County—Yavapai
Parts:
C.T. 15
Dolan Springs
County—Mohave
Parts:
C.T. 9502
C.T. 9504-9505
Elfrida
County—Cochise
Parts:
Elfrida Division
Ganado
County—Apache
Parts:
C.T. 9776-9778
Gila Bend
County—Maricopa
Parts:
C.T. 7233
Grand Canyon Village
County—Coconino
Parts:
C.T. 17-19
Guadalupe
County—Maricopa
Parts:
C.T. 3200.02
Heber/Overgaard
County—Navajo
Parts:
C.T. 9607
Hopi
County—Navajo
Parts:
C.T. 9650-9653
C.T. 9674
C.T. 9676
Kanab/Fredonia (UT/AZ)
County—Coconino
Parts:
Kaibab Division
Mohave North
County—Mohave
Parts:
Mohave North Division
Needles/Topock (CA/AZ)
County—Mohave
Parts:
C.T. 9521
Page/Tuba City
County—Coconino
Parts:
C.T. 21-25
San Pedro Valley
County—Pinal
Parts:
San Manuel Division
Sanders
County—Apache
Parts:
C.T. 9701
Somerton
County—Yuma
Parts:
C.T. 114-116
Tombstone
County—Cochise
Parts:
C.T. 4
Tsaile
County—Apache
Parts:
C.T. 9772-9775
Wellton/Mohawk
County—Yuma
Parts:
Wellton Division
Wickenburg
County—Maricopa
Parts:
C.T. 405.02
C.T. 405.09
Young
County—Gila
Parts:
C.T. 9806-9807

PRIMARY MEDICAL CARE: Arizona Population Group Listing
Population Group
El Mirage- Low Inc/MFW
County—Maricopa
Parts:
C.T. 608-609
C.T. 610.06-610.08
Low Inc—Ajo
County—Pima
Parts:
C.T. 49-50
Low Inc—Avondale/Tolleson
County—Maricopa
Parts:
C.T. 610.03-610.05
C.T. 612-614
C.T. 821
C.T. 822.01-822.02
Low Inc—Bisbee
County—Cochise
Parts:
C.T. 10-12
C.T. 19-21
Low Inc—Bowie/Wilcox
County—Cochise
Parts:
C.T. 1-2
Low Inc—Douglas
County—Cochise
Parts:
Douglas Div
Low Inc—Holbrook
County—Navajo
Parts:
Ct 9603
Ct 9602
Ct 9601
Low Inc—Marana
County—Pima
Parts:
C.T. 44.08-44.09
Low Inc—South Central Phoenix
County—Maricopa
Parts:
C.T. 1115-1124
C.T. 1126-1151
Low Inc—South Mountain
County—Maricopa
Parts:
C.T. 1152-1161
C.T. 1162.02-1162.04
C.T. 1163-1165
C.T. 1166.01-1166.02
C.T. 1167.02-1167.04
Low Inc—South Tucson
County—Pima
Parts:
C.T. 1-12
C.T. 13.01-13.02
C.T. 14
C.T. 20-24
C.T. 25.01-25.02
C.T. 37.01-37.03
C.T. 38-39
C.T. 41.03-41.04
C.T. 43.01
C.T. 43.09
Low Inc—St Johns/Springerville
County—Apache
Parts:
C.T. 9702-9705
Low Inc—Superior
County—Pinal
Parts:
Census Tract 4.00
Census Tract 2.00
Low Inc—Winslow
County—Navajo
Parts:
C.T. 9604-9606
Low Inc/MFW—Buckeye
Parts:
C.T. 506-507
Low Inc/MFW—Central/West Pinal
County—Pinal
Parts:
C.T. 8-17
C.T. 19-21

PRIMARY MEDICAL CARE: Arizona Facility Listing
Facility Name
Child. Rehab. Cl—PC Clinic
County—Pima
FCI Phoenix
County—Maricopa
FCI Tucson
County—Pima
INS Med Fac—Florence
County—Pinal
Maricopa Co Jails
County—Maricopa

PRIMARY MEDICAL CARE: Arkansas County Listing
County Name
*Arkansas
Service Area: Dewitt
*Ashley
Service Area: Portland/Wilmot
*Boone
Service Area: Lead Hill
*Bradley
Service Area: Hermitage
*Calhoun
*Chicot
Population Group: Low Inc—Eudora/Lake Village
Population Group: Low Income—Dermott/Mcgehee
Facility: Cummins Correctional Unit
Facility: Delta Correctional Unit
*Clay
*Cleburne
*Cleveland
Crawford
Service Area: Mountainburg
Crittenden
*Cross
*Dallas
Service Area: Bearden
Service Area: Carthage
Service Area: Sparkman
*Desha
Service Area: Snow Lake
Population Group: Low Income—Dermott/Mcgehee
*Drew
Population Group: Low Income—Dermott/Mcgehee
Faulkner
Service Area: California
*Franklin
Population Group: Low Inc—Franklin Co
*Fulton
Service Area: Mammoth Spring
*Grant
*Howard
Service Area: Umpire
Jefferson
Service Area: Altheimer
Service Area: Central Pine Bluff
Service Area: North Pine Bluff
Service Area: Redfield
Service Area: Richland
*Johnson
Service Area: Oark
*Lafayette
*Lawrence
*Lincoln
*Logan
Lonoke
*Madison
*Marion
Service Area: Lead Hill
*Monroe
*Montgomery
*Nevada
*Newton
*Ouachita
Service Area: Bearden
Service Area: Reader
Service Area: Stephens
*Perry
*Phillips
*Poinsett
Service Area: Harrisburg
Population Group: Low Inc—Marked Tree
*Polk
Service Area: Grannis/Wickes
*Pope
Service Area: Hector
*Prairie
Pulaski
Service Area: College Station
Service Area: East Little Rock
*Randolph
*Scott
*Searcy
*St Francis
*Stone
*Union
Service Area: Strong
*Van Buren
Washington
Service Area: West Washington
*Woodruff
*Yell
Service Area: Havana

PRIMARY MEDICAL CARE: Arkansas Service Area Listing
Service Area Name
Altheimer
County—Jefferson
Parts:
C.T. 1.85
C.T. 7
Bearden
County—Dallas
Parts:
Holly Springs Township
County—Ouachita
Parts:
Carroll Township
Cleveland Township
Freeo Township
Union Township
Valley Township
California
County—Faulkner
Parts:
Benton Township
California Township
Enola Township
Matthews Township
Mount Vernon Township
Mountain Township
Walker Township
Carthage
County—Dallas
Parts:
Chester Township
Smith Township
Willow Township
Central Pine Bluff
County—Jefferson
Parts:
C.T. 10-13
C.T. 14.02
C.T. 16-17
College Station
County—Pulaski
Parts:
C.T. 40.01
C.T. 40.03
C.T. 40.05
Dewitt
County—Arkansas
Parts:
Arkansas Twp
Barton Twp
Bayou Meto Twp
Brewer Twp
Chester Twp
Crockett Twp
Garland Twp
Keaton Twp
La Grue Twp
Point De Luce Twp
Prairie Twp
Stanley Twp
East Little Rock
County—Pulaski
Parts:
C.T. 2
C.T. 4-5
Grannis/Wickes
County—Polk
Parts:
Ozark Township
White Township
Harrisburg
County—Poinsett
Parts:
Bolivar Township
Owen Township
Scott Township
Havana
County—Yell
Parts:
Bluffton Township
Briggsville Township
Crawford Township
Dutch Creek Township
Gravelly Hill Township
Herring Township
Ions Creek Township
Richland Township
Riley Township
Waveland Township
Hector
County—Pope
Parts:
Center Township
Freeman Township
Griffin Township
Jackson Township
Liberty Township
Martin Township
Phoenix Township
Smyrna Township
Hermitage
County—Bradley
Parts:
Eagle Township
Marion Township
Ouachita Township
Palestine Township
River Township
Sumpter Township
Washington Township
Lead Hill
County—Boone
Parts:
Sugar Loaf Township
County—Marion
Parts:
Crockett Township
Franklin Township
Keesee Township
Sugarloaf Township
Mammoth Spring
County—Fulton
Parts:
Afton Township
Mammoth Spring Township
Myatt Township
Wilson Township
Mountainburg
County—Crawford
Parts:
Bidville Township
Chester Township
Locke Township
Mountainburg Township
Porter Township
Upper Township
Whitley Township
Winfrey Township
North Pine Bluff
County—Jefferson
Parts:
C.T. 5.02
C.T. 6
C.T. 6.99
Oark
County—Johnson
Parts:
Batson Township
Dickerson Township
Hill Township
Low Gap Township
Mulberry Township
Portland/Wilmot
County—Ashley
Parts:
Banner Township
Bayou Township
Bearhouse Township
Beech Creek Township
De Bastrop Township
Montrose Township
Portland Township
Prairie Township
Union Township
Wilmot Township
Reader
County—Ouachita
Parts:
Behestian Township
Red Hill Township
Redfield
County—Jefferson
Parts:
Barraque Township
Bolivar Township
Jefferson Township
Pastoria Township
Richland
County—Jefferson
Parts:
C.T. 8
Snow Lake
County—Desha
Parts:
Mississippi Twp
Sparkman
County—Dallas
Parts:
Manchester Township
Nix Township
Owen Township
Stephens
County—Ouachita
Parts:
Jefferson Township
Liberty Township
Smackover Township
Strong
County—Union
Parts:
Harrison Township
Lapile Township
Umpire
County—Howard
Parts:
Burg Township
Clay Township
Duckett Township
Mountain Township
Umpire Township
West Washington
County—Washington
Parts:
District No. 10 Township
District No. 11 Township

PRIMARY MEDICAL CARE: Arkansas Population Group Listing
Population Group
Low Inc—Eudora/Lake Village
County—Chicot
Parts:
Carlton Twp
Planters Twp
Low Inc—Franklin Co
County—Franklin
Parts:
Low Inc
Low Inc—Marked Tree
County—Poinsett
Parts:
Greenwood Twp
Little River Twp
Tyronza Twp
Low Income—Dermott/Mcgehee
County—Chicot
Parts:
Bowie Twp
County—Desha
Parts:
Bowie Twp
Clayton Twp
Franklin Twp
Halley Twp
Richland Twp
County—Drew
Parts:
Bartholomew Twp
Collins Twp
Franklin Twp

PRIMARY MEDICAL CARE: Arkansas Facility Listing
Facility Name
Cummins Correctional Unit
County—Chicot
Delta Correctional Unit
County—Chicot

PRIMARY MEDICAL CARE: California County Listing
County Name
Butte
Service Area: Feather Falls (MSSA 11)
Population Group: Low Inc—Biggs/Gridley
*Calaveras
Population Group: Low Inc—West Point/Wilseyville
Population Group: Low Inc—San Andreas (MSSA 13)
Population Group: Low Inc—Angels (MSSA 12)
*Colusa
Contra Costa
Population Group: Low Inc-Antioch N./Pittsburg N.(MSSA18d)
*Del Norte
Population Group: Low Inc—Del Norte Co (MSSA 19)
El Dorado
Service Area: N. El Dorado Co
Service Area: Pollock Pines (MSSA 23.2)
Fresno
Service Area: Kerman (MSSA 29)
Service Area: Laton/Riverdale
Service Area: Mendota (MSSA 25)
Service Area: San Joaquin-Tranquility (MSSA 26)
Population Group: Low Inc—Edison/Easton
Population Group: Low Inc—Reedley/Parlier/Orange
Facility: Kingsburg Hosp-Pc Clinic (MSSA 33)
Facility: Valley Medical Center
*Glenn
Population Group: Low Inc—Willows (MSSA 37)
*Humboldt
Service Area: Garberville (MSSA 44)
Service Area: Willow Creek (MSSA 38)
Population Group: Low Inc—Rio Dell/Scotia (MSSA 43)
Population Group: Low Inc—Ferndale (MSSA 41)
*Imperial
Service Area: Brawley/Calipatria MSSA 50/51
Service Area: Calexico (MSSA 49)
Service Area: East Imperial (MSSA 47)
Service Area: El Centro (MSSA 48)
Population Group: Low Inc—W. Imperial (MSSA 52)
Facility: INS Med Fac—El Centro
*Inyo
Service Area: Lone Pine
Population Group: Low Inc—Bishop (MSSA 53)
Kern
Service Area: Arvin/Lamont (MSSA 61)
Service Area: Buttonwillow (MSSA 59)
Service Area: Frazier Park-MSSA 57.1
Service Area: SE Kern/MSSA 65
Service Area: Taft (MSSA 57.2)
Service Area: Tehachapi (MSSA 62)
Service Area: Wasco/Shafter (MSSA 58)
Population Group: Low Inc—Lake Isabella (MSSA 63)
Population Group: Low Inc—E Bakersfield (MSSA 66b)
Population Group: Low Inc/MFW—Delano/Mcfarland (MSSA 60)
*Kings
Service Area: Avenal
Service Area: Corcoran
Population Group: Low Inc—Hanford/Lemoore (MSSA 69.2)
*Lassen
Service Area: Big Valley
Population Group: Low Inc—Susanville
Los Angeles
Service Area: Avalon/Goodyear/Main
Service Area: Pico Rivera South
Service Area: Santa Catalina Island
Population Group: Low Inc—E Los Angeles (MSSA 78.2d)
Population Group: Low Inc—North Hollywood (MSSA 78.2bb)
Population Group: Low Inc—Bell (MSSA 78.2ddd)
Population Group: Low Inc—E San Ped/Long Beach MSSA 78.2
Population Group: Low Inc—Venice/South Santa Monica
Population Group: Low Inc-Bell Garden(MSSA 78.2c)
Facility: FCI Terminal Island
Facility: Harbor-UCLa Med Ctr Ambulatory Clinics
Facility: INS Med Fac—San Pedro
Facility: Long Beach Comprehensive Hlth Ctr
Facility: Los Angeles. Mission Comm. Clinic
Facility: Uhp Compton Medical Center
Facility: USC Women/Children's Ped Outpt Clinic
Facility: Watts Health Center (MSSA 78.2aaa)
Madera
Service Area: Madera West/Southwest
Marin
Service Area: Bolinas/Stinson Beach
*Mariposa
Service Area: Mariposa/Coulterville
*Mendocino
Service Area: Boonville/Navarro/Philo/Yorkville
Service Area: Covelo
Facility: Redwood Coast Med Srvcs
Merced
Population Group: Low Inc/MFW—Gustine
Population Group: Low Inc/MFW—Dos Palos/Los Banos
*Modoc
Service Area: Big Valley
Service Area: Surprise Valley
*Mono
Service Area: Mono South/Mammoth Lakes
Monterey
Service Area: Gonzales/Greenfield/Soledad
Service Area: King City
Population Group: Low Inc—Pajaro (MSSA 184.2)
Facility: Natividad Prof Plaza-Alvin Drive
Facility: Natividad Family Hlth-Blanco Circle
Napa
Population Group: Low Inc—Southern Napa Co
Population Group: Low Inc/MFW—Northern Napa Co
Orange
Population Group: Low Inc—C. Santa Ana (MSSA 116b)
Placer
Service Area: Colfax (MSSA 118.1)
Service Area: Foresthill/Back Country
Facility: Placer Co Medical Clinic
Riverside
Service Area: Idyllwild/Pine Cove
Population Group: Low Inc—Palm Desert (MSSA 129.1a)
*San Benito
Service Area: San Benito/Bitterwater
Population Group: Low Inc—Hollister (MSSA 140)
San Bernardino
Service Area: Argus/Trona (MSSA 142)
Service Area: Lake Arrowhead (MSSA 147)
Service Area: Needles/Topock (CA/AZ)
Service Area: 29 Palms/Yucca Valley
Population Group: Low Inc—Fontana East (MSSA 151f)
Population Group: Low Inc—Big Bear Lake(MSSA 146)
San Diego
Service Area: Borrego Springs
Service Area: Encanto/Lincoln Acres/National City
Service Area: Golden Hills/Logan Heights
Service Area: Mountain Empire
Service Area: Ramona
Population Group: Low Inc—San Ysidro
Population Group: Low Inc—Fallbrook (MSSA 160)
Population Group: Low Inc—Oceanside W/Carlsbad W
Population Group: Low Inc—El Cajon
Population Group: Low Inc—Vista East/San Marcos North
Population Group: Low Inc—City Heights (MSSA 161d)
San Joaquin
Service Area: South And East Stockton (MSSA 169b)
Population Group: Low Inc—Escalon/Manteca/Ripon
Santa Barbara
Facility: USP Lompoc
Shasta
Service Area: Central Shasta/MSSA 188
Service Area: E Shasta/MSSA 190
Service Area: Sacramento Canyon (MSSA 187)
Service Area: SW Shasta/MSSA 186
Population Group: Low Inc—S Redding (MSSA 189.1)
Facility: Shasta Pc Clinic (MSSA 189.2)
*Sierra
Service Area: Downieville
*Siskiyou
Service Area: Butte Valley/Dorris
Service Area: Etna/Ft. Jones
Service Area: Happy Camp
Service Area: Tule Lake (MSSA 101.2)
Sonoma
Service Area: Cloverdale
Service Area: Petaluma (MSSA 209)
Service Area: Sonoma Valley (MSSA 208)
Stanislaus
Service Area: Newman/Patterson (MSSA 213)
Population Group: Low Inc—Hughson
Population Group: Low Inc—Turlock
Sutter
Population Group: Low Inc—South Sutter (MSSA 217)
Population Group: Low Inc—Meridian/Robbins (MSSA 216)
Population Group: Low Inc—Live Oak (MSSA 9.2)
*Tehama
Service Area: Corning/SW East Tehama/Las Molinas
Population Group: Low Inc—Red Bluff (MSSA 221)
*Trinity
Service Area: Hayfork/Forest Glen/Peanut(MSSA 225)
Service Area: Lower Trinity/Helena/Salyer
Service Area: Mad River/Ruth/Zenia(MSSA 226)
Tulare
Service Area: Earlimart
Service Area: Porterville
Service Area: Woodlake/Three Rivers(MSSA 229)
Population Group: Low Inc—Lindsay (MSSA 228)
Population Group: Low Inc—Cutler/Orosi/Dinuba
Population Group: Low Inc/MFW—Tulare (MSSA 233b)
Population Group: Low Inc/MFW—Visalia
*Tuolumne
Service Area: Groveland
Service Area: Stanislaus/Yosemite
Ventura
Service Area: Los Padres MSSA 237
Population Group: Low Inc—Fillmore (MSSA 239.2)
Population Group: Low Inc-C.Oxnard MSSA 241b
Population Group: Low Inc-Santa Paula MSSA 239.1
Yuba
Service Area: Yuba Foothills (MSSA 247)
Population Group: Low Inc—Wheatland (MSSA 248.1)
Population Group: Low Inc—Marysville (MSSA 218.2)

PRIMARY MEDICAL CARE: California Service Area Listing
Service Area Name
Argus/Trona (MSSA 142)
County—San Bernardino
Parts:
C.T. 89.01
Arvin/Lamont (MSSA 61)
County—Kern
Parts:
C.T. 62-64
Avalon/Goodyear/Main
County—Los Angeles
Parts:
C.T. 2281-2289
C.T. 2291-2294
C.T. 2311
C.T. 2318-2319
C.T. 2328
C.T. 2392-2393
C.T. 2395-2396
C.T. 5328-5329
Avenal
County—Kings
Parts:
C.T. 17
Big Valley
County—Lassen
Parts:
Big Valley Division
County—Modoc
Parts:
Adin-Lookout Division
Bolinas/Stinson Beach
County—Marin
Parts:
C.T. 1321-1322
Boonville/Navarro/Philo/Yorkville
County—Mendocino
Parts:
C.T. 112
Borrego Springs
County—San Diego
Parts:
C.T. 210
Brawley/Calipatria MSSA 50/51
County—Imperial
Parts:
C.T. 101-107
C.T. 123.02
Butte Valley/Dorris
County—Siskiyou
Parts:
C.T. 2
Buttonwillow (MSSA 59)
County—Kern
Parts:
C.T. 37
Calexico (MSSA 49)
County—Imperial
Parts:
C.T. 119-122
Central Shasta/MSSA 188
County—Shasta
Parts:
C.T. 126
Cloverdale
County—Sonoma
Parts:
C.T. 1541-1542
Colfax (MSSA 118.1)
County—Placer
Parts:
C.T. 219.01-219.02
C.T. 220.02
Corcoran
County—Kings
Parts:
C.T. 13-16
Corning/SW East Tehama/Las Molinas
County—Tehama
Parts:
C.T. 9-11
C.T. 12.98
Covelo
County—Mendocino
Parts:
C.T. 101
Downieville
County—Sierra
Parts:
West Sierra Division
E Shasta/MSSA 190
County—Shasta
Parts:
C.T. 127
Earlimart
County—Tulare
Parts:
C.T. 32
C.T. 42-44
East Imperial (MSSA 47)
County—Imperial
Parts:
C.T. 124
El Centro (MSSA 48)
County—Imperial
Parts:
C.T. 108-111
C.T. 112.01-112.02
C.T. 113-117
C.T. 118.01-118.03
Encanto/Lincoln Acres/National City
County—San Diego
Parts:
C.T. 30.01-30.02
C.T. 31.01-31.02
C.T. 32.02
C.T. 33
C.T. 114
C.T. 114.99-115.00
C.T. 116-122
Etna/Ft. Jones
County—Siskiyou
Parts:
C.T. 6 (Fort Jones CCD)
C.T. 8 (Etna CCD)
Feather Falls (MSSA 11)
County—Butte
Parts:
C.T. 24
Foresthill/Back Country
County—Placer
Parts:
C.T. 202
Frazier Park-MSSA 57.1
County—Kern
Parts:
C.T. 33.02
Garberville (MSSA 44)
County—Humboldt
Parts:
C.T. 113
Golden Hills/Logan Heights
County—San Diego
Parts:
C.T. 34.02
C.T. 35-36
C.T. 38
C.T. 38.99-39.00
C.T. 40-41
C.T. 45-50
C.T. 50.99-51.00
C.T. 51.99-52.00
Gonzales/Greenfield/Soledad
County—Monterey
Parts:
C.T. 108.98
C.T. 109
C.T. 111-112
Groveland
County—Tuolumne
Parts:
C.T. 42
Happy Camp
County—Siskiyou
Parts:
C.T. 5
Hayfork/Forest Glen/Peanut(MSSA 225)
County—Trinity
Parts:
C.T. 3.98
Idyllwild/Pine Cove
County—Riverside
Parts:
C.T. 444.01-444.03
Kerman (MSSA 29)
County—Fresno
Parts:
C.T. 39-41
King City
County—Monterey
Parts:
C.T. 113
C.T. 114.02
Lake Arrowhead (MSSA 147)
County—San Bernardino
Parts:
C.T. 108-110
Laton/Riverdale
County—Fresno
Parts:
C.T. 74
C.T. 77
Parts:
C.T. 5990-5991
Parts:
C.T. 89.01
C.T. 89.01
C.T. 89.01
Lone Pine
County—Inyo
Parts:
C.T. 5-7
Los Padres MSSA 237
County—Ventura
Parts:
C.T. 1
Lower Trinity/Helena/Salyer
County—Trinity
Parts:
C.T. 2
Mad River/Ruth/Zenia(MSSA 226)
County—Trinity
Parts:
C.T. 4
Madera West/Southwest
County—Madera
Parts:
C.T. 4
C.T. 5.02-5.05
C.T. 6.01-6.02
C.T. 7-10
Mariposa/Coulterville
County—Mariposa
Parts:
Coulterville Division
Mariposa Division
Mendota (MSSA 25)
County—Fresno
Parts:
C.T. 83
C.T. 84.01-84.02
Mono South/Mammoth Lakes
County—Mono
Parts:
C.T. 2
Mountain Empire
County—San Diego
Parts:
C.T. 211
N. El Dorado Co
County—El Dorado
Parts:
C.T. 306.03
Needles/Topock (CA/AZ)
County—San Bernardino
Parts:
C.T. 105-107
Newman/Patterson (MSSA 213)
County—Stanislaus
Parts:
C.T. 32
C.T. 33.98
C.T. 34.98
C.T. 35
Petaluma (MSSA 209)
County—Sonoma
Parts:
C.T. 1506.01-1506.04
C.T. 1507-1511
C.T. 1512.01-1512.02
C.T. 1513.01-1513.04
Pico Rivera South
County—Los Angeles
Parts:
C.T. 5007-5009
C.T. 5023-5025
C.T. 5026.01-5026.02
C.T. 5027
C.T. 5029.02
C.T. 5320-5322
Pollock Pines (MSSA 23.2)
County—El Dorado
Parts:
C.T. 314.01-314.03
C.T. 316.98
Porterville
County—Tulare
Parts:
C.T. 27
C.T. 33-41
C.T. 45
Ramona
County—San Diego
Parts:
C.T. 208.01
C.T. 208.04
C.T. 208.97-208.98
Sacramento Canyon (MSSA 187)
County—Shasta
Parts:
C.T. 125
San Benito/Bitterwater
County—San Benito
Parts:
C.T. 8
San Joaquin-Tranquility (MSSA 26)
County—Fresno
Parts:
C.T. 82
Santa Catalina Island
County—Los Angeles
Parts:
C.T. 5990-5991
Sonoma Valley (MSSA 208)
County—Sonoma
Parts:
C.T. 1501-1502
C.T. 1503.01-1503.02
C.T. 1504-1505
South And East Stockton (MSSA 169b)
County—San Joaquin
Parts:
C.T. 1-3
C.T. 5-8
C.T. 8.99
C.T. 16-26
C.T. 27.01-27.02
C.T. 28-29
C.T. 36.01-36.02
C.T. 37-39
Stanislaus/Yosemite
County—Tuolumne
Parts:
C.T. 21.98
C.T. 31.98
Surprise Valley
County—Modoc
Parts:
Surprise Valley Division
SE Kern/MSSA 65
County—Kern
Parts:
C.T. 55.03-55.06
C.T. 56-59
SW Shasta/MSSA 186
County—Shasta
Parts:
C.T. 124
C.T. 128.97-128.98
Taft (MSSA 57.2)
County—Kern
Parts:
C.T. 33.03-33.04
C.T. 34-36
Tehachapi (MSSA 62)
County—Kern
Parts:
C.T. 60.01-60.02
C.T. 61
Tule Lake (MSSA 101.2)
County—Siskiyou
Parts:
C.T. 1
Wasco/Shafter (MSSA 58)
County—Kern
Parts:
C.T. 39-45
Willow Creek (MSSA 38)
County—Humboldt
Parts:
C.T. 101
Woodlake/Three Rivers(MSSA 229)
County—Tulare
Parts:
C.T. 1
C.T. 7
Yuba Foothills (MSSA 247)
County—Yuba
Parts:
C.T. 411
29 Palms/Yucca Valley
County—San Bernardino
Parts:
C.T. 104.02-104.03
C.T. 104.05-104.09

PRIMARY MEDICAL CARE: California Population Group Listing
Population Group
Low Inc—Angels (MSSA 12)
County—Calaveras
Parts:
C.T. 1
Low Inc—Bell (MSSA 78.2ddd)
County—Los Angeles
Parts:
C.T. 5324
C.T. 5333-5337
C.T. 5338.01-5338.02
C.T. 5343
C.T. 5344.01-5344.02
Low Inc—Big Bear Lake(MSSA 146)
County—San Bernardino
Parts:
C.T. 111-115
Low Inc—Biggs/Gridley
County—Butte
Parts:
C.T. 34-36
Low Inc—Bishop (MSSA 53)
County—Inyo
Parts:
C.T. 1-4
Low Inc—C. Santa Ana (MSSA 116b)
County—Orange
Parts:
C.T. 744.05
C.T. 745.01
C.T. 746.01-746.02
C.T. 747.01-747.02
C.T. 748.01-748.02
C.T. 748.05-748.06
C.T. 749.01-749.02
C.T. 750.01-750.02
C.T. 751
C.T. 752.01-752.02
Low Inc—City Heights (MSSA 161d)
County—San Diego
Parts:
C.T. 14-15
C.T. 22-24
C.T. 25.01-25.02
C.T. 26
C.T. 27.01
C.T. 27.04-27.06
C.T. 34.01
C.T. 42-44
C.T. 53-58
C.T. 58.99-59.00
C.T. 60-61
Low Inc—Cutler/Orosi/Dinuba
County—Tulare
Parts:
C.T. 2
C.T. 3.02
C.T. 3.98
C.T. 4-6
Low Inc—Del Norte Co (MSSA 19)
County—Del Norte
Parts:
Low Income
Low Inc—E Bakersfield (MSSA 66b)
County—Kern
Parts:
C.T. 10
C.T. 11.01-11.03
C.T. 12-15
C.T. 20-22
C.T. 23.01-23.02
C.T. 24-26
C.T. 30
Low Inc—E Los Angeles (MSSA 78.2d)
County—Los Angeles
Parts:
C.T. 5303-5306
C.T. 5308-5311
C.T. 5312.01-5312.02
C.T. 5313.01-5313.02
C.T. 5315.01-5315.02
C.T. 5316.01-5316.02
C.T. 5317.01-5317.02
Low Inc—E San Ped/Long Beach MSSA 78.2
County—Los Angeles
Parts:
Low Income (MSSA 78.2)
Low Inc—Edison/Easton
County—Fresno
Parts:
C.T. 2-4
C.T. 7-13
C.T. 15
C.T. 18-20
C.T. 38.01-38.03
C.T. 42.01
Low Inc—El Cajon
County—San Diego
Parts:
C.T. 153.01-153.02
C.T. 156.01-156.02
C.T. 157.01-157.02
C.T. 158-161
C.T. 162.01-162.02
C.T. 163
C.T. 164.01-164.02
C.T. 165.01-165.02
Low Inc—Escalon/Manteca/Ripon
County—San Joaquin
Parts:
C.T. 49.01
C.T. 49.98
C.T. 50.01-50.02
C.T. 51.01
C.T. 51.06
C.T. 51.08-51.20
Low Inc—Fallbrook (MSSA 160)
County—San Diego
Parts:
Ct 187
Ct 188.01
Ct 188.02
Ct 188.03
Ct 189.01
Ct 189.02
Ct 190.00
Low Inc—Ferndale (MSSA 41)
County—Humboldt
Parts:
C.T. 112
Low Inc—Fillmore (MSSA 239.2)
County—Ventura
Parts:
Ct 0002.00
Ct 0003.00
Low Inc—Fontana East (MSSA 151f)
County—San Bernardino
Parts:
C.T. 28-34
C.T. 35.01-35.02
C.T. 36.02
C.T. 40
Low Inc—Hanford/Lemoore (MSSA 69.2)
County—Kings
Parts:
C.T. 1-3
C.T. 4.01-4.02
C.T. 5-12
Low Inc—Hollister (MSSA 140)
County—San Benito
Parts:
C.T. 1.98
C.T. 2-7
C.T. 9
Low Inc—Hughson
County—Stanislaus
Parts:
C.T. 28
C.T. 29.01-29.02
Low Inc—Lake Isabella (MSSA 63)
County—Kern
Parts:
C.T. 52.01-52.02
Low Inc—Lindsay (MSSA 228)
County—Tulare
Parts:
C.T. 8
C.T. 14-16
C.T. 25-26
C.T. 28
Low Inc—Live Oak (MSSA 9.2)
County—Sutter
Parts:
C.T. 507
Low Inc—Marysville (MSSA 218.2)
County—Yuba
Parts:
C.T. 401-407
C.T. 409.00-409.02
C.T. 410
Low Inc—Meridian/Robbins (MSSA 216)
County—Sutter
Parts:
C.T. 509
Low Inc—North Hollywood (MSSA 78.2bb)
County—Los Angeles
Parts:
C.T. 1224
C.T. 1230
C.T. 1231.02
C.T. 1232.01-1232.02
C.T. 1233.01
C.T. 1239
C.T. 1241.01-1241.02
C.T. 1242.01-1242.02
C.T. 1243
C.T. 1252-1256
Low Inc—Oceanside W/Carlsbad W
County—San Diego
Parts:
C.T. 178.01
C.T. 178.05
C.T. 179-184
C.T. 185.01
C.T. 185.04
C.T. 186.01
C.T. 186.03
Low Inc—Pajaro (MSSA 184.2)
County—Monterey
Parts:
Ct 101.98
Ct 102.01
Ct 102.02
Low Inc—Palm Desert (MSSA 129.1a)
County—Riverside
Parts:
C.T. 445.01-445.02
C.T. 449.02-449.03
C.T. 450
C.T. 451.02-451.04
C.T. 452.01
Low Inc—Red Bluff (MSSA 221)
County—Tehama
Parts:
C.T. 2
C.T. 4-8
Low Inc—Reedley/Parlier/Orange
County—Fresno
Parts:
Ct 63
Ct 65
Ct 66.01
Ct 66.02
Ct 67
Ct 68.01
Ct 68.02
Ct 69
Low Inc—Rio Dell/Scotia (MSSA 43)
County—Humboldt
Parts:
C.T. 111
Low Inc—S Redding (MSSA 189.1)
County—Shasta
Parts:
C.T. 120-123
Low Inc—San Andreas (MSSA 13)
County—Calaveras
Parts:
C.T. 2-3
Low Inc—San Ysidro
County—San Diego
Parts:
C.T. 100.01-100.05
C.T. 100.07-100.09
C.T. 101.03-101.04
C.T. 101.06-101.09
C.T. 102-105
Low Inc—South Sutter (MSSA 217)
County—Sutter
Parts:
C.T. 511
Low Inc—Southern Napa Co
County—Napa
Parts:
C.T. 2001-2014
Low Inc—Susanville
County—Lassen
Parts:
C.T. 401 (Bna)
C.T. 401-406
Low Inc—Turlock
County—Stanislaus
Parts:
C.T. 36.02-36.05
C.T. 37
C.T. 38.01-38.03
C.T. 39.03-39.07
Low Inc—Venice/South Santa Monica
County—Los Angeles
Parts:
C.T. 2722
C.T. 2723.02
C.T. 2731-2739
C.T. 2751-2752
C.T. 2755
C.T. 7018.01-7018.02
C.T. 7019-7021
C.T. 7022.01-7022.02
C.T. 7026
C.T. 7028.03
Low Inc—Vista East/San Marcos North
County—San Diego
Parts:
C.T. 192.02-192.04
C.T. 195
C.T. 196.01-196.02
C.T. 197.02
C.T. 199.02-199.03
C.T. 200.05-200.07
C.T. 200.09
Low Inc—W. Imperial (MSSA 52)
County—Imperial
Parts:
Ct 0123.01
Low Inc—West Point/Wilseyville
County—Calaveras
Parts:
C.T. 4-5
Low Inc—Wheatland (MSSA 248.1)
County—Yuba
Parts:
Ct 408
Low Inc—Willows (MSSA 37)
County—Glenn
Parts:
C.T. 103-105
Low Inc-Antioch N./Pittsburg N.(MSSA18d)
County—Contra Costa
Parts:
C.T. 3050
C.T. 3071.02
C.T. 3072.01-3072.02
C.T. 3072.04-3072.05
C.T. 3090
C.T. 3100
C.T. 3110
C.T. 3120
C.T. 3132.01-3132.02
C.T. 3141.01-3141.02
C.T. 3142
C.T. 3142.98
C.T. 3552
Low Inc-Bell Garden(MSSA 78.2c)
County—Los Angeles
Parts:
C.T. 5302.01-5302.02
C.T. 5318
C.T. 5319.01-5319.02
C.T. 5323.01-5323.02
C.T. 5339-5342
Low Inc-C.Oxnard MSSA 241b
County—Ventura
Parts:
Ct 0030.01
Ct 0030.02
Ct 0031.00
Ct 0032.00
Ct 0034.01
Ct 0034.02
Ct 0035.00
Ct 0037.00
Ct 0038.00
Ct 0039.00
Ct 0040.00
Ct 0041.00
Ct 0044.00
Ct 0045.00
Ct 0045.01
Ct 0045.02
Ct 0047.01
Ct 0049.00
Ct 0050.01
Ct 0050.02
Low Inc-Santa Paula MSSA 239.1
County—Ventura
Parts:
Ct 0008.00
Ct 0006.00
Ct 0007.00
Ct 0004.00
Ct 0005.00
Low Inc/MFW—Delano/Mcfarland (MSSA 60)
County—Kern
Parts:
C.T. 46-48
C.T. 49.01-49.02
C.T. 50
Low Inc/MFW—Dos Palos/Los Banos
County—Merced
Parts:
C.T. 21.98
C.T. 22
C.T. 23.01-23.02
C.T. 24
Low Inc/MFW—Gustine
County—Merced
Parts:
C.T. 20
Low Inc/MFW—Northern Napa Co
County—Napa
Parts:
C.T. 2015-2020
Low Inc/MFW—Tulare (MSSA 233b)
County—Tulare
Parts:
C.T. 21-22
C.T. 23.01-23.02
C.T. 24
C.T. 29.01-29.02
C.T. 30-31
Low Inc/MFW—Visalia
County—Tulare
Parts:
C.T. 9
C.T. 10.01-10.02
C.T. 11-13
C.T. 17.01-17.02
C.T. 18-19
C.T. 20.01-20.05

PRIMARY MEDICAL CARE: California Facility Listing
Facility Name
FCI Terminal Island
County—Los Angeles
Harbor-UCLa Med Ctr Ambulatory Clinics
County—Los Angeles
INS Med Fac—El Centro
County—Imperial
INS Med Fac—San Pedro
County—Los Angeles
Kingsburg Hosp-Pc Clinic (MSSA 33)
County—Fresno
Long Beach Comprehensive Hlth Ctr
County—Los Angeles
Los Angeles. Mission Comm. Clinic
County—Los Angeles
Natividad Family Hlth-Blanco Circle
County—Monterey
Natividad Prof Plaza-Alvin Drive
County—Monterey
Placer Co Medical Clinic
County—Placer
Redwood Coast Med Srvcs
County—Mendocino
Shasta Pc Clinic (MSSA 189.2)
County—Shasta
Uhp Compton Medical Center
County—Los Angeles
USC Women/Children's Ped Outpt Clinic
County—Los Angeles
USP Lompoc
County—Santa Barbara
Valley Medical Center
County—Fresno
Watts Health Center (MSSA 78.2aaa)
County—Los Angeles

PRIMARY MEDICAL CARE: Colorado County Listing
County Name
Adams
Service Area: Bennett/Strasburg
Service Area: Commerce City
Population Group: Low Inc—Thornton
Arapahoe
Service Area: Bennett/Strasburg
*Archuleta
*Baca
*Bent
Boulder
Population Group: Low Inc—Boulder City
*Chaffee
Facility: Buena Vista Correctional Fac
*Cheyenne
*Clear Creek
*Conejos
Population Group: Med Ind—Conejos Co
*Costilla
*Crowley (g)
Facility: Arkansas Valley Correctional
*Custer
Denver
Service Area: La Casa
Population Group: Homeless—Downtown Denver
Facility: Denver Reception & Diagnostic Center
Facility: Denver Women's Correctional Facility
*Dolores
Douglas
Facility: FCI Englewood
El Paso
Service Area: Calhan-Yoder
Population Group: Low Income—Colorado Springs
*Elbert
Service Area: Limon/Hugo/Simla
*Fremont
Population Group: Low Inc—Fremont
Facility: Centennial Correctional Facility
Facility: Colorado State Penn
Facility: Colorado Territorial Correctional Facili
Facility: Colorado Women's In Canon City
Facility: Freemont Correctional Facility
Facility: FCI Florence
Facility: USP Florence—Admax
Facility: USP Florence
*Garfield
Service Area: Rifle
*Gilpin
*Hinsdale
*Huerfano
Service Area: Gardner
Population Group: Low Inc—E Huerfano
*Jackson
*Kiowa
Population Group: Low Inc—Kiowa Co
*Kit Carson
*Las Animas
Population Group: Low Inc—Las Animas Co
*Lincoln
Service Area: Limon/Hugo/Simla
Facility: Limon Correctional Facility
*Logan
Service Area: Crook/Fleming
Facility: Sterling Correctional Facility
*Mineral
*Moffat
Service Area: Rangely
*Montrose
Service Area: Nucla/Norwood
*Morgan
Population Group: Low Income/MSFW—Morgan Co
*Otero
Population Group: Low Income—Otero County
*Park
*Phillips
*Prowers
Pueblo
Population Group: Low Income —Pueblo Co
Facility: San Carlos Correctional Facility
Facility: Youthful Offenders Services
*Rio Blanco
Service Area: Rangely
*Rio Grande
*Routt
Service Area: Oak Creek/Yampa
*San Juan
*San Miguel
Service Area: Nucla/Norwood
*Sedgwick
Service Area: Julesburg (CO/NE)
Weld
Facility: Platte Valley Youth Services

PRIMARY MEDICAL CARE: Colorado Service Area Listing
Service Area Name
Bennett/Strasburg
County—Adams
Parts:
East Adams Division
County—Arapahoe
Parts:
East Arapahoe Division
Calhan-Yoder
County—El Paso
Parts:
C.T. 39.01
C.T. 46
Commerce City
County—Adams
Parts:
C.T. 87.03
C.T. 87.05-87.06
C.T. 88.01-88.02
C.T. 89.01
C.T. 89.52
Crook/Fleming
County—Logan
Parts:
Crook Division
Fleming Division
Gardner
County—Huerfano
Parts:
Gardner Division
Julesburg (CO/NE)
County—Sedgwick
La Casa
County—Denver
Parts:
C.T. 2.01-2.02
C.T. 4.01-4.02
C.T. 11.01-11.02
Limon/Hugo/Simla
County—Elbert
Parts:
Agate Division
Simla Division
County—Lincoln
Nucla/Norwood
County—Montrose
Parts:
Nucla Division
County—San Miguel
Parts:
Norwood Division
Oak Creek/Yampa
County—Routt
Parts:
Oak Creek Division
Yampa Division
Rangely
County—Moffat
Parts:
Artesia CCD
County—Rio Blanco
Parts:
Rangely CCD
Rifle
County—Garfield
Parts:
Grand Valley Division
New Castle Division
Rifle Division

PRIMARY MEDICAL CARE: Colorado Population Group Listing
Population Group
Homeless—Downtown Denver
County—Denver
Parts:
C.T. 16
C.T. 20
C.T. 24.01-24.02
C.T. 25
C.T. 26.01-26.02
C.T. 27.01-27.03
Low Inc—Boulder City
County—Boulder
Parts:
C.T. 121.01-121.02
C.T. 122.02-122.05
C.T. 123
C.T. 124.01
C.T. 126.02
C.T. 126.04
Low Inc—E Huerfano
County—Huerfano
Parts:
La Veta
Walsenburg
Low Inc—Fremont
County—Fremont
Parts:
Fremont Low Inc
Low Inc—Kiowa Co
County—Kiowa
Parts:
Low Income
Low Inc—Las Animas Co
County—Las Animas
Parts:
Low Income
Low Inc—Thornton
County—Adams
Parts:
C.T. 85.05-85.08
C.T. 85.15-85.18
C.T. 90.01-90.03
C.T. 91.02
C.T. 92.01-92.03
C.T. 93.04
C.T. 93.06-93.10
C.T. 93.13-93.18
C.T. 94.01
C.T. 94.03
C.T. 94.05-94.07
C.T. 95.01-95.02
C.T. 95.53
C.T. 96.03-96.06
C.T. 97.50
Low Income —Pueblo Co
County—Pueblo
Parts:
Low-Income
Low Income—Colorado Springs
County—El Paso
Parts:
13.01
14.00
15.00
16.00
17.00
21.01
21.02
22.00
23.00
26.00
27.00
28.00
29.00
33.02
45.01
52.00
53.00
54.00
Low Income—Otero County
County—Otero
Parts:
Low Income
Low Income/MSFW—Morgan Co
County—Morgan
Parts:
Low Inc
Med Ind—Conejos Co
County—Conejos
Parts:
Medically Indigent

PRIMARY MEDICAL CARE: Colorado Facility Listing
Facility Name
Arkansas Valley Correctional
County—Crowley
Buena Vista Correctional Fac
County—Chaffee
Centennial Correctional Facility
County—Fremont
Colorado State Penn
County—Fremont
Colorado Territorial Correctional Facili
County—Fremont
Colorado Women's In Canon City
County—Fremont
Denver Reception & Diagnostic Center
County—Denver
Denver Women's Correctional Facility
County—Denver
Freemont Correctional Facility
County—Fremont
FCI Englewood
County—Douglas
FCI Florence
County—Fremont
Limon Correctional Facility
County—Lincoln
Platte Valley Youth Services
County—Weld
San Carlos Correctional Facility
County—Pueblo
Sterling Correctional Facility
County—Logan
USP Florence
County—Fremont
USP Florence—Admax
County—Fremont
Youthful Offenders Services
County—Pueblo

PRIMARY MEDICAL CARE: Connecticut County Listing
County Name
Fairfield
Service Area: Central Norwalk
Service Area: Central/East Bridgeport
Service Area: South End Stamford
Service Area: Southwest Bridgeport
Population Group: Low Inc—Danbury
Population Group: Low-Income Stratford
Hartford
Service Area: Charter Oak/Frog Hollow/Parkville/Barry
Service Area: North-Central Hartford
Population Group: Low Inc—Central New Britain
Facility: Ct Child Med Ctr-PC Ctr
New Haven
Service Area: Central Waterbury
Service Area: Fair Haven
Population Group: Low Inc—Central New Haven
Population Group: Low Inc—West Haven
Population Group: Low Income—Central Meriden
New London
Service Area: Central Groton
Population Group: Low Inc—Norwich
Population Group: Low Inc—Central New London
Tolland
Population Group: Low Inc—Rockville
Windham
Population Group: Low Inc—Town Of Windham

PRIMARY MEDICAL CARE: Connecticut Service Area Listing
Service Area Name
Central Groton
County—New London
Parts:
C.T. 7022-7023
C.T. 7025
C.T. 7027-7028
Central Norwalk
County—Fairfield
Parts:
C.T. 440-441
C.T. 444-445
Central Waterbury
County—New Haven
Parts:
C.T. 3501-3508
C.T. 3512
C.T. 3514
C.T. 3517
Central/East Bridgeport
County—Fairfield
Parts:
C.T. 713-717
C.T. 735-736
C.T. 738-744
Charter Oak/Frog Hollow/Parkville/Barry
County—Hartford
Parts:
C.T. 5001-5004
C.T. 5019
C.T. 5027-5030
C.T. 5043
C.T. 5045-5046
C.T. 5049
Fair Haven
County—New Haven
Parts:
C.T. 1421
C.T. 1423-1425
C.T. 1426.02
North-Central Hartford
County—Hartford
Parts:
C.T. 5005
C.T. 5008-5018
C.T. 5020-5022
C.T. 5034-5035
C.T. 5037
South End Stamford
County—Fairfield
Parts:
C.T. 222-223
Southwest Bridgeport
County—Fairfield
Parts:
C.T. 702-712

PRIMARY MEDICAL CARE: Connecticut Population Group Listing
Population Group
Low Inc—Central New Britain
County—Hartford
Parts:
C.T. 4159
C.T. 4161-4162
C.T. 4171
Low Inc—Central New Haven
County—New Haven
Parts:
C.T. 1402-1409
C.T. 1413
C.T. 1415-1416
Low Inc—Central New London
County—New London
Parts:
C.T. 6901
C.T. 6903-6906
C.T. 6906.99-6907.00
C.T. 6907.99
Low Inc—Danbury
County—Fairfield
Parts:
C.T. 2101-2114
Low Inc—Norwich
County—New London
Parts:
C.T. 6961
C.T. 6964-6970
Low Inc—Rockville
County—Tolland
Parts:
C.T. 5301-5302
Low Inc—Town Of Windham
County—Windham
Parts:
Windham Town
Low Inc—West Haven
County—New Haven
Parts:
West Haven Town
Low Income—Central Meriden
County—New Haven
Parts:
C.T. 1701.01-1701.02
C.T. 1702.01-1702.02
C.T. 1703
C.T. 1710
C.T. 1713-1715
Low-Income Stratford
County—Fairfield
Parts:
C.T. 803-804

PRIMARY MEDICAL CARE: Connecticut Facility Listing
Facility Name
Ct Child Med Ctr-PC Ctr
County—Hartford

PRIMARY MEDICAL CARE: DELAWARE County Listing
County Name
Kent
Population Group: Low Inc—Milford
New Castle
Service Area: Middletown-Odessa
Service Area: Wilmington—Southbridge
*Sussex
Population Group: Low Inc—Milford

PRIMARY MEDICAL CARE: DELAWARE Service Area Listing
Service Area Name
Middletown-Odessa
County—New Castle
Parts:
C.T. 166-169
Wilmington—Southbridge
County—New Castle
Parts:
C.T. 1
C.T. 6.01-6.02
C.T. 7-9
C.T. 15-17
C.T. 19-23
C.T. 154-155

PRIMARY MEDICAL CARE: DELAWARE Population Group Listing
Population Group
Low Inc—Milford
County—Kent
Parts:
C.T. 424-431
County—Sussex
Parts:
C.T. 501-502
C.T. 508

PRIMARY MEDICAL CARE: District Of Columbia County Listing
County Name
Dist Of Columbia
Service Area: Anacostia
Service Area: Brentwood
Service Area: East Capitol St. (Far S.E.)
Service Area: Mt. Pleasant/Upper Cardozo
Service Area: South Capitol
Population Group: Homeless—Downtown Washington
Facility: Dc General Ambulatory Care Center
Facility: Lorton Max Corr Fac

PRIMARY MEDICAL CARE: District Of Columbia Service Area Listing
Service Area Name
Anacostia
County—Dist Of Columbia
Parts:
C.T. 74.01
C.T. 74.04
C.T. 74.06-74.09
C.T. 74.30
C.T. 75.02-75.04
C.T. 76.01
C.T. 76.05
Brentwood
County—Dist Of Columbia
Parts:
C.T. 47
C.T. 79.01
C.T. 79.03
C.T. 80.01
C.T. 84.02
C.T. 84.10
C.T. 85.10
C.T. 86
C.T. 88.02-88.04
C.T. 89.03-89.04
C.T. 91.02
East Capitol St. (Far S.E.)
County—Dist Of Columbia
Parts:
C.T. 77.03
C.T. 77.07-77.09
C.T. 78.03-78.04
C.T. 78.07-78.09
C.T. 78.60
C.T. 96.02-96.03
C.T. 99.03-99.07
Mt. Pleasant/Upper Cardozo
County—Dist Of Columbia
Parts:
C.T. 25.02
C.T. 27.01-27.02
C.T. 28.01-28.02
C.T. 29-30
C.T. 35-39
C.T. 43
South Capitol
County—Dist Of Columbia
Parts:
C.T. 60.20
C.T. 64.10
C.T. 71-72

PRIMARY MEDICAL CARE: District Of Columbia Population Group Listing
Population Group
Homeless—Downtown Washington
County—Dist Of Columbia
Parts:
C.T. 40.01-40.02
C.T. 41
C.T. 42.02
C.T. 46-47
C.T. 48.01-48.02
C.T. 49.01-49.02
C.T. 50-51
C.T. 52.10
C.T. 52.20
C.T. 53.01-53.02
C.T. 54.01-54.02
C.T. 55.01-55.02
C.T. 56
C.T. 57.01-57.02
C.T. 58-59

PRIMARY MEDICAL CARE: District Of Columbia Facility Listing
Facility Name
Dc General Ambulatory Care Center
County—Dist Of Columbia
Lorton Max Corr Fac
County—Dist Of Columbia

PRIMARY MEDICAL CARE: Florida County Listing
County Name
Alachua
Population Group: Low Inc—Alachua Co
Facility: Gainesville Corr Inst
Bradford
Brevard
Facility: Brevard Corr Inst
Broward
Population Group: Low Inc—Central Ft Lauderdale
Population Group: Low-Inc Pompano
*Calhoun
Population Group: Low Inc—Calhoun
Facility: Calhoun Corr Inst
Charlotte
Population Group: Low Inc—Charlotte Co
*Citrus
Population Group: Low Inc—Citrus Co
Clay
Service Area: Keystone Heights
Collier
Service Area: Everglades
Service Area: Imokalee
*Columbia
Population Group: Low Inc—Columbia Co
Dade
Service Area: Model Cities
Service Area: Wynwood
Population Group: Low Inc—North Beach
Population Group: Low Inc—Little Havana
Population Group: Low Inc—South Beach
Population Group: Low Inc—Homestead
Population Group: Low Inc—West Perrine
Facility: Dade Corr Inst
Facility: Doris Ison Comm Hlth Ctr
Facility: FCI Miami
Facility: Helen B. Bentley Family Health Center
Facility: Jackson Mem Hosp Outpt Clinics
Facility: Krome Medical Referral Center
*De Soto
Population Group: Low Inc/MFW—Desoto Co
Facility: Desoto Corr Inst
*Dixie (g)
Facility: Cross City Corr Inst
Duval
Population Group: Low Inc—N Jacksonville
Escambia
Service Area: Atmore/Century (AL/FL)
Facility: Century Corr Inst
*Franklin
Population Group: Low Inc—Franklin Co
Gadsden
*Gilchrist
Facility: Lancaster Corr Inst
*Glades
*Gulf
Population Group: Low Inc—Gulf Co
Facility: Gulf Corr Inst
*Hamilton
*Hardee
*Hendry
Service Area: Labelle
Population Group: Low Inc/MFW—Clewiston
Facility: Hendry Corr Inst
*Highlands
Population Group: Low Inc/MFW—Highlands Co
Facility: Avon Park Corr Inst
Hillsborough
Population Group: Low Inc—Suitcase City
Population Group: Low Inc—E Tampa/Ybor City
Population Group: Low Inc/MFW—Ruskin/Appollo Beach
Population Group: Low Inc/MFW—Plant City/Dover
*Holmes (g)
Facility: Holmes Corr Inst
*Indian River
Population Group: Low Inc/MFW- Fellsmere
Facility: Indian River Corr Inst
*Jackson
Population Group: Low Inc—Jackson Co
Facility: Apalachee Corr Inst
Facility: FCI Marianna
Facility: Jackson Corr Inst
*Jefferson
Population Group: Low Inc—Jefferson Co
*Lafayette
Lake
Population Group: Low Inc/MFW—Lake Co.
Lee
Service Area: Dunbar
Population Group: Low Inc—N Cape Coral/Pine Island
Leon
Population Group: Low Inc—Bond Community
*Levy
Population Group: Low Inc/MFW—Levy Co
*Liberty
Population Group: Low Inc—Liberty
Facility: Liberty Corr Inst
*Madison
Manatee
Population Group: Low Inc/MFW—Manatee Co
Marion
Population Group: Low Inc—Marion Co
Facility: Florida Corr Inst
Facility: Marion Corr Inst
Martin
Service Area: Indiantown
Nassau
Service Area: Callahan/Hilliard
Okaloosa
Population Group: Low Inc—Crestview
Facility: Okaloosa Corr Inst
*Okeechobee
Population Group: Low Inc/MFW—Okeechobee Co
Orange
Population Group: MFW—Orange
Facility: Central Fl Reception Ctr
Osceola
Population Group: Low Inc—Osceola
Palm Beach
Population Group: Low Inc/MFW—Belle Glade/Pahokee
Pasco
Population Group: Low Inc/MFW—Eastern Pasco
Pinellas
Population Group: Low Inc—Inner St. Petersburg
Population Group: Low Inc Pop—C Clearwater
Polk
Service Area: Frostproof/Lake Wales
Population Group: Low Inc—Haines City
*Putnam
Population Group: Low Inc/MFW—Putnam
Facility: Putnam Corr Inst
Santa Rosa
Facility: Santa Rosa Corr Inst
Seminole
Population Group: MFW—Sanford Division
St Johns
Population Group: Low Inc/MFW—Hastings
St Lucie
Population Group: Low Inc—Fort Pierce
*Sumter
Population Group: Low Inc/MFW—Sumter Co
Facility: Fcc Coleman
*Suwannee
*Taylor
*Union
Population Group: Low Inc—Union
Facility: North Fl Reception Ctr
Volusia
Service Area: Pierson/Seville/Deleon Spring
*Wakulla
*Walton (g)
Facility: Walton Corr Inst
*Washington

PRIMARY MEDICAL CARE: Florida Service Area Listing
Service Area Name
Atmore/Century (AL/FL)
County—Escambia
Parts:
C.T. 38-40
Callahan/Hilliard
County—Nassau
Parts:
C.T. 504-505
Dunbar
County—Lee
Parts:
C.T. 5.01-5.02
C.T. 6
Everglades
County—Collier
Parts:
C.T. 111.01-111.02
Frostproof/Lake Wales
County—Polk
Parts:
C.T. 142-144
C.T. 154-158
C.T. 160
C.T. 161.98
Imokalee
County—Collier
Parts:
C.T. 112.01-112.03
C.T. 113-114
Indiantown
County—Martin
Parts:
Indiantown Division
Keystone Heights
County—Clay
Parts:
Keystone Heights Division
Labelle
County—Hendry
Parts:
C.T. 9603-9604
Model Cities
County—Dade
Parts:
C.T. 4.08
C.T. 8.01-8.02
C.T. 9.01-9.03
C.T. 10.01-10.04
C.T. 11.03
C.T. 15.01-15.02
C.T. 16.01-16.02
C.T. 17.01-17.02
C.T. 18.01-18.03
C.T. 19.01
C.T. 19.03-19.04
C.T. 23
Pierson/Seville/Deleon Spring
County—Volusia
Parts:
C.T. 901
Wynwood
County—Dade
Parts:
C.T. 14.01-14.02
C.T. 20.01
C.T. 20.03-20.04
C.T. 21
C.T. 22.01-22.02
C.T. 25-26
C.T. 27.01-27.02
C.T. 28-29

PRIMARY MEDICAL CARE: Florida Population Group Listing
Population Group
Low Inc—Alachua Co
County—Alachua
Parts:
Low Inc
Low Inc—Bond Community
County—Leon
Parts:
C.T. 1
C.T. 4-6
C.T. 10.01
C.T. 11.01-11.02
C.T. 12-14
Low Inc—Calhoun
County—Calhoun
Parts:
Low Income
Low Inc—Central Ft Lauderdale
County—Broward
Parts:
C.T. 409-416
C.T. 427-431
C.T. 503.04
C.T. 508
C.T. 803
C.T. 804.01-804.02
Low Inc—Charlotte Co
County—Charlotte
Parts:
Low Income
Low Inc—Citrus Co
County—Citrus
Parts:
Low Income
Low Inc—Columbia Co
County—Columbia
Parts:
Low Income
Low Inc—Crestview
County—Okaloosa
Parts:
C.T. 203-207
Low Inc—E Tampa/Ybor City
County—Hillsborough
Parts:
C.T. 10
C.T. 17-19
C.T. 30-44
C.T. 49-51
Low Inc—Fort Pierce
County—St Lucie
Parts:
C.T. 1
C.T. 1.99-2.00
C.T. 3-5
C.T. 9.02
Low Inc—Franklin Co
County—Franklin
Parts:
Low Income
Low Inc—Gulf Co
County—Gulf
Parts:
Low Inc—Gulf
Low Inc—Haines City
County—Polk
Parts:
C.T. 125-127
C.T. 141.00-141.02
Low Inc—Homestead
County—Dade
Parts:
C.T. 104-105
C.T. 106.02
C.T. 107.01-107.02
C.T. 108-109
C.T. 110.01-110.02
C.T. 111
C.T. 112.01-112.02
C.T. 113
C.T. 114.98
Low Inc—Inner St. Petersburg
County—Pinellas
Parts:
C.T. 201.01
C.T. 203.01
C.T. 204-208
C.T. 209.95
C.T. 210.95
C.T. 212-213
C.T. 213.99-214.00
C.T. 215
C.T. 216.95
C.T. 218.95
C.T. 219.95
C.T. 220
C.T. 234-235
Low Inc—Jackson Co
County—Jackson
Parts:
Low Income
Low Inc—Jefferson Co
County—Jefferson
Parts:
Low Income
Low Inc—Liberty
County—Liberty
Parts:
Low Income
Low Inc—Little Havana
County—Dade
Parts:
C.T. 30.02
C.T. 36.01-36.02
C.T. 49.01-49.02
C.T. 50.01-50.02
C.T. 51
C.T. 52.01-52.02
C.T. 53.01-53.02
C.T. 54.01-54.02
C.T. 55.01-55.02
C.T. 56
C.T. 57.03-57.04
C.T. 58.01
C.T. 62
C.T. 63.01-63.02
C.T. 64.01-64.03
C.T. 65
Low Inc—Marion Co
County—Marion
Parts:
Low Inc
Low Inc—N Cape Coral/Pine Island
County—Lee
Parts:
C.T. 103.01-103.02
C.T. 104.01-104.02
C.T. 206-208
C.T. 701-702
Low Inc—N Jacksonville
County—Duval
Parts:
C.T. 1
C.T. 1.99-2.00
C.T. 2.99-3.00
C.T. 3.99-4.00
C.T. 5
C.T. 9-19
C.T. 26-29
C.T. 107-109
C.T. 112-116
C.T. 118
C.T. 121
Low Inc—North Beach
County—Dade
Parts:
C.T. 39.01-39.02
C.T. 39.04-39.05
Low Inc—Osceola
County—Osceola
Parts:
Low Inc
Low Inc—South Beach
County—Dade
Parts:
C.T. 42-45
C.T. 45.99
Low Inc—Suitcase City
County—Hillsborough
Parts:
C.T 108.05
C.T. 2-4
C.T. 6-9
C.T. 105
C.T. 108.06-108.07
C.T. 112.06
Low Inc—Union
County—Union
Parts:
Low Income
Low Inc—West Perrine
County—Dade
Parts:
C.T. 83.03
C.T. 101.14
C.T. 102.02-102.03
Low Inc Pop—C Clearwater
County—Pinellas
Parts:
C.T. 261-264
C.T. 267.01
C.T. 270
C.T. 271.01-271.02
Low Inc/MFW—Belle Glade/Pahokee
County—Palm Beach
Parts:
C.T. 80.01-80.02
C.T. 81.01-81.02
C.T. 82.01-82.03
C.T. 83.01-83.02
Low Inc/MFW—Clewiston
County—Hendry
Parts:
C.T. 9601-9602
Low Inc/MFW—Desoto Co
County—De Soto
Parts:
Pov Pop/MFW
Low Inc/MFW—Eastern Pasco
County—Pasco
Parts:
C.T. 320.01-320.02
C.T. 321.01-321.02
C.T. 322-329
C.T. 330.01-330.04
C.T. 331
Low Inc/MFW—Hastings
County—St Johns
Low Inc/MFW—Highlands Co
County—Highlands
Parts:
Low Income
MFW
Low Inc/MFW—Lake Co.
County—Lake
Parts:
Low Inc/MFW
Low Inc/MFW—Levy Co
County—Levy
Parts:
Low Inc/MFW—Levy
Low Inc/MFW—Manatee Co
County—Manatee
Parts:
C.T. 1.01-1.04
C.T. 2
C.T. 3.01-3.03
C.T. 6.01
C.T. 7.01-7.02
C.T. 13
C.T. 15.01-15.02
C.T. 16
C.T. 19.01
C.T. 19.03-19.04
Low Inc/MFW—Okeechobee Co
County—Okeechobee
Parts:
Low Inc/MFW—Okeechobee
Low Inc/MFW—Plant City/Dover
County—Hillsborough
Parts:
C.T. 101.02-101.04
C.T. 124-131
Low Inc/MFW—Putnam
County—Putnam
Parts:
Low Inc Pop/MFW
Low Inc/MFW—Ruskin/Appollo Beach
County—Hillsborough
Parts:
C.T. 140.02
C.T. 141.01
C.T. 141.03-141.04
Low Inc/MFW—Sumter Co
County—Sumter
Parts:
Low Income/Migrant Farmw
Low Inc/MFW- Fellsmere
County—Indian River
Parts:
Low Inc/MFW—Fellsmere
Low-Inc Pompano
County—Broward
Parts:
C.T. 303-306
C.T. 308.01
MFW—Orange
County—Orange
Parts:
MFW
MFW—Sanford Division
County—Seminole
Parts:
MFW—Sanford

PRIMARY MEDICAL CARE: Florida Facility Listing
Facility Name
Apalachee Corr Inst
County—Jackson
Avon Park Corr Inst
County—Highlands
Brevard Corr Inst
County—Brevard
Calhoun Corr Inst
County—Calhoun
Central Fl Reception Ctr
County—Orange
Century Corr Inst
County—Escambia
Cross City Corr Inst
County—Dixie
Dade Corr Inst
County—Dade
Desoto Corr Inst
County—De Soto
Doris Ison Comm Hlth Ctr
County—Dade
Fcc Coleman
County—Sumter
Florida Corr Inst
County—Marion
FCI Marianna
County—Jackson
FCI Miami
County—Dade
Gainesville Corr Inst
County—Alachua
Gulf Corr Inst
County—Gulf
Helen B. Bentley Family Health Center
County—Dade
Hendry Corr Inst
County—Hendry
Holmes Corr Inst
County—Holmes
Indian River Corr Inst
County—Indian River
Jackson Corr Inst
County—Jackson
Jackson Mem Hosp Outpt Clinics
County—Dade
Krome Medical Referral Center
County—Dade
Lancaster Corr Inst
County—Gilchrist
Liberty Corr Inst
County—Liberty
Marion Corr Inst
County—Marion
North Fl Reception Ctr
County—Union
Okaloosa Corr Inst
County—Okaloosa
Putnam Corr Inst
County—Putnam
Santa Rosa Corr Inst
County—Santa Rosa
Walton Corr Inst
County—Walton

PRIMARY MEDICAL CARE: Georgia County Listing
County Name
*Appling
Population Group: Low Inc Pop—Appling Co
*Atkinson
*Bacon
Population Group: Low Inc—Bacon Co
*Baker
*Baldwin
Population Group: Low Inc—Baldwin
*Banks
Bartow
Population Group: Low Inc—Bartow Co
*Ben Hill
Population Group: Low Inc—Ben Hill Co
*Berrien
*Brantley
*Brooks
Bryan
Population Group: Low Inc—Pembroke
*Bulloch
Population Group: Low Inc—Bulloch
*Burke
Population Group: Low Inc—Burke Co
*Butts
Population Group: Low Inc—Butts Co
Facility: Ga Diagnostic Prison
*Calhoun
Population Group: Pov Pop—Calhoun Co
*Camden
Service Area: Woodbine
*Candler
Population Group: Low Inc—Candler Co
*Charlton
Population Group: Low Inc—Charlton Co
Chatham
Population Group: Pov Pop—N W Savannah
Chattahoochee
Population Group: Low Inc—Chattahoochee
*Chattooga
Cherokee
*Clay
*Clinch
Population Group: Low Inc—Clinch Co
Cobb
Population Group: Low Inc—Central Marietta
Facility: Smyrna Health Center
*Colquitt
*Cook
*Crawford
*Crisp
Population Group: Low Inc—Crisp Co
Dade
Population Group: Low Inc—Dade
*Dawson
De Kalb
Service Area: South Decatur/Candler/Mcafee
Facility: North Dekalb Clinic
*Decatur
Population Group: Low Inc—Decatur Co
*Dodge
Population Group: Low Inc—Dodge Co
Facility: Dodge State Prison
Facility: Eastman Youth Development Campus
*Dooly
Population Group: Low Inc—Dooly Co
Dougherty
Service Area: East Albany
Service Area: South Albany
Douglas
Population Group: Low Inc—Douglasville
*Echols
Effingham
*Elbert
Population Group: Low Inc—Elbert Co
*Emanuel
*Fannin
Population Group: Low Inc—Fannin Co
Forsyth
Population Group: Pov Pop—Forsyth Co
Facility: Phillips State Prison
*Franklin
Population Group: Low Inc—Franklin Co
Fulton
Service Area: Atlanta/Southside
Service Area: West Atlanta
Population Group: Med Ind—Palmetto
Facility: Central Health Center
Facility: USP—Atlanta
*Gilmer
Population Group: Low Inc—Gilmer Co
*Glascock
*Gordon
Population Group: Low Inc—Gordon
*Grady
Population Group: Low Inc—Grady Co
*Greene
Population Group: Low Inc—Greene
*Habersham
Population Group: Low Inc—Habersham Co
*Hancock
Population Group: Low Inc—Hancock
*Haralson
Population Group: Low Inc—Haralson Co
Harris
*Hart
Population Group: Low Inc—Hart Co
*Heard
Houston
Population Group: Low Inc—Houston Co
Jackson
Population Group: Low Inc—Jackson Co
*Jasper
*Jeff Davis
Population Group: Low Inc—Jeff Davis Co
*Jefferson
*Jenkins
Population Group: Low Inc—Jenkins Co
*Johnson
Population Group: Low Inc—Johnson
Facility: Wrightsville Youth Develp Campus
*Lamar
Population Group: Low Inc—Lamar Co
*Lanier
Population Group: Low Inc—Lanier Co
*Laurens
Population Group: Low Inc—Laurens Co
Lee
*Liberty
*Lincoln
*Long
*Lumpkin
Population Group: Low Inc—Lumpkin Co
Madison
Population Group: Low Inc—Madison Co
*Marion
Population Group: Low Inc—Marion Co
McDuffie
Population Group: Low Inc—Mcduffie
*McIntosh
*Meriwether
Population Group: Low Inc—Meriwether
*Miller
Population Group: Low Inc—Miller
*Mitchell
*Montgomery
Population Group: Low Inc—Montgomery/Wheeler
*Morgan
Population Group: Low Inc—Morgan Co
*Murray
Population Group: Low Inc—Murray
Muscogee/Columbus
Population Group: Pov Pop—Central Muscogee
Newton
Population Group: Low Inc—Newton Co
*Oglethorpe
Population Group: Low Inc—Oglethorpe Co
Paulding
Peach
Population Group: Low Inc—Peach Co
Pickens
Population Group: Low Inc—Pickens Co
*Pierce
Population Group: Low Inc—Pierce Co
*Pike
Population Group: Low Income—Pike Co
*Polk
*Putnam
*Quitman
*Rabun
*Randolph
Population Group: Pov Pop—Randolph Co
Richmond
Population Group: Low Inc—Central Augusta
*Schley
Population Group: Low Inc—Schley Co
*Screven
Spaulding
Population Group: Low Inc—Spalding Co
*Stewart
Service Area: Stewart/Webster
*Talbot
Population Group: Low Inc—Talbot
*Tattnall
Population Group: Low Inc—Tattnall
*Taylor
*Telfair
*Terrell
*Toombs
Population Group: Low Inc—Toombs Co
*Towns
Population Group: Low Inc—Towns Co
*Turner
Twiggs
*Union
Population Group: Low Inc—Union Co
Walker
Walton
Population Group: Low Inc—Walton Co
*Ware
Population Group: Low Inc—Ware Co
*Warren
*Washington
Population Group: Pov Pop—Washington Co
*Wayne
Facility: FCI Jesup
*Webster
Service Area: Stewart/Webster
*Wheeler
Population Group: Low Inc—Montgomery/Wheeler
*White
*Whitfield
Population Group: Low Inc—Whitfield Co
*Wilcox
Population Group: Low Inc—Wilcox Co
Facility: Wilcox State Prison
*Wilkes
*Wilkinson
*Worth
Population Group: Low Inc—Worth

PRIMARY MEDICAL CARE: Georgia Service Area Listing
Service Area Name
Atlanta/Southside
County—Fulton
Parts:
C.T. 44
C.T. 46.95
C.T. 48
C.T. 49.95
C.T. 50
C.T. 52-53
C.T. 55.01-55.02
C.T. 56-58
C.T. 63-64
C.T. 67
C.T. 68.01-68.02
C.T. 69-73
East Albany
County—Dougherty
Parts:
C.T. 1-2
C.T. 101-102
C.T. 103.01-103.02
C.T. 107-108
South Albany
County—Dougherty
Parts:
C.T. 12
C.T. 14.01-14.02
C.T. 15
C.T. 106.01-106.02
South Decatur/Candler/Mcafee
County—De Kalb
Parts:
C.T. 205-209
C.T. 227
C.T. 231.01
C.T. 235.01-235.02
C.T. 236-237
Stewart/Webster
County—Stewart
County—Webster
West Atlanta
County—Fulton
Parts:
C.T. 8
C.T. 22-26
C.T. 36-41
C.T. 42.95
C.T. 43
C.T. 60-62
C.T. 66.02
C.T. 78.04
C.T. 80
C.T. 81.01-81.02
C.T. 82.01-82.02
C.T. 83.01-83.02
C.T. 84-85
C.T. 86.01-86.02
C.T. 87.01-87.02
Woodbine
County—Camden
Parts:
Woodbine Division

PRIMARY MEDICAL CARE: Georgia Population Group Listing
Population Group
Low Inc—Bacon Co
County—Bacon
Parts:
Low Income
Low Inc—Baldwin
County—Baldwin
Parts:
Low Income
Low Inc—Bartow Co
County—Bartow
Parts:
Low Income
Low Inc—Ben Hill Co
County—Ben Hill
Low Inc—Bulloch
County—Bulloch
Parts:
Low Income
Low Inc—Burke Co
County—Burke
Parts:
Low Income
Low Inc—Butts Co
County—Butts
Parts:
Low Income
Low Inc—Candler Co
County—Candler
Parts:
Low Income Pop
Low Inc—Central Augusta
County—Richmond
Parts:
C.T. 104
C.T. 105.04-105.09
C.T. 106
Low Inc—Central Marietta
County—Cobb
Parts:
C.T. 307-308
C.T. 309.02
Low Inc—Charlton Co
County—Charlton
Parts:
Low Income
Low Inc—Chattahoochee
County—Chattahoochee
Parts:
Low Income
Low Inc—Clinch Co
County—Clinch
Parts:
Low Income
Low Inc—Crisp Co
County—Crisp
Parts:
Low Income
Low Inc—Dade
County—Dade
Parts:
Low Income
Low Inc—Decatur Co
County—Decatur
Parts:
Low Income
Low Inc—Dodge Co
County—Dodge
Parts:
Low Income
Low Inc—Dooly Co
County—Dooly
Parts:
Low Income
Low Inc—Douglasville
County—Douglas
Parts:
Low Income
Low Inc—Elbert Co
County—Elbert
Parts:
Low Income
Low Inc—Fannin Co
County—Fannin
Parts:
Low Income
Low Inc—Franklin Co
County—Franklin
Parts:
Low Income
Low Inc—Gilmer Co
County—Gilmer
Parts:
Low Income
Low Inc—Gordon
County—Gordon
Parts:
Low Income
Low Inc—Grady Co
County—Grady
Parts:
Low Income
Low Inc—Greene
County—Greene
Parts:
Low Income
Low Inc—Habersham Co
County—Habersham
Parts:
Low Inc
Low Inc—Hancock
County—Hancock
Parts:
Low Income
Low Inc—Haralson Co
County—Haralson
Parts:
Low Income
Low Inc—Hart Co
County—Hart
Parts:
Low Income
Low Inc—Houston Co
County—Houston
Parts:
Low Income
Low Inc—Jackson Co
County—Jackson
Parts:
Low Income
Low Inc—Jeff Davis Co
County—Jeff Davis
Parts:
Low Income
Low Inc—Jenkins Co
County—Jenkins
Parts:
Low Income
Low Inc—Johnson
County—Johnson
Parts:
Low Income
Low Inc—Lamar Co
County—Lamar
Parts:
Low Income
Low Inc—Lanier Co
County—Lanier
Parts:
Low Inc—Lanier
Low Inc—Laurens Co
County—Laurens
Parts:
Low Income
Low Inc—Lumpkin Co
County—Lumpkin
Parts:
Low Income
Low Inc—Madison Co
County—Madison
Parts:
Low Income
Low Inc—Marion Co
County—Marion
Parts:
Low Income
Low Inc—Mcduffie
County—McDuffie
Parts:
Low Income
Low Inc—Meriwether
County—Meriwether
Parts:
Low Income
Low Inc—Miller
County—Miller
Parts:
Low Income
Low Inc—Montgomery/Wheeler
County—Montgomery
Parts:
Low Income
County—Wheeler
Parts:
Low Income
Low Inc—Morgan Co
County—Morgan
Parts:
Low Income
Low Inc—Murray
County—Murray
Parts:
Low Income
Low Inc—Newton Co
County—Newton
Parts:
Low Inc
Low Inc—Oglethorpe Co
County—Oglethorpe
Parts:
Low Income
Low Inc—Peach Co
County—Peach
Parts:
Low Inc—Peach
Low Inc—Pembroke
County—Bryan
Parts:
Pembroke CCD
Low Inc—Pickens Co
County—Pickens
Parts:
Low Income
Low Inc—Pierce Co
County—Pierce
Parts:
Low Income
Low Inc—Schley Co
County—Schley
Parts:
Low Income
Low Inc—Spalding Co
County—Spaulding
Parts:
Low Income
Low Inc—Talbot
County—Talbot
Parts:
Low Income
Low Inc—Tattnall
County—Tattnall
Parts:
Low Income
Low Inc—Toombs Co
County—Toombs
Parts:
Low Income
Low Inc—Towns Co
County—Towns
Parts:
Low Income
Low Inc—Union Co
County—Union
Parts:
Low Income
Low Inc—Walton Co
County—Walton
Parts:
Low Income
Low Inc—Ware Co
County—Ware
Parts:
Low Income
Low Inc—Whitfield Co
County—Whitfield
Parts:
Low Income
Low Inc—Wilcox Co
County—Wilcox
Parts:
Low Income
Low Inc—Worth
County—Worth
Parts:
Low Income
Low Inc Pop—Appling Co
County—Appling
Parts:
Low Inc—Appling
Low Income—Pike Co
County—Pike
Parts:
Low Income
Med Ind—Palmetto
County—Fulton
Parts:
C.T. 104
C.T. 105.04-105.06
Pov Pop—Calhoun Co
County—Calhoun
Parts:
Pov Pop
Pov Pop—Central Muscogee
County—Muscogee/Columbus
Parts:
C.T. 1
C.T. 13
C.T. 15
C.T. 18-20
C.T. 22-25
C.T. 27-28
C.T. 29.01-29.02
C.T. 30-34
Pov Pop—Forsyth Co
County—Forsyth
Parts:
Pov Pop
Pov Pop—N W Savannah
County—Chatham
Parts:
C.T. 1
C.T. 3
C.T. 6.01
C.T. 8-13
C.T. 15
C.T. 17-28
C.T. 32
C.T. 33.01-33.02
C.T. 36.01-36.02
C.T. 37
C.T. 44-45
C.T. 101.01
C.T. 106.04
Pov Pop—Randolph Co
County—Randolph
Parts:
Pov Pop
Pov Pop—Washington Co
County—Washington
Parts:
Pov Pop

PRIMARY MEDICAL CARE: Georgia Facility Listing
Facility Name
Central Health Center
County—Fulton
Dodge State Prison
County—Dodge
Eastman Youth Development Campus
County—Dodge
FCI Jesup
County—Wayne
Ga Diagnostic Prison
County—Butts
North Dekalb Clinic
County—De Kalb
Phillips State Prison
County—Forsyth
Smyrna Health Center
County—Cobb
USP—Atlanta
County—Fulton
Wilcox State Prison
County—Wilcox
Wrightsville Youth Develp Campus
County—Johnson

PRIMARY MEDICAL CARE: Hawaii County Listing
County Name
*Hawaii
Service Area: Hamakua
Service Area: Kau District
Service Area: Pahoa
Honolulu
Population Group: Low Inc—Kokua/Kalihi-Palama
*Maui/Kalawao
Service Area: Hana/Haiku
Service Area: Island Of Lanai
Service Area: Island Of Molokai

PRIMARY MEDICAL CARE: Hawaii Service Area Listing
Service Area Name
Hamakua
County—Hawaii
Parts:
C.T. 219-221
Hana/Haiku
County—Maui/Kalawao
Parts:
C.T. 301-302
Island Of Lanai
County—Maui/Kalawao
Parts:
C.T. 316
Island Of Molokai
Parts:
C.T. 319
County—Maui/Kalawao
Parts:
C.T. 317-318
Kau District
County—Hawaii
Parts:
C.T. 212
Pahoa
County—Hawaii
Parts:
C.T. 211

PRIMARY MEDICAL CARE: Hawaii Population Group Listing
Population Group
Low Inc—Kokua/Kalihi-Palama
County—Honolulu
Parts:
C.T. 51-57
C.T. 57.99-58.00
C.T. 59-61
C.T. 62.01-62.02
C.T. 63.01-63.02
C.T. 64.01-64.02
C.T. 65-66

PRIMARY MEDICAL CARE: Idaho County Listing
County Name
Ada
Facility: Idaho State Pen. (Max/Med Units)
*Adams
*Bannock
Service Area: South Bannock Division
*Benewah
Population Group: Low Inc—Benewah Co
*Bingham
Population Group: Low Inc/MFW—Bingham Co
*Blaine
Service Area: Carey
*Boise
*Bonner
Service Area: Clark Fork
Service Area: Priest River
*Bonneville
Service Area: Swan Valley
*Boundary
*Butte
Service Area: Arco/Mackay
*Camas
Canyon
Population Group: Low Inc/MFW—Canyon Co
*Caribou
*Cassia
Population Group: Low Inc/MFW—Cassia Co
*Clark
*Clearwater
Service Area: Elk River
Service Area: Pierce/Weippe
*Custer
Service Area: Arco/Mackay
Service Area: Stanley/Challis
*Elmore
*Franklin
*Fremont
*Gem
Population Group: Low Inc/MFW—Gem Co
*Gooding
*Idaho
Service Area: Elk City
Service Area: Riggins
*Jefferson
*Jerome
Population Group: Low Inc/MFW—Jerome Co
*Kootenai
Population Group: Low Inc—Kootenai Co
*Latah
Population Group: Low Inc—Latah Co
*Lemhi
*Lewis
Service Area: Winchester
*Lincoln
*Madison
Population Group: Low Inc/MFW—Madison Co
*Minidoka
Population Group: Low Inc/MFW—Minidoka Co
*Oneida
*Owyhee
*Payette
*Power
Population Group: Low Inc/MFW—Power Co
*Teton
*Twin Falls
Population Group: Low Inc/MFW -Twin Falls Co
*Valley
Service Area: Cascade
*Washington

PRIMARY MEDICAL CARE: Idaho Service Area Listing
Service Area Name
Arco/Mackay
County—Butte
County—Custer
Parts:
Mackay Division
Carey
County—Blaine
Parts:
Carey Division
Cascade
County—Valley
Parts:
C.T. 9701
Clark Fork
County—Bonner
Parts:
Clark Fork Division
Elk City
County—Idaho
Parts:
Elk City Division
Elk River
County—Clearwater
Parts:
Elk River Division
Pierce/Weippe
County—Clearwater
Parts:
Pierce-Headquarters Division
Weippe Division
Priest River
County—Bonner
Parts:
Blanchard-Glengary Division
Priest River Division
Riggins
County—Idaho
Parts:
Riggins Division
South Bannock Division
County—Bannock
Parts:
South Bannock Division
Stanley/Challis
County—Custer
Parts:
Challis Division
Stanley Division
Swan Valley
County—Bonneville
Parts:
Swan Valley Division
Winchester
County—Lewis
Parts:
Winchester Division

PRIMARY MEDICAL CARE: Idaho Population Group Listing
Population Group
Low Inc—Benewah Co
County—Benewah
Parts:
Low Income
Low Inc—Kootenai Co
County—Kootenai
Low Inc—Latah Co
County—Latah
Parts:
Low Inc
Low Inc/MFW—Bingham Co
County—Bingham
Low Inc/MFW—Canyon Co
County—Canyon
Parts:
Low Income/MFW
Low Inc/MFW—Cassia Co
County—Cassia
Parts:
Cassia
Low Inc/MFW—Gem Co
County—Gem
Low Inc/MFW—Jerome Co
County—Jerome
Parts:
Low Inc/MFW
Low Inc/MFW—Madison Co
County—Madison
Parts:
Low Inc/MFW
Low Inc/MFW—Minidoka Co
County—Minidoka
Parts:
Low Inc/MFW Minidoka Co
Low Inc/MFW—Power Co
County—Power
Parts:
Low Income/MFW Pop
Low Inc/MFW -Twin Falls Co
County—Twin Falls
Parts:
Low Inc/MFW—Twin Falls

PRIMARY MEDICAL CARE: Idaho Facility Listing
Facility Name
Idaho State Pen. (Max/Med Units)
County—Ada

PRIMARY MEDICAL CARE: Illinois County Listing
County Name
*Alexander
Service Area: Cairo
*Bond
Facility: Greenville Corr Inst
*Brown
*Calhoun
*Carroll
Clinton (g)
Facility: Centralia Corr Ctr
Cook
Service Area: Auburn Gresham
Service Area: Austin
Service Area: Logan Square
Service Area: New City
Service Area: Roseland/Pullman/Burnside
Service Area: S Lawndale
Service Area: South Chicago/Avalon Park
Service Area: South Deering
Service Area: West Englewood/Englewood
Population Group: Hmlss—Uptown/Near North Side/Loop
Facility: Alivio Med Ctr
Facility: Altgeld Health Ctr
Facility: Children's Primary Care Serv
Facility: Cook Co (Sengstacke)
Facility: Cook Co Dept Of Corr Complex
Facility: Erie Family HC (Teens)
Facility: Erie Family HC (West Town)
Facility: Erie Family HC (Humboldt Park)
Facility: Family Wellness Ctr (C.T. 4808)
Facility: Fantus Outpt Clinic—Cook Co Hosp
Facility: Friend Family Health Ctr
Facility: Hawthorne Works Med Ctr
Facility: Infant Welfare Society
Facility: Ingalls Community Care Ctr
Facility: Kedzie Plaza Med Ctr
Facility: Kling Prof Office Bldg
Facility: Lawndale Christian Hlth Ctr
Facility: Lawndale Plaza Medical Ctr
Facility: Lincoln Memorial Health Ctr
Facility: Markham Medical Clinic
Facility: Near South Health Ctr
Facility: Pcc Community Wellness Ctr
Facility: Pediatric Clinic—U Of Il
Facility: Pediatric Follow-Up Clinic
Facility: Pilsen Med Ctr
Facility: Sinai Doctors Med Ctr
Facility: West Side Health Ctr
Facility: Westside Family Health Ctr
Facility: Winfield Moody Health Ctr
Facility: Woodlawn Health Ctr
*Edgar
*Fayette
*Franklin
*Gallatin
*Hamilton
Population Group: Low Inc—Hamilton Co
*Hardin
Service Area: Hardin/Pope
*Iroquois
Service Area: Hoopeston
*Jackson
Population Group: Med Ind—Jackson Co
*Jasper
*Jo Daviess
Service Area: Stockton/Warren
*Johnson (g)
Facility: Shawnee Corr Ctr
*Knox
Facility: Hill Corr Ctr
*Lee
Service Area: Ashton
Macon
Population Group: Low Inc—Decatur City
*Macoupin
Madison
Service Area: East St. Louis
Population Group: Low Inc—Alton/Wood River
Facility: Koch Family Health Ctr
*Mason
*Massac
Population Group: Low Inc—Massac Co
Ogle
Service Area: Polo
*Perry
Population Group: Low Inc—Perry Co
*Pope
Service Area: Hardin/Pope
*Pulaski
Service Area: Cairo
Rock Island
Population Group: Low Inc—Greater Davenport (IA/IL)
Population Group: Low Inc—Eastern Rock Island Co
*Scott
*Shelby
Population Group: Low Inc—Shelby Co
St Clair
Service Area: East St. Louis
Tazewell
Facility: FCI Pekin
*Vermilion
Service Area: Hoopeston
*Washington
Service Area: Nashville
*White
Population Group: Low Inc—White Co
Will
Population Group: Low Inc—Eastside Joliet
Facility: Joliet Corr Inst
*Williamson
Facility: USP Marion
Winnebago
Service Area: Rockford Westside

PRIMARY MEDICAL CARE: Illinois Service Area Listing
Service Area Name
Ashton
County—Lee
Parts:
Alto Township
Amboy Township
Ashton Township
Bradford Township
Brooklyn Township
China Township
Lee Center Township
May Township
Reynolds Township
Sublette Township
Viola Township
Willow Creek Township
Wyoming Township
Auburn Gresham
County—Cook
Parts:
C.T. 7101-7115
C.T. 7301-7307
Austin
County—Cook
Parts:
C.T. 2501-2524
Cairo
County—Alexander
County—Pulaski
East St. Louis
County—Madison
Parts:
C.T. 4007
County—St Clair
Parts:
C.T. 5004-5006
C.T. 5009-5014
C.T. 5021-5022
C.T. 5024.01
C.T. 5024.03-5024.04
C.T. 5025
C.T. 5027-5030
C.T. 5041
C.T. 5042.01
C.T. 5044
Hardin/Pope
County—Hardin
County—Pope
Hoopeston
County—Iroquois
Parts:
Fountain Creek Township
Lovejoy Township
Prairie Green Township
County—Vermilion
Parts:
Butler Township
Grant Township
Middlefork Township
Ross Township
South Ross Township
Logan Square
County—Cook
Parts:
C.T. 2001-2006
C.T. 2201-2229
Nashville
County—Washington
Parts:
Beaucoup Township
Bolo Township
Covington Township
Du Bois Township
Johannisburg Township
Lively Grove Township
Nashville Township
Oakdale Township
Okawville Township
Pilot Knob Township
Plum Hill Township
Venedy Township
New City
County—Cook
Parts:
C.T. 3701-3704
C.T. 6101-6122
Polo
County—Ogle
Parts:
Brookville Twp
Buffalo Twp
Eagle Point Twp
Forreston Twp
Leaf River Twp
Lincoln Twp
Maryland Twp
Mount Morris Twp
Pine Creek Twp
Woosung Twp
Rockford Westside
County—Winnebago
Parts:
C.T. 10-12
C.T. 21
C.T. 24-29
C.T. 32
Roseland/Pullman/Burnside
County—Cook
Parts:
C.T. 4701
C.T. 4901-4914
C.T. 5001-5003
S Lawndale
County—Cook
Parts:
C.T. 3001-3020
South Chicago/Avalon Park
County—Cook
Parts:
C.T. 4501-4503
C.T. 4601-4610
South Deering
County—Cook
Parts:
C.T. 5101-5105
Stockton/Warren
County—Jo Daviess
Parts:
Apple River Township
Berreman Township
Derinda Township
Nora Township
Pleasant Valley Township
Rush Township
Stockton Township
Thompson Township
Wards Grove Township
Warren Township
Woodbine Township
West Englewood/Englewood
County—Cook
Parts:
C.T. 6701-6720
C.T. 6801-6814

PRIMARY MEDICAL CARE: Illinois Population Group Listing
Population Group
Hmlss—Uptown/Near North Side/Loop
County—Cook
Parts:
Edgewater (C.T. 301-309)
Lakeview(C.T. 601-634)
Lincoln Park (C.T.701-720
Loop (C.T. 3201-3206)
Near N Side(C.T.801-819
Uptown(C.T. 310-321)
Low Inc—Alton/Wood River
County—Madison
Parts:
Alton Twp
Wood River Twp
Low Inc—Decatur City
County—Macon
Parts:
C.T. 1-3
C.T. 4.97-4.98
C.T. 5.98
C.T. 6-9
C.T. 16
C.T. 20
Low Inc—Eastern Rock Island Co
County—Rock Island
Parts:
C.T. 202-203
C.T. 206-210
C.T. 213-215
Low Inc—Eastside Joliet
County—Will
Parts:
C.T. 8812-8813
C.T. 8820-8822
C.T. 8824-8825
C.T. 8830
Low Inc—Greater Davenport (IA/IL)
County—Rock Island
Parts:
C.T. 216-217
C.T. 222-224
C.T. 226-228
C.T. 233-237
Low Inc—Hamilton Co
County—Hamilton
Parts:
Low Income
Low Inc—Massac Co
County—Massac
Parts:
Low Income
Low Inc—Perry Co
County—Perry
Parts:
Low Income
Low Inc—Shelby Co
County—Shelby
Parts:
Low Income
Low Inc—White Co
County—White
Parts:
Low Income
Med Ind—Jackson Co
County—Jackson
Parts:
Medically Indigent

PRIMARY MEDICAL CARE: Illinois Facility Listing
Facility Name
Alivio Med Ctr
County—Cook
Altgeld Health Ctr
County—Cook
Centralia Corr Ctr
County—Clinton
Children's Primary Care Serv
County—Cook
Cook Co (Sengstacke)
County—Cook
Cook Co Dept Of Corr Complex
County—Cook
Erie Family HC (Humboldt Park)
County—Cook
Erie Family HC (Teens)
County—Cook
Erie Family HC (West Town)
County—Cook
Family Wellness Ctr (C.T. 4808)
County—Cook
Fantus Outpt Clinic—Cook Co Hosp
County—Cook
Friend Family Health Ctr
County—Cook
FCI Pekin
County—Tazewell
Greenville Corr Inst
County—Bond
Hawthorne Works Med Ctr
County—Cook
Hill Corr Ctr
County—Knox
Infant Welfare Society
County—Cook
Ingalls Community Care Ctr
County—Cook
Joliet Corr Inst
County—Will
Kedzie Plaza Med Ctr
County—Cook
Kling Prof Office Bldg
County—Cook
Koch Family Health Ctr
County—Madison
Lawndale Christian Hlth Ctr
County—Cook
Lawndale Plaza Medical Ctr
County—Cook
Lincoln Memorial Health Ctr
County—Cook
Markham Medical Clinic
County—Cook
Near South Health Ctr
County—Cook
Pcc Community Wellness Ctr
County—Cook
Pediatric Clinic—U Of Il
County—Cook
Pediatric Follow-Up Clinic
County—Cook
Pilsen Med Ctr
County—Cook
Shawnee Corr Ctr
County—Johnson
Sinai Doctors Med Ctr
County—Cook
USP Marion
County—Williamson
West Side Health Ctr
County—Cook
Westside Family Health Ctr
County—Cook
Winfield Moody Health Ctr
County—Cook
Woodlawn Health Ctr
County—Cook

PRIMARY MEDICAL CARE: Indiana County Listing
County Name
*Benton
*Blackford
*Brown
*Carroll
Population Group: Low Inc—Carroll Co
Clinton
Population Group: Low Inc—Clinton Co
*Crawford
*Daviess
*Fountain
Population Group: Low Inc—Fountain Co
*Franklin
*Grant
Population Group: Low Inc—Grant Co
*Greene
Harrison
Service Area: Elizabeth
*Henry
Population Group: Low Inc—Henry Co
Howard
Population Group: Low Inc—Inner City Kokomo
*Jasper
Population Group: Low Inc—Jasper Co
*Jennings
*Knox
Facility: Wabash Valley Clinic
*La Porte
Population Group: Low Inc—LA Porte Co
Facility: Indiana State Prs
*Lagrange
Lake
Service Area: East Chicago
Service Area: Gary
Marion
Service Area: Forest Manor (Indianapolis)
Service Area: Highland-Brookside (Indianapolis)
Service Area: Near North Side (Indianapolis)
Service Area: South Central Indianapolis
Service Area: Southwest Indianapolis
*Newton
*Ohio
*Owen
*Perry
Facility: Branchville Training Ctr
*Pike
*Putnam
Facility: Indiana State Farm
*Randolph
*Ripley
Service Area: Osgood/Versailles
*Rush
Population Group: Low Inc—Rush Co
Scott
Population Group: Low Inc—Scott Co
*Spencer
St Joseph
Service Area: Southwest South Bend
*Starke
*Steuben
*Sullivan
*Switzerland
Tippecanoe
Population Group: Low Inc—Tippecanoe Co
Vanderburgh
Population Group: Homeless—Evansville
Vigo
Facility: Terre Haute Corr Inst
*Warren
*Washington
Population Group: Low Inc—Washington Co
*White

PRIMARY MEDICAL CARE: Indiana Service Area Listing
Service Area Name
East Chicago
County—Lake
Parts:
C.T. 301-303
C.T. 303.98
C.T. 304
C.T. 304.98
C.T. 305-310
Elizabeth
County—Harrison
Parts:
Boone Township
Posey Township
Taylor Township
Forest Manor (Indianapolis)
County—Marion
Parts:
C.T. 3225-3227
C.T. 3505-3508
C.T. 3523
Gary
County—Lake
Parts:
C.T. 101
C.T. 102.98
C.T. 103-134
C.T. 411-412
C.T. 413.01
Highland-Brookside (Indianapolis)
County—Marion
Parts:
C.T. 3526-3527
C.T. 3544-3545
C.T. 3547-3551
Parts:
C.T. 101
C.T. 102.98
C.T. 103-134
C.T. 411-412
C.T. 413.01
Near North Side (Indianapolis)
County—Marion
Parts:
C.T. 3517
C.T. 3519
C.T. 3521
C.T. 3528
C.T. 3531-3532
Osgood/Versailles
County—Ripley
Parts:
Brown Township
Center Township
Johnson Township
Otter Creek Township
Shelby Township
Washington Township
South Central Indianapolis
County—Marion
Parts:
C.T. 3556-3557
C.T. 3559
C.T. 3562
C.T. 3569-3572
C.T. 3578-3580
Southwest Indianapolis
County—Marion
Parts:
C.T. 3414-3415
C.T. 3417
C.T. 3424-3426
C.T. 3563-3564
C.T. 3581
Southwest South Bend
County—St Joseph
Parts:
C.T. 6
C.T. 17-24
C.T. 27
C.T. 29-30

PRIMARY MEDICAL CARE: Indiana Population Group Listing
Population Group
Homeless—Evansville
County—Vanderburgh
Parts:
Homeless
Low Inc—Carroll Co
County—Carroll
Parts:
Low Income
Low Inc—Clinton Co
County—Clinton
Parts:
Low Income
Low Inc—Fountain Co
County—Fountain
Parts:
Low Income
Low Inc—Grant Co
County—Grant
Parts:
Low Income
Low Inc—Henry Co
County—Henry
Parts:
Low Income
Low Inc—Inner City Kokomo
County—Howard
Parts:
C.T. 1-2
C.T. 4-5
C.T. 9
C.T. 12
Low Inc—Jasper Co
County—Jasper
Parts:
Low Income
Low Inc—LA Porte Co
County—La Porte
Parts:
Low Income
Low Inc—Rush Co
County—Rush
Parts:
Low Income
Low Inc—Scott Co
County—Scott
Parts:
Low Income
Low Inc—Tippecanoe Co
County—Tippecanoe
Parts:
Low Income
Low Inc—Washington Co
County—Washington
Parts:
Low Income

PRIMARY MEDICAL CARE: Indiana Facility Listing
Facility Name
Branchville Training Ctr
County—Perry
Indiana State Farm
County—Putnam
Indiana State Prs
County—La Porte
Terre Haute Corr Inst
County—Vigo
Wabash Valley Clinic
County—Knox

PRIMARY MEDICAL CARE: Iowa County Listing
County Name
*Adair
*Benton
Black Hawk
Population Group: Medicaid—Black Hawk Co
*Boone
Service Area: Dayton/Gowrie
Bremer
Service Area: Sumner/Tripoli
*Buchanan
*Calhoun
Service Area: Dayton/Gowrie
Service Area: Lake City
Service Area: Manson
*Carroll
Service Area: Lake City
*Cedar
Service Area: Lowden/Lost Nation
*Cherokee
Service Area: Kingsley/Anthon/Mapleton
*Clayton
Service Area: Elkader/Strawberry Point
*Clinton
Service Area: Lowden/Lost Nation
Dallas
Service Area: Redfield
*Delaware
Service Area: Elkader/Strawberry Point
*Franklin
Population Group: Low Inc—Franklin Co
*Fremont
Service Area: Glenwood/Tabor
*Greene
Service Area: Dayton/Gowrie
Service Area: Lake City
*Grundy
Service Area: Grundy
*Guthrie
Service Area: Guthrie Center
Service Area: Redfield
*Hamilton
Service Area: Dayton/Gowrie
*Harrison
Service Area: Onawa (IA/NE)
*Henry
Service Area: Keosauqua
Facility: Mt. Pleasant Corr Fac
*Ida
*Jackson
Service Area: Lowden/Lost Nation
*Jefferson
Service Area: Keosauqua
*Lee
Service Area: Keosauqua
*Lyon
Service Area: Rock Rapids
*Madison
Service Area: Redfield
*Mills
Service Area: Glenwood/Tabor
*Mitchell
*Monona
Service Area: Kingsley/Anthon/Mapleton
Service Area: Onawa (IA/NE)
*Plymouth
Service Area: Kingsley/Anthon/Mapleton
Service Area: Le Mars/Akron
*Pocahontas
Service Area: Manson
Pottawattamie
Service Area: Oakland
Population Group: Low Inc—W Pottawattamie Co
*Sac
Scott
Service Area: Lowden/Lost Nation
Population Group: Low Inc—Greater Davenport (IA/IL)
*Sioux
Service Area: Hawarden/Ireton
*Tama
*Van Buren
Service Area: Keosauqua
*Webster
Service Area: Dayton/Gowrie
Service Area: Manson
Woodbury
Service Area: Kingsley/Anthon/Mapleton
Service Area: Onawa (IA/NE)
Population Group: Low Inc—NW Sioux City

PRIMARY MEDICAL CARE: Iowa Service Area Listing
Service Area Name
Dayton/Gowrie
County—Boone
Parts:
Dodge Twp
Grant Twp
Pilot Mound Twp
County—Calhoun
Parts:
Reading Twp
County—Greene
Parts:
Dawson Twp
Paton Twp
County—Hamilton
Parts:
Marion Twp
Webster Twp
County—Webster
Parts:
Burnside Twp
Clay Twp
Dayton Twp
Gowrie Twp
Hardin Twp
Lost Grove Twp
Roland Twp
Sumner Twp
Webster Twp
Yell Twp
Elkader/Strawberry Point
County—Clayton
Parts:
Boardman Twp
Cass Twp
Cox Creek Twp
Grand Meadow Twp
Highland Twp
Lodomillo Twp
Marion Twp
Monona Twp
Sperry Twp
Wagner Twp
County—Delaware
Parts:
Honey Creek Twp
Richland Twp
Glenwood/Tabor
County—Fremont
Parts:
Green Twp
Monroe Twp
Riverside Twp
Scott Twp
County—Mills
Grundy
County—Grundy
Parts:
Black Hawk Twp
Colfax Twp
Lincoln Twp
Melrose Twp
Palermo Twp
Pleasant Valley Twp
Shiloh Twp
Washington Twp
Guthrie Center
County—Guthrie
Parts:
Baker Twp
Bear Grove Twp
Beaver Twp
Cass Twp
Dodge Twp
Grant Twp
Highland Twp
Jackson Twp
Orange Twp
Richland Twp
Seely Twp
Thompson Twp
Union Twp
Valley Twp
Victory Twp
Hawarden/Ireton
County—Sioux
Parts:
Buncombe Township
Center Township
Eagle Township
Garfield Township
Logan Township
Plato Township
Reading Township
Sherman Township
Washington Township
Keosauqua
County—Henry
Parts:
Jackson Township
Salem Township
County—Jefferson
Parts:
Cedar Township
Des Moines Township
Liberty Township
Round Prairie Township
County—Lee
Parts:
Cedar Township
Franklin Township
Harrison Township
Marion Township
Van Buren Township
County—Van Buren
Kingsley/Anthon/Mapleton
County—Cherokee
Parts:
Grand Meadow Twp
County—Monona
Parts:
Cooper Twp
Grant Twp
Maple Twp
County—Plymouth
Parts:
Elkhorn Twp
Garfield Twp
County—Woodbury
Parts:
Arlington Twp
Banner Twp
Floyd Twp
Grange Twp
Grant Twp
Kedron Twp
Liston Twp
Little Sioux Twp
Miller Twp
Morgan Twp
Moville Twp
Oto Twp
Rock Twp
Rutland Twp
Union Twp
West Fork Twp
Willow Twp
Wolf Creek Twp
Lake City
County—Calhoun
Parts:
Calhoun Township
Cedar Township
Elm Grove Township
Garfield Township
Jackson Township
Lake Creek Township
Lake City City
Logan Township
Union Township
Williams Township
County—Carroll
Parts:
Jasper Township
Kniest Township
Sheridan Township
Wheatland Township
County—Greene
Parts:
Cedar Township
Highland Township
Le Mars/Akron
County—Plymouth
Parts:
America Twp
Elgin Twp
Fredonia Twp
Grant Twp
Henry Twp
Johnson Twp
Liberty Twp
Marion Twp
Meadow Twp
Plymouth Twp
Portland Twp
Preston Twp
Remsen Twp
Sioux Twp
Stanton Twp
Union Twp
Washington Twp
Westfield Twp
Lowden/Lost Nation
County—Cedar
Parts:
Inland Twp
Massillon Twp
Springfield Twp
County—Clinton
Parts:
Liberty Twp
Sharon Twp
Spring Rock Twp
County—Jackson
Parts:
Monmouth Twp
County—Scott
Parts:
Liberty Twp
Manson
County—Calhoun
Parts:
Butler Township
Center Township
Greenfield Township
Lincoln Township
Sherman Township
Twin Lakes Township
County—Pocahontas
Parts:
Bellville Township
Lizard Township
County—Webster
Parts:
Jackson Township
Johnson Township
Oakland
County—Pottawattamie
Parts:
Belknap Twp
Carson Twp
Center Twp
Grove Twp
James Twp
Knox Twp
Layton Twp
Lincoln Twp
Macedonia Twp
Pleasant Twp
Silver Creek Twp
Valley Twp
Washington Twp
Waveland Twp.
Wright Twp.
Onawa (IA/NE)
County—Harrison
Parts:
Jackson Twp
Little Sioux Twp
County—Monona
Parts:
Ashton Twp
Belvidere Twp
Center Twp
Fairview Twp
Franklin Twp
Jordan Twp
Kennebec Twp
Lake Twp
Lincoln Twp
Onawa City
Sherman Twp
Sioux Twp
Soldier Twp
Spring Valley Twp
St Clair Twp
West Fork Twp
Willow Twp
County—Woodbury
Parts:
Lakeport Twp
Sloan Twp
Willow Twp
Redfield
County—Dallas
Parts:
Linn Township
Union Township
County—Guthrie
Parts:
Penn Township
Stuart Township
County—Madison
Parts:
Madison Township
Penn Township
Rock Rapids
County—Lyon
Parts:
Allison Twp
Cleveland Twp
Dale Twp
Doon Twp
Elgin Twp
Garfield Twp
Grant Twp
Larchwood Twp
Liberal Twp
Midland Twp
Riverside Twp
Rock Twp
Sioux Twp
Wheeler Twp
Sumner/Tripoli
County—Bremer
Parts:
Dayton Twp
Frederika Twp
Fremont Twp
Le Roy Twp
Sumner City
Sumner #2 Twp

PRIMARY MEDICAL CARE: Iowa Population Group Listing
Population Group
Low Inc—Franklin Co
County—Franklin
Parts:
Low Income
Low Inc—Greater Davenport (IA/IL)
County—Scott
Parts:
C.T. 105-117
C.T. 122-123
C.T. 130
C.T. 135
Low Inc—NW Sioux City
County—Woodbury
Parts:
C.T. 7-8
C.T. 10
C.T. 12-16
Low Inc—W Pottawattamie Co
County—Pottawattamie
Parts:
Boomer Twp
Crescent Twp
Garner Twp
Hardin Twp
Hazel Dell Twp
Kane Twp
Keg Creek Twp
Lake Twp
Lewis Twp
Minden Twp
Neola Twp
Norwalk Twp
Rockford Twp
York Twp
Medicaid—Black Hawk Co
County—Black Hawk
Parts:
Medicaid Eligible

PRIMARY MEDICAL CARE: Iowa Facility Listing
Facility Name
Mt. Pleasant Corr Fac
County—Henry

PRIMARY MEDICAL CARE: Kansas County Listing
County Name
*Atchison
Population Group: Low Inc—Atchison Co
*Brown
Population Group: Medicaid—Brown Co
*Chautauqua
Service Area: Elk/Chautauqua
*Cherokee
*Cheyenne
*Clark
Service Area: Clark/Meade
*Comanche
*Doniphan
*Elk
Service Area: Elk/Chautauqua
*Geary
Population Group: Low Inc—Geary Co
*Haskell
*Hodgeman
*Jackson
*Jewell
*Kearny
*Kiowa
Leavenworth
Facility: USP Leavenworth
*Lincoln
*Linn
*Meade
Service Area: Clark/Meade
*Osborne
*Pratt
*Rawlins
*Rooks
*Russell
*Sheridan
*Smith
Population Group: Low Inc—Smith Co
*Stevens
*Wabaunsee
*Wallace
*Washington
*Wichita
Wyandotte
Population Group: Low Inc—Wyandotte Co

PRIMARY MEDICAL CARE: Kansas Service Area Listing
Service Area Name
Clark/Meade
County—Clark
County—Meade
Elk/Chautauqua
County—Chautauqua
County—Elk

PRIMARY MEDICAL CARE: Kansas Population Group Listing
Population Group
Low Inc—Atchison Co
County—Atchison
Parts:
Low Income
Low Inc—Geary Co
County—Geary
Parts:
Low Income
Low Inc—Smith Co
County—Smith
Parts:
Low Income
Low Inc—Wyandotte Co
County—Wyandotte
Parts:
Low Income
Medicaid—Brown Co
County—Brown
Parts:
Medicaid

PRIMARY MEDICAL CARE: Kansas Facility Listing
Facility Name
USP Leavenworth
County—Leavenworth

PRIMARY MEDICAL CARE: Kentucky County Listing
County Name
*Adair
*Allen
*Anderson
Population Group: Low Inc—Anderson
*Ballard
*Bath
Population Group: Low Inc—Bath
*Bell
Service Area: Western Harlan
Service Area: Williamsburg/Saxton
Boyd
Population Group: Low Inc—Boyd Co
*Bracken
*Breathitt
*Breckinridge
Population Group: Low Inc—Breckinridge Co
Bullitt
*Butler
Campbell
Population Group: Low Inc—Inner City Newport
*Carroll
Carter
*Casey
*Clay (g)
Facility: FCI Manchester
*Crittenden
*Cumberland
Population Group: Low Inc—Cumberland Co
Daviess
Population Group: Low Inc—Daviess
*Edmonson
*Elliott
*Estill
Population Group: Low Inc—Estill
Fayette
Population Group: Low Inc—N Central Lexington
*Fleming
*Floyd
Population Group: Low Inc—Mud Creek
*Gallatin
*Garrard
*Grayson
Population Group: Low Inc—Grayson Co
*Green
Population Group: Low Inc—Green Co
Greenup
Population Group: Low Inc—Greenup Co
*Hancock
*Harlan
Service Area: Cumberland
Service Area: Upper Clover
Service Area: Western Harlan
Population Group: Med Ind—Harlan/Evarts/Grays Knob
Facility: Clover Fork Clinic
*Hart
*Henry
*Hickman
*Jackson
Jefferson
Population Group: Low Inc—West End Louisville
*Knott
*Knox
*Larue
Population Group: Low Inc—Larue
*Laurel
*Lawrence
Population Group: Low Inc—Lawrence Co
*Leslie
Population Group: Low Inc—Leslie Co
*Lewis
*Livingston
Population Group: Low Inc—Livingston
*Logan
Population Group: Med Ind—Logan Co
*Lyon
Facility: Ky. State Pen.
Madison
Population Group: Low Inc—Madison Co
*Magoffin
*Marion
Population Group: Low Inc—Marion
*Martin
Population Group: Low Inc—Martin Co
*McCreary
Population Group: Low Inc—Mccreary
*McLean
*Meade
*Menifee
*Morgan (g)
Facility: Eastern Ky. Corr. Complex
*Muhlenberg
*Nicholas
*Ohio
Oldham
Facility: Ky. State Ref.
*Owen
*Owsley
*Pendleton
*Perry
Service Area: Ary
Service Area: Buckhorn
Population Group: Low Inc—Hazard
*Powell
*Robertson
*Todd
*Trimble
*Union
Population Group: Low Inc—Union
*Wayne
Population Group: Med Ind—Wayne Co
*Webster
Population Group: Low Inc—Webster
*Whitley
Service Area: Williamsburg/Saxton
*Wolfe

PRIMARY MEDICAL CARE: Kentucky Service Area Listing
Service Area Name
Ary
County—Perry
Parts:
Dice Division
Buckhorn
County—Perry
Parts:
Buckhorn Division
Cumberland
County—Harlan
Parts:
Cumberland Division
Upper Clover
County—Harlan
Parts:
Upper Clover Division
Western Harlan
County—Bell
Parts:
Tejay Division
County—Harlan
Parts:
Alva Division
Williamsburg/Saxton
County—Bell
Parts:
Pruden-Fonde Division
County—Whitley
Parts:
Pearl Division
Saxton Division
Siler Division
Williamsburg Division

PRIMARY MEDICAL CARE: Kentucky Population Group Listing
Population Group
Low Inc—Anderson
County—Anderson
Parts:
Low Income
Low Inc—Bath
County—Bath
Parts:
Low Income
Low Inc—Boyd Co
County—Boyd
Parts:
Low Income
Low Inc—Breckinridge Co
County—Breckinridge
Parts:
Low Income
Low Inc—Cumberland Co
County—Cumberland
Parts:
Low Income
Low Inc—Daviess
County—Daviess
Parts:
Low Income
Low Inc—Estill
County—Estill
Parts:
Low Income
Low Inc—Grayson Co
County—Grayson
Parts:
Low Income
Low Inc—Green Co
County—Green
Parts:
Low Income
Low Inc—Greenup Co
County—Greenup
Parts:
Low Income
Low Inc—Hazard
County—Perry
Parts:
Defiance-Vigor CCD
Hazard CCD
Krypton CCD
Viper CCD
Low Inc—Inner City Newport
County—Campbell
Parts:
C.T. 501-506
Low Inc—Larue
County—Larue
Parts:
Low Income
Low Inc—Lawrence Co
County—Lawrence
Parts:
Low Income
Low Inc—Leslie Co
County—Leslie
Parts:
Low Income
Low Inc—Livingston
County—Livingston
Low Inc—Madison Co
County—Madison
Parts:
Low Income
Low Inc—Marion
County—Marion
Parts:
Low Income
Low Inc—Martin Co
County—Martin
Parts:
Low Income
Low Inc—Mccreary
County—McCreary
Parts:
Low Income
Low Inc—Mud Creek
County—Floyd
Parts:
McDowell CCD
Mud Creek CCD
Wheelwr-Weeksbury CCD
Low Inc—N Central Lexington
County—Fayette
Parts:
C.T. 1-5
C.T. 8-14
C.T. 18-19
C.T. 38.01
Low Inc—Union
County—Union
Parts:
Low Income
Low Inc—Webster
County—Webster
Parts:
Low-Income
Low Inc—West End Louisville
County—Jefferson
Parts:
C.T. 1-18
C.T. 20-24
C.T. 27-28
C.T. 30
C.T. 34-35
Med Ind—Harlan/Evarts/Grays Knob
County—Harlan
Parts:
Cawood Div
Harlan Div
Poor Fork Div
Wallins Creek Div
Med Ind—Logan Co
County—Logan
Parts:
Medically Indigent
Med Ind—Wayne Co
County—Wayne
Parts:
Medically Indigent

PRIMARY MEDICAL CARE: Kentucky Facility Listing
Facility Name
Clover Fork Clinic
County—Harlan
Eastern Ky. Corr. Complex
County—Morgan
FCI Manchester
County—Clay
Ky. State Pen.
County—Lyon
Ky. State Ref.
County—Oldham

PRIMARY MEDICAL CARE: Louisiana Parish Listing
Parish Name
Acadia
Population Group: Low Inc—Acadia Co
*Allen (g)
Facility: FCI Oakdale
*Ascension
Service Area: Ascension/Northeast Iberville
Service Area: Donaldsonville
*Assumption
*Avoyelles
*Bienville
Caddo
Service Area: North Caddo
Population Group: Low Inc—Central Shreveport
Facility: David Raines CHC (C.T. 246)
Calcasieu
Service Area: Dequincy
Service Area: North Lake Charles
Service Area: Vinton
Facility: Moss Reg Med Ctr Outpt Clinic
*Caldwell
*Cameron
*Catahoula
*Claiborne
Population Group: Low Income—Claiborne Par
*De Soto
East Baton Rouge
Service Area: Eden Park
Service Area: NW Baton Rouge
*East Carroll
*East Feliciana
*Franklin
*Iberia
Population Group: Medicaid—Iberia Par
*Iberville
Service Area: Ascension/Northeast Iberville
Population Group: Low Inc—Iberville Par
*Jackson
Jefferson
*Jefferson Davis
Service Area: Lafitte
Service Area: Old Kenner/River Town
Population Group: Low Inc—Jefferson Davis Par
Lafourche
Service Area: S E Lafourche
*Lasalle
*Lincoln
Livingston
Service Area: Livingston Service Area
*Madison
*Natchitoches
Population Group: Medicaid—Natchitoches Co
Orleans
Service Area: Algiers/Fischer
Service Area: Desire/Florida
Service Area: Lower 9Th Ward
Population Group: Low Inc—Irish Channel
Population Group: Low Income—Gentilly Woods
Plaquemines
Service Area: Plaquemines East
Service Area: Plaquemines West
*Pointe Coupee
*Richland
Population Group: Low Inc—Richland Par
*Sabine
*St Helena
St James
Service Area: Vacherie
St John The Baptist
Service Area: Vacherie
St Landry
Population Group: Low Inc—St. Landry Parish
St Martin
*St Mary
Population Group: Low Inc—St. Mary Par
*Tangipahoa
Service Area: Northern Tangipahoa
Facility: Lallie Kemp Hosp. Outpatient Unit
*Tensas
Terrebonne
Service Area: Dulac
Facility: Leonard J. Chabert Medical Center
*Union
*Vermilion
*Vernon
*West Carroll
*West Feliciana
Population Group: Low Inc—W Feliciana Parish
*Winn

PRIMARY MEDICAL CARE: Louisiana Service Area Listing
Service Area Name
Algiers/Fischer
Parish—Orleans
Parts:
C.T. 1-4
C.T. 6.01-6.05
C.T. 6.13
Ascension/Northeast Iberville
Parish—Ascension
Parts:
District 3
District 4-a
District 4-b
District 5
District 6-a
District 6-b
District 7-a
District 7-b
Parish—Ascension
Parish—Iberville
Parts:
District 3
District 4
Dequincy
Parish—Calcasieu
Parts:
C.T. 24
Desire/Florida
Parish—Orleans
Parts:
C.T. 11
C.T. 11.99-12.00
C.T. 13.01-13.04
C.T. 14.01-14.02
C.T. 15-16
C.T. 17.03
C.T. 17.06
C.T. 17.98
Donaldsonville
Parish—Ascension
Parts:
C.T. 308-310
Dulac
Parish—Terrebonne
Parts:
District I
District G
District H
Eden Park
Parish—East Baton Rouge
Parts:
C.T. 8-10
C.T. 12-16
C.T. 21-22
C.T. 24-25
Lafitte
Parish—Jefferson
Parts:
C.T. 277.02
C.T. 278.09
C.T. 279
C.T. 279.99
Livingston Service Area
Parish—Livingston
Parts:
District 8
District 7
District 6
District 1
District 9
Lower 9Th Ward
Parish—Orleans
Parts:
C.T. 7.01-7.02
C.T. 8
C.T. 9.01-9.04
North Caddo
Parish—Caddo
Parts:
C.T. 248-250
C.T. 251.98
North Lake Charles
Parish—Calcasieu
Parts:
C.T. 2-4
C.T. 14-15
Northern Tangipahoa
Parish—Tangipahoa
Parts:
C.T. 9532-9536
NW Baton Rouge
Parish—East Baton Rouge
Parts:
C.T. 1-5
C.T. 6.01-6.02
C.T. 7.01-7.02
C.T. 11.02-11.04
C.T. 30.01-30.02
C.T. 31.01-31.02
C.T. 33-34
Old Kenner/River Town
Parish—Jefferson
Parts:
C.T. 205.05
C.T. 206-210
C.T. 236-237
Plaquemines East
Parish—Plaquemines
Parts:
District 1
Plaquemines West
Parish—Plaquemines
Parts:
District 5
District 6
District 7
District 8
District 9
S E Lafourche
Parish—Lafourche
Parts:
District 11
District 8
District 9
District 10
District 12
District 13
District 14
District 15
Vacherie
Parish—St James
Parts:
District 7
District 5
District 6
Parish—St John The Baptist
Parts:
District 1
Vinton
Parish—Calcasieu
Parts:
C.T. 35-36

PRIMARY MEDICAL CARE: Louisiana Population Group Listing
Population Group
Low Inc—Acadia Co
Parish—Acadia
Parts:
Low Income
Low Inc—Central Shreveport
Parish—Caddo
Parts:
C.T. 201-202
C.T. 204-213
C.T. 217-225
C.T. 232-233
Low Inc—Iberville Par
Parish—Iberville
Parts:
Dist. 7
Dist. 6
Dist. 2
Dist. 12
Dist. 11
Dist. 10
Dist. 9
Dist. 8
Dist. 1
Low Inc—Irish Channel
Parish—Orleans
Parts:
C.T. 77-80
C.T. 81.01-81.02
C.T. 82-89
Low Inc—Jefferson Davis Par
Parish—Jefferson Davis
Parts:
Low Income
Low Inc—Richland Par
Parish—Richland
Parts:
Low Income
Low Inc—St. Landry Parish
Parish—St Landry
Parts:
Low Income
Low Inc—St. Mary Par
Parish—St Mary
Parts:
Low Income
Low Inc—W Feliciana Parish
Parish—West Feliciana
Parts:
Low Income
Low Income—Claiborne Par
Parish—Claiborne
Parts:
Low Income
Low Income—Gentilly Woods
Parish—Orleans
Parts:
C.T. 17.02
Medicaid—Iberia Par
Parish—Iberia
Parts:
Medicaid Eligible
Medicaid—Natchitoches Co
Parish—Natchitoches
Parts:
Medicaid Eligible

PRIMARY MEDICAL CARE: Louisiana Facility Listing
Facility Name
David Raines CHC (C.T. 246)
Parish—Caddo
FCI Oakdale
Parish—Allen
Lallie Kemp Hosp. Outpatient Unit
Parish—Tangipahoa
Leonard J. Chabert Medical Center
Parish—Terrebonne
Moss Reg Med Ctr Outpt Clinic
Parish—Calcasieu

PRIMARY MEDICAL CARE: Maine County Listing
County Name
Androscoggin
Service Area: Jay/Livermore Falls
*Aroostook
Service Area: Ashland PCAA
Service Area: Danforth
Service Area: St. Francis
Service Area: Van Buren
Population Group: Low Inc—Houlton PCAA
Population Group: Low Inc—Island Falls
Population Group: Low Inc—Mars Hill PCAA
Population Group: Low Inc—Ft. Kent
Population Group: Low Inc—Lincoln
Cumberland
Service Area: Casco Bay Islands
Service Area: Sacopee Valley Region
Population Group: Homeless—Portland
*Franklin
Service Area: Jay/Livermore Falls
Service Area: Rangeley
Population Group: Low Inc—Rumford
Population Group: Low Inc—Kingfield PCAA
*Kennebec
Service Area: Jay/Livermore Falls
Population Group: Low Inc—Richmond PCAA
*Knox
Population Group: Low Inc—Penobscot Bay Islands
Facility: Me State Prison/Me Corr Inst—Thomaston
*Lincoln
Population Group: Low Inc—Richmond PCAA
Population Group: Low Inc—Damariscotta
*Oxford
Service Area: Bethel
Service Area: Jay/Livermore Falls
Service Area: Rangeley
Service Area: Sacopee Valley Region
Population Group: Low Inc—Rumford
Penobscot
Service Area: Corinth
Service Area: Danforth
Service Area: Howland
Population Group: Low Inc—Millinocket PCAA 44
Population Group: Low Inc—Island Falls
Population Group: Low Inc—Dexter
Population Group: Low Inc—Lincoln
Population Group: Penobscot Nat Amer Tribe
*Piscataquis
Service Area: Bingham
Population Group: Low Inc—Millinocket PCAA 44
Population Group: Low Inc—Greenville PCAA
Population Group: Low Inc—Milo PCAA
*Sagadahoc
Population Group: Low Inc—Richmond PCAA
*Somerset
Service Area: Bingham
Service Area: Jackman
Population Group: Low Inc—Greenville PCAA
Population Group: Low Inc—Dexter
*Washington
Service Area: Danforth
Service Area: Eastport
Service Area: Jonesport
Service Area: Topsfield
Population Group: Low Inc—Lubec
Population Group: Low Inc—Machias
Population Group: Low Income—Milbridge
Population Group: Med Ind—Calais
York
Service Area: Sacopee Valley Region

PRIMARY MEDICAL CARE: Maine Service Area Listing
Service Area Name
Ashland PCAA
County—Aroostook
Parts:
Ashland Town
Garfield Plantation
Masardis Town
Nashville Plantation
Oxbow Plantation
Portage Lake Town
Bethel
County—Oxford
Parts:
Bethel Town
Gilead Town
Greenwood Town
Newry Town
North Oxford Unorg.
Upton Town
Woodstock Town
Bingham
County—Piscataquis
Parts:
Kingsbury Plantation
County—Somerset
Parts:
Bingham Town
Brighton Plantation
Caratunk Town
Moscow Town
Northeast Somerset Unorg.
Pleasant Ridge Plantation
Solon Town
The Forks Plantation
West Forks Plantation
Casco Bay Islands
County—Cumberland
Parts:
Cliff Is.
Cushing Is.
Great Chebeague Is.
Great Diamond Is.
Little Chebeague Is.
Little Diamond Is.
Long Is.
Peak's Is.
Corinth
County—Penobscot
Parts:
Bradford Town
Charleston Town
Corinth Town
Exeter Town
Hudson Town
Danforth
County—Aroostook
Parts:
Bancroft Town
Orient Town
Weston Town
County—Penobscot
Parts:
Drew Plantation
Kingman Unorg.
Prentiss Plantation
County—Washington
Parts:
Danforth Town
Eastport
County—Washington
Parts:
Eastport City
Passamaquoddy Pleasant Point Res
Pembroke Town
Perry Town
Howland
County—Penobscot
Parts:
Burlington Town
East Central Penobscot Unorg.
Edinburg Town
Enfield Town
Howland Town
Lagrange Town
Lowell Town
Maxfield Town
Passadumkeag Town
Seboeis Plantation
Jackman
County—Somerset
Parts:
Dennistown Plantation
Jackman Town
Moose River Town
Jay/Livermore Falls
County—Androscoggin
Parts:
Livermore Falls Town
Livermore Town
County—Franklin
Parts:
Jay Town
County—Kennebec
Parts:
Fayette Town
County—Oxford
Parts:
Canton Town
Hartford Town
Sumner Town
Jonesport
County—Washington
Parts:
Addison Town
Beals Town
Centerville Town
Columbia Falls Town
Jonesboro Town
Jonesport Town
Rangeley
County—Franklin
Parts:
Coplin Plantation
Dallas Plantation
Eustis Town
Madrid Town
North Franklin Unorg.
Rangeley Plantation
Rangeley Town
Sandy River Plantation
County—Oxford
Parts:
Lincoln Plantation
Magalloway Plantation
North Oxford Unorg.
Sacopee Valley Region
County—Cumberland
Parts:
Baldwin Town
County—Oxford
Parts:
Hiram Town
Porter Town
County—York
Parts:
Cornish Town
Limerick Town
Parsonsfield Town
St. Francis
County—Aroostook
Parts:
Allagash Town
St. Francis Town
St. John Plantation
Topsfield
County—Washington
Parts:
Codyville Plantation
Grand Lake Stream Plantation
North Washington Unorg.
Passamaquoddy Indian Township Re
Talmadge Town
Topsfield Town
Vanceboro Town
Waite Town
Van Buren
County—Aroostook
Parts:
Grand Isle Town
Hamlin Town
Van Buren Town

PRIMARY MEDICAL CARE: Maine Population Group Listing
Population Group
Homeless—Portland
County—Cumberland
Parts:
C.T. 1-13
Low Inc—Damariscotta
County—Lincoln
Parts:
Alna Town
Boothbay Town
Boothbay Harbor Town
Bremen Town
Bristol Town
Damariscotta Town
Edgecombe Town
Jefferson Town
Monhegan Plantation
Newcastle Town
Nobleboro Town
South Bristol Town
Southport Town
Waldoboro Town
Low Inc—Dexter
County—Penobscot
Parts:
Corinna Town
Dexter Town
Garland Town
County—Somerset
Parts:
Cambridge Town
Ripley Town
Low Inc—Ft. Kent
County—Aroostook
Parts:
Eagle Lake Town
Fort Kent Town
Frenchville Town
Madawaska Town
New Canada Town
St. Agatha Town
Wallagras Plt.
Winterville Plt.
Low Inc—Greenville PCAA
County—Piscataquis
Parts:
Beaver Cove Town
Blanchard Plantation
Greenvilletown
Monsontown
NE Piscataquis (Sw 1/3)
NW Piscataquis
Shirleytown
Willimantic Town
County—Somerset
Parts:
NE Somerset (North 2/3)
Seboomook Lake Town
Low Inc—Houlton PCAA
County—Aroostook
Parts:
Amity Town
Cary Plantation
Cental Aroostook Unorg.
Glenwood Plantation
Hammond Plantation
Haynesville Town
Hodgdon Town
Houlton Town
Linneus Town
Littleton Town
Ludlow Town
Merrill Town
Monticello Town
New Limerick Town
Oakfield Town
Reed Plantation
Smyrna Town
Low Inc—Island Falls
County—Aroostook
Parts:
Crystal Town
Dyer Brook Town
Hersey Town
Island Falls
Moro Plantation
S. Aroostook Un. (N 2/3)
Sherman Town
County—Penobscot
Parts:
Mt. Chase Town
N. Penobscot Un. (N 1/3)
Pattentown
Stacyville Town
Low Inc—Kingfield PCAA
County—Franklin
Parts:
Carrabassett Valley Town
E C Franklin Unorg. Terr
Kingfield Town
Phillips Town
Wyman Unorg. Terr
Low Inc—Lincoln
County—Aroostook
Parts:
Macwahoc Plt
South Aroostook Unorg
County—Penobscot
Parts:
Carroll Plt
Chester Town
Lakeville Towm
Lee Town
Lincoln Town
Mattawamkeag Town
Springfield Town
Twombley Unorg
Webster Plt
Winn Town
Woodville Town
Low Inc—Lubec
County—Washington
Parts:
Dennysville Town
East Central Wash.Unorg.
Lubec Town
Whiting Town
Low Inc—Machias
County—Washington
Parts:
Cutler Town
East Machias Town
Machias Town
Machiasport Town
Marshfield Town
Northfield Town
Roque Bluffs Town
Wesley Town
Whitneyville Town
Low Inc—Mars Hill PCAA
County—Aroostook
Parts:
Blaine Town
Bridgewater Town
E. Plantation
Mars Hill Town
Westfield Town
Low Inc—Millinocket PCAA 44
County—Penobscot
Parts:
East Millinocket Town
Medway Town
Millinocket Town
N Penobscot (S 2/3)
County—Piscataquis
Parts:
NE Piscataquis (N 1/3)
Low Inc—Milo PCAA
County—Piscataquis
Parts:
Atkinson Town
Brownville Town
Lake View Plantation
Medford Town
Milo Town
NE Piscataquis (Se 1/3)
Sebec Town
SE Piscataquis Unorg
Low Inc—Penobscot Bay Islands
County—Knox
Parts:
Matinicus Isle Plt
North Haven Town
Vinalhaven Town
Low Inc—Richmond PCAA
County—Kennebec
Parts:
Litchfield
County—Lincoln
Parts:
Dresden
County—Sagadahoc
Parts:
Bowdoinham
Richmond
Low Inc—Rumford
County—Franklin
Parts:
Carthage Town
Weld Town
County—Oxford
Parts:
Andover Town
Byron Town
Dixfield Town
Hanover Town
Mexico Town
Milton Town
Peru Town
Roxbury Town
Rumford Town
Low Income—Milbridge
County—Washington
Parts:
Beddington Town
Cherryfield Town
Columbia Town
Deblois Town
Harrington Town
Milbridge Town
Steuben Town
Med Ind—Calais
County—Washington
Parts:
Alexander Town
Baileyville Town
Baring Town
Calais City
Charlotte Town
Cooper Town
Crawford Town
Meddybemps Town
Plantation #21
Princeton Town
Robbinston Town
Penobscot Nat Amer Tribe
County—Penobscot
Parts:
Old Town City

PRIMARY MEDICAL CARE: Maine Facility Listing
Facility Name
Me State Prison/Me Corr Inst—Thomaston
County—Knox

PRIMARY MEDICAL CARE: Maryland County Listing
County Name
Allegany
Service Area: George's Creek
Service Area: Hancock (MD/PA)
Facility: FCI Cumberland
Baltimore
Baltimore City (Indep)
Service Area: Middle River
Population Group: Low Inc—W. Central Baltimore
Population Group: Low Inc—Belair Road/Brehm's Lane
Population Group: Low Inc—Park West
Population Group: Medicaid—South Baltimore City
Facility: Healthcare For The Homeless
*Caroline
Cecil
*Dorchester
*Kent
Population Group: Low Income-Kent Co
Montgomery
Population Group: Low Inc—S Central Montgomery Co
Population Group: Low Inc—Langley Park
Facility: Projecto Salud Facility
Prince Georges
Population Group: Low Inc—Langley Park
Queen Annes
*Somerset
Population Group: Low-Income Somerset Co
Facility: Eastern Corr Inst
Washington
Service Area: Hancock (MD/PA)
Population Group: Low Inc—Hagerstown
*Wicomico
Population Group: Low Income—Wicomico Co
*Worcester
Population Group: Low Inc—Worcester County

PRIMARY MEDICAL CARE: Maryland Service Area Listing
Service Area Name
George's Creek
County—Allegany
Parts:
C.T. 13.01
C.T. 14.01
C.T. 15.01-15.03
C.T. 16.01
C.T. 17.01
C.T. 18
C.T. 19.01
C.T. 20.01
C.T. 21-22
Hancock (MD/PA)
County—Allegany
Parts:
District 1, Orleans
County—Washington
Parts:
District 15, Indian Spring
District 4, Clear Spring
District 5, Hancock
Middle River
County—Baltimore
Parts:
C.T. 4507
C.T. 4508.01-4508.02
C.T. 4513-4516

PRIMARY MEDICAL CARE: Maryland Population Group Listing
Population Group
Low Inc—Belair Road/Brehm's Lane
County—Baltimore City (Indep)
Parts:
C.T. 801.01-801.02
C.T. 2601.02
C.T. 2602.01-2602.03
C.T. 2603.01-2603.03
C.T. 2604.02
C.T. 2604.98
C.T. 2701.01
Low Inc—Hagerstown
County—Washington
Parts:
C.T. 3.02
C.T. 4-5
C.T. 6.01-6.02
C.T. 7-9
Low Inc—Langley Park
County—Montgomery
Parts:
C.T. 7019-7020
County—Prince Georges
Parts:
C.T. 8056-8057
Low Inc—Park West
County—Baltimore City (Indep)
Parts:
C.T. 1512-1513
C.T. 2716-2717
C.T. 2718.01-2718.02
C.T. 2801.01
Low Inc—S Central Montgomery Co
County—Montgomery
Parts:
C.T. 7034.04
Low Inc—W. Central Baltimore
County—Baltimore City (Indep)
Parts:
C.T. 1102
C.T. 1207
C.T. 1301-1305
C.T. 1401-1403
C.T. 1501-1506
C.T. 1507.01-1507.02
C.T. 1508.01-1508.02
C.T. 1509-1511
C.T. 1601-1607
C.T. 1608.01-1608.02
C.T. 1701-1703
C.T. 2801.02
C.T. 2802
C.T. 2803.01-2803.02
Low Inc—Worcester County
County—Worcester
Parts:
Low Income
Low Income—Wicomico Co
County—Wicomico
Parts:
Low Income
Low Income-Kent Co
County—Kent
Parts:
Low Income
Low-Income Somerset Co
County—Somerset
Parts:
Low Income
Medicaid—South Baltimore City
County—Baltimore City (Indep)
Parts:
C.T. 2101.01
C.T. 2102.01
C.T. 2301-2303
C.T. 2401
C.T. 2404
C.T. 2502.03-2502.05
C.T. 2502.07
C.T. 2503.01-2503.03
C.T. 2504.01-2504.02
C.T. 2505-2506

PRIMARY MEDICAL CARE: Maryland Facility Listing
Facility Name
Eastern Corr Inst
County—Somerset
FCI Cumberland
County—Allegany
Healthcare For The Homeless
County—Baltimore City (Indep)
Projecto Salud Facility
County—Montgomery

PRIMARY MEDICAL CARE: Massachusetts County Listing
County Name
Barnstable
Population Group: Homeless—Hyannis
Bristol
Population Group: Low Inc—C Fall River
Population Group: Low Inc—C New Bedford
Essex
Service Area: North Lawrence
Service Area: South Lynn
Population Group: Med Elig—Salem/East Peabody
Hampden
Service Area: Gateway Regional Dist
Population Group: Low Inc—Springfield
Population Group: Low Inc Of Holyoke
Hampshire
Service Area: Gateway Regional Dist
Service Area: Hampshire Regional Dist
Middlesex
Service Area: Community Health Network Area #16
Facility: McI—Concord
Plymouth
Service Area: Hull
Suffolk
Service Area: Community Health Network Area #16
Service Area: Roxbury
Service Area: SW Dorchester
Population Group: Hmlss—Boston
Population Group: Low Inc—Brighton/Allston
Worcester
Population Group: Low Inc—Worcester

PRIMARY MEDICAL CARE: Massachusetts Service Area Listing
Service Area Name
Community Health Network Area #16
County—Middlesex
Parts:
Everett City
Malden City
County—Suffolk
Parts:
Chelsea City
Revere City
Winthrop Town
Gateway Regional Dist
County—Hampden
Parts:
Blandford Town
Chester Town
Montgomery Town
Russell Town
County—Hampshire
Parts:
Huntington Town
Middlefield Town
Worthington Town
Hampshire Regional Dist
County—Hampshire
Parts:
Chesterfield Town
Cummington Town
Goshen Town
Plainfield Town
Hull
County—Plymouth
Parts:
Hull Town
North Lawrence
County—Essex
Parts:
C.T. 2501-2517
Roxbury
County—Suffolk
Parts:
C.T. 801-809
C.T. 811-821
South Lynn
County—Essex
Parts:
C.T. 2055-2065
C.T. 2068-2072
SW Dorchester
County—Suffolk
Parts:
C.T. 923-924
C.T. 1001-1005
C.T. 1010.01-1010.02
C.T. 1011.01-1011.02
C.T. 1101.01

PRIMARY MEDICAL CARE: Massachusetts Population Group Listing
Population Group
Hmlss—Boston
County—Suffolk
Parts:
Long Is Shelter/Ct 1501
Pc Clinic/Bc Hosp/Ct 710
Pine Street Inn/Ct 712
Shattuck Ctr/Ct 1101.02
St. Francis Hse/Ct 1206
Homeless—Hyannis
County—Barnstable
Parts:
Ct 012400
Ct 012600
Low Inc—Brighton/Allston
County—Suffolk
Parts:
C.T. 1
C.T. 2.01-2.02
C.T. 3
C.T. 4.01-4.02
C.T. 5.01-5.02
C.T. 6.01-6.02
C.T. 7.01-7.02
C.T. 8.01-8.02
Low Inc—C Fall River
County—Bristol
Parts:
C.T. 6408-6414
C.T. 6419-6420
Low Inc—C New Bedford
County—Bristol
Parts:
C.T. 6504-6509
C.T. 6510.02
C.T. 6511-6518
C.T. 6518.99-6519.00
C.T. 6520-6527
Low Inc—Springfield
County—Hampden
Parts:
C.T. 8001
C.T. 8002.01-8002.02
C.T. 8003-8010
C.T. 8011.01-8011.02
C.T. 8012-8013
C.T. 8014.01-8014.02
C.T. 8015.01-8015.03
C.T. 8016.01-8016.05
C.T. 8017-8025
C.T. 8026.01-8026.02
Low Inc—Worcester
County—Worcester
Parts:
C.T. 7301-7303
C.T. 7304.01-7304.02
C.T. 7305-7307
C.T. 7308.01-7308.02
C.T. 7309.01-7309.02
C.T. 7310
C.T. 7311.01-7311.02
C.T. 7312.01-7312.02
C.T. 7313-7319
C.T. 7320.01-7320.02
C.T. 7321
C.T. 7322.01-7322.03
C.T. 7323-7328
C.T. 7329.01-7329.02
C.T. 7330
C.T. 7331.01-7331.02
Low Inc Of Holyoke
County—Hampden
Parts:
C.T. 8114-8118
C.T. 8120
Med Elig—Salem/East Peabody
County—Essex
Parts:
C.T. 2042-2043
C.T. 2045-2046
C.T. 2107-2108

PRIMARY MEDICAL CARE: Massachusetts Facility Listing
Facility Name
McI—Concord
County—Middlesex

PRIMARY MEDICAL CARE: Michigan County Listing
County Name
*Alcona
*Alger
Population Group: Low Inc—Alger Co
Facility: Alger Max Fac
Allegan
Service Area: Allegan
Population Group: Low Inc—South Haven/Bangor
*Alpena
Population Group: Low Inc—Alpena Co
*Antrim
Service Area: Mancelona
Population Group: Low Inc—East Jordan
*Arenac
Service Area: Sterling/Standish
Bay
Service Area: Sterling/Standish
*Benzie
Berrien
Population Group: Low Inc—North Berrien Co
*Branch
Population Group: Low Inc—Branch Co
Facility: Crane Women's Fac
Calhoun
Population Group: Low Inc—Calhoun Co
*Cass
Service Area: Dowagiac
*Charlevoix
Service Area: Beaver Island
Population Group: Low Inc—East Jordan
*Cheboygan
Population Group: Low Inc—Cheboygan Co
*Chippewa
Population Group: Low Inc—Chippewa Co
Facility: Chippewa Cty Corr Inst
*Clare
*Crawford
Population Group: Low Inc—Crawford Co
*Delta
Population Group: Low Inc—Delta Co
*Dickinson
Population Group: Low Inc—Dickinson Co
*Emmet
Population Group: Little Traverse Bay Band Of Odawa Indian
Genesee
Service Area: Otter Lake
Population Group: Low Inc—Flint
*Gladwin
Population Group: Low Inc—Gladwin Co
*Gogebic
Population Group: Low Inc—Ewen
Population Group: Low Inc—Ironwood/Hurley (MI/WI)
*Grand Traverse
Population Group: Low Inc—Cadillac/Buckley
*Gratiot
Population Group: Low Inc—Gratiot Co
Facility: Mid Michigan Temporary Fac
*Hillsdale
*Houghton
Population Group: Low Inc—Houghton Co
*Huron
Service Area: Pigeon
Service Area: Port Austin
Population Group: Low Inc—Harbor Beach/Bad Axe
*Ionia
Population Group: Low Inc/MFW—Ionia Co
Facility: Handlon Mi Training Unit
Facility: Ionia Maximum Fac
Facility: Ionia Temporary Fac
Facility: Michigan Ref
*Iosco
Population Group: Low Inc—Iosco Co
*Iron
Population Group: Low Inc—Iron Co
*Isabella
Population Group: Low Inc—Isabella Co
Jackson
Facility: Egeler Corr Fac
Facility: Jackson Cotton Facility
Facility: Reception And Guidance Ctr
Facility: State Prs S Michigan—S Complex
Facility: State Prs S Michigan—C Complex
Kalamazoo
Population Group: Huron Potawatomi, Inc.
Population Group: Low Inc—N Kalamazoo City
*Kalkaska
Kent
Population Group: Low Inc—Grand Rapids
Population Group: MSFW—N Kent Co
*Keweenaw
*Lake
Lapeer
Service Area: Marlette/Kingston
Service Area: Otter Lake
Facility: Thumb Regional Fac
*Leelanau
Service Area: Northport/Suttons Bay
*Lenawee
Service Area: Morenci
Facility: Gus Harrison Regional Fac
*Luce
Population Group: Low Inc—Luce Co
*Mackinac
Population Group: Low Inc—Mackinac Co
Macomb
Facility: Macomb Corr Fac
*Manistee
Population Group: Little River Band Of Ottawa Indians, Inc
*Marquette
Service Area: Gwinn
Service Area: Western Marquette
Facility: Marquette Branch Prs
*Mason
Population Group: Low Inc/MFW—Mason Co
*Mecosta
*Menominee
Population Group: Low Inc—E Marinette/S Menominee (MI/WI
Population Group: Low Inc—Northern Menominee
*Missaukee
Monroe
Service Area: Carleton
*Montcalm
Population Group: Low Inc—Montcalm Co
Facility: Carson City Regional Fac
*Montmorency
Muskegon
Population Group: Low Inc—Muskegon City
Population Group: Low Inc—Northern Muskegon Co
Facility: Brooks Regional Fac
Facility: Muskegon Corr Fac
Facility: Muskegon Temporary Fac
*Newaygo
Population Group: Low Inc—Newaygo Co
*Ogemaw
Population Group: Low Inc—Ogemaw Co
*Ontonagon
Population Group: Low Inc—Ewen
Population Group: Low Inc—North Ontonagon
*Osceola
*Oscoda
*Otsego
Population Group: Low Inc—Otsego Co
Ottawa
Population Group: MFW—Ottawa Co
*Presque Isle
*Roscommon
Saginaw
Population Group: Low Inc—Eastside Saginaw
Facility: Saginaw Corr Fac
Facility: Saginaw Cooperative Hosp Inc
*Sanilac
Service Area: Marlette/Kingston
Population Group: Low Inc—Deckerville/Sandusky
*Schoolcraft
Population Group: Low Inc—Schoolcraft Co
St Clair
Population Group: Low Inc—St Clair Co
*St Joseph
Population Group: Low Inc—St. Joseph Co
*Tuscola
Service Area: Marlette/Kingston
Service Area: Otter Lake
Service Area: Pigeon
Population Group: Low Inc—Caro/Cass City
Van Buren
Service Area: Dowagiac
Population Group: Low Inc—South Haven/Bangor
Wayne
Service Area: Airport/Conner (N.E. Detroit)
Service Area: Chene (S. Central Detroit)
Service Area: Eastside Detroit
Service Area: Highland Park
Service Area: Inkster
Service Area: Mackenzie/Brooks
Service Area: Nolan/State Fair/Davison/Pershing
Service Area: Southwest Detroit
Service Area: Tireman/Chadsey
Population Group: Low Inc—Hamtramck
Facility: Michigan Hospital & Medical Centers
Facility: Ryan Regional Fac
*Wexford
Population Group: Low Inc—Cadillac/Buckley

PRIMARY MEDICAL CARE: Michigan Service Area Listing
Service Area Name
Airport/Conner (N.E. Detroit)
County—Wayne
Parts:
C.T. 5037
C.T. 5039-5048
C.T. 5052-5053
C.T. 5107-5109
Allegan
County—Allegan
Parts:
Allegan City
Allegan Township
Cheshire Township
Clyde Township
Dorr Township
Hopkins Township
Lee Township
Leighton Township
Martin Township
Monterey Township
Salem Township
Trowbridge Township
Valley Township
Watson Township
Wayland Township
Wayland City
Beaver Island
County—Charlevoix
Parts:
Peaine Township
St. James Township
Carleton
County—Monroe
Parts:
Ash Township
Exeter Township
London Township
Chene (S. Central Detroit)
County—Wayne
Parts:
C.T. 5111
C.T. 5161-5162
C.T. 5177-5179
C.T. 5183-5188
Dowagiac
County—Cass
Parts:
Dowagiac City
La Grange Township
Marcellus Township
Penn Township
Pokagon Township
Silver Creek Township
Volinia Township
Wayne Township
County—Van Buren
Parts:
Decatur Township
Hamilton Township
Hartford City
Hartford Township
Keeler Township
Porter Township
Eastside Detroit
County—Wayne
Parts:
C.T. 5121-5124
C.T. 5126
C.T. 5129
C.T. 5132-5136
C.T. 5139-5143
C.T. 5145-5157
Gwinn
County—Marquette
Parts:
Ewing Township
Forsyth Township
Turin Township
Wells Township
Highland Park
County—Wayne
Parts:
C.T. 5530-5537
Inkster
County—Wayne
Parts:
C.T. 5701-5710
Mackenzie/Brooks
County—Wayne
Parts:
C.T. 5341-5344
C.T. 5347
C.T. 5350-5355
C.T. 5363-5368
C.T. 5370-5373
C.T. 5378
C.T. 5451-5454
Mancelona
County—Antrim
Parts:
Chestonia Township
Custer Township
Helena Township
Kearney Township
Mancelona Township
Star Township
Marlette/Kingston
County—Lapeer
Parts:
Burlington Township
County—Sanilac
Parts:
Lamotte Township
Marlette City
Marlette Township
County—Tuscola
Parts:
Dayton Township
Fremont Township
Kingston Township
Koylton Township
Morenci
County—Lenawee
Parts:
Fairfield Township
Medina Township
Morenci City
Ogden Township
Riga Township
Seneca Township
Nolan/State Fair/Davison/Pershing
County—Wayne
Parts:
C.T. 5064-5080
C.T. 5102-5106
Northport/Suttons Bay
County—Leelanau
Parts:
Leelanau Township
Leland Township
Suttons Bay Township
Otter Lake
County—Genesee
Parts:
Forest Township
County—Lapeer
Parts:
Deerfield Township
Marathon Township
North Branch Township
Rich Township
County—Tuscola
Parts:
Arbela Township
Millington Township
Watertown Township
Pigeon
County—Huron
Parts:
Brookfield Township
Caseville Township
Fairhaven Township
McKinley Township
Sebewaing Township
Winsor Township
County—Tuscola
Parts:
Columbia Township
Port Austin
County—Huron
Parts:
Dwight Township
Gore Township
Hume Township
Huron Township
Lake Township
Pointe Aux Barques Township
Port Austin Township
Southwest Detroit
County—Wayne
Parts:
C.T. 5208-5209
C.T. 5211-5214
C.T. 5231-5238
C.T. 5240-5243
C.T. 5245
C.T. 5247-5248
Sterling/Standish
County—Arenac
County—Bay
Parts:
Gibson Township
Mount Forest Township
Pinconning City
Pinconning Township
Tireman/Chadsey
County—Wayne
Parts:
C.T. 5221-5222
C.T. 5251-5258
C.T. 5260-5265
C.T. 5335-5337
C.T. 5345-5346
Western Marquette
County—Marquette
Parts:
Champion Township
Humboldt Township
Michigamme Township
Republic Township

PRIMARY MEDICAL CARE: Michigan Population Group Listing
Population Group
Huron Potawatomi, Inc.
County—Kalamazoo
Parts:
Wakeshma Twp
Little River Band Of Ottawa Indians, Inc
County—Manistee
Parts:
American Indians
Little Traverse Bay Band Of Odawa Indian
County—Emmet
Parts:
American Indians
Low Inc—Alger Co
County—Alger
Parts:
Low Income
Low Inc—Alpena Co
County—Alpena
Parts:
Low Income
Low Inc—Branch Co
County—Branch
Parts:
Low Income
Low Inc—Cadillac/Buckley
County—Grand Traverse
Parts:
Fife Lake Twp
Grant Twp
Mayfield Twp
Paradise Twp
County—Wexford
Parts:
Low Income
Low Inc—Calhoun Co
County—Calhoun
Parts:
Low Income
Low Inc—Caro/Cass City
County—Tuscola
Parts:
Almer Twp
Elkland Twp
Ellington Twp
Elmwood Twp
Indianfields Twp
Novesta Twp
Wells Twp
Low Inc—Cheboygan Co
County—Cheboygan
Parts:
Low Income
Low Inc—Chippewa Co
County—Chippewa
Parts:
Low Income
Low Inc—Crawford Co
County—Crawford
Parts:
Low Income
Low Inc—Deckerville/Sandusky
County—Sanilac
Parts:
Argyle Twp
Austin Twp
Bridgehampton Twp
Custer Twp
Delaware Twp
Elmer Twp
Evergreen Twp
Forester Twp
Greenleaf Twp
Marion Twp
Minden Twp
Moore Twp
Sandusky City
Sanilac Twp
Watertown Twp
Wheatland Twp
Low Inc—Delta Co
County—Delta
Parts:
Low Income
Low Inc—Dickinson Co
County—Dickinson
Parts:
Low Income
Low Inc—E Marinette/S Menominee (MI/WI
County—Menominee
Parts:
Ingallston Twp
Mellen Twp
Menominee Twp
Menominee City
Low Inc—East Jordan
County—Antrim
Parts:
Banks Twp
Central Lake Twp
Echo Twp
Forest Home Twp
Jordan Twp
Torch Lake Twp
Warner Twp
County—Charlevoix
Parts:
Boyne Valley Twp
Boyne City City
Chandler Twp
East Jordan City
Evangeline Twp
Eveline Twp
Hudson Twp
Marion Twp
Melrose Twp
Norwood Twp
South Arm Twp
Wilson Twp
Low Inc—Eastside Saginaw
County—Saginaw
Parts:
C.T. 1-11
C.T. 110
Low Inc—Ewen
County—Gogebic
Parts:
Marenisco Twp
Watersmeet Twp
County—Ontonagon
Parts:
Bergland Twp
Haight Twp
Interior Twp
Matchwood Twp
McMillan Twp
Rockland Twp
Stannard Twp
Low Inc—Flint
County—Genesee
Parts:
C.T. 1-11
C.T. 14-15
C.T. 17-29
C.T. 32
C.T. 34
C.T. 37-38
C.T. 103.02
C.T. 103.04
Low Inc—Gladwin Co
County—Gladwin
Parts:
Low Income
Low Inc—Grand Rapids
County—Kent
Parts:
C.T. 4
C.T. 8-10
C.T. 11.01-11.02
C.T. 12-15
C.T. 19-31
C.T. 36-40
Low Inc—Gratiot Co
County—Gratiot
Parts:
Low Income
Low Inc—Hamtramck
County—Wayne
Parts:
C.T. 5520-5526
Low Inc—Harbor Beach/Bad Axe
County—Huron
Parts:
Bad Axe City
Bingham Twp
Bloomfield Twp
Chandler Twp
Colfax Twp
Grant Twp
Harbor Beach City
Lincoln Twp
Meade Twp
Oliver Twp
Paris Twp
Rubicon Twp
Sand Beach Twp
Sheridan Twp
Sherman Twp
Sigel Twp
Verona Twp
Low Inc—Houghton Co
County—Houghton
Parts:
Low Income
Low Inc—Iosco Co
County—Iosco
Parts:
Low Income
Low Inc—Iron Co
County—Iron
Parts:
Low Income
Low Inc—Ironwood/Hurley (MI/WI)
County—Gogebic
Parts:
Bessemer City
Bessemer Twp
Erwin Twp
Ironwood City
Ironwood Twp
Wakefield City
Wakefield Twp
Low Inc—Isabella Co
County—Isabella
Parts:
Low Income
Low Inc—Luce Co
County—Luce
Parts:
Low Income
Low Inc—Mackinac Co
County—Mackinac
Parts:
Low Income
Low Inc—Montcalm Co
County—Montcalm
Parts:
Low Income
Low Inc—Muskegon City
County—Muskegon
Parts:
C.T. 1-5
C.T. 6.01-6.02
C.T. 7
C.T. 7.99-8.00
C.T. 11-13
C.T. 14.01-14.02
C.T. 19.02
C.T. 21
C.T. 26.01
Low Inc—N Kalamazoo City
County—Kalamazoo
Parts:
C.T. 1
C.T. 2.01-2.02
C.T. 3
C.T. 4.02
C.T. 5-6
C.T. 8.01-8.02
C.T. 9-10
Low Inc—Newaygo Co
County—Newaygo
Parts:
Low Income
Low Inc—North Berrien Co
County—Berrien
Parts:
Bainbridge Twp
Benton Charter Twp
Benton Harbor City
Coloma City
Coloma Twp
Hagar Twp
Pipestone Twp
Sodus Twp
Watervliet Twp
Watervliet City
Low Inc—North Ontonagon
County—Ontonagon
Parts:
Bohemia Twp
Carp Lake Twp
Greenland Twp
Ontonagon Twp
Low Inc—Northern Menominee
County—Menominee
Parts:
Cedarville Twp
Daggett Twp
Faithorn Twp
Gourley Twp
Harris Twp
Holmes Twp
Lake Twp
Meyer Twp
Nadeau Twp
Spalding Twp
Stephenson City
Stephenson Twp
Low Inc—Northern Muskegon Co
County—Muskegon
Parts:
Blue Lake Twp
Cedar Creek Twp
Dalton Twp
Fruitland Twp
Holton Twp
Montague Twp
Montague City
White River Twp
Whitehall Twp
Whitehall City
Low Inc—Ogemaw Co
County—Ogemaw
Parts:
Low Income
Low Inc—Otsego Co
County—Otsego
Parts:
Low Income
Low Inc—Schoolcraft Co
County—Schoolcraft
Parts:
Low Income
Low Inc—South Haven/Bangor
County—Allegan
Parts:
Casco Twp
Ganges Twp
County—Van Buren
Parts:
Arlington Twp
Bangor City
Bangor Twp
Columbia Twp
Covert Twp
Geneva Twp
Lawrence Twp
South Haven City
South Haven Twp
Low Inc—St Clair Co
County—St Clair
Parts:
Low Income
Low Inc—St. Joseph Co
County—St Joseph
Parts:
Low Income
Low Inc/MFW—Ionia Co
County—Ionia
Parts:
Low Income
MFW
Low Inc/MFW—Mason Co
County—Mason
Parts:
Low Income
MFW
MFW—Ottawa Co
County—Ottawa
Parts:
MFW
MSFW—N Kent Co
County—Kent
Parts:
Algoma Twp
Cedar Springs City
Courtland Twp
Nelson Twp
Oakfield Twp
Rockford City
Solon Twp
Sparta Twp
Spencer Twp
Tyrone Twp

PRIMARY MEDICAL CARE: Michigan Facility Listing
Facility Name
Alger Max Fac
County—Alger
Brooks Regional Fac
County—Muskegon
Carson City Regional Fac
County—Montcalm
Chippewa Cty Corr Inst
County—Chippewa
Crane Women's Fac
County—Branch
Egeler Corr Fac
County—Jackson
Gus Harrison Regional Fac
County—Lenawee
Handlon Mi Training Unit
County—Ionia
Ionia Maximum Fac
County—Ionia
Ionia Temporary Fac
County—Ionia
Jackson Cotton Facility
County—Jackson
Macomb Corr Fac
County—Macomb
Marquette Branch Prs
County—Marquette
Michigan Hospital & Medical Centers
County—Wayne
Michigan Ref
County—Ionia
Mid Michigan Temporary Fac
County—Gratiot
Muskegon Corr Fac
County—Muskegon
Muskegon Temporary Fac
County—Muskegon
Reception And Guidance Ctr
County—Jackson
Ryan Regional Fac
County—Wayne
Saginaw Cooperative Hosp Inc
County—Saginaw
Saginaw Corr Fac
County—Saginaw
State Prs S Michigan—S Complex
County—Jackson
State Prs S Michigan—C Complex
County—Jackson
Thumb Regional Fac
County—Lapeer

PRIMARY MEDICAL CARE: Minnesota County Listing
County Name
*Beltrami
Service Area: Northome/Blackduck
*Blue Earth
Service Area: Wells
*Cass
Clay
Service Area: Barnesville
Service Area: Hawley
*Clearwater
*Cook
*Faribault
Service Area: Wells
*Freeborn
Service Area: Wells
*Grant
Service Area: Elbow Lake/Dalton
Hennepin
Service Area: Near North—Minneapolis
Population Group: Hmlss—Inner City Minneapolis
Population Group: Low Inc—NE Minneapolis
Population Group: Low Inc—N Minneapolis
*Itasca
Service Area: Bigfork
Service Area: Northome/Blackduck
*Jackson
Service Area: Jackson/Lakefield
*Kanabec
*Kittson
*Koochiching
Service Area: Northome/Blackduck
*Lake
Service Area: Silver Bay
*Lincoln
Service Area: Tyler/Lake Benton
*Lyon
Service Area: Tyler/Lake Benton
*Mahnomen
*Marshall
*Murray
*Norman
Olmsted
Facility: Federal Medical Ctr—Rochester
*Otter Tail
Service Area: East Otter Tail County
Service Area: Elbow Lake/Dalton
Service Area: Pelican Rapids
*Pine
Population Group: Low Inc—Pine Co
*Pipestone
Service Area: Tyler/Lake Benton
Population Group: Low Inc—Pipestone
Polk
Ramsey
Population Group: Low Inc—Central-Midway
Population Group: Low Inc—Riverview/Dayton's Bluff
*Rock
Population Group: Low Inc—Pipestone
*Sibley
St Louis
Service Area: Cook/Orr
Service Area: Floodwood
Stearns
Population Group: Low Inc—Belgrade/Brooten
Population Group: Low Inc—Albany
*Todd
Population Group: Low Inc—Central-Midway
*Wadena
Population Group: Low Inc—N Wadena Co
*Waseca
Service Area: Wells
*Wilkin
Service Area: Barnesville

PRIMARY MEDICAL CARE: Minnesota Service Area Listing
Service Area Name
Barnesville
County—Clay
Parts:
Alliance Township
Barnesville Township
Barnesville City
Comstock City
Elkton Township
Holy Cross Township
Humboldt Township
Parke Township
Skree Township
Tansem Township
County—Wilkin
Parts:
Atherton Township
Deerhorn Township
Manston Township
Mitchell Township
Prairie View Township
Rothsay City
Tanberg Township
Wolverton City
Bigfork
County—Itasca
Parts:
Bearville Township
Bigfork City
Bigfork Township
Carpenter Township
Effie Unorg.
Effie City
Grattan Township
Kinghurst Township
Lake Jessie Township
Liberty Township
Marcell Township
Northeast Itasca Unorg.
Pomroy Township
Stokes Township
Wirt Township
Cook/Orr
County—St Louis
Parts:
C.T. 151-152
C.T. 155
East Otter Tail County
County—Otter Tail
Parts:
Amor Township
Battle Lake City
Blowers Township
Bluffton City
Bluffton Township
Butler Township
Clitherall City
Clitherall Township
Compton Township
Corliss Township
Dead Lake Township
Deer Creek City
Deer Creek Township
Dent City
Eagle Lake Township
Eastern Township
Edna Township
Effington Township
Elmo Township
Everts Township
Folden Township
Girard Township
Gorman Township
Henning City
Henning Township
Hobart Township
Homestead Township
Inman Township
Leaf Lake Township
Leaf Mountain Township
New York Mills City
Newton Township
Nidaros Township
Oak Valley Township
Otter Tail Township
Ottertail City
Otto Township
Paddock Township
Parkers Prairie City
Parkers Prairie Township
Perham City
Perham Township
Pine Lake Township
Richville City
Rush Lake Township
Urbank City
Vining City
Wadena City
Woodside Township
Elbow Lake/Dalton
County—Grant
County—Otter Tail
Parts:
Aastad Township
Dalton City
St. Olaf Township
Tumuli Township
Western Township
Floodwood
County—St Louis
Parts:
Arrowhead Township
Cedar Valley Township
Cotton Township
Elmer Township
Fine Lakes Township
Floodwood City
Floodwood Township
Halden Township
Kelsey Township
Meadowlands City
Meadowlands Township
Ness Township
Northland Township
Payne Township
Potshot Lake Unorg.
Prairie Lake Township
Toivola Township
Van Buren Township
Hawley
County—Clay
Parts:
Cromwell Township
Eglon Township
Felton Township
Felton City
Flowing Township
Goose Prairie Township
Hagen Township
Hawley City
Hawley Township
Highland Grove Township
Hitterdal City
Keene Township
Riverton Township
Spring Prairie Township
Ulen City
Ulen Township
Jackson/Lakefield
County—Jackson
Parts:
Alpha City
Belmont Township
Des Moines Township
Enterprise Township
Heron Lake Township
Hunter Township
Jackson City
Lakefield City
Middletown Township
Minneota Township
Okabena City
Petersburg Township
Rost Township
West Heron Lake Township
Wisconsin Township
Near North—Minneapolis
County—Hennepin
Parts:
C.T. 20-23
C.T. 27-29
C.T. 32-35
C.T. 41-42
Northome/Blackduck
County—Beltrami
Parts:
Battle Township
Blackduck City
Cormant Township
Durand Township
Funkley City
Hagali Township
Hines Township
Hornet Township
Kelliher City
Kelliher Township
Langor Township
Nebish Township
O'brien Township
Quiring Township
Shooks Township
Shotley Brook Unorg.
Shotley Township
Summit Township
Waskish Township
Woodrow Township
County—Itasca
Parts:
Alvwood Township
Ardenhurst Township
Moose Park Township
Nore Township
Third River Township
County—Koochiching
Parts:
Mizpah City
Northome City
Northome Unorg.
Northwest Koochiching Unorg.
Pelican Rapids
County—Otter Tail
Parts:
Candor Township
Dora Township
Dunn Township
Erhard City
Erhards Grove Township
Lida Township
Maplewood Township
Norwegian Grove Township
Pelican Rapids City
Pelican Township
Scambler Township
Star Lake Township
Trondhjem Township
Vergas City
Silver Bay
County—Lake
Parts:
Beaver Bay City
Beaver Bay Township
Crystal Bay Township
Lake No. 1 Unorg.
Silver Bay City
Tyler/Lake Benton
County—Lincoln
Parts:
Arco City
Diamond Lake Township
Hope Township
Lake Benton City
Lake Benton Township
Lake Stay Township
Marshfield Township
Tyler City
County—Lyon
Parts:
Coon Creek Township
Florence City
Shelburne Township
County—Pipestone
Parts:
Aetna Township
Fountain Prairie Township
Ruthton City
Wells
County—Blue Earth
Parts:
Danville Township
Mapleton Township
Mapleton City
County—Faribault
Parts:
Bricelyn City
Brush Creek Township
Clark Township
Dunbar Township
Easton City
Foster Township
Kiester City
Kiester Township
Lura Township
Minnesota Lake City
Minnesota Lake Township
Seely Township
Walnut Lake Township
Walters City
Wells City
County—Freeborn
Parts:
Alden Township
Alden City
Carlston Township
Conger City
Emmons City
Freeborn Township
Freeborn City
Hartland Township
Hartland City
Manchester Township
Manchester City
Mansfield Township
Nunda Township
Pickerel Lake Township
Twin Lakes City
County—Waseca
Parts:
Byron Township
New Richland Township
New Richland City
Vivian Township
Waldorf City

PRIMARY MEDICAL CARE: Minnesota Population Group Listing
Population Group
Hmlss—Inner City Minneapolis
County—Hennepin
Parts:
C.T. 44-48
C.T. 53-54
C.T. 57-63
C.T. 71-74
C.T. 78-79
Low Inc—Albany
County—Stearns
Parts:
Albany City
Albany Twp
Avon City
Avon Twp
Holding Twp
Holdingford City
Krain Twp
St Anthony City
Low Inc—Belgrade/Brooten
County—Stearns
Parts:
Belgrade City
Brooten City
Crow Lake Twp
Crow River Twp
Elrosa City
North Fork Twp
Low Inc—Central-Midway
County—Ramsey
Parts:
C.T. 301-302
C.T. 319-326
County—Todd
Parts:
C.T. 327
C.T. 334-340
C.T. 353-355
Low Inc—N Minneapolis
County—Hennepin
Parts:
C.T. 7-10
C.T. 13-16
Low Inc—N Wadena Co
County—Wadena
Parts:
Blueberry Twp
Huntersville Twp
Meadow Twp
Menahga City
Nimrod City
Orton Twp
Red Eye Twp
Sebeka City
Shell River Twp
Low Inc—NE Minneapolis
County—Hennepin
Parts:
C.T. 5
C.T. 11
C.T. 17-19
C.T. 24-26
C.T. 30-31
C.T. 36
Low Inc—Pine Co
County—Pine
Parts:
Low Income
Low Inc—Pipestone
County—Pipestone
Parts:
Burke Twp
Eden Twp
Edgerton Twp
Elmer Twp
Grange Twp
Gray Twp
Hatfield City
Holland City
Ihlen City
Jasper City
Osborne Twp
Pipestone City
Rock Twp
Sweet Twp
Trosky City
Troy Twp
Woodstock City
County—Rock
Parts:
Battle Plain Twp
Denver Twp
Hardwick City
Jasper City
Rose Dell Twp
Low Inc—Riverview/Dayton's Bluff
County—Ramsey
Parts:
C.T. 306.01
C.T. 307.04
C.T. 309-311
C.T. 315-317
C.T. 330-331
C.T. 342
C.T. 344-345
C.T. 346.01-346.02
C.T. 361
C.T. 370-372

PRIMARY MEDICAL CARE: Minnesota Facility Listing
Facility Name
Federal Medical Ctr—Rochester
County—Olmsted

PRIMARY MEDICAL CARE: Mississippi County Listing
County Name
*Amite
Service Area: Centreville/Liberty
*Benton
*Bolivar
Facility: Delta Health Center
*Calhoun
*Carroll
*Chickasaw
*Choctaw
*Claiborne
*Clarke
*Clay
*Coahoma
Population Group: Low Inc—Coahoma Co
*Copiah
*Covington
De Soto
Forrest
Service Area: East Leaf River
*George
*Greene
Hancock
Harrison
Population Group: Low Inc—Harrison Co
Hinds
Service Area: Jackson Inner-City
Service Area: Utica
Service Area: West Jackson Inner City
*Holmes
*Humphreys
*Issaquena
Service Area: Issaquena/Sharkey
*Itawamba
*Jasper
*Jefferson
*Jefferson Davis
*Jones
Population Group: Low Inc—Jones
*Kemper
Lamar
*Lauderdale
Population Group: Low Inc—Lauderdale Co
*Lawrence
*Leake
Madison
*Marion
*Marshall
*Monroe
Population Group: Low Inc—Monroe Co
*Montgomery
*Neshoba
*Newton
*Noxubee
*Panola
*Pearl River
*Perry
*Prentiss
*Quitman
Rankin
Population Group: Low Inc—Eastern Rankin
Population Group: Low Inc—SW Rankin
*Scott
*Sharkey
Service Area: Issaquena/Sharkey
*Smith
*Sunflower
*Tallahatchie
*Tippah
*Tunica
*Walthall
*Warren
Population Group: Low Inc—Warren Co
*Webster
*Wilkinson
Service Area: Centreville/Liberty
*Winston
*Yalobusha
*Yazoo

PRIMARY MEDICAL CARE: Mississippi Service Area Listing
Service Area Name
Centreville/Liberty
County—Amite
County—Wilkinson
East Leaf River
County—Forrest
Parts:
C.T. 1
C.T. 4-6
C.T. 105
Issaquena/Sharkey
County—Issaquena
County—Sharkey
Jackson Inner-City
County—Hinds
Parts:
C.T. 8-11
C.T. 17-20
C.T. 27
C.T. 39
C.T. 103.01
Utica
County—Hinds
Parts:
C.T. 113
West Jackson Inner City
County—Hinds
Parts:
C.T. 24-26
C.T. 30-32

PRIMARY MEDICAL CARE: Mississippi Population Group Listing
Population Group
Low Inc—Coahoma Co
County—Coahoma
Parts:
Low Income
Low Inc—Eastern Rankin
County—Rankin
Parts:
C.T. 201
C.T. 208-209
Low Inc—Harrison Co
County—Harrison
Parts:
Low Income
Low Inc—Jones
County—Jones
Parts:
Low Income
Low Inc—Lauderdale Co
County—Lauderdale
Parts:
Low Income
Low Inc—Monroe Co
County—Monroe
Parts:
Low Income
Low Inc—SW Rankin
County—Rankin
Parts:
C.T. 204.01-204.02
C.T. 210
Low Inc—Warren Co
County—Warren
Parts:
Low Income

PRIMARY MEDICAL CARE: Mississippi Facility Listing
Facility Name
Delta Health Center
County—Bolivar

PRIMARY MEDICAL CARE: Missouri County Listing
County Name
Andrew
*Barry
Population Group: Low Inc—Barry Co
*Bates
*Benton
*Bollinger
*Caldwell
*Cape Girardeau
Population Group: Low Inc—Cape Girardeau
*Carroll
*Carter
Cass
Christian
Population Group: Low Inc—Christian Co
*Clark
*Crawford
Population Group: Low Inc—Crawford Co
*Dade
*Dallas
*Daviess
*Douglas
*Dunklin
Greene
Population Group: Low Inc—Greene Co
*Harrison
*Hickory
*Holt
*Howell
Population Group: Poverty—Howell Co
Jackson
Population Group: Pov Pop—North Kansas City
Jasper
Population Group: Low Inc—Jasper Co
Jefferson
Service Area: Festus/De Soto
*Johnson
*Knox
*Laclede
Population Group: Low Inc—Laclede Co
Lafayette
*Lewis
Lincoln
*Madison
Population Group: Low Inc—Madison Co
*Maries
*McDonald
*Mercer
*Miller
*New Madrid
Newton
Population Group: Low Inc—Newton Co
*Osage
*Ozark
*Perry
*Phelps
Population Group: Low Inc—Phelps Co
*Pulaski
*Putnam
Ray
*Scotland
*Scott
Population Group: Low Inc—Scott Co
*Shannon
St Louis
Population Group: Low Inc—Kinlock/Berkeley
St Louis City (Indep)
Population Group: Low Inc—Southeast St Louis
Population Group: Low Inc—East Central St Louis
Population Group: Low Inc—West Central St Louis
Population Group: Low Inc—N St Louis City
*Stoddard
*Stone
*Sullivan
*Texas
*Wayne
Webster
*Worth
*Wright

PRIMARY MEDICAL CARE: Missouri Service Area Listing
Service Area Name
Festus/De Soto
County—Jefferson
Parts:
Big River Township
Central Township
High Ridge Township
Imperial Township
Joachim Township
Meramec Township
Plattin Township
River View Township
Rock Township
Valle Township
Windsor Township

PRIMARY MEDICAL CARE: Missouri Population Group Listing
Population Group
Low Inc—Barry Co
County—Barry
Parts:
Low Income
Low Inc—Cape Girardeau
County—Cape Girardeau
Parts:
Low Income
Low Inc—Christian Co
County—Christian
Parts:
Low Income
Low Inc—Crawford Co
County—Crawford
Parts:
Low Income
Low Inc—East Central St Louis
County—St Louis City (Indep)
Parts:
C.T. 1171-1172
C.T. 1181
C.T. 1184
C.T. 1186
C.T. 1211
C.T. 1214
C.T. 1222
C.T. 1255-1256
Low Inc—Greene Co
County—Greene
Parts:
Low Income
Low Inc—Jasper Co
County—Jasper
Parts:
Low Income
Low Inc—Kinlock/Berkeley
County—St Louis
Parts:
C.T. 2127-2129
C.T. 2134
Low Inc—Laclede Co
County—Laclede
Parts:
Low Income
Low Inc—Madison Co
County—Madison
Parts:
Low Income
Low Inc—N St Louis City
County—St Louis City (Indep)
Parts:
C.T. 1053-1055
C.T. 1061-1067
C.T. 1071-1077
C.T. 1081-1082
C.T. 1085
C.T. 1096-1097
C.T. 1101-1105
C.T. 1111-1115
C.T. 1122-1123
C.T. 1192
C.T. 1201-1203
C.T. 1211-1213
C.T. 1257
C.T. 1266-1267
Low Inc—Newton Co
County—Newton
Parts:
Low Income
Low Inc—Phelps Co
County—Phelps
Parts:
Low Income
Low Inc—Scott Co
County—Scott
Parts:
Low Income
Low Inc—Southeast St Louis
County—St Louis City (Indep)
Parts:
C.T. 1014-1015
C.T. 1018
C.T. 1018.99
C.T. 1155-1157
C.T. 1164-1165
C.T. 1173-1174
C.T. 1185
C.T. 1221
C.T. 1224
C.T. 1231-1235
C.T. 1241-1243
C.T. 1246
Low Inc—West Central St Louis
County—St Louis City (Indep)
Parts:
C.T. 1051.98
C.T. 1052
C.T. 1121
C.T. 1124
C.T. 1191-1193
Pov Pop—North Kansas City
County—Jackson
Parts:
C.T. 2-4
C.T. 5.01
C.T. 6-27
C.T. 28.01-28.02
C.T. 29-34
C.T. 35.01-35.02
C.T. 36.01-36.02
C.T. 37-45
C.T. 59.01
Poverty—Howell Co
County—Howell
Parts:
Poverty

PRIMARY MEDICAL CARE: Montana County Listing
County Name
*Big Horn
*Blaine
Service Area: Havre/Chinook
*Broadwater
*Carbon
Service Area: Bridger
*Carter
Service Area: Fallon
*Chouteau
Service Area: Big Sandy
Service Area: Fort Benton
*Custer
Service Area: Fallon
*Daniels
*Fallon
Service Area: Fallon
*Gallatin
Service Area: Ennis/W. Yellowstone
Service Area: Three Forks/Manhattan
*Garfield
*Glacier
*Granite
*Hill
Service Area: Havre/Chinook
*Judith Basin
*Lewis And Clark
Service Area: Choteau
Service Area: Lincoln
*Lincoln
Service Area: Eureka
*Madison
Service Area: Ennis/W. Yellowstone
*McCone
*Mineral
Service Area: Thompson Falls
*Missoula
Service Area: Seely Lake
*Musselshell
*Park
*Petroleum
*Phillips
*Pondera
Service Area: Conrad
*Powder River
*Powell (g)
Facility: Montana State Prs
*Prairie
*Richland
Service Area: Culbertson
*Roosevelt
Service Area: Culbertson
Service Area: Poplar/Wolf Point
*Rosebud
Service Area: Forsyth/Colstrip
*Sanders
Service Area: Hot Springs
Service Area: Thompson Falls
*Silver Bow
Population Group: Low Inc—Silver Bow Co
*Sweet Grass
*Teton
Service Area: Choteau
Service Area: Conrad
*Toole
Service Area: Sunburst
*Treasure
Service Area: Forsyth/Colstrip
*Valley
*Wibaux
Service Area: Fallon
*Yellowstone Park
Service Area: Gardiner/Yellowstone (MT/WY)

PRIMARY MEDICAL CARE: Montana Service Area Listing
Service Area Name
Big Sandy
County—Chouteau
Parts:
Big Sandy Division
Bridger
County—Carbon
Parts:
Carbon East Division
Fromberg-Bridger Division
Joliet Division
Choteau
County—Lewis And Clark
Parts:
Augusta Division
County—Teton
Parts:
Choteau Division
Fairfield Division
Conrad
County—Pondera
County—Teton
Parts:
Dutton-Power Division
Dutton-Power Division
Culbertson
County—Richland
Parts:
Fairview Division
County—Roosevelt
Parts:
East Roosevelt Division
Ennis/W. Yellowstone
County—Gallatin
Parts:
West Yellowstone Division
County—Madison
Parts:
Harrison Division
Madison Valley Division
Virginia City Division
Eureka
County—Lincoln
Parts:
Eureka Division
Fallon
County—Carter
County—Custer
Parts:
Shirley-Ismay Division
County—Carter
County—Fallon
County—Wibaux
Forsyth/Colstrip
County—Rosebud
County—Treasure
Fort Benton
County—Chouteau
Parts:
Fort Benton Division
Geraldine Division
Gardiner/Yellowstone (MT/WY)
County—Yellowstone Park
Parts:
Yellowstone National Park Divisi
Havre/Chinook
County—Blaine
County—Hill
Hot Springs
County—Sanders
Parts:
Flathead Division
Lincoln
County—Lewis And Clark
Parts:
Lincoln Division
Poplar/Wolf Point
County—Roosevelt
Parts:
Fort Peck Reservation Division
Seely Lake
County—Missoula
Parts:
Seeley Lake-Blackfoot Valley Div
Sunburst
County—Toole
Parts:
Sunburst Division
Thompson Falls
County—Mineral
Parts:
West End Division
County—Sanders
Parts:
Thompson Falls-West End Division
Three Forks/Manhattan
County—Gallatin
Parts:
Manhattan Division
Three Forks Division

PRIMARY MEDICAL CARE: Montana Population Group Listing
Population Group
Low Inc—Silver Bow Co
County—Silver Bow
Parts:
Low Income

PRIMARY MEDICAL CARE: Montana Facility Listing
Facility Name
Montana State Prs
County—Powell

PRIMARY MEDICAL CARE: Nebraska County Listing
County Name
*Antelope
Service Area: Antelope
*Arthur
*Blaine
*Boone
Service Area: Albion
*Box Butte
Population Group: Low Inc—Box Butte Co
*Brown
Service Area: North Central
*Burt
Service Area: Oakland
Service Area: Onawa (IA/NE)
*Cedar
Service Area: Cedar/Dixon
*Cherry
*Cuming
Service Area: West Point
*Custer
Service Area: Arnold
*Dawes
Service Area: Crawford
*Deuel
Service Area: Julesburg (CO/NE)
*Dixon
Service Area: Cedar/Dixon
*Dodge
Service Area: West Point
*Dundy
*Frontier
Service Area: Cambridge
Service Area: Curtis
*Furnas
Service Area: Cambridge
*Garden
*Gosper
Service Area: Cambridge
*Greeley
Service Area: Albion
Service Area: Howard/St Paul
*Hayes
Service Area: Hayes/Hitchcock
*Hitchcock
Service Area: Hayes/Hitchcock
*Howard
Service Area: Howard/St Paul
*Johnson
*Kearney
*Keya Paha
Service Area: North Central
*Kimball
Lancaster
Facility: Lancaster Dept Of Corr
*Lincoln
Service Area: Arnold
*Logan
Service Area: Arnold
Service Area: Stapleton No 1
*Madison
Service Area: Albion
Service Area: Antelope
*Morrill
*MCPherson
*Nance
*Platte
Service Area: Albion
*Red Willow
Service Area: Cambridge
*Richardson
Population Group: Low Inc—Richardson Co
*Rock
Service Area: North Central
*Saunders
Service Area: Wahoo
*Sherman
*Sioux
Service Area: Crawford
*Stanton
*Thayer
*Thomas
*Thurston
Population Group: Winnebago Indian Res

PRIMARY MEDICAL CARE: Nebraska Service Area Listing
Service Area Name
Albion
County—Boone
County—Greeley
Parts:
Spalding Precinct
County—Boone
County—Madison
Parts:
Newman Grove City
Shell Creek Precinct
County—Boone
County—Platte
Parts:
St. Bernard Township
Walker Township
Antelope
County—Antelope
County—Madison
Parts:
Jefferson Precinct
Tilden City
Arnold
County—Custer
Parts:
Arnold Township
Cliff Township
Custer Township
Delight Township
Elim Township
Grant Township
Hayes Township
Triumph Township
Wayne Township
Wood River Township
County—Lincoln
Parts:
Antelope Precinct
Garfield Precinct
County—Logan
Parts:
Gandy Precinct
Logan Precinct
Stapleton No. 2 Precinct
Cambridge
County—Frontier
Parts:
Garfield Precinct
Grant Precinct
Knowles Precinct
County—Furnas
County—Gosper
Parts:
Elk Creek Precinct
Highland Precinct
Union Precinct
West Muddy Precinct
County—Furnas
County—Red Willow
Parts:
Alliance Precinct
Beaver Precinct
East Valley Precinct
Indianola Precinct
Lebanon Precinct
Missouri Ridge Precinct
North Valley Precinct
Tyrone Precinct
Cedar/Dixon
County—Cedar
County—Dixon
Parts:
Clark Township
Concord Township
Daily Township
Galena Township
Hooker Township
Newcastle Township
Otter Creek Township
Ponca City
Ponca Township
Silver Creek Township
Spring Bank Township
Crawford
County—Dawes
Parts:
Precinct No. 10
Precinct No. 11
Precinct No. 7
Precinct No. 9
County—Sioux
Curtis
County—Frontier
Parts:
Allen Precinct
Clearwater Precinct
Curtis City
Curtis Precinct
Earl Precinct
Fairview Precinct
Harrison Precinct
Horrell Precinct
Laird Precinct
Laws Precinct
Lincoln Precinct
Logan Precinct
Moorefield Precinct
Muddy Precinct
North Star Precinct
Orafino Precinct
Osborn Precinct
Plum Creek Precinct
Russell Precinct
Sheridan Precinct
Sherman Precinct
Stockville Precinct
Weaver Precinct
Zimmer Precinct
Hayes/Hitchcock
County—Hayes
County—Hitchcock
Howard/St Paul
County—Greeley
Parts:
Greeley Precinct
Scotia Precinct
Wolbach No. 1 Precinct
Wolbach No. 2 Precinct
County—Howard
Julesburg (CO/NE)
County—Deuel
North Central
County—Brown
County—Keya Paha
County—Rock
Oakland
County—Burt
Parts:
Arizona Township
Bell Creek Township
Craig Township
Everett Township
Logan Township
Oakland Township
Oakland City
Pershing Township
Summit Township
Tekamah City
Onawa (IA/NE)
County—Burt
Parts:
Decatur Twp
Quinnebaugh Twp
Riverside Twp
Silver Creek Twp
Stapleton No 1
County—Logan
Parts:
Stapleton No. 1 Precinct
Wahoo
County—Saunders
Parts:
Ashland Township
Center Township
Chapman Township
Chester Township
Clear Creek Township
Douglas Township
Elk Township
Green Township
Marble Township
Marietta Township
Mariposa Township
Newman Township
Oak Creek Township
Richland Township
Rock Creek Township
South Cedar Township
Stocking Township
Union Township
Wahoo City
Wahoo Township
West Point
County—Cuming
Parts:
Beemer Township
Bismarck Township
Blaine Township
Cuming Township
Elkhorn Township
Garfield Township
Grant Township
Lincoln Township
Logan Township
Monterey Township
Neligh Township
Sherman Township
St. Charles Township
West Point City
Wisner Township
Wisner City
County—Dodge
Parts:
Cuming Township
Pebble Township
Scribner City
Webster Township

PRIMARY MEDICAL CARE: Nebraska Population Group Listing
Population Group
Low Inc—Box Butte Co
County—Box Butte
Parts:
Low Income
Low Inc—Richardson Co
County—Richardson
Parts:
Low Income
Winnebago Indian Res
County—Thurston
Parts:
Omaha Indian Res

PRIMARY MEDICAL CARE: Nebraska Facility Listing
Facility Name
Lancaster Dept Of Corr
County—Lancaster

PRIMARY MEDICAL CARE: Nevada County Listing
County Name
Carson City (Indep)
Population Group: Low Inc—E Carson City (Indep)
Population Group: Native Am-Washoe Indian Tribe
Facility: Nv St Corr Fac (North)
*Churchill
Population Group: Native Am-Fallon Reservation And Colony
Clark
Service Area: Indian Springs
Service Area: Laughlin
Service Area: Moapa Valley
Service Area: N Central Las Vegas
Service Area: N.E. Las Vegas
Service Area: Virgin Valley
Population Group: Low Inc—City Of Henderson
Facility: Nv St Corr Fac (South)
*Douglas
Population Group: Native Am-Washoe Indian Tribe
*Elko
*Esmerelda
*Eureka
*Humboldt
Population Group: Native Am-Winnemucca Colony
Population Group: Native Am-Fort Mcdermitt Reservation
*Lander
*Lincoln
*Lyon
*Mineral
*Nye
*Pershing
*Storey
Washoe
Service Area: Gerlach
Service Area: Wadsworth
Population Group: Low Inc—Reno/Sparks
*White Pine (g)
Facility: Nv St Corr Fac (East)

PRIMARY MEDICAL CARE: Nevada Service Area Listing
Service Area Name
Gerlach
County—Washoe
Parts:
Gerlach Division
Indian Springs
County—Clark
Parts:
C.T. 58.98
Laughlin
County—Clark
Parts:
C.T. 57
Moapa Valley
County—Clark
Parts:
C.T. 59
N Central Las Vegas
County—Clark
Parts:
C.T. 2.01
C.T. 3.01-3.02
C.T. 4
C.T. 7
C.T. 34.01
C.T. 35
C.T. 36.02
C.T. 37-38
C.T. 39.97-39.98
C.T. 40-46
N.E. Las Vegas
County—Clark
Parts:
C.T. 47.02-47.06
C.T. 48.97-48.98
Virgin Valley
County—Clark
Parts:
C.T. 56.02-56.03
Wadsworth
County—Washoe
Parts:
Pyramid Lake Division

PRIMARY MEDICAL CARE: Nevada Population Group Listing
Population Group
Low Inc—City Of Henderson
County—Clark
Parts:
C.T. 52
C.T. 54.02
Low Inc—E Carson City (Indep)
County—Carson City (Indep)
Parts:
C.T. 1
C.T. 5-6
C.T. 9-10
Low Inc—Reno/Sparks
County—Washoe
Parts:
C.T 18.00
C.T. 1-3
C.T. 7
C.T. 9
C.T. 10.04
C.T. 14-15
C.T. 17
C.T. 19
C.T. 21.01
C.T. 22.03-22.04
C.T. 28
C.T. 33.01
Native Am-Fallon Reservation And Colony
County—Churchill
Parts:
Fallon Colony
Fallon Reservation
Native Am-Fort Mcdermitt Reservation
County—Humboldt
Parts:
Fort Mcdermitt Res
Native Am-Washoe Indian Tribe
County—Douglas
Parts:
Dresslerville Ranch
Washoe Ranch
County—Carson City (Indep)
Parts:
Carson Colony
Native Am-Winnemucca Colony
County—Humboldt
Parts:
Winnemucca Colony

PRIMARY MEDICAL CARE: Nevada Facility Listing
Facility Name
Nv St Corr Fac (East)
County—White Pine
Nv St Corr Fac (North)
County—Carson City (Indep)
Nv St Corr Fac (South)
County—Clark

PRIMARY MEDICAL CARE: New Hampshire County Listing
County Name
*Coos
Service Area: Upper Connecticut Valley (NH/VT)
Population Group: Low Inc—Berlin
*Grafton
Service Area: Baker River Valley
Hillsborough
Service Area: Hillsboro/Weare
Population Group: Low Inc—Central Manchester
Population Group: Low Inc—E Nashua
Merrimack
Service Area: Hillsboro/Weare
Rockingham
Service Area: Raymond
*Sullivan
Service Area: Hillsboro/Weare

PRIMARY MEDICAL CARE: New Hampshire Service Area Listing
Service Area Name
Baker River Valley
County—Grafton
Parts:
Rumney Town
Warren Town
Wentworth Town
Hillsboro/Weare
County—Hillsborough
Parts:
Antrim Town
Deering Town
Hillsborough Town
Weare Town
Windsor Town
County—Merrimack
Parts:
Henniker Town
County—Sullivan
Parts:
Washington Town
Raymond
County—Rockingham
Parts:
Deerfield Town
Epping Town
Fremont Town
Nottingham Town
Raymond Town
Upper Connecticut Valley (NH/VT)
County—Coos
Parts:
Clarksville Town
Colebrook Town
Columbia Town
Dixville Township
Errol Town
Millsfield Township
Pittsburg Town
Stewartstown Town
Stratford Town
Wentworth Location

PRIMARY MEDICAL CARE: New Hampshire Population Group Listing
Population Group
Low Inc—Berlin
County—Coos
Parts:
Berlin City
Cambridge Twp
Dummer Town
Gorham Town
Kilkenny Twp
Milan Town
Randolph Town
Shelburne Town
Stark Town
Success Twp
Low Inc—Central Manchester
County—Hillsborough
Parts:
C.T. 4-5
C.T. 13-16
C.T. 19-20
Low Inc—E Nashua
County—Hillsborough
Parts:
C.T. 105-109

PRIMARY MEDICAL CARE: New Jersey County Listing
County Name
Atlantic
Population Group: Low Inc/MFW—Atlantic Co
Camden
Population Group: Low Inc—Camden
*Cumberland
Population Group: Low Inc/MFW—Cumberland Co
Facility: FCI Fairton
Essex
Service Area: City Of Orange
Service Area: East Orange City
Hudson
Service Area: Jersey City
Mercer
Population Group: Medicaid—Trenton City
Ocean
Population Group: Low Inc—Lakewood
Passaic
Service Area: Downtown Paterson
Service Area: Northside Paterson
Service Area: Passaic
Salem
Population Group: Low Inc/MFW—West Salem Co
Union
Facility: INS Medical Facility—Elizabeth

PRIMARY MEDICAL CARE: New Jersey Service Area Listing
Service Area Name
City Of Orange
County—Essex
Parts:
C.T. 181-189
Downtown Paterson
County—Passaic
Parts:
C.T. 1811-1815
C.T. 1816.01-1816.02
C.T. 1817.01-1817.02
C.T. 1818
C.T. 1820
C.T. 1822-1823
C.T. 1829
East Orange City
County—Essex
Parts:
East Orange City
Jersey City
County—Hudson
Parts:
C.T. 1-8
C.T. 9.01-9.02
C.T. 10-11
C.T. 12.01-12.02
C.T. 13-15
C.T. 16.01-16.02
C.T. 17-40
C.T. 41.01-41.02
C.T. 42-56
C.T. 58.01-58.02
C.T. 59-63
Northside Paterson
County—Passaic
Parts:
C.T. 1802-1809
Passaic
County—Passaic
Parts:
C.T. 1752-1755
C.T. 1758-1759

PRIMARY MEDICAL CARE: New Jersey Population Group Listing
Population Group
Low Inc—Camden
County—Camden
Parts:
C.T. 6001-6020
Low Inc—Lakewood
County—Ocean
Parts:
Lakewood Town
Low Inc/MFW—Atlantic Co
County—Atlantic
Parts:
Low Income/MFW
Low Inc/MFW—Cumberland Co
County—Cumberland
Parts:
Low-Income/MFW
Low Inc/MFW—West Salem Co
County—Salem
Parts:
C.T. 202-206
C.T. 213-217
C.T. 219-221
Medicaid—Trenton City
County—Mercer
Parts:
C.T. 1-17
C.T. 19-24

PRIMARY MEDICAL CARE: New Jersey Facility Listing
Facility Name
FCI Fairton
County—Cumberland
INS Medical Facility—Elizabeth
County—Union

PRIMARY MEDICAL CARE: New Mexico County Listing
County Name
Bernalillo
Service Area: North Valley
Population Group: Low Inc/Hmlss—Albuquerque Central
*Catron
*Chaves
Population Group: Low Income— Chaves Co
*Cibola
Dona Ana
Service Area: Hatch
Service Area: Southern Dona Ana
*Eddy
*Grant
Service Area: Cliff/Gila
*Harding
*Hidalgo
*Lea
Service Area: Jal/Eunice
Service Area: Northern Lea
*Lincoln
Service Area: Carrizozo
Service Area: Corona
*Luna
*McKinley
*Mora
*Otero
Service Area: Cloudcroft
*Rio Arriba
Service Area: Coyote
Service Area: Penasco/Truchas/Embudo
Service Area: Rio Chama
Service Area: Tierra Amarilla
Service Area: Western Rio Arriba
*Roosevelt
Population Group: Low Inc—Roosevelt Co
*San Juan
Population Group: Am In—San Juan Co
*San Miguel
Service Area: Pecos/Villanueva
Sandoval
Service Area: Cuba
Service Area: Southern Sandoval
Santa Fe
Service Area: Santa Fe/La Familia
*Sierra
*Socorro
Service Area: Claunch
Service Area: Magdalena
*Taos
Service Area: Penasco/Truchas/Embudo
Service Area: Questo/Arroyo Hondo
*Torrance
*Union
Valencia

PRIMARY MEDICAL CARE: New Mexico Service Area Listing
Service Area Name
Carrizozo
County—Lincoln
Parts:
Carrizozo CCD
Claunch
County—Socorro
Parts:
Claunch Division
Cliff/Gila
County—Grant
Parts:
Pinos Altos Division
Tyrone Division
Cloudcroft
County—Otero
Parts:
Southeast Otero Division
Corona
County—Lincoln
Parts:
Corona Division
Coyote
County—Rio Arriba
Parts:
Coyote Division
Cuba
County—Sandoval
Parts:
Cuba Division
Jemez Division
Hatch
County—Dona Ana
Parts:
Hatch Division
Jal/Eunice
County—Lea
Parts:
Eunice CCD
Jal CCD
Rio Chama Division
Magdalena
County—Socorro
Parts:
Magdalena Division
North Valley
County—Bernalillo
Parts:
C.T. 29
C.T. 30.01-30.02
C.T. 31
C.T. 32.01-32.02
C.T. 35.01-35.02
C.T. 36
Northern Lea
County—Lea
Parts:
Lovington CCD
Tatum CCD
Pecos/Villanueva
County—San Miguel
Parts:
Pecos Division
Villanueva Division
Penasco/Truchas/Embudo
County—Rio Arriba
Parts:
Chimayo Division
Dixon Division
County—Taos
Parts:
Penasco Division
Picuris Division
Questo/Arroyo Hondo
County—Taos
Parts:
Arroyo Hondo Division
Questa Division
Rio Chama
County—Rio Arriba
Parts:
Rio Chama CCD
Santa Fe/La Familia
County—Santa Fe
Parts:
C.T. 3
C.T. 7-9
C.T. 10.02
C.T. 12
C.T. 103.04
Southern Dona Ana
County—Dona Ana
Parts:
Anthony Division
South Dona Ana Division
Southern Sandoval
County—Sandoval
Parts:
C.T. 103-104
C.T. 105.01-105.02
Tierra Amarilla
County—Rio Arriba
Parts:
Tierra Amarilla Division
Vallecitas Division
Western Rio Arriba
County—Rio Arriba
Parts:
Jicarilla Division
Western Rio Arriba Division

PRIMARY MEDICAL CARE: New Mexico Population Group Listing
Population Group
Am In—San Juan Co
County—San Juan
Parts:
American Indian
Low Inc—Roosevelt Co
County—Roosevelt
Parts:
Low Income
Low Inc/Hmlss—Albuquerque Central
County—Bernalillo
Parts:
C.T. 14-15
C.T. 20-22
C.T. 25-28
Low Income— Chaves Co
County—Chaves
Parts:
Low Income

PRIMARY MEDICAL CARE: New York County Listing
County Name
Albany
Service Area: Westerlo-Rensselaerville
*Allegany
Service Area: Arcade
Service Area: Letchworth
Service Area: Wellsville
Bronx
Service Area: Hunts Point
Service Area: Morris Heights
Population Group: Low Inc—Mott Haven
Population Group: Low Inc—High Bridge
Population Group: Low Inc—Morrisania
Population Group: Low Inc—Soundview
Population Group: Low Inc—West Farms
Facility: Jacobi Women's Health Center
Facility: NYC Corr. Fac./Rikers Island
Broome
Service Area: Deposit
Service Area: Whitney Point PCAA
*Cattaraugus
Service Area: Arcade
Service Area: Randolph/Ellicottville
Service Area: Tri-County
Cayuga
Service Area: Aurora
Service Area: Cato
Population Group: Low Inc—Auburn PCSa
Population Group: Low Inc—Oswego City
Population Group: Low Income Of Groton/Moravia
Chautauqua
Service Area: Dunkirk-Fredonia
Service Area: Tri-County
Service Area: Westfield
Population Group: Low Inc—Union City (PA/NY)
*Clinton
Service Area: Dannemora
Population Group: Low Inc—Malone
*Columbia
Service Area: Southeast Columbia
*Cortland
Population Group: Low-Income Cortland County
*Delaware
Service Area: Deposit
Service Area: Margaretville/Andes
Population Group: Low Inc—Hobart/Stamford
Dutchess
Population Group: Low Inc—Beacon
Erie
Service Area: Black Rock/Riverside
Service Area: Ellicott/Lower Westside
Service Area: P.S. 84
Service Area: Tri-County
Facility: Children's Hosp Pc Clinics—C.T. 67.02
Facility: INS Med Facility-Batavia
*Essex
Service Area: Central Adirondack
Service Area: East Central Essex
Service Area: Warrensburg
Population Group: Low Inc—Schroon-Ticonderoga
*Franklin
Population Group: Low Inc—Canton/Potsdam
Population Group: Low Inc—Malone
Facility: Bare Hill Corr Fac
Facility: Chateaugay State Corr. Facility
Facility: FCI Raybrook
*Fulton
Facility: Hale Creek Asatca
*Genesee
Service Area: Batavia/Attica/Bennington
*Greene
*Hamilton
Service Area: Central Adirondack
Service Area: South Hamilton
Service Area: Webb
Herkimer
Service Area: Webb
Service Area: West Winfield
*Jefferson
Service Area: Alexandria Bay
Service Area: Gouverneur
Population Group: Low Inc—Watertown
Kings
Service Area: Bedford-Stuyvesant
Service Area: Bushwick
Service Area: Coney Island
Service Area: Crown Heights—Brooklyn
Service Area: East Ny-Brooklyn
Service Area: Williamsburg
*Lewis
Service Area: Boonville
Service Area: Camden
Livingston
Service Area: Letchworth
Service Area: N. Livingston
Monroe
Service Area: Jordan
Service Area: Westside (Rochester)
New York
Service Area: Alphabet City—Lower East Side
Service Area: Clinton
Service Area: Washington Heights—Inwood
Service Area: West Central Harlem
Population Group: Homeless—Chelsea/Ward's Island
Population Group: Low Inc—Upper West Side
Facility: INS Medical Facility—New York
Niagara
Service Area: Newfane
Oneida
Service Area: Boonville
Service Area: Camden
Service Area: West Winfield
Population Group: Low Inc —Utica
Population Group: Low Income—Rome PCSa
Onondaga
Population Group: Low Inc—Syracuse
Orange
Population Group: Low Inc—Newburgh City
Population Group: MFW—Goshen/Warwick
Population Group: MFW—Walden
Orleans
Service Area: Oak Orchard
Oswego
Service Area: Pulaski
Population Group: Low Inc—Fulton
Population Group: Low Inc—Oswego City
Queens
Service Area: Long Island City
Service Area: South Jamaica
Population Group: Medicaid—Rockaway
Rockland
Population Group: Low Inc—Monsey/New Square
Saratoga
Service Area: Corinth/Luzerne
Schenectady
Population Group: Low Inc—Hamilton Hill/Mt Pleasant
Schoharie
Service Area: Southern Schoharie
Population Group: Low Inc—Hobart/Stamford
*Seneca
Service Area: South Seneca
*St Lawrence
Service Area: Alexandria Bay
Service Area: Gouverneur
Service Area: Star Lake
Population Group: Low Inc—Canton/Potsdam
Population Group: Low Inc—Massena
Population Group: Low Inc—Ogdensburg
*Steuben
Service Area: Elkland (NY/PA)
*Sullivan
Service Area: Cochecton
Tioga
Service Area: Whitney Point PCAA
*Tompkins
Population Group: Low Income Of Groton/Moravia
*Ulster
Population Group: MFW—New Paltz
Facility: Highland Residential Center
Warren
Service Area: Corinth/Luzerne
Service Area: Warrensburg
Population Group: Low Inc—Schroon-Ticonderoga
Washington
Service Area: Pawlet/Granville (VT/NY)
Population Group: Low Inc—Schroon-Ticonderoga
*Wyoming
Service Area: Arcade
Service Area: Batavia/Attica/Bennington
Service Area: Letchworth
Facility: Attica Corr Fac

PRIMARY MEDICAL CARE: New York Service Area Listing
Service Area Name
Alexandria Bay
County—Jefferson
Parts:
Alexandria Town
Cape Vincent Town
Clayton Town
Lyme Town
Orleans Town
Philadelphia Town
Theresa Town
County—St Lawrence
Parts:
Hammond Town
Alphabet City—Lower East Side
County—New York
Parts:
C.T. 2.01-2.02
C.T. 6
C.T. 8
C.T. 10.01-10.02
C.T. 12
C.T. 14.01-14.02
C.T. 16
C.T. 18
C.T. 20
C.T. 22.01-22.02
C.T. 24-25
C.T. 26.01-26.02
C.T. 27-29
C.T. 30.01-30.02
C.T. 31-32
C.T. 34
C.T. 36.01-36.02
C.T. 38
C.T. 40-43
C.T. 45
C.T. 55.02
C.T. 57
Arcade
County—Allegany
Parts:
Centerville Town
Rushford Town
County—Cattaraugus
Parts:
Farmersville Town
Freedom Town
Machias Town
Yorkshire Town
County—Wyoming
Parts:
Arcade Town
Eagle Town
Java Town
Orangeville Town
Sheldon Town
Wethersfield Town
Aurora
County—Cayuga
Parts:
Genoa Town
Ledyard Town
Scipio Town
Springport Town
Venice Town
Batavia/Attica/Bennington
County—Genesee
County—Wyoming
Parts:
Attica Town
Bennington Town
Bedford-Stuyvesant
County—Kings
Parts:
C.T. 11
C.T. 23
C.T. 25
C.T. 27
C.T. 29.01-29.02
C.T. 31
C.T. 33
C.T. 35
C.T. 179
C.T. 181
C.T. 183
C.T. 185.01-185.02
C.T. 187
C.T. 189
C.T. 191
C.T. 193
C.T. 195
C.T. 197
C.T. 199
C.T. 201
C.T. 203
C.T. 205
C.T. 207
C.T. 213
C.T. 215
C.T. 217
C.T. 219
C.T. 221
C.T. 223
C.T. 225
C.T. 227
C.T. 229
C.T. 231
C.T. 233
C.T. 235
C.T. 237
C.T. 239
C.T. 241
C.T. 243
C.T. 245
C.T. 247
C.T. 249
C.T. 251
C.T. 253
C.T. 255
C.T. 257
C.T. 259.01-259.02
C.T. 261
C.T. 263
C.T. 265
C.T. 267
C.T. 269
C.T. 271.01-271.02
C.T. 273
C.T. 275
C.T. 277
C.T. 279
C.T. 281
C.T. 283
C.T. 285.01-285.02
C.T. 287
C.T. 289
C.T. 291
C.T. 293
C.T. 295
C.T. 297
C.T. 299
C.T. 301
C.T. 303
C.T. 307
C.T. 309
C.T. 311
C.T. 313
C.T. 315
C.T. 317.01-317.02
C.T. 319
C.T. 321
C.T. 323
C.T. 325
C.T. 327
C.T. 329
C.T. 331
C.T. 333
C.T. 335
C.T. 337
C.T. 339
C.T. 341
C.T. 343
C.T. 345
C.T. 347
C.T. 349
C.T. 351
C.T. 353
C.T. 365.01-365.02
C.T. 367
C.T. 369
C.T. 371
C.T. 373
C.T. 375
C.T. 377
C.T. 379
C.T. 381
C.T. 383
C.T. 385
C.T. 387
Black Rock/Riverside
County—Erie
Parts:
C.T. 55-59
Boonville
County—Lewis
Parts:
Greig Town
Lewis Town
Leyden Town
Lyonsdale Town
Turin Town
West Turin Town
County—Oneida
Parts:
Ava Town
Boonville Town
Forestport Town
Bushwick
County—Kings
Parts:
C.T. 389
C.T. 391
C.T. 393
C.T. 395
C.T. 397
C.T. 399
C.T. 401
C.T. 403
C.T. 405
C.T. 407
C.T. 409
C.T. 411
C.T. 413
C.T. 415
C.T. 417
C.T. 419
C.T. 421
C.T. 423
C.T. 425
C.T. 427
C.T. 429
C.T. 431
C.T. 433
C.T. 435
C.T. 437
C.T. 439
C.T. 441
C.T. 443
C.T. 445
C.T. 447
C.T. 453
C.T. 455.97-455.98
C.T. 465
C.T. 473
C.T. 477
C.T. 481
C.T. 483
C.T. 487
C.T. 489
C.T. 491
C.T. 493
C.T. 495
C.T. 497
C.T. 501
C.T. 503
C.T. 505
C.T. 511
C.T. 513
C.T. 527
C.T. 1142.01-1142.02
Camden
County—Lewis
Parts:
Osceola Town
County—Oneida
Parts:
Annsville Town
Camden Town
Florence Town
Vienna Town
Cato
County—Cayuga
Parts:
Cato Town
Conquest Town
Ira Town
Victory Town
Central Adirondack
County—Essex
Parts:
Newcomb Town
County—Hamilton
Parts:
Indian Lake Town
Long Lake Town
Clinton
County—New York
Parts:
C.T. 95
C.T. 97
C.T. 99
C.T. 101
C.T. 103
C.T. 109
C.T. 111
C.T. 113
C.T. 115
C.T. 117
C.T. 119
C.T. 121
C.T. 125
C.T. 127
C.T. 129
C.T. 133
C.T. 135
Cochecton
County—Sullivan
Parts:
Callicoon Town
Cochecton Town
Delaware Town
Fremont Town
Highland Town
Tusten Town
Coney Island
County—Kings
Parts:
C.T. 326
C.T. 328
C.T. 330
C.T. 340
C.T. 342
C.T. 348.01
C.T. 352
Corinth/Luzerne
County—Saratoga
Parts:
Corinth Town
Day Town
Edinburg Town
Hadley Town
County—Warren
Parts:
Lake Luzerne Town
Stony Creek Town
Crown Heights—Brooklyn
County—Kings
Parts:
C.T. 508
C.T. 794
C.T. 796
C.T. 798
C.T. 800
C.T. 802
C.T. 804
C.T. 806
C.T. 810
C.T. 812
C.T. 814
C.T. 816
C.T. 818
C.T. 820
C.T. 822
C.T. 824
C.T. 856
C.T. 864
C.T. 866
C.T. 868
C.T. 870
C.T. 872
C.T. 874.01-874.02
C.T. 876
C.T. 878
C.T. 880
C.T. 882
C.T. 884
C.T. 886
C.T. 888
C.T. 890
C.T. 892
C.T. 894
C.T. 896
C.T. 898
C.T. 900
C.T. 902
Dannemora
County—Clinton
Parts:
Dannemora Town
Saranac Town
Deposit
County—Broome
Parts:
Colesville Town
Sanford Town
Windsor Town
County—Delaware
Parts:
Deposit Town
Tompkins Town
Dunkirk-Fredonia
County—Chautauqua
Parts:
Arkwright Town
Charlotte Town
Dunkirk City
Dunkirk Town
Pomfret Town
Portland Town
Sheridan Town
Stockton Town
East Central Essex
County—Essex
Parts:
Elizabethtown Town
Essex Town
Keene Town
Lewis Town
Moriah Town
North Hudson Town
Westport Town
Willsboro Town
East Ny-Brooklyn
County—Kings
Parts:
C.T. 904
C.T. 906
C.T. 908
C.T. 910
C.T. 912
C.T. 914
C.T. 916
C.T. 918
C.T. 920
C.T. 922
C.T. 982
C.T. 1058
C.T. 1070
C.T. 1078
C.T. 1098
C.T. 1100
C.T. 1102
C.T. 1106
C.T. 1110
C.T. 1112
C.T. 1114
C.T. 1118
C.T. 1120
C.T. 1122
C.T. 1124
C.T. 1126
C.T. 1128
C.T. 1130
C.T. 1132
C.T. 1134
C.T. 1136
C.T. 1138
C.T. 1140
C.T. 1146
C.T. 1148
C.T. 1150
C.T. 1152
C.T. 1154
C.T. 1156
C.T. 1158
C.T. 1160
C.T. 1162
C.T. 1164
C.T. 1166
C.T. 1168
C.T. 1170
C.T. 1172.01-1172.02
C.T. 1174
C.T. 1176.01-1176.02
C.T. 1178
C.T. 1180
C.T. 1182.01-1182.02
C.T. 1184
C.T. 1186
C.T. 1188
C.T. 1190.97
C.T. 1192
C.T. 1194
C.T. 1196
C.T. 1200
C.T. 1202.97-1202.98
C.T. 1208
C.T. 1210
C.T. 1214
C.T. 1220
Elkland (NY/PA)
County—Steuben
Parts:
Tuscarora Town
Woodhull Town
Ellicott/Lower Westside
County—Erie
Parts:
C.T. 12
C.T. 13.01-13.02
C.T. 14.01-14.02
C.T. 15-18
C.T. 25.01-25.02
C.T. 26
C.T. 27.01
C.T. 31
C.T. 68
C.T. 71.01-71.02
C.T. 72.01
Gouverneur
County—Jefferson
Parts:
Antwerp Town
County—St Lawrence
Parts:
De Kalb Town
De Peyster Town
Edwards Town
Fowler Town
Gouverneur Town
Macomb Town
Rossie Town
Hunts Point
County—Bronx
Parts:
C.T. 5
C.T. 91
C.T. 97
C.T. 99
C.T. 105
C.T. 115.01-115.02
Jordan
County—Monroe
Parts:
C.T. 7
C.T. 13-15
C.T. 39
C.T. 43
C.T. 48-53
C.T. 55-56
C.T. 80
C.T. 91-92
C.T. 93.01
Letchworth
County—Allegany
Parts:
Allen Town
Caneadea Town
Granger Town
Hume Town
County—Livingston
Parts:
Portage Town
County—Wyoming
Parts:
Castile Town
Gainesville Town
Genesee Falls Town
Pike Town
Long Island City
County—Queens
Parts:
C.T. 1
C.T. 7
C.T. 19
C.T. 25
C.T. 27
C.T. 29
C.T. 31
C.T. 35
C.T. 37
C.T. 39
C.T. 41
C.T. 43
C.T. 45
C.T. 47
C.T. 49
C.T. 51
C.T. 53
C.T. 55
C.T. 57
C.T. 59
C.T. 171
Margaretville/Andes
County—Delaware
Parts:
Andes Town
Middletown Town
Roxbury Town
Morris Heights
County—Bronx
Parts:
C.T. 53.02
C.T. 205
C.T. 215.01-215.02
C.T. 217.01
C.T. 227.01
C.T. 233.01
C.T. 235.01
C.T. 237.01
C.T. 239
C.T. 241
C.T. 243
C.T. 245
C.T. 247
C.T. 249
C.T. 251
C.T. 253
C.T. 255
C.T. 257
N. Livingston
County—Livingston
Parts:
Avon Town
Caledonia Town
Geneseo Town
Groveland Town
Leicester Town
Lima Town
Livonia Town
York Town
Newfane
County—Niagara
Parts:
Hartland Town
Newfane Town
Somerset Town
Wilson Town
Oak Orchard
County—Orleans
Parts:
Albion Town
Barre Town
Carlton Town
Clarendon Town
Gaines Town
Kendall Town
Murray Town
P.S. 84
County—Erie
Parts:
C.T. 27.02
C.T. 29
C.T. 32.01-32.02
C.T. 33.01-33.02
C.T. 34-36
C.T. 39.01-39.02
C.T. 40.01-40.02
C.T. 41-42
C.T. 44.02
C.T. 52.02
C.T. 64
Pawlet/Granville (VT/NY)
County—Washington
Parts:
Fort Ann Town
Granville Town
Hampton Town
Hartford Town
Hebron Town
Whitehall Town
Pulaski
County—Oswego
Parts:
Albion Town
Boylston Town
Mexico Town
Orwell Town
Redfield Town
Richland Town
Sandy Creek Town
Williamstown Town
Randolph/Ellicottville
County—Cattaraugus
Parts:
Carrollton Town
Coldspring Town
Conewango Town
Ellicottville Town
Franklinville Town
Great Valley Town
Humphrey Town
Little Valley Town
Mansfield Town
Napoli Town
New Albion Town
Randolph Town
Red House Town
Salamanca City
Salamanca Town
South Valley Town
South Hamilton
County—Hamilton
Parts:
Arietta Town
Benson Town
Hope Town
Lake Pleasant Town
Morehouse Town
Wells Town
South Jamaica
County—Queens
Parts:
C.T. 190
C.T. 196
C.T. 198
C.T. 202
C.T. 204
C.T. 206
C.T. 208
C.T. 212
C.T. 244
C.T. 246
C.T. 248
C.T. 250
C.T. 252
C.T. 258
C.T. 260
C.T. 262
C.T. 264
C.T. 266
C.T. 270
C.T. 272
C.T. 274
C.T. 276
C.T. 278
C.T. 280
C.T. 410
C.T. 414
C.T. 440
C.T. 442
South Seneca
County—Seneca
Parts:
Covert Town
Lodi Town
Ovid Town
Southeast Columbia
County—Columbia
Parts:
Ancram Town
Copake Town
Gallatin Town
Hillsdale Town
Taghkanic Town
Southern Schoharie
County—Schoharie
Parts:
Blenheim Town
Broome Town
Conesville Town
Fulton Town
Gilboa Town
Star Lake
County—St Lawrence
Parts:
Clare Town
Clifton Town
Fine Town
Pitcairn Town
Russell Town
Tri-County
County—Cattaraugus
Parts:
Dayton Town
Leon Town
Otto Town
Perrysburg Town
Persia Town
County—Chautauqua
Parts:
Cherry Creek Town
Hanover Town
Villenova Town
County—Erie
Parts:
Brant Town
Collins Town
Eden Town
Evans Town
North Collins Town
Warrensburg
County—Essex
Parts:
Minerva Town
County—Warren
Parts:
Chester Town
Horicon Town
Johnsburg Town
Thurman Town
Warrensburg Town
Washington Heights—Inwood
County—New York
Parts:
C.T. 243.01
C.T. 245
C.T. 247
C.T. 249
C.T. 251
C.T. 253
C.T. 255
C.T. 261
C.T. 263
C.T. 265
C.T. 267
C.T. 269
C.T. 271
C.T. 273
C.T. 275
C.T. 277
C.T. 279
C.T. 281
C.T. 283
C.T. 285
C.T. 287
C.T. 289
C.T. 291
C.T. 293
C.T. 295
C.T. 297
C.T. 303
C.T. 307
C.T. 309
C.T. 311
Webb
County—Hamilton
Parts:
Inlet Town
County—Herkimer
Parts:
Webb Town
Wellsville
County—Allegany
Parts:
Alfred Town
Alma Town
Almond Town
Amity Town
Andover Town
Angelica Town
Belfast Town
Birdsall Town
Bolivar Town
Burns Town
Clarksville Town
Cuba Town
Friendship Town
Genesee Town
Grove Town
Independence Town
New Hudson Town
Scio Town
Ward Town
Wellsville Town
West Almond Town
Willing Town
Wirt Town
West Central Harlem
County—New York
Parts:
C.T. 186
C.T. 190
C.T. 197.02
C.T. 200
C.T. 201.02
C.T. 207.02
C.T. 208
C.T. 209.01-209.02
C.T. 211-212
C.T. 213.01-213.02
C.T. 214
C.T. 216
C.T. 217.01-217.02
C.T. 218
C.T. 219.97
C.T. 220
C.T. 221.01-221.02
C.T. 222
C.T. 223.97-223.98
C.T. 224-226
C.T. 227.01-227.02
C.T. 228-230
C.T. 231.01-231.02
C.T. 232-234
C.T. 235.01-235.02
C.T. 236-237
C.T. 239
C.T. 241
C.T. 243.02
West Winfield
County—Herkimer
Parts:
Columbia Town
Litchfield Town
Warren Town
Winfield Town
County—Oneida
Parts:
Bridgewater Town
Westerlo-Rensselaerville
County—Albany
Parts:
Rensselaerville Town
Westerlo Town
Westfield
County—Chautauqua
Parts:
Chautauqua Town
Mina Town
Ripley Town
Sherman Town
Westfield Town
Westside (Rochester)
County—Monroe
Parts:
C.T. 2
C.T. 16-17
C.T. 23-24
C.T. 27
C.T. 32
C.T. 40-41
C.T. 62-71
C.T. 75
C.T. 87.01-87.02
C.T. 88-90
C.T. 93.02
C.T. 94.01-94.03
C.T. 95
C.T. 96.01-96.04
Whitney Point PCAA
County—Broome
Parts:
Barker Town
Lisle Town
Nanticoke Town
Triangle Town
County—Tioga
Parts:
Berkshire Town
Richford Town
Williamsburg
County—Kings
Parts:
C.T. 507
C.T. 509
C.T. 515
C.T. 519
C.T. 523
C.T. 525
C.T. 529
C.T. 531
C.T. 533
C.T. 535
C.T. 537
C.T. 539
C.T. 545
C.T. 547
C.T. 549
C.T. 551
C.T. 553
C.T. 555

PRIMARY MEDICAL CARE: New York Population Group Listing
Population Group
Homeless—Chelsea/Ward's Island
County—New York
Parts:
C.T. 91 (Homeless)
C.T. 93 (Homeless)
C.T. 95 (Homeless)
C.T. 97 (Homeless)
C.T. 99 (Homeless)
C.T. 101 (Homeless)
C.T. 103 (Homeless)
C.T. 109 (Homeless)
C.T. 111 (Homeless)
C.T. 113 (Homeless)
C.T. 115 (Homeless)
C.T. 117 (Homeless)
C.T. 240 (Homeless)
Low Inc —Utica
County—Oneida
Parts:
C.T. 202.01-202.02
C.T. 203-206
C.T. 207.01-207.02
C.T. 208.01-208.03
C.T. 209-210
C.T. 211.01-211.03
C.T. 212.01-212.02
C.T. 213.01-213.03
C.T. 214.01-214.04
C.T. 215
C.T. 216.01-216.02
C.T. 217.01-217.02
Low Inc—Auburn PCSa
County—Cayuga
Parts:
Auburn City
Aurelius Town
Brutus Town
Fleming Town
Mentz Town
Montezuma Town
Owasco Town
Sennett Town
Throop Town
Low Inc—Beacon
County—Dutchess
Parts:
Ct 2101
Ct 2102
Ct 2103
Low Inc—Canton/Potsdam
County—Franklin
Parts:
Dickinson Town
Waverly Town
County—St Lawrence
Parts:
Canton Town
Colton Town
Hermon Town
Hopkinton Town
Madrid Town
Parishville Town
Pierrepont Town
Potsdam Town
Stockholm Town
Low Inc—Fulton
County—Oswego
Parts:
Fulton City
Granby Town
Schroeppel Town
Volney Town
Low Inc—Hamilton Hill/Mt Pleasant
County—Schenectady
Parts:
C.T. 203
C.T. 207-209
C.T. 210.01-210.02
C.T. 211.01-211.02
C.T. 214-217
Low Inc—High Bridge
County—Bronx
Parts:
C.T. 53.01
C.T. 57
C.T. 59.01
C.T. 187
C.T. 189
C.T. 193
C.T. 195
C.T. 197
C.T. 199
C.T. 201
C.T. 211
C.T. 213.01-213.02
C.T. 217.02
C.T. 219
C.T. 221
C.T. 223
C.T. 227.02
Low Inc—Hobart/Stamford
County—Delaware
Parts:
Davenport Town
Harpersfield Town
Kortright Town
Stamford Town
County—Schoharie
Parts:
Jefferson Town
Low Inc—Malone
County—Clinton
Parts:
Altona Town
Clinton Town
Ellenburgtown
County—Franklin
Parts:
Bangor Town
Bellmont Town
Bombaytown
Brandon Town
Burke Town
Chateaugay Town
Constable Town
Duane Own
Fort Covington Own
Malone Town
Moira Town
Westville Town
Low Inc—Massena
County—St Lawrence
Parts:
Brasher Town
Lawrence Town
Louisville Town
Massena Town
Norfolk Town
Low Inc—Monsey/New Square
County—Rockland
Parts:
C.T. 115.03-115.04
C.T. 121-124
Low Inc—Morrisania
County—Bronx
Parts:
C.T. 49
C.T. 59.02
C.T. 61
C.T. 121.01
C.T. 123
C.T. 125
C.T. 127.01
C.T. 129.01
C.T. 131
C.T. 133
C.T. 135
C.T. 137
C.T. 139
C.T. 141
C.T. 143
C.T. 145
C.T. 147
C.T. 149
C.T. 151
C.T. 153
C.T. 155
C.T. 157
C.T. 161
C.T. 163
C.T. 165
C.T. 167
C.T. 169
C.T. 171
C.T. 173
C.T. 175
C.T. 177
C.T. 179
C.T. 181
C.T. 183
C.T. 225
C.T. 227.03
C.T. 229.02
C.T. 367
C.T. 369.02
Low Inc—Mott Haven
County—Bronx
Parts:
C.T. 11
C.T. 15
C.T. 17
C.T. 23
C.T. 25
C.T. 27.01-27.02
C.T. 31
C.T. 33
C.T. 35
C.T. 37
C.T. 39
C.T. 41
C.T. 43
C.T. 47
C.T. 65
C.T. 67
C.T. 69
C.T. 71
C.T. 73
C.T. 75
C.T. 77
C.T. 79
C.T. 81
C.T. 83
C.T. 85
C.T. 87
C.T. 89
C.T. 119
C.T. 121.02
C.T. 127.02
C.T. 129.02
Low Inc—Newburgh City
County—Orange
Parts:
C.T. 1-6
Low Inc—Ogdensburg
County—St Lawrence
Parts:
Depeyster Town
Lisbon Town
Morristown Town
Ogdensburg City
Oswegatchie Town
Waddington Town
Low Inc—Oswego City
County—Cayuga
Parts:
Sterling Town
County—Oswego
Parts:
Hannibal Town
Minetto Town
New Haven Town
Oswego City
Oswego Town
Scriba Town
Low Inc—Schroon-Ticonderoga
County—Essex
Parts:
Crown Point Twp
Schroon Twp
Ticonderoga Twp
County—Warren
Parts:
Hague Twp
County—Washington
Parts:
Dresdentwp
Putnam
Low Inc—Soundview
County—Bronx
Parts:
C.T. 2
C.T. 4
C.T. 16
C.T. 20
C.T. 24
C.T. 28
C.T. 36
C.T. 38
C.T. 40.01-40.02
C.T. 44
C.T. 46
C.T. 48
C.T. 50
C.T. 52
C.T. 54
C.T. 56
C.T. 58
C.T. 62
C.T. 64
C.T. 66
C.T. 68
C.T. 70
C.T. 72
C.T. 74
C.T. 78
C.T. 84
C.T. 86
C.T. 88
C.T. 98
C.T. 102
C.T. 214
Low Inc—Syracuse
County—Onondaga
Parts:
C.T. 5-7
C.T. 13-16
C.T. 21-24
C.T. 29-35
C.T. 36.01
C.T. 38-45
C.T. 51-55
C.T. 57-59
C.T. 61.01-61.02
Low Inc—Union City (PA/NY)
County—Chautauqua
Parts:
Clymer Town
French Creek Town
Low Inc—Upper West Side
County—New York
Parts:
C.T. 177
C.T. 179
C.T. 181
C.T. 183
C.T. 185
C.T. 187
C.T. 189
C.T. 191
C.T. 193
C.T. 195
C.T. 197.01
C.T. 199
C.T. 201.01
C.T. 203
C.T. 205
C.T. 207.01
Low Inc—Watertown
County—Jefferson
Parts:
Brownville Town
City Of Watertown
Hounsfield Town
Le Ray Town
Pamelia Town
Rutland Town
Watertown Town
Low Inc—West Farms
County—Bronx
Parts:
C.T. 60
C.T. 216.01-216.02
C.T. 218
C.T. 220
C.T. 236
C.T. 240
C.T. 359
C.T. 361
C.T. 363
Low Income—Rome PCSa
County—Oneida
Parts:
Floyd
Lee
Rome
Verona
Western
Low Income Of Groton/Moravia
County—Cayuga
Parts:
Locke Twn
Moravia Twn
Semproniustwn
Summerhilltwn
County—Tompkins
Parts:
Groton Twn
Low-Income Cortland County
County—Cortland
Parts:
Low-Income
Medicaid—Rockaway
County—Queens
Parts:
C.T. 916.01-916.02
C.T. 916.99
C.T. 918
C.T. 922
C.T. 928
C.T. 934
C.T. 938
C.T. 942.01-942.03
C.T. 952
C.T. 962
C.T. 964
C.T. 972
C.T. 992
C.T. 998
C.T. 1008
C.T. 1010
C.T. 1032
MFW—Goshen/Warwick
County—Orange
Parts:
Goshen Town
Warwick Town
MFW—New Paltz
County—Ulster
Parts:
New Paltz Town
MFW—Walden
County—Orange
Parts:
Montgomery Town

PRIMARY MEDICAL CARE: New York Facility Listing
Facility Name
Attica Corr Fac
County—Wyoming
Bare Hill Corr Fac
County—Franklin
Chateaugay State Corr. Facility
County—Franklin
Children's Hosp Pc Clinics—C.T. 67.02
County—Erie
FCI Raybrook
County—Franklin
Hale Creek Asatca
County—Fulton
Highland Residential Center
County—Ulster
INS Med Facility-Batavia
County—Erie
INS Medical Facility—New York
County—New York
Jacobi Women's Health Center
County—Bronx
NYC Corr. Fac./Rikers Island
County—Bronx

PRIMARY MEDICAL CARE: North Carolina County Listing
County Name
*Anson
*Beaufort
Service Area: Bayboro/Aurora
Service Area: Belhaven/Swan Quarter
Caldwell
Service Area: Western Caldwell
*Caswell
Chatham
Population Group: Low Inc—Moncure/Sanford
*Clay
*Cleveland
Population Group: Med Ind—Cleveland Co
*Columbus
Cumberland
Population Group: Low Inc—Cumberland Co
*Dare
Service Area: Hatteras-Ocracoke
*Duplin
Population Group: Low Inc—Duplin Co
Durham
Population Group: Medicaid—Durham Co
Edgecombe
Franklin
Gaston
Population Group: Low Inc—Gaston Co
*Gates
*Graham
Guilford
Service Area: Inner City Greensboro
*Halifax
Population Group: Low Inc—Halifax
*Harnett
Population Group: Low Inc—Harnett
*Henderson
Population Group: MFW—Henderson/Polk
*Hertford
Population Group: Low Inc—Hertford Co
*Hoke
*Hyde
Service Area: Belhaven/Swan Quarter
Service Area: Hatteras-Ocracoke
Johnston
Population Group: Low Inc/MFW—Johnston Co
*Lee
Population Group: Low Inc—Moncure/Sanford
*Lenoir
Service Area: East Kinston
*Macon
Service Area: Franklin
Mecklenburg
Service Area: Central Charlotte
Nash
Population Group: Low Inc/MFW—Nash Co
New Hanover
Population Group: Low Inc—New Hanover Co
*Pamlico
Service Area: Bayboro/Aurora
*Pender
*Person
*Polk
Population Group: MFW—Henderson/Polk
Randolph
*Robeson
*Sampson
Population Group: Low Inc/MFW—Sampson Co
*Scotland
Population Group: Med Ind—Scotland Co
*Stanly
Population Group: Low Inc—Stanly Co
Stokes
Service Area: Danbury
*Surry
Population Group: Low Inc—Surry Co
*Swain
Population Group: Low Inc—Swain Co
*Tyrrell
*Vance
Facility: FCI—Butner
Wake
Facility: Central Prison
*Warren
Service Area: Warrenton
*Washington
Wayne
Population Group: Low Inc—Wayne Co
*Wilson
Population Group: Low Inc/MFW—Wilson Co
*Yancey
Population Group: Low Inc—Yancey Co

PRIMARY MEDICAL CARE: North Carolina Service Area Listing
Service Area Name
Bayboro/Aurora
County—Beaufort
Parts:
Richland Twp
County—Pamlico
Belhaven/Swan Quarter
County—Beaufort
Parts:
Bath Township
Pantego Township
County—Hyde
Parts:
Currituck Township
Fairfield Township
Lake Landing Township
Lake Mattamuskeet Unorg.
Swan Quarter Township
Central Charlotte
County—Mecklenburg
Parts:
C.T. 1
C.T. 4-8
C.T. 36-37
C.T. 38.98
C.T. 39.01-39.02
C.T. 41-42
C.T. 45.00-51.01
C.T. 52
Danbury
County—Stokes
Parts:
C.T. 701-703
East Kinston
County—Lenoir
Parts:
C.T. 101-105
C.T. 107
Franklin
County—Macon
Parts:
Burningtown Twp
Cartoogechaye Twp
Cowee Twp
Ellijay Twp
Flats Twp
Franklin Twp
Millshoal Twp
Nantahala Twp
Smiths Bridge Twp.
Hatteras-Ocracoke
County—Dare
Parts:
Hatteras Township
Kinnakeet Township
County—Hyde
Parts:
Ocracoke Township
Inner City Greensboro
County—Guilford
Parts:
C.T. 101
C.T. 107.02
C.T. 108.01
C.T. 110
C.T. 111.01
C.T. 112-115
Warrenton
County—Warren
Parts:
Fork Township
Hawtree Township
Nutbush Township
River Township
Roanoke Township
Sandy Creek Township
Shocco Township
Sixpound Township
Smith Creek Township
Warrenton Township
Western Caldwell
County—Caldwell
Parts:
Globe Township
Johns River Township
Mulberry Township
Patterson Township
Wilson Creek Township

PRIMARY MEDICAL CARE: North Carolina Population Group Listing
Population Group
Low Inc—Cumberland Co
County—Cumberland
Parts:
Low Income
Low Inc—Duplin Co
County—Duplin
Parts:
Low Income
Low Inc—Gaston Co
County—Gaston
Parts:
Low Inc
Low Inc—Halifax
County—Halifax
Parts:
Low Income
Low Inc—Harnett
County—Harnett
Parts:
Low Inc
Low Inc—Hertford Co
County—Hertford
Parts:
Low Inc
Low Inc—Moncure/Sanford
County—Chatham
Parts:
Cape Fear
Haw River
Oakland
County—Lee
Parts:
Cape Fear
Deep River
East Sanford
Jonesboro
West Sanford
Low Inc—New Hanover Co
County—New Hanover
Parts:
Low Income
Low Inc—Stanly Co
County—Stanly
Parts:
Low Inc
Low Inc—Surry Co
County—Surry
Parts:
Low Income
Low Inc—Swain Co
County—Swain
Parts:
Low Income
Low Inc—Wayne Co
County—Wayne
Parts:
Low Income
Low Inc—Yancey Co
County—Yancey
Parts:
Low Income
Low Inc/MFW—Johnston Co
County—Johnston
Parts:
Low Inc/MFW
Low Inc/MFW—Nash Co
County—Nash
Parts:
Low Income/Migrant Farmw
Low Inc/MFW—Sampson Co
County—Sampson
Parts:
Low Inc/MFW
Low Inc/MFW—Wilson Co
County—Wilson
Parts:
Low Income/Migrant Farmw
Med Ind—Cleveland Co
County—Cleveland
Parts:
Medically Indigent
Med Ind—Scotland Co
County—Scotland
Parts:
Medically Indigent
Medicaid—Durham Co
County—Durham
Parts:
Medicaid Eligible
MFW—Henderson/Polk
County—Henderson
Parts:
MFW
County—Polk
Parts:
MFW

PRIMARY MEDICAL CARE: North Carolina Facility Listing
Facility Name
Central Prison
County—Wake
FCI—Butner
County—Vance

PRIMARY MEDICAL CARE: North Dakota County Listing
County Name
*Adams
Service Area: Lemmon (SD/ND)
*Barnes
Service Area: Wimbledon
*Benson
*Bottineau
Service Area: Bottineau
Service Area: Mohall
*Burke
Service Area: Powers Lake/Columbus
*Dickey
Service Area: Ellendale/Edgeley (ND/SD)
Service Area: Oakes/Forman
*Divide
*Dunn
*Eddy
*Emmons
*Golden Valley
*Hettinger
*Kidder
Service Area: Medina
*La Moure
Service Area: Ellendale/Edgeley (ND/SD)
Service Area: La Moure
*Logan
*McHenry
*McIntosh
*McIntosh
Population Group: Low Inc—Mcintosh
Population Group: Low Inc—Mcintosh
*McLean
*Mercer
Morton
Service Area: West Morton/East Stark
*Mountrail
Service Area: New Town
Service Area: Stanley
*Nelson
*Oliver
*Pembina
*Renville
Service Area: Mohall
*Richland
Service Area: Hankinson/Lidgerwood (ND/SD)
*Rolette
*Sargent
Service Area: Oakes/Forman
*Slope
*Stark
Service Area: West Morton/East Stark
*Stutsman
Service Area: Medina
Service Area: Wimbledon
*Ward
Service Area: New Town
Service Area: Stanley
*Williams
Service Area: Tioga

PRIMARY MEDICAL CARE: North Dakota Service Area Listing
Service Area Name
Bottineau
County—Bottineau
Parts:
Amity Township
Bentinck Township
Bottineau City
Brander Township
Cecil Township
Chatfield Township
Cordelia Township
Dalen Township
Eidsvold Township
Elms Township
Elysian Township
Gardena City
Haram Township
Hastings Township
Homen Township
Kane Township
Kramer City
Landa City
Lewis Township
Lordsburg Township
Maxbass City
Mount Rose Township
Newborg Township
Newburg City
Oak Creek Township
Oak Valley Township
Ostby Township
Overly City
Peabody Township
Pickering Township
Richburg Township
Roland Township
Russell City
Scandia Township
Scotia Township
Sergius Township
Souris City
Starbuck Township
Stone Creek Township
Tacoma Township
Wayne Township
Wellington Township
Westhope City
Whitby Township
Whitteron Township
Willow City City
Willow Vale Township
Ellendale/Edgeley (ND/SD)
County—Dickey
Parts:
Ada Township
Albertha Township
Albion Township
Elden Township
Ellendale City
Ellendale Township
Elm Township
Forbes City
Fullerton City
German Township
Grand Valley Township
Hamburg Township
Kent Township
Kentner Township
Keystone Township
Lorraine Township
Maple Township
Merricourt City
Monango City
Northwest Township
Porter Township
Potsdam Township
Spring Valley Townshi
Valley Township
Van Meter Township
Whitestone Township
Wright Township
Yorktown Township
Young Township
County—La Moure
Parts:
Edgeley City
Golden Glen Township
Kulm City
Nora Township
Norden Township
Pomona View Township
Ray Township
Swede Township
Wano Township
Willowbank Township
Hankinson/Lidgerwood (ND/SD)
County—Richland
Parts:
Barney City
Belford Township
Brandenburg Township
Brightwood Township
Danton Township
Devillo Township
Dexter Township
Duerr Township
Elma Township
Fairmount City
Fairmount Township
Grant Township
Great Bend City
Greendale Township
Hankinson City
La Mars Township
Liberty Grove Township
Lidgerwood City
Mantador City
Moran Township
Waldo Township
Wyndmere Township
Wyndmere City
La Moure
County—La Moure
Parts:
Adrian Township
Badger Township
Berlin City
Black Loam Township
Bluebird Township
Dean Township
Dickey City
Gladstone Township
Glen Township
Glenmore Township
Grand Rapids Township
Grandview Township
Greenville Township
Henrietta Township
Jud City
Kennison Township
La Moure City
Litchville Township
Marion City
Mikkelson Township
Ovid Township
Pearl Lake Township
Prairie Township
Raney Township
Roscoe Township
Russell Township
Ryan Township
Saratoga Township
Sheridan Township
Verona City
Lemmon (SD/ND)
County—Adams
Parts:
E Adams Unorg
Gilstrap Twp
North Lemmon Twp
Orange Twp
South Fork Twp
Medina
County—Kidder
Parts:
Allen Township
Buckeye Township
Bunker Township
Crystal Springs Township
Dawson City
Graf Township
Haynes Township
Manning Township
Peace Township
Quinby Township
Sibley Township
South Kidder Unorg.
Steele City
Tanner Township
Tappen City
Tappen Township
Valley Township
Vernon Township
Weiser Township
Westford Township
Williams Township
Woodlawn Township
County—Stutsman
Parts:
Bloomenfield Township
Chase Lake Unorg.
Chicago Township
Cleveland City
Flint Township
Germania Township
Griffin Township
Iosco Township
Medina City
Newbury Township
Peterson Township
Sinclair Township
St. Paul Township
Stirton Township
Streeter City
Streeter Township
Valley Spring Township
Weld Township
Mohall
County—Bottineau
Parts:
Antler City
Antler Township
Blaine Township
Cut Bank Township
Hoffman Township
Lansford City
Lansford Township
Renville Township
Sherman Township
Wheaton Township
County—Renville
Parts:
Brandon Township
Callahan Township
Clay Township
Colquhoun Township
Eden Valley Township
Grano City
Grassland Township
Hamerly Township
Hamlet Township
Hurley Township
Lockwood Township
Loraine City
Mohall City
Sherwood City
New Town
County—Mountrail
Parts:
Banner Township
Big Bend Township
Brookbank Township
Crane Creek Township
Fertile Township
Howie Township
Knife River Township
Liberty Township
Model Township
Mountrail Township
New Town City
Oakland Township
Osborn Township
Osloe Township
Parshall City
Parshall Township
Plaza Township
Plaza City
Rat Lake Township
Shell Township
Sikes Township
Southwest Mountrail Unorg.
Spring Coulee Township
Van Hook Township
Wayzetta Township
County—Ward
Parts:
Anna Township
Hiddenwood Township
Linton Township
Lund Township
Makoti City
Orlien Township
Ryder Township
Ryder City
Shealey Township
Tolgen Township
Oakes/Forman
County—Dickey
Parts:
Bear Creek Township
Clement Township
Divide Township
Hudson Township
James River Valley To
Lovell Township
Ludden City
Oakes City
Port Emma Township
Riverdale Township
County—Sargent
Powers Lake/Columbus
County—Burke
Parts:
Battleview Township
Clayton Township
Cleary Township
Columbus City
Colville Township
Dale Township
Fay Township
Foothills Township
Forthun Township
Garness Township
Harmonious Township
Keller Township
Larson City
Leaf Mountain Township
Lignite City
Lucy Township
Portal City
Portal Township
Powers Lake City
Short Creek Township
Soo Township
Thorson Township
Vale Township
Stanley
County—Mountrail
Parts:
Alger Township
Bicker Township
Burke Township
Clearwater Township
Cottonwood Township
Crowfoot Township
Debing Township
Egan Township
Idaho Township
James Hill Township
Kickapoo Township
Lostwood Township
Lowland Township
Manitou Township
McAlmond Township
McGahan Township
Myrtle Township
Palermo City
Palermo Township
Powers Township
Powers Lake Township
Purcell Township
Redmond Township
Ross City
Ross Township
Sidonia Township
Sorkness Township
Stanley City
Stave Township
West Mountrail Unorg.
White Earth City
White Earth Township
County—Ward
Parts:
Berthold City
Berthold Township
Carbondale Township
Carpio City
Carpio Township
Donnybrook City
Evergreen Township
Mandan Township
Passport Township
Ree Township
Tioga
County—Williams
Parts:
Alamo City
Athens Township
Barr Butte Township
Big Meadow Township
Big Stone Township
Blacktail Township
Blue Ridge Township
Bonetraill Township
Brooklyn Township
Champion Township
Climax Township
Dry Fork Township
Dublin Township
Ellisville Township
Epping City
Farmvale Township
Golden Valley Township
Good Luck Township
Grenora City
Grenora Township
Hanks City
Hazel Township
Hofflund Township
Lindahl Township
Marshall Township
Nesson Valley Unorg.
New Home Township
Oliver Township
Orthell Township
Pleasant Valley Township
Rainbow Township
Ray City
Rock Island Township
Sauk Valley Township
Scorio Township
South Meadow Township
Southeast Williams Unorg.
Spring Brook City
Strandahl Township
Tioga Township
Tioga City
Truax Township
Twelve Mile Township
View Township
West Bank Township
Wheelock Township
Wheelock City
Wildrose City
Winner Township
West Morton/East Stark
County—Morton
Parts:
Almont City
Engelter Township
Glen Ullin City
Hebron City
New Salem City
West Morton Unorg.
County—Stark
Parts:
East Stark Unorg.
Richardton City
Taylor City
Wimbledon
County—Barnes
Parts:
Ashtabula Township
Baldwin Township
Dazey City
Dazey Township
Edna Township
Ellsbury Township
Grand Prairie Township
Lake Town Township
Leal City
Minnie Lake Township
Pierce Township
Pillsbury City
Rogers City
Rogers Township
Sibley City
Sibley Trail Township
Uxbridge Township
Wimbledon City
County—Stutsman
Parts:
Ashland Township
Courtenay City
Courtenay Township
Durham Township
Gray Township
Spiritwood Lake City

PRIMARY MEDICAL CARE: North Dakota Population Group Listing
Population Group
Low Inc—Mcintosh
County—McIntosh
County—McIntosh
Parts:
Low Income

PRIMARY MEDICAL CARE: Ohio County Listing
County Name
*Adams
Population Group: Low Inc—Adams Co
*Ashtabula
Service Area: Orwell
*Athens
Population Group: Low Income—Athens Co
Butler
Service Area: Eastern Hamilton
Service Area: West Middletown
Carroll
Clark
Service Area: Southwest Side (Springfield)
Clermont
Service Area: Eastern Clermont
Columbiana
Population Group: Low Inc—East Liverpool
*Coshocton
Population Group: Low Inc—Coshocton Co
Cuyahoga
Service Area: East Cleveland
Service Area: Hough/Norwood/Glenville
Service Area: Lee Miles (Cleveland)
Service Area: Mt Pleasant/Union-Miles/Corlett
Service Area: Western Collinwood
Population Group: Low Inc—Central/Fairfax/Kinsman
Population Group: Low Income—Near West/Westside/Edgewate
Facility: Free Clinic Of Greater Cleveland
Facility: Neighborhood Family Practice
Fairfield
Population Group: Low Inc—Lancaster/Baltimore
*Fayette
Population Group: Low Inc—Fayette Co
Franklin
Service Area: Lower Linden (N.E. Columbus)
Service Area: Near North/University
Population Group: Low Inc—Near Southside (Columbus)
Population Group: Low Inc—Franklinton (Columbus)
*Guernsey
Service Area: Freeport
Hamilton
Service Area: East & Lower Price Hill/S Fairmont
Service Area: East End (Cincinnati)
Service Area: Millvale
Service Area: West End (Cincinnati)
*Hancock
Population Group: Low Inc—Tiffin/Fostoria
*Hardin
Population Group: Low Inc—Hardin Co
*Harrison
Service Area: Cadiz/Scio/Hopedale
Service Area: Freeport
*Highland
Population Group: Low Inc—Highland Co
*Hocking
Population Group: Low Inc—Hocking Co
*Holmes
Population Group: Low Inc—Holmes Co
*Jackson
Population Group: Low Inc—Jackson Co
Jefferson
Population Group: Low Inc—East Liverpool
Lawrence
Population Group: Low Inc—Lawrence Co
Lucas
Service Area: Center City/Dorr (Toledo)
Service Area: East Toledo
Service Area: Near Southside Toledo
Mahoning
Service Area: Eastside Youngstown
Service Area: Southside Youngstown
*Meigs
*Monroe
Service Area: New Matamoras
Service Area: Woodsfield
Montgomery
Service Area: West Dayton
Population Group: Homeless—Dayton
*Morgan
*Morrow
Population Group: Low Inc—Morrow Co
*Noble
Facility: Noble Corr Fac
*Perry
*Pike
Population Group: Low Inc—Pike Co
*Preble
Richland
Population Group: Low Income—Richland Co
*Sandusky
Population Group: Low Inc/MFW—Sandusky Co
*Scioto
Population Group: Low Inc—Scioto Co
*Seneca
Population Group: Low Inc—Tiffin/Fostoria
Stark
Service Area: NE Canton
Summit
Service Area: Akron (Southeast Side)
Trumbull
Service Area: Orwell
Service Area: The Flats (Warren)
*Tuscarawas
Service Area: Freeport
Population Group: Low Inc—S Tuscarawas Co
*Vinton
Washington
Service Area: New Matamoras
Wood
Population Group: Low Inc—Tiffin/Fostoria

PRIMARY MEDICAL CARE: Ohio Service Area Listing
Service Area Name
Akron (Southeast Side)
County—Summit
Parts:
C.T. 5014
C.T. 5031-5035
C.T. 5038
Cadiz/Scio/Hopedale
County—Harrison
Parts:
Archer Township
Athens Township
Cadiz Township
Franklin Township
German Township
Green Township
Monroe Township
North Township
Rumley Township
Short Creek Township
Stock Township
Center City/Dorr (Toledo)
County—Lucas
Parts:
C.T. 27-28
C.T. 31-37
C.T. 39
East & Lower Price Hill/S Fairmont
County—Hamilton
Parts:
C.T. 87
C.T. 89
C.T. 91-96
C.T. 103
East Cleveland
County—Cuyahoga
Parts:
C.T. 1501
C.T. 1503-1504
C.T. 1511-1518
East End (Cincinnati)
County—Hamilton
Parts:
C.T. 43-44
C.T. 47.02
East Toledo
County—Lucas
Parts:
C.T. 46
C.T. 47.01-47.02
C.T. 48
C.T. 48.99-49.00
C.T. 50-53
Eastern Clermont
County—Clermont
Parts:
Batavia Township
Franklin Township
Goshen Township
Jackson Township
Monroe Township
Ohio Township
Pierce Township
Stonelick Township
Tate Township
Washington Township
Wayne Township
Williamsburg Township
Eastern Hamilton
County—Butler
Parts:
C.T. 3-4
C.T. 6
C.T. 7.01-7.02
Eastside Youngstown
County—Mahoning
Parts:
C.T. 8001-8007
C.T. 8040
Freeport
County—Guernsey
Parts:
Londonderry Township
Madison Township
Washington Township
County—Harrison
Parts:
Freeport Township
Moorefield Township
Nottingham Township
Washington Township
County—Tuscarawas
Parts:
Perry Township
Hough/Norwood/Glenville
County—Cuyahoga
Parts:
C.T. 1112-1113
C.T. 1114.01-1114.02
C.T. 1115-1118
C.T. 1119.01-1119.02
C.T. 1121-1128
C.T. 1161-1168
C.T. 1181-1185
C.T. 1186.01-1186.02
C.T. 1189
Lee Miles (Cleveland)
County—Cuyahoga
Parts:
C.T. 1217-1219
C.T. 1221-1223
Lower Linden (N.E. Columbus)
County—Franklin
Parts:
C.T. 7.20
C.T. 7.30
C.T. 9.10
C.T. 9.20
C.T. 14-15
C.T. 23
C.T. 25.10
C.T. 29
C.T. 75.11-75.12
C.T. 75.20
C.T. 75.34
C.T. 76
Millvale
County—Hamilton
Parts:
C.T. 28
C.T. 77
C.T. 85.02
C.T. 86.01
Mt Pleasant/Union-Miles/Corlett
County—Cuyahoga
Parts:
C.T. 1155
C.T. 1198-1199
C.T. 1204-1206
C.T. 1207.01-1207.02
C.T. 1208.01-1208.02
C.T. 1211-1213
C.T. 1214.01-1214.02
C.T. 1215-1216
C.T. 1275
Near North/University
County—Franklin
Parts:
C.T. 6
C.T. 10
C.T. 11.10
C.T. 12-13
C.T. 16-17
C.T. 18.10
C.T. 18.20
C.T. 20-22
C.T. 32
Near Southside Toledo
County—Lucas
Parts:
C.T. 38
C.T. 40-42
C.T. 54
New Matamoras
County—Monroe
Parts:
Benton Township
Jackson Township
County—Washington
Parts:
Grandview Township
Independence Township
Liberty Township
Ludlow Township
NE Canton
County—Stark
Parts:
C.T. 7002-7005
C.T. 7018
Orwell
County—Ashtabula
Parts:
Colebrook Township
Hartsgrove Township
Morgan Township
New Lyme Township
Orwell Township
Rome Township
Trumbull Township
Windsor Township
County—Trumbull
Parts:
Bloomfield Township
Greene Township
Gustavus Township
Kinsman Township
Mesopotamia Township
Southside Youngstown
County—Mahoning
Parts:
C.T. 8010
C.T. 8016-8017
C.T. 8019-8025
Southwest Side (Springfield)
County—Clark
Parts:
C.T. 1-3
C.T. 8
C.T. 9.01-9.02
C.T. 10
C.T. 11.01-11.02
C.T. 12
The Flats (Warren)
County—Trumbull
Parts:
C.T. 9205-9207
West Dayton
County—Montgomery
Parts:
C.T. 2-4
C.T. 6-7
C.T. 9-10
C.T. 12-14
C.T. 35-45
C.T. 602-603
C.T. 702.01-702.02
C.T. 703
West End (Cincinnati)
County—Hamilton
Parts:
C.T. 2
C.T. 3.01-3.02
C.T. 4
C.T. 8
C.T. 14-15
West Middletown
County—Butler
Parts:
C.T. 128-132
C.T. 138-140
Western Collinwood
County—Cuyahoga
Parts:
C.T. 1169
C.T. 1171.01-1171.02
C.T. 1172.01-1172.02
C.T. 1173-1175
C.T. 1179
C.T. 1261
Woodsfield
County—Monroe
Parts:
Adams Township
Bethel Township
Center Township
Franklin Township
Green Township
Lee Township
Malaga Township
Ohio Township
Perry Township
Salem Township
Seneca Township
Summit Township
Sunsbury Township
Switzerland Township
Washington Township
Wayne Township

PRIMARY MEDICAL CARE: Ohio Population Group Listing
Population Group
Homeless—Dayton
County—Montgomery
Parts:
C.T. 15
C.T. 21
Low Inc—Adams Co
County—Adams
Parts:
Low Income
Low Inc—Central/Fairfax/Kinsman
County—Cuyahoga
Parts:
C.T. 1079
C.T. 1087-1089
C.T. 1091-1093
C.T. 1096-1099
C.T. 1101-1103
C.T. 1129
C.T. 1131-1139
C.T. 1141-1145
C.T. 1147-1148
Low Inc—Coshocton Co
County—Coshocton
Parts:
Low Income
Low Inc—East Liverpool
County—Columbiana
Parts:
Center Twp
East Liverpool City
Elk Run Twp
Franklin Twp
Hanover Twp
Liverpool Twp
Madison Twp
Middleton Twp
St Clair Twp
Unity Twp
Washington Twp
Wayne Twp
Wellsville City
Yellow Creek Twp
County—Jefferson
Parts:
Brush Creek Twp
Saline Twp
Low Inc—Fayette Co
County—Fayette
Parts:
Low Income
Low Inc—Franklinton (Columbus)
County—Franklin
Parts:
C.T. 41-44
C.T. 49-51
Low Inc—Hardin Co
County—Hardin
Parts:
Low Income
Low Inc—Highland Co
County—Highland
Parts:
Low Income
Low Inc—Hocking Co
County—Hocking
Parts:
Low Income
Low Inc—Holmes Co
County—Holmes
Parts:
Low Income
Low Inc—Jackson Co
County—Jackson
Parts:
Low Income
Low Inc—Lancaster/Baltimore
County—Fairfield
Parts:
Amanda Twp
Berne Twp
Bloom Twp
Clear Creek Twp
Greenfield Twp
Hocking Twp
Lancaster City
Liberty Twp
Madison Twp
Pleasant Twp
Richland Twp
Rush Creek Twp
Walnut Twp
Low Inc—Lawrence Co
County—Lawrence
Parts:
Low Income
Low Inc—Morrow Co
County—Morrow
Parts:
Low Income
Low Inc—Near Southside (Columbus)
County—Franklin
Parts:
C.T. 37-38
C.T. 53
C.T. 54.10
C.T. 54.20
C.T. 55
C.T. 56.10
C.T. 56.20
C.T. 58.20
C.T. 59-61
C.T. 87.10
C.T. 87.20
C.T. 87.30
Low Inc—Pike Co
County—Pike
Parts:
Low Income
Low Inc—S Tuscarawas Co
County—Tuscarawas
Parts:
Clay Twp
Mill Twp
Oxford Twp
Rush Twp
Salem Twp
Union Twp
Warwick Twp
Washington Twp
Low Inc—Scioto Co
County—Scioto
Parts:
Low Income
Low Inc—Tiffin/Fostoria
County—Hancock
Parts:
C.T. 1 (Fostoria)
County—Seneca
Parts:
Low Income
County—Wood
Parts:
C.T. 22 (Fostoria)
Low Inc/MFW—Sandusky Co
County—Sandusky
Parts:
Low Income
MFW
Low Income—Athens Co
County—Athens
Parts:
Low Income
Low Income—Near West/Westside/Edgewate
County—Cuyahoga
Parts:
C.T. 1011.01
C.T. 1012-1019
C.T. 1021.01-1021.02
C.T. 1022-1023
C.T. 1024.01-1024.02
C.T. 1025-1026
C.T. 1031-1039
Low Income—Richland Co
County—Richland
Parts:
Low Income

PRIMARY MEDICAL CARE: Ohio Facility Listing
Facility Name
Free Clinic Of Greater Cleveland
County—Cuyahoga
Neighborhood Family Practice
County—Cuyahoga
Noble Corr Fac
County—Noble

PRIMARY MEDICAL CARE: Oklahoma County Listing
County Name
*Adair
*Alfalfa
*Atoka
Canadian
Facility: FCI El Reno
*Carter
Service Area: Velma-Alma/Healdton North
*Choctaw
*Coal
Creek
Population Group: Low Inc—Mounds
*Delaware
Population Group: Amer Indian Pop Delaware County
*Grant
*Harper
*Haskell
*Hughes
*Johnston
*Kiowa
*Latimer
Population Group: Low Inc—Latimer Co
*Lincoln
Logan
*Marshall
*Mayes
Population Group: Native American Pop—Mayes Co
McClain
*McIntosh
*Muskogee
Population Group: American Indian Pop Muskogee County
*Nowata
Service Area: Nowata
*Okfuskee
Oklahoma
Service Area: N.E. Oklahoma Co
Service Area: S.E. Oklahoma City
*Okmulgee
Population Group: Low Inc—Mounds
*Pittsburg
Service Area: Quinton
*Pontotoc
Population Group: Medicaid—Pontotoc Co
Pottawatomie
Service Area: Konawa
*Roger Mills
*Seminole
Service Area: Konawa
Sequoyah
Population Group: Amer Indian Pop Sequoyah County
*Stephens
Service Area: Velma-Alma/Healdton North
*Texas
Service Area: Texoma
*Tillman
Tulsa
Service Area: North Tulsa
Population Group: Am In—Tulsa
*Washita

PRIMARY MEDICAL CARE: Oklahoma Service Area Listing
Service Area Name
Konawa
County—Pottawatomie
Parts:
Maud Division
Wanette-Asher Division
County—Seminole
Parts:
Konawa Division
Seminole South Division
N.E. Oklahoma Co
County—Oklahoma
Parts:
C.T. 1080.03
C.T. 1080.05
C.T. 1080.10-1080.11
C.T. 1088.01
C.T. 1088.03-1088.04
North Tulsa
County—Tulsa
Parts:
C.T. 2-10
C.T. 12-14
C.T. 57
C.T. 62
C.T. 79
C.T. 80.01-80.02
C.T. 91.01
Nowata
County—Nowata
Parts:
Lenapah-Delaware Division
Nowata Division
South Coffeyville-Wann Division
Quinton
County—Pittsburg
Parts:
Quinton Division
S.E. Oklahoma City
County—Oklahoma
Parts:
C.T. 1039
C.T. 1048
C.T. 1053-1054
C.T. 1073.04
Texoma
County—Texas
Parts:
West Texas Division
Velma-Alma/Healdton North
County—Carter
Parts:
Healdton North Divisi
County—Stephens
Parts:
Velma-Alma Division

PRIMARY MEDICAL CARE: Oklahoma Population Group Listing
Population Group
Am In—Tulsa
County—Tulsa
Parts:
American Indian
Amer Indian Pop Delaware County
County—Delaware
Parts:
American Indian
Amer Indian Pop Sequoyah County
County—Sequoyah
Parts:
American Indian
American Indian Pop Muskogee County
County—Muskogee
Parts:
American Indian
Low Inc—Latimer Co
County—Latimer
Parts:
Low Income
Low Inc—Mounds
County—Creek
Parts:
C.T. 215
County—Okmulgee
Parts:
C.T. 6
Medicaid—Pontotoc Co
County—Pontotoc
Parts:
Medicaid
Native American Pop—Mayes Co
County—Mayes
Parts:
Native American

PRIMARY MEDICAL CARE: Oklahoma Facility Listing
Facility Name
FCI El Reno
County—Canadian

PRIMARY MEDICAL CARE: Oregon County Listing
County Name
*Baker
Service Area: Halfway
Clackamas
Service Area: Estacada
Service Area: Mt. Hood
Population Group: MSFWs—Western Clackamas Co
*Columbia
Service Area: Clatskanie
Service Area: East Columbia
Service Area: Vernonia
*Coos
Service Area: Powers
*Curry
Service Area: Port Orford
Population Group: Low Inc—Brookings
*Deschutes
Service Area: La Pine
*Douglas
Service Area: Glendale
*Gilliam
Service Area: Arlington
Service Area: Condon
*Harney
*Hood River
Population Group: MSFW—Hood River Co
Jackson
Service Area: Shady Cove
Population Group: MFW—Ashland/Phoenix
*Jefferson
Service Area: Madras
*Josephine
Service Area: Cave Junction
Service Area: Glendale
Service Area: Williams
Population Group: Med Ind—Grants Pass
*Klamath
Service Area: Bly
Service Area: Chiloquin
Population Group: Low Inc/MFW—Klamath Falls
*Lake
Service Area: Silver Lake
Lane
Service Area: Lowell
Service Area: McKenzie
Service Area: Oakridge
Service Area: Triangle Lake/Swisshome
Population Group: Homeless-Mid Lane Co
*Malheur
Service Area: Jordan Valley
Service Area: Nyssa (OR/ID)
Service Area: Vale
Population Group: MSFW—Ontario
Facility: Snake River Corr. I.
Marion
Population Group: Low Inc/MFW/Homeless-Polk & Marion
*Morrow
Service Area: Boardman
Service Area: Heppner
Polk
Population Group: Low Inc/MFW/Homeless-Polk & Marion
*Sherman
Service Area: Moro/Grass Valley
Service Area: Wasco
*Tillamook
Service Area: Nehalem
Service Area: Pacific City/Cloverdale
Population Group: Low Inc/Homeless—Tillamook/Bay City
*Umatilla
Population Group: Low Inc/MFW—Umatilla Co
Facility: E Oregon Corr I
*Union
Service Area: Elgin
*Wasco
Service Area: Maupin/Dufur
Population Group: MFW—The Dalles
Washington
Population Group: MFW—W. Washington Co
*Wheeler
Yamhill
Facility: FCI Sheridan

PRIMARY MEDICAL CARE: Oregon Service Area Listing
Service Area Name
Arlington
County—Gilliam
Parts:
Arlington Division
Bly
County—Klamath
Parts:
Langell Division
Boardman
County—Morrow
Parts:
Boardman Division
Cave Junction
County—Josephine
Parts:
Cave Junction Division
Wilderville Division
Chiloquin
County—Klamath
Parts:
Chiloquin Division
Crescent Lake Division
Clatskanie
County—Columbia
Parts:
Clatskanie Division
Marshland Division
Condon
County—Gilliam
Parts:
Condon Division
East Columbia
County—Columbia
Parts:
Goble Division
Rainier Division
Scappoose Division
St. Helens Division
Elgin
County—Union
Parts:
Elgin Division
Estacada
County—Clackamas
Parts:
Estacada Division
Glendale
County—Douglas
Parts:
South Umpqua CCD
County—Josephine
Parts:
Northwest Josephine CCD
Halfway
County—Baker
Parts:
Eagle Valley Division
Halfway Division
Heppner
County—Morrow
Parts:
Heppner Division
Ione-Lexington Division
Jordan Valley
County—Malheur
Parts:
Jordan Division
La Pine
County—Deschutes
Parts:
C.T. 9902-9905
Lowell
County—Lane
Parts:
Lowell Division
Madras
County—Jefferson
Parts:
Ashwood Division
Culver Division
Madras Division
Maupin/Dufur
County—Wasco
Parts:
Dufur CCD
McKenzie
County—Lane
Parts:
McKenzie Division
Moro/Grass Valley
County—Sherman
Parts:
Moro Division
Mt. Hood
County—Clackamas
Parts:
Mount Hood Division
Nehalem
County—Tillamook
Parts:
Nehalem Division
Nyssa (OR/ID)
County—Malheur
Parts:
Adrian Division
Nyssa Division
Owyhee Division
Oakridge
County—Lane
Parts:
Oakridge Division
Pacific City/Cloverdale
County—Tillamook
Parts:
Beaver Division
Neskowin Division
Port Orford
County—Curry
Parts:
Port Orford CCD
Powers
County—Coos
Parts:
Powers Division
Shady Cove
County—Jackson
Parts:
Butte Falls-Prospect Division
Shady Cove Division
Silver Lake
County—Lake
Parts:
Silver Lake-Fort Rock Division
Triangle Lake/Swisshome
County—Lane
Parts:
Middle Siuslaw-Triangle Lake Div
Vale
County—Malheur
Parts:
Brogan Division
Juntura Division
Vale Division
West Vale Division
Vernonia
County—Columbia
Parts:
Vernonia Division
Wasco
County—Sherman
Parts:
Wasco Division
Williams
County—Josephine
Parts:
Williams Division

PRIMARY MEDICAL CARE: Oregon Population Group Listing
Population Group
Homeless-Mid Lane Co
County—Lane
Parts:
McD 002
McD 030
McD 035
McD 040
McD 056
McD 070
McD 085
McD 107
McD 140
Low Inc—Brookings
County—Curry
Parts:
Brookings CCD
Harbor CCD
Low Inc/Homeless—Tillamook/Bay City
County—Tillamook
Parts:
Bay City CCD
Tillamook CCD
Low Inc/MFW—Klamath Falls
County—Klamath
Parts:
Keno CCD
Klamath Falls CCD
Malinccd
Merrill CCD
Low Inc/MFW—Umatilla Co
County—Umatilla
Parts:
Low Income
Migrant Farmworkers
Low Inc/MFW/Homeless-Polk & Marion
County—Marion
Parts:
Low Inc/MFW/Homeless
County—Polk
Parts:
Low Inc/MFW/Homeless
Med Ind—Grants Pass
County—Josephine
Parts:
C.T. 3604-3608
C.T. 3610-3613
MFW—Ashland/Phoenix
County—Jackson
Parts:
Ashland CCD
Eagle Point CCD
Southeast Jackson CCD
Southwest Jackson CCD
MFW—The Dalles
County—Wasco
Parts:
The Dalles CCD
MFW—W. Washington Co
County—Washington
Parts:
Chehalem Mt CCD
Coast Range CCD
Forest Grove-Cornelius
North Plains CCD
MSFW—Hood River Co
County—Hood River
Parts:
MSFW
MSFW—Ontario
County—Malheur
Parts:
Ontario CCD
MSFWs—Western Clackamas Co
County—Clackamas
Parts:
Beaver Creek CCD
Canby CCD
Colton CCD
Molalla CCD
Mulino CCD
Northwest Clackamas CCD
Redland CCD
Sandy CCD
Wilsonville CCD
Yoder CCD

PRIMARY MEDICAL CARE: Oregon Facility Listing
Facility Name
E Oregon Corr I
County—Umatilla
FCI Sheridan
County—Yamhill
Snake River Corr. I.
County—Malheur

PRIMARY MEDICAL CARE: Pennsylvania County Listing
County Name
Allegheny
Service Area: Arlington Heights/St Clair
Service Area: Hill District
Service Area: Homewood-Brushton
Service Area: Manchester
Service Area: McKees Rocks-Stowe
Service Area: North Braddock
Service Area: South Braddock
Service Area: West End Pittsburgh
Population Group: Low Inc—East Liberty
Population Group: Low Inc—Mckeesport
*Armstrong
Service Area: Armstrong-Clarion
Service Area: Dayton/Rural Valley
Service Area: Kiski Valley
Service Area: New Bethlehem/Hawthorn
Service Area: Northeast Butler
Beaver
Population Group: Low Inc—East Liverpool
*Bedford
Service Area: Broad Top/Cromwell
Population Group: Low Inc—Pleasantville
Berks
Population Group: Med Ind—Welsh Mountain
Blair
Population Group: Low Inc—Pleasantville
*Bradford
Service Area: La Porte
Butler
Service Area: Northeast Butler
Cambria
Service Area: Coalport
Population Group: Low Inc—Ebensburg
Facility: Sci Cresson
*Cameron
Centre
Service Area: Snow Shoe
Population Group: Low Inc—Philipsburg
Facility: Sci Rockview
Chester
Population Group: Med Ind—Welsh Mountain
*Clarion
Service Area: Armstrong-Clarion
Service Area: New Bethlehem/Hawthorn
*Clearfield
Service Area: Coalport
Service Area: Mahaffey
Service Area: Snow Shoe
Population Group: Low Inc—Philipsburg
Facility: Sci Houtzdale
*Clinton
Service Area: Snow Shoe
Service Area: Western Lycoming
Columbia
Service Area: Eastern Lycoming
*Crawford
Service Area: Conneautville
Population Group: Low Inc—Union City (PA/NY)
Population Group: Low Inc—Titusville
Cumberland
Facility: Sci Camp Hill
Dauphin
Service Area: Millersburg
Population Group: Low Income—Harrisburg
*Elk
Service Area: Marienville
Erie
Service Area: Southern Erie
Population Group: Low Inc—Union City (PA/NY)
Population Group: Med Ind—Erie City
Fayette
Service Area: Markleysburg
Service Area: Republic
Population Group: Low Inc—Greensboro
*Forest
Service Area: Marienville
Service Area: Tionesta
*Franklin
Service Area: Dry Run
Population Group: Low Inc/MFW—Chambersburg
*Fulton
Service Area: Broad Top/Cromwell
Service Area: Hancock (MD/PA)
*Greene
Service Area: Clay/Battelle (WV/PA)
Population Group: Low Inc—Carmichaels
Population Group: Low Inc—Greensboro
Population Group: Low Inc—Western Greene
Facility: Sci Greene
*Huntingdon
Service Area: Alexandria
Service Area: Broad Top/Cromwell
Service Area: Mt. Union
Population Group: Low Inc—Big Valley
Facility: Sci Smithfield
*Indiana
Service Area: Dayton/Rural Valley
Service Area: North Indiana
Service Area: Punxsutawney
Population Group: Low Inc—Ebensburg
*Jefferson
Service Area: Punxsutawney
*Juniata
Population Group: Low Inc—Middleburg
Population Group: Low Inc—Mifflintown
Lancaster
Population Group: Low Inc—SE Lancaster
Population Group: Med Ind—Welsh Mountain
Lycoming
Service Area: Eastern Lycoming
Service Area: Northern Lycoming
Service Area: Western Lycoming
Facility: Sci Muncy
*McKean
Population Group: Low Inc—Coudersport
Facility: FCI Mckean
Mercer
Service Area: Stoneboro
Population Group: Low Inc—Sharon/Farrell
*Mifflin
Service Area: Mt. Union
Population Group: Low Inc—Big Valley
Monroe
Service Area: Mount Pocono
Service Area: South Monroe
Northampton
Population Group: Low Inc—Easton
*Northumberland
Service Area: Herndon
Service Area: Millersburg
Philadelphia
Service Area: Upper N. East Philadelphia
Service Area: Upper N. West Philadelphia
Population Group: Low Inc—Lower North Philadelphia
*Pike
Population Group: Low Inc—Paupack
*Potter
Service Area: Westfield
Population Group: Low Inc—Coudersport
*Schuylkill
Service Area: Millersburg
Facility: FCI Schuylkill
*Snyder
Population Group: Low Inc—Middleburg
Population Group: Low Inc—Mcclure
Somerset
Service Area: Indian Lake
Population Group: Low Inc—Confluence Service Area
*Sullivan
Service Area: La Porte
Service Area: Northern Lycoming
*Susquehanna
Service Area: Montrose
*Tioga
Service Area: Blossburg
Service Area: Elkland (NY/PA)
Service Area: Western Lycoming
Service Area: Westfield
Population Group: Low Inc—Coudersport
*Union
Population Group: Low Inc—Mcclure
Facility: FCI Allenwood
Facility: USP Allenwood
Facility: USP Lewisburg
*Venango
Service Area: Tionesta
Population Group: Low Inc—Titusville
*Warren
Population Group: Low Inc—Union City (PA/NY)
Population Group: Low Inc—Titusville
*Wayne
Population Group: Low Inc—Honesdale
Population Group: Low Inc—Northern Wayne
Population Group: Low Inc—Paupack
Westmoreland
Service Area: Kiski Valley
Population Group: Low Inc—Ebensburg
York
Service Area: York

PRIMARY MEDICAL CARE: Pennsylvania Service Area Listing
Service Area Name
Alexandria
County—Huntingdon
Parts:
Alexandria Borough
Franklin Township
Logan Township
Morris Township
Petersburg Borough
Porter Township
Spruce Creek Township
Arlington Heights/St Clair
County—Allegheny
Parts:
C.T. 1603-1604
C.T. 1606
Armstrong-Clarion
County—Armstrong
Parts:
Bradys Bend Township
Madison Township
Perry Township
Sugarcreek Township
Washington Township
County—Clarion
Parts:
Brady Township
East Brady Borough
Madison Township
Rimersburg Borough
Blossburg
County—Tioga
Parts:
Bloss Township
Blossburg Borough
Covington Township
Duncan Township
Hamilton Township
Liberty Borough
Liberty Township
Putnam Township
Union Township
Ward Township
Broad Top/Cromwell
County—Bedford
Parts:
Broad Top Township
Coaldale Borough
Hopewell Borough
Hopewell Township
Liberty Township
Saxton Borough
County—Fulton
Parts:
Dublin Township
Taylor Township
Wells Township
County—Huntingdon
Parts:
Broad Top City Borough
Carbon Township
Clay Township
Coalmont Borough
Dublin Township
Dudley Borough
Hopewell Township
Juniata Township
Lincoln Township
Marklesburg Borough
Penn Township
Saltillo Borough
Shade Gap Borough
Smithfield Township
Springfield Township
Three Springs Borough
Todd Township
Walker Township
Wood Township
Clay/Battelle (WV/PA)
County—Greene
Parts:
Freeport Township
Gilmore Township
Springhill Township
Wayne Township
Coalport
County—Cambria
Parts:
Reade Township
White Township
County—Clearfield
Parts:
Beccaria Township
Bigler Township
Chest Township
Coalport Borough
Glen Hope Borough
Gulich Township
Irvona Borough
Jordan Township
Ramey Borough
Westover Borough
Conneautville
County—Crawford
Parts:
Beaver Township
Conneaut Township
Conneautville Borough
Spring Township
Springboro Borough
Summerhill Township
Dayton/Rural Valley
County—Armstrong
Parts:
Atwood Boro
Cowanshannock Twp
Dayton Boro
Elderton Boro
Plumcreek Twp
Rural Valley Boro
Wayne Twp
County—Indiana
Parts:
Plumville Boro
South Mahoning Twp
Dry Run
County—Franklin
Parts:
Fannett Township
Metal Township
Eastern Lycoming
County—Columbia
Parts:
Greenwood Township
Jackson Township
Madison Township
Millville Borough
Pine Township
County—Lycoming
Parts:
Franklin Township
Jordan Township
Moreland Township
Penn Township
Picture Rocks Borough
Shrewsbury Township
Elkland (NY/PA)
County—Tioga
Parts:
Elkland Borough
Elkland Township
Farmington Township
Nelson Township
Osceola Township
Hancock (MD/PA)
County—Fulton
Parts:
Bethel Township
Thompson Township
Union Township
Herndon
County—Northumberland
Parts:
Herndon Borough
Jackson Township
Jordan Township
Little Mahanoy Township
Upper Mahanoy Township
Washington Township
West Cameron Township
Zerbe Township
Hill District
County—Allegheny
Parts:
C.T. 305
C.T. 314
C.T. 501-502
C.T. 506
C.T. 508-511
Homewood-Brushton
County—Allegheny
Parts:
C.T. 1207
C.T. 1301-1306
C.T. 5604
C.T. 5606
C.T. 5611-5612
Indian Lake
County—Somerset
Parts:
Central City Borough
Indian Lake Borough
Shade Township
Shanksville Borough
Stonycreek Township
Kiski Valley
County—Armstrong
Parts:
Apollo Borough
Bethel Township
Burrell Township
Gilpin Township
Kiskiminetas Township
Leechburg Borough
North Apollo Borough
Parks Township
South Bend Township
County—Westmoreland
Parts:
Allegheny Township
Avonmore Borough
Bell Township
East Vandergrift Borough
Hyde Park Borough
Oklahoma Borough
Vandergrift Borough
Washington Township
West Leechburg Borough
La Porte
County—Bradford
Parts:
Albany Township
New Albany Borough
Overton Township
Wilmot Township
County—Sullivan
Parts:
Cherry Township
Colley Township
Davidson Township
Dushore Borough
Eagles Mere Borough
Elkland Township
Forks Township
Forksville Borough
Hillsgrove Township
Laporte Borough
Laporte Township
Shrewsbury Township
Fannet Twp
Parts:
Metal Twp
Mahaffey
County—Clearfield
Parts:
Bell Township
Burnside Borough
Burnside Township
Ferguson Township
Grampian Borough
Greenwood Township
Lumber City Borough
Mahaffey Borough
New Washington Borough
Newburg Borough
Penn Township
Manchester
County—Allegheny
Parts:
C.T. 2107
C.T. 2503
C.T. 2507-2508
Marienville
County—Elk
Parts:
Millstone Township
County—Forest
Parts:
Barnett Township
Green Township
Howe Township
Jenks Township
Kingsley Township
Markleysburg
County—Fayette
Parts:
Henry Clay Township
Markleysburg Borough
Ohiopyle Borough
Stewart Township
Wharton Township
McKees Rocks-Stowe
County—Allegheny
Parts:
C.T. 4621
C.T. 4626
C.T. 4639
C.T. 4644
Millersburg
County—Dauphin
Parts:
Berrysburg Borough
Elizabethville Borough
Gratz Borough
Halifax Borough
Halifax Township
Jackson Township
Jefferson Township
Lykens Borough
Lykens Township
Mifflin Township
Millersburg Borough
Pillow Borough
Reed Township
Rush Township
Upper Paxton Township
Washington Township
Wayne Township
Wiconisco Township
Williamstown Borough
Williams Township
County—Northumberland
Parts:
Lower Mahanoy Township
County—Schuylkill
Parts:
Porter Township
Tower City Borough
Montrose
County—Susquehanna
Parts:
Auburn Township
Bridgewater Township
Brooklyn Township
Dimock Township
Forest Lake Township
Franklin Township
Harford Township
Hop Bottom Borough
Jessup Township
Lathrop Township
Lenox Township
Liberty Township
Montrose Borough
Rush Township
Silver Lake Township
Springville Township
Mount Pocono
County—Monroe
Parts:
Barrett Twp
Coolbaugh Twp
Mount Pocono Boro
Paradise Twp
Tobyhanna Twp
Tunkhannock Twp
Mt. Union
County—Huntingdon
Parts:
Brady Township
Cass Township
Cassville Borough
Cromwell Township
Mapleton Borough
Mill Creek Borough
Mount Union Borough
Orbisonia Borough
Rockhill Furnace Borough
Shirley Township
Shirleysburg Borough
Tell Township
Union Township
County—Mifflin
Parts:
Bratton Township
Kistler Borough
McVeytown Borough
Newton Hamilton Borough
Oliver Township
Wayne Township
New Bethlehem/Hawthorn
County—Armstrong
Parts:
Mahoning Twp
Redbank Twp
South Bethlehem Boro
County—Clarion
Parts:
Hawthorn Boro
New Bethlehem Boro
Porter Twp
Redbank Twp
North Braddock
County—Allegheny
Parts:
C.T. 5041
C.T. 5100
C.T. 5120
C.T. 5128-5129
C.T. 5138
C.T. 5140
North Indiana
County—Indiana
Parts:
Cherry Tree Borough
East Mahoning Township
Ernest Borough
Grant Township
Green Township
Marion Center Borough
Montgomery Township
Rayne Township
Northeast Butler
County—Armstrong
Parts:
Hovey Township
Parker City
County—Butler
Parts:
Allegheny Township
Bruin Borough
Cherry Valley Borough
Concord Township
Eau Claire Borough
Fairview Borough
Fairview Township
Karns City Borough
Parker Township
Petrolia Borough
Venango Township
Washington Township
Northern Lycoming
County—Lycoming
Parts:
Cascade Township
Gamble Township
Lewis Township
McIntyre Township
McNett Township
Mill Creek Township
Plunketts Creek Township
County—Sullivan
Parts:
Fox Township
Punxsutawney
County—Indiana
Parts:
Banks Twp
Canoe Twp
Glen Campbell Boro
North Mahoning Twp
Smicksburg Boro
West Mahoning Twp
County—Jefferson
Parts:
Beaver Twp
Bell Twp
Big Run Boro
Gaskill Twp
Henderson Twp
McCalmont Twp
Oliver Twp
Perry Twp
Porter Twp
Punxsutawney Boro
Ringgold Twp
Timblin Boro
Worthville Boro
Young Twp
Republic
County—Fayette
Parts:
Brownsville Borough
Brownsville Township
Luzerne Township
Redstone Township
Snow Shoe
County—Centre
Parts:
Boggs Twp
Burnside Twp
Curtin Twp
Howard Twp
Howard Boro
Liberty Twp
Snow Shoe Boro
Snow Shoe Twp
Union Twp
Unionville Boro
County—Clearfield
Parts:
Cooper Twp
Covington Twp
Karthaus Twp
County—Clinton
Parts:
Beech Creek Twp
Beech Creek Boro
West Keating Twp
South Braddock
County—Allegheny
Parts:
C.T. 4824
C.T. 4838
C.T. 4843
C.T. 4850
C.T. 4867-4869
C.T. 4882
South Monroe
County—Monroe
Parts:
Chestnuthill Twp
Eldred Twp
Polk Twp
Ross Twp
Southern Erie
County—Erie
Parts:
Albion Borough
Conneaut Township
Cranesville Borough
Elk Creek Township
Platea Borough
Springfield Township
Stoneboro
County—Mercer
Parts:
Coolspring Twp
Deer Creek Twp
Fairview Twp
Fredonia Boro
French Creek Twp
Jackson Twp
Jackson Center Boro
Lake Twp
Mill Creek Twp
New Lebanon Boro
New Vernon Twp
Perry Twp
Sandy Lake Boro
Sandy Lake Twp
Stoneboro Boro
Tionesta
County—Forest
Parts:
Harmony Twp
Hickory Twp
Tionesta Boro
Tionesta Twp
County—Venango
Parts:
President Twp
Upper N. East Philadelphia
County—Philadelphia
Parts:
C.T. 175-176
C.T. 194-199
C.T. 287
Upper N. West Philadelphia
County—Philadelphia
Parts:
C.T. 170-174
C.T. 200-205
C.T. 280
C.T. 283-284
West End Pittsburgh
County—Allegheny
Parts:
C.T. 2004
C.T. 2017-2022
C.T. 2024
C.T. 2807-2808
C.T. 2814
C.T. 2816
Western Lycoming
County—Clinton
Parts:
Gallagher Township
County—Lycoming
Parts:
Brown Township
Cogan House Township
Cummings Township
Jackson Township
McHenry Township
Pine Township
Watson Township
County—Tioga
Parts:
Elk Township
Morris Township
Westfield
County—Potter
Parts:
Harrison Township
Hector Township
County—Tioga
Parts:
Brookfield Township
Chatham Township
Clymer Township
Deerfield Township
Knoxville Borough
Westfield Township
Westfield Borough
York
County—York
Parts:
C.T. 1-3
C.T. 5
C.T. 7
C.T. 9-12
C.T. 15-16

PRIMARY MEDICAL CARE: Pennsylvania Population Group Listing
Population Group
Low Inc—Big Valley
County—Huntingdon
Parts:
Barree Twp
Jackson Twp
Miller Twp
County—Mifflin
Parts:
Armagh Twp
Brown Twp
Decatur Twp
Menno Twp
Union Twp
Low Inc—Carmichaels
County—Greene
Parts:
Carmichaels Borough
Clarksville Borough
Cumberland Township
Jefferson Borough
Jefferson Township
Morgan Township
Rices Landing Borough
Low Inc—Confluence Service Area
County—Somerset
Parts:
Addison Borough
Addison Twp
Casselman Borough
Confluence Borough
Lower Turkeyfoot Twp
Middlecreek Twp
Seven Springs Borough
Upper Turkeyfoottwp
Ursina Borough
Low Inc—Coudersport
County—McKean
Parts:
Annin Township
Ceres Township
Eldred Borough
Eldred Township
Keating Township
Liberty Township
Norwich Township
Otto Township
Port Allegany Borough
Smethport Borough
County—Potter
Parts:
Abbott Township
Allegany Township
Austin Borough
Bingham Township
Clara Township
Coudersport Borough
East Fork District
Eulalia Township
Galton Borough
Genesee Township
Hebron Township
Homer Township
Keating Township
Oswayo Township
Oswayo Borough
Pike Township
Pleasant Valley Township
Portage Township
Roulette Township
Sharon Township
Shinglehouse Borough
Stewardson Township
Summit Township
Sweden Township
Sylvania Township
Ulysses Borough
Ulysses Township
West Branch Township
Wharton Township
County—Tioga
Parts:
Gaines Township
Low Inc—East Liberty
County—Allegheny
Parts:
C.T. 818
C.T. 1016-1017
C.T. 1113-1115
C.T. 1201-1204
C.T. 1208
Low Inc—East Liverpool
County—Beaver
Parts:
Georgetown Boro
Glasgow Boro
Greene Twp
Hookstown Boro
Ohioville Boro
Low Inc—Easton
County—Northampton
Parts:
C.T. 143-147
Low Inc—Ebensburg
County—Cambria
Parts:
Allegheny Borough
Ashville Borough
Barnesboro Borough
Barr Township
Blacklick Township
Cambria Township
Carrolltown Borough
Cassandra Borough
Chest Springs Borough
Cresson Borough
Cresson Township
East Carroll Township
Ebensburg Borough
Gallitzin Borough
Gallitzin Township
Jackson Township
Lilly Borough
Loretto Borough
Munster Township
Nanty-Glo Borough
Patton Borough
Portage Borough
Portage Township
Sankertown Borough
Spangler Borough
Susquehanna Township
Tunnelhill Borough
Vintondale Borough
Washington Township
West Carroll Township
County—Indiana
Parts:
Armagh Borough
Buffington Township
East Wheatfield Township
Pine Township
West Wheatfield
County—Westmoreland
Parts:
New Florence Borough
Seward Borough
St. Clair Township
Low Inc—Greensboro
County—Fayette
Parts:
Nicholson Twp
Point Marion Boro
Springhill Twp
County—Greene
Parts:
Dunkard Twp
Greene Twp
Greensboro Boro
Monongahela Twp
Low Inc—Honesdale
County—Wayne
Parts:
Berlin Township
Bethany Borough
Canaan Township
Cherry Ridge Township
Clinton Township
Dyberry Townshhip
Honesdale Borough
Oregon Township
Prompton Borough
South Canaan Township
Texas Township
Waymart Borough
Low Inc—Lower North Philadelphia
County—Philadelphia
Parts:
Ct 125.00
Ct 126.00
Ct 127.00
Ct 128.00
Ct 129.00
Ct 130.00
Ct 131.00
Ct 132.00
Ct 133.00
Ct 134.00
Ct 135.00
Ct 136.00
Ct 137.00
Ct 138.00
Ct 139.00
Ct 140.00
Ct 141.00
Ct 142.00
Ct 144.00
Ct 145.00
Ct 146.00
Ct 147.00
Ct 148.00
Ct 149.00
Ct 150.00
Ct 151.00
Ct 152.00
Ct 153.00
Ct 154.00
Ct 155.00
Ct 156.00
Ct 157.00
Ct 162.00
Ct 163.00
Ct 164.00
Ct 165.00
Ct 166.00
Ct 167.00
Ct 168.00
Ct 169.00
Low Inc—Mcclure
County—Snyder
Parts:
Adams Twp
McClure Boro
Spring Twp
West Beaver Twp
County—Union
Parts:
Hartleton Boro
Hartley Twp
Low Inc—Mckeesport
County—Allegheny
Parts:
C.T. 5010
C.T. 5509
C.T. 5512
C.T. 5519-5524
Low Inc—Middleburg
County—Juniata
Parts:
Monroe Township
Susquehanna Township
County—Snyder
Parts:
Beaver Township
Beavertown Borough
Centre Township
Chapman Township
Franklin Township
Freeburg Borough
Middleburg Borough
Perry Township
Union Township
Washington Township
West Perry Township
Low Inc—Mifflintown
County—Juniata
Parts:
Beale Township
Fayette Township
Fermanagh Township
Lack Township
Mifflin Borough
Mifflintown Borough
Milford Township
Port Royal Borough
Spruce Hill Township
Turbett Township
Tuscarora Township
Walker Township
Low Inc—Northern Wayne
County—Wayne
Parts:
Buckingham Township
Damascus Township
Lebanon Township
Manchester Township
Mt. Pleasant Township
Preston Township
Scott Township
Starrucca Borough
Low Inc—Paupack
County—Pike
Parts:
Blooming Grove Twp.
Greene Township
Lackawaxen Township
Palmyra Township
Porter Townsip
Shohola Township
County—Wayne
Parts:
Dreher Township
Hawley Borough
Lake Township
Palmyra Township
Paupack Township
Salem Township
Sterling Township
Low Inc—Philipsburg
County—Centre
Parts:
Philipsburg Boro
Rush Twp
South Philipsburg Boro
County—Clearfield
Parts:
Boggs Twp
Brisbin Boro
Chester Hill Boro
Decatur Twp
Graham Twp
Houtzdale Boro
Morris Twp
Osceola Mills Boro
Wallaceton Boro
Woodward Twp
Low Inc—Pleasantville
County—Bedford
Parts:
East St. Clair Township
Kimmel Township
King Township
Lincoln Township
Pleasantville Borough
St. Clairsville Borough
Union Township
West St. Clair Township
County—Blair
Parts:
Greenfield Township
Low Inc—Sharon/Farrell
County—Mercer
Parts:
C.T. 301-309
Low Inc—SE Lancaster
County—Lancaster
Parts:
C.T. 1
C.T. 7-9
C.T. 14-16
Low Inc—Titusville
County—Crawford
Parts:
Athens Township
Centreville Borough
Hydetown Borough
Oil Creek Township
Randolph Township
Richmond Township
Rome Township
Steuben Township
Titusville City
Townville Borough
Troy Township
Wayne Township
County—Venango
Parts:
Allegheny Township
Cherrytree Township
Cooperstown Borough
Jackson Township
Oilcreek Township
Pleasantville Borough
Plum Township
County—Warren
Parts:
Eldred Township
Southwest Township
Low Inc—Union City (PA/NY)
County—Crawford
Parts:
Bloomfield Twp
Rockdale Twp
Sparta Twp
Spartansburg Boro
County—Erie
Parts:
C.T. 112.01
C.T. 118.01-118.02
C.T. 119
C.T. 120.01-120.02
C.T. 121
County—Warren
Parts:
Columbus Twp
Spring Creek Twp
Low Inc—Western Greene
County—Greene
Parts:
Aleppo Twp
Center Twp
Franklin Twp
Gray Twp
Jackson Twp
Morris Twp
Richhill Twp
Washington Twp
Waynesburg Boro
Low Inc/MFW—Chambersburg
County—Franklin
Parts:
Chambersburg Boro
Hamilton Twp
Letterkenny Twp
St. Thomas Twp
Low Income—Harrisburg
County—Dauphin
Parts:
C.T. 201-217
Med Ind—Erie City
County—Erie
Parts:
C.T. 1-30
Med Ind—Welsh Mountain
County—Berks
Parts:
Brecknock Twp
Caernarvon Twp
County—Chester
Parts:
Honey Brook Boro
Honey Brook Twp
County—Lancaster
Parts:
Adamstown Boro
Akron Boro
Brecknock Twp
Caernarvon Twp
Christiana Boro
Denver Boro
Earl Twp
East Cocalico Twp
East Earl Twp
Ephrata Boro
Ephrata Twp
Leacock Twp
New Holland Boro
Paradise Twp
Sadsbury Twp
Salisbury Twp
Terre Hill Boro
Upper Leacock Twp
West Earl Twp

PRIMARY MEDICAL CARE: Pennsylvania Facility Listing
Facility Name
FCI Allenwood
County—Union
FCI Mckean
County—McKean
FCI Schuylkill
County—Schuylkill
Sci Camp Hill
County—Cumberland
Sci Cresson
County—Cambria
Sci Greene
County—Greene
Sci Houtzdale
County—Clearfield
Sci Muncy
County—Lycoming
Sci Rockview
County—Centre
Sci Smithfield
County—Huntingdon
USP Allenwood
County—Union
USP Lewisburg
County—Union

PRIMARY MEDICAL CARE: Rhode Island County Listing
County Name
Newport
Population Group: Low Inc—Newport Co
Providence
Service Area: Northwest Providence
Service Area: Northwest Woonsocket
Population Group: Low Inc—Pawtucket/Central Falls
Population Group: Low Inc—Providence City
Facility: Ri Adult Corr Inst (Cranston)
Washington
Population Group: Narragansett Indian Tribe
Facility: Health Center Of South County
Facility: Wood River Health Services

PRIMARY MEDICAL CARE: Rhode Island Service Area Listing
Service Area Name
Northwest Providence
County—Providence
Parts:
Burrillville Town
Foster Town
Glocester Town
Northwest Woonsocket
County—Providence
Parts:
C.T. 172
C.T. 174
C.T. 176
C.T. 178-182

PRIMARY MEDICAL CARE: Rhode Island Population Group Listing
Population Group
Low Inc—Newport Co
County—Newport
Parts:
Low Income
Low Inc—Pawtucket/Central Falls
County—Providence
Parts:
Ct 108
Ct 109
Ct 110
Ct 111
Ct 149
Ct 150
Ct 151
Ct 152
Ct 153
Ct 154
Ct 155
Ct 156
Ct 157
Ct 158
Ct 159
Ct 160
Ct 161
Ct 163
Ct 164
Ct 165
Ct 166
Ct 167.97
Ct 167.98
Ct 168
Ct 169
Ct 170
Ct 171
Low Inc—Providence City
County—Providence
Parts:
Ct 011
Ct 012
Ct 013
Ct 014
Ct 015
Ct 016
Ct 017
Ct 018
Ct 019
Ct 020
Ct 021
Ct 022
Ct 023
Ct 025
Ct 026
Ct 027
Ct 028
Ct 029
Ct 030
Ct 031
Ct 032
Ct 033
Ct 035
Ct 036
Ct 037
C.T. 1-10
Narragansett Indian Tribe
County—Washington
Parts:
Charlestown Town

PRIMARY MEDICAL CARE: Rhode Island Facility Listing
Facility Name
Health Center Of South County
County—Washington
Ri Adult Corr Inst (Cranston)
County—Providence
Wood River Health Services
County—Washington

PRIMARY MEDICAL CARE: South Carolina County Listing
County Name
*Abbeville
Aiken
Population Group: Low Inc—Aiken Co
*Allendale
Facility: Low Co Health Care System
Anderson
Population Group: Low Inc—Anderson Co
*Bamberg
Population Group: Low Inc—Bamberg
*Barnwell
*Beaufort
Service Area: Sheldon
Berkeley
Service Area: Cross
Service Area: McClellanville
Service Area: Northern Berkeley
*Calhoun
Charleston
Service Area: Edisto Is
Service Area: McClellanville
Service Area: Ravenel—Hollywood
Population Group: Low Inc—Sea Islands
Population Group: Low Inc—Peninsula Charleston
Population Group: Low Inc Pop—North Charleston
*Chester
*Chesterfield
Service Area: Sandhills
Population Group: Low Inc—Society Hill/E Chesterfield
*Clarendon
*Darlington
Population Group: Low Inc—Society Hill/E Chesterfield
*Dillon
Dorchester
Service Area: St George
Edgefield
*Fairfield
Florence
Service Area: Johnsonville/Brittons Neck
Service Area: Olanta
Population Group: Low Inc—Lake City
*Georgetown
Population Group: Low Inc—Georgetown
Greenville
Service Area: Slater-Marietta
Population Group: Low Inc—Inner City Greenville
*Hampton (g)
Facility: FCI Estil
Horry
Population Group: Low Inc—Loris
Population Group: Low Inc—Conway
*Jasper
*Lancaster
Service Area: Heath Springs
*Laurens
Population Group: Low Inc—Laurens
*Lee
Lexington
Service Area: Batesburg/Leesville
Service Area: Pelion-Swansea
*Marion
Service Area: Johnsonville/Brittons Neck
Population Group: Low Income—Marion/Mullins
*Marlboro
*McCormick
*Newberry
Service Area: Whitmire
*Oconee
Population Group: Low Inc—Oconee Co
*Orangeburg
Service Area: Eastern Orangeburg
Population Group: Low Inc Western Orangeburg
Richland
Service Area: Eastover
Service Area: Hopkins
Population Group: Low Inc—Columbia
*Saluda
Spartanburg
Service Area: Chesnee
Service Area: Woodruff/Enoree
Sumter
Service Area: Olanta
*Union
*Williamsburg
York
Service Area: Western York
Population Group: Catawba Indian Nation
Population Group: Low Inc—South Rock Hill

PRIMARY MEDICAL CARE: South Carolina Service Area Listing
Service Area Name
Batesburg/Leesville
County—Lexington
Parts:
Batesburg-Leesville Division
Gilbert Division
Chesnee
County—Spartanburg
Parts:
Chesnee Division
Mayo Division
Cross
County—Berkeley
Parts:
Cross Division
Eastern Orangeburg
County—Orangeburg
Parts:
Bowman Division
Elloree Division
Eutawville Division
Holly Hill Division
Vance Division
Eastover
County—Richland
Parts:
Eastover Division
Edisto Is
County—Charleston
Parts:
C.T. 23.98
Heath Springs
County—Lancaster
Parts:
Heath Springs Division
Kershaw Division
Hopkins
County—Richland
Parts:
Hopkins Division
Johnsonville/Brittons Neck
County—Florence
Parts:
Johnsonville Division
County—Marion
Parts:
Brittons Neck Division
Centenary Division
McClellanville
County—Berkeley
Parts:
C.T. 204.01
County—Charleston
Parts:
C.T. 46.01
C.T. 50
Northern Berkeley
County—Berkeley
Parts:
Bonneau Division
St. Stephen Division
Olanta
County—Florence
Parts:
Olanta Division
Sardis Division
County—Sumter
Parts:
Shiloh Division
Pelion-Swansea
County—Lexington
Parts:
Pelion Division
Swansea Division
Ravenel—Hollywood
County—Charleston
Parts:
C.T. 24.98
C.T. 25
Sandhills
County—Chesterfield
Parts:
Jefferson Division
McBee Division
Pageland Division
Sheldon
County—Beaufort
Parts:
Sheldon Division
Slater-Marietta
County—Greenville
Parts:
Highland Division
Slater Division
Tigerville Division
St George
County—Dorchester
Parts:
Harleyville Division
Reevesville Division
St. George Division
Western York
County—York
Parts:
Clover Division
Hickory Grove Division
McConnells Division
York Division
Whitmire
County—Newberry
Parts:
Whitmire Division
Woodruff/Enoree
County—Spartanburg
Parts:
Enoree Division
Woodruff Division

PRIMARY MEDICAL CARE: South Carolina Population Group Listing
Population Group
Catawba Indian Nation
County—York
Parts:
C.T. 612.02
Low Inc Western Orangeburg
County—Orangeburg
Parts:
Branchville Div
Cope Div
Neeses Div
North Div
Norway Div
Orangeburg Div
Orangeburg West Div
Springfield Div
Low Inc—Aiken Co
County—Aiken
Parts:
Low Income
Low Inc—Anderson Co
County—Anderson
Parts:
Low Income
Low Inc—Bamberg
County—Bamberg
Parts:
Low Income
Low Inc—Columbia
County—Richland
Parts:
C.T. 1-19
C.T. 20.01-20.02
C.T. 21-28
C.T. 105.01-105.02
C.T. 106
C.T. 107.01-107.03
C.T. 108.02-108.04
C.T. 109-110
C.T. 111.01-111.02
C.T. 112.01-112.02
C.T. 116.03-116.06
C.T. 117.01-117.02
Low Inc—Conway
County—Horry
Parts:
Aynor CCD
Conway East CCD
Conway CCD
Low Inc—Georgetown
County—Georgetown
Parts:
Andrews CCD
Georgetown CCD
Plantersville CCD
Pleasanthill-Folly Grove
Sampit-Santee CCD
Low Inc—Inner City Greenville
County—Greenville
Parts:
C.T. 1-10
C.T. 12.02
C.T. 13.01
C.T. 21.04-21.05
C.T. 21.08
C.T. 22.01-22.02
C.T. 23.03-23.04
Low Inc—Lake City
County—Florence
Parts:
Coward CCD
Lake City—Scranton
Low Inc—Laurens
County—Laurens
Parts:
Low Income
Low Inc—Loris
County—Horry
Parts:
Floyd CCD
Longs CCD
Loris CCD
Low Inc—Oconee Co
County—Oconee
Parts:
Low Income
Low Inc—Peninsula Charleston
County—Charleston
Parts:
C.T. 4
C.T. 6-11
C.T. 13-14
Low Inc—Sea Islands
County—Charleston
Parts:
C.T. 21.01-21.02
C.T. 22
Low Inc—Society Hill/E Chesterfield
County—Chesterfield
Parts:
Cheraw Division
Chesterfield Division
Patrick Division
County—Darlington
Parts:
Society Hill Division
Low Inc—South Rock Hill
County—York
Parts:
C.T. 601.01-601.02
C.T. 602-603
C.T. 604.01-604.02
C.T. 605.01-605.02
Low Inc Pop—North Charleston
County—Charleston
Parts:
C.T. 37
C.T. 41
C.T. 43-45
Low Income—Marion/Mullins
County—Marion
Parts:
Marion CCD
Mullins CCD

PRIMARY MEDICAL CARE: South Carolina Facility Listing
Facility Name
FCI Estil
County—Hampton
Low Co Health Care System
County—Allendale

PRIMARY MEDICAL CARE: South Dakota County Listing
County Name
*Aurora
Service Area: Corsica/Armour
*Bennett
*Brookings
Service Area: Flandreau/Elkton
*Brown
Service Area: Ellendale/Edgeley (ND/SD)
*Butte
Service Area: Newell
*Campbell
*Charles Mix
*Clark
*Clay
Service Area: Beresford/Alcester
*Corson
Service Area: Isabel
Service Area: Lemmon (SD/ND)
Service Area: McLaughlin
*Davison
Service Area: Corsica/Armour
*Day
*Deuel
*Dewey
Service Area: Eagle Butte
Service Area: Isabel
*Douglas
Service Area: Corsica/Armour
*Edmunds
*Fall River
*Faulk
*Grant
Service Area: Milbank
*Gregory
Service Area: Fairfax
*Haakon
*Hamlin
*Hanson
Service Area: Salem
*Harding
*Hyde
*Jackson
*Jones
*Kingsbury
Lincoln
*Lyman
*McCook
Service Area: Salem
*Meade
Service Area: Faith
*Mellette
*Miner
*Moody
Service Area: Flandreau/Elkton
*MCPherson
Service Area: Leola
Pennington
Service Area: N. Rapid City
*Perkins
Service Area: Faith
Service Area: Lemmon (SD/ND)
*Potter
Service Area: Gettysburg/Agar
*Roberts
Service Area: Milbank
*Shannon
*Spink
*Sully
Service Area: Gettysburg/Agar
*Todd
*Turner
*Union
Service Area: Beresford/Alcester
Service Area: Elk Point
*Ziebach
Service Area: Eagle Butte
Service Area: Faith
Service Area: Isabel

PRIMARY MEDICAL CARE: South Dakota Service Area Listing
Service Area Name
Beresford/Alcester
County—Clay
Parts:
Glenwood Township
County—Union
Parts:
Beresford City
Big Sioux Township
Emmet Township
Prairie Township
Virginia Township
Corsica/Armour
County—Aurora
Parts:
Aurora Township
Center Township
Truro Township
Washington Township
County—Davison
Parts:
Baker Township
County—Douglas
Eagle Butte
County—Dewey
Parts:
Eagle Butte City
South Dewey Unorg.
County—Ziebach
Parts:
Eagle Butte City
South Ziebach Unorg.
Elk Point
County—Union
Parts:
Brule Township
Elk Point City
Elk Point Township
Richland Unorg.
Ellendale/Edgeley (ND/SD)
County—Brown
Parts:
Allison Township
Frederick Town
Frederick Township
Greenfield Township
Liberty Township
Osceola Township
Palmyra Township
Richland Township
Savo Township
Fairfax
County—Gregory
Parts:
Bonesteel City
East Gregory Unorg
Fairfax Twp
Fairfax Town
Pleasant Valley Twp
Schriever Twp
Southeast Gregory Unorg
St Charles Twp
Star Valley Twp
Faith
County—Meade
Parts:
Eagle Township
Faith City
Howard Township
North Meade Unorg.
Union Township
Upper Red Owl Township
County—Perkins
Parts:
Ada Township
Antelope Township
Beck Township
Brushy Township
Chance Township
Chaudoin Township
Duell Township
Englewood Township
Foster Township
Hall Township
Highland Township
Lone Tree Township
Maltby Township
Martin Township
Moreau Township
South Perkins Unorg.
Southwest Perkins Unorg.
Vickers Township
Vrooman Township
Wells Township
West Central Perkins Unorg.
West Perkins Unorg.
Wyandotte Township
County—Ziebach
Parts:
Dupree City
Dupree Unorg.
Flandreau/Elkton
County—Brookings
Parts:
Elkton City
Elkton Township
County—Moody
Gettysburg/Agar
County—Potter
County—Sully
Isabel
County—Corson
Parts:
Pleasant Ridge Township
County—Dewey
Parts:
Isabel City
North Dewey Unorg.
Timber Lake City
County—Ziebach
Parts:
North Ziebach Unorg.
Lemmon (SD/ND)
County—Corson
Parts:
Custer Twp
Delaney Twp
Grand Valley Twp
Lake Twp
Lemon No. 2 Unorg
McIntosh City
Morristown Town
Pioneer Twp
Prairie View Twp
Riverside Twp
Rolling Green Twp
Sherman Twp
Twin Butte Twp
Watauga Twp
West Corson Unorg
County—Perkins
Parts:
Anderson Twp
Barrett Twp
Bison Town
Bison Twp
Burdick Twp
Cash Twp
Castle Butte Twp
Clark Twp
De Witt Twp
Duck Creek Unorg
East Perkins Unorg
Flat Creek Twp
Fredlund Twp
Glendo Twp
Grand River Twp
Horse Creek Twp
Independence Unorg
Lemmon City
Liberty Twp
Lincoln Twp
Lodgepole Twp
Marshfield Twp
Meadow Twp
Plateau Twp
Pleasant Valley Twp
Rainbow Twp
Rockford Twp
Scotch Cap Twp
Sidney Twp
Strool Twp
Trail Twp
Vail Twp
Viking Twp
White Hill Twp
White Butte Twp
Wilson Twp
Leola
County—MCPherson
Parts:
Carl Township
Central MCPherson Unorg.
Hoffman Township
Leola City
Long Lake Town
Wachter Township
Wacker Township
Weber Township
Wetonka Town
McLaughlin
County—Corson
Parts:
Cadillac Township
Central Corson Unorg.
Lincoln Township
Mahto Township
McLaughlin City
Mission Township
Northeast Corson Unorg.
Ridgeland Township
Wakpala Township
Walker Township
Milbank
County—Grant
Parts:
Adams Twp
Alban Twp
Albee Town
Blooming Valley Twp
Farmington Twp
Georgia Twp
Grant Center Twp
Kilborn Twp
La Bolt Town
Lura Twp
Madison Twp
Marvin Town
Mazeppa Twp
Melrose Twp
Milbank City
Osceola Twp
Revillo Town
Stockholm Twp
Stockholm Town
Strandburg Town
Troy Twp
Twin Brooks Twp
Twin Brooks Town
Vernon Twp
County—Roberts
Parts:
Garfield Twp
Geneseo Twp
N. Rapid City
County—Pennington
Parts:
C.T. 101-105
C.T. 114-115
Newell
County—Butte
Parts:
East Butte Unorg
Newell City
Union Twp
Vale Twp
Salem
County—Hanson
Parts:
Edgerton Twp
Emery Town
Farmer Town
Spring Lake Twp
Taylor Twp
County—McCook

PRIMARY MEDICAL CARE: Tennessee County Listing
County Name
Anderson
Service Area: Briceville/Lake City
*Bedford
Population Group: Low Inc—Bedford
*Bledsoe
Service Area: Dayton/Pikeville/Decatur
Blount
Population Group: Low Inc—Blount
*Campbell
Population Group: Low Inc—Campbell Co
Carter
Population Group: Low Inc—Carter
Cheatham
*Claiborne
Population Group: Low Inc—Claiborne Co
*Cocke
Population Group: Low Inc—Cocke Co
*Crockett
Population Group: Low Inc—Crockett Co
*Cumberland
Population Group: Low Inc—Cumberland
Davidson
Population Group: Low Inc—Waverly-Belmont
Population Group: Low Inc—E Nashville
Facility: Downtown Homeless Clinic
*Decatur
Population Group: Low Inc—Decatur Co
Dickson
Service Area: Vanleer/Shiloh
Fayette
*Fentress
Population Group: Low Inc—Fentress Co
*Gibson
Population Group: Low Inc—Gibson
*Giles
Population Group: Low Inc—Giles Co
Grainger
*Greene
Service Area: Baileyton
*Grundy
Hamilton
Service Area: Middle Valley
*Hancock
*Hardeman
Hawkins
*Haywood
*Henderson
*Hickman
*Jackson
Jefferson
Population Group: Low Inc—Jefferson
*Johnson
Knox
Service Area: Mechanicsville
*Lake
*Lauderdale
*Lawrence
Population Group: Low Inc—Lawrence
*Lewis
Population Group: Low Inc—Lewis
*Lincoln
Service Area: Cash Point—Blanche
*Macon
Madison
Service Area: E Jackson
*Marshall
Population Group: Low Inc—Marshall
*Meigs
Service Area: Dayton/Pikeville/Decatur
Montgomery
Service Area: Vanleer/Shiloh
*Moore
*Morgan
*Obion
Service Area: Hornbeak/Samburg
*Overton
Population Group: Low Inc—Overton Co
*Pickett
*Polk
Population Group: Low Inc—Benton/Parkville
*Putnam
Population Group: Low Inc—Putnam Co
*Rhea
Service Area: Dayton/Pikeville/Decatur
*Roane
Population Group: Low Inc—Roane Co
Robertson
Population Group: Low Inc—Robertson
Rutherford
Service Area: Eagleville
*Scott
Population Group: Low Inc—Scott Co
Sevier
Population Group: Low Inc—Sevier
Shelby
Population Group: Low Inc—Whitehaven-Levi/NW Oakhaven
Population Group: Low Inc—Millington
Population Group: Low Inc—Frayser
Population Group: Low Inc—NW Memphis
Facility: FCI Memphis
Facility: Hope Center
*Stewart
Population Group: Low Inc—Stewart Co
Tipton
Population Group: Low Inc—Tipton
*Trousdale
Population Group: Low Inc—Trousddale
Unicoi
Union
*Van Buren
Population Group: Low Inc—Van Buren Co
*Warren
Population Group: Low Inc—Warrren Co
*Weakley
Population Group: Low Inc—Dresden
*White

PRIMARY MEDICAL CARE: Tennessee Service Area Listing
Service Area Name
Baileyton
County—Greene
Parts:
Baileyton Division
Briceville/Lake City
County—Anderson
Parts:
Lake City East CCD
Lake City West CCD
New River CCD
Cash Point—Blanche
County—Lincoln
Parts:
Cash Point-Blanche Division
Dayton/Pikeville/Decatur
County—Bledsoe
County—Meigs
County—Rhea
E Jackson
County—Madison
Parts:
C.T. 5
C.T. 8-12
Eagleville
County—Rutherford
Parts:
Eagleville Division
Hornbeak/Samburg
County—Obion
Parts:
Hornbeak-Samburg Division
Mechanicsville
County—Knox
Parts:
C.T. 1-7
C.T. 11-14
C.T. 20
C.T. 28
Middle Valley
County—Hamilton
Parts:
Middle Valley Division
Sale Creek Division
Soddy-Daisy Division
Vanleer/Shiloh
County—Dickson
Parts:
Vanleer Division
County—Montgomery
Parts:
Palmyra-Shiloh Division

PRIMARY MEDICAL CARE: Tennessee Population Group Listing
Population Group
Low Inc—Bedford
County—Bedford
Parts:
Low Income
Low Inc—Benton/Parkville
County—Polk
Parts:
Low Inc Benton CCD
Low Inc Parkville CCD
Low Inc—Blount
County—Blount
Parts:
Low Income
Low Inc—Campbell Co
County—Campbell
Parts:
Low Income
Low Inc—Carter
County—Carter
Parts:
Low Income
Low Inc—Claiborne Co
County—Claiborne
Parts:
Low Income
Low Inc—Cocke Co
County—Cocke
Parts:
Low Income
Low Inc—Crockett Co
County—Crockett
Parts:
Low Income
Low Inc—Cumberland
County—Cumberland
Parts:
Low Income
Low Inc—Decatur Co
County—Decatur
Parts:
Low Income
Low Inc—Dresden
County—Weakley
Parts:
Chestnut Glade-Dukedom
Dresden Division
Gleason Division
Palmersville Division
Low Inc—E Nashville
County—Davidson
Parts:
C.T. 112-126
Low Inc—Fentress Co
County—Fentress
Parts:
Low Income
Low Inc—Frayser
County—Shelby
Parts:
C.T. 99-100
C.T. 101.10
C.T. 101.20
C.T. 102.10
C.T. 102.20
C.T. 103
Low Inc—Gibson
County—Gibson
Parts:
Low Income
Low Inc—Giles Co
County—Giles
Parts:
Low Inc
Low Inc—Jefferson
County—Jefferson
Parts:
Low Income
Low Inc—Lawrence
County—Lawrence
Parts:
Low Income
Low Inc—Lewis
County—Lewis
Parts:
Low Income
Low Inc—Marshall
County—Marshall
Parts:
Low Income
Low Inc—Millington
County—Shelby
Parts:
C.T. 202.10
C.T. 202.20
C.T. 203-204
Low Inc—NW Memphis
County—Shelby
Parts:
C.T. 1-10
C.T. 13-28
C.T. 30
C.T. 89-90
Low Inc—Overton Co
County—Overton
Parts:
Low Income
Low Inc—Putnam Co
County—Putnam
Parts:
Low Income
Low Inc—Roane Co
County—Roane
Parts:
Low Inc
Low Inc—Robertson
County—Robertson
Parts:
Low Income
Low Inc—Scott Co
County—Scott
Parts:
Low Inc Pop
Low Inc—Sevier
County—Sevier
Parts:
Low Income
Low Inc—Stewart Co
County—Stewart
Parts:
Low Inc Pop
Low Inc—Tipton
County—Tipton
Parts:
Low Income
Low Inc—Trousddale
County—Trousdale
Parts:
Low Income
Low Inc—Van Buren Co
County—Van Buren
Parts:
Low Income
Low Inc—Warrren Co
County—Warren
Parts:
Low Inc—Warren Co
Low Inc—Waverly-Belmont
County—Davidson
Parts:
C.T. 148
C.T. 160-163
C.T. 170-171
Low Inc—Whitehaven-Levi/NW Oakhaven
County—Shelby
Parts:
C.T. 104.10
C.T. 104.20
C.T. 105
C.T. 220.10
C.T. 220.21-220.22
C.T. 221.11-221.12
C.T. 221.20
C.T. 221.30
C.T. 222.10
C.T. 222.20
C.T. 223.10
C.T. 223.20
C.T. 223.30
C.T. 224.10
C.T. 224.20

PRIMARY MEDICAL CARE: Tennessee Facility Listing
Facility Name
Downtown Homeless Clinic
County—Davidson
FCI Memphis
County—Shelby
Hope Center
County—Shelby

PRIMARY MEDICAL CARE: Texas County Listing
County Name
*Anderson
Facility: Beto Prs
Facility: Coffield Prs
Facility: Gurney Prs
Facility: Michael Prs
Facility: Powledge Prs
*Andrews
Population Group: Med Ind—Andrews Co
*Angelina
Facility: Diboll Prs
*Aransas
Archer
*Armstrong
*Atascosa
*Austin
*Bailey
*Bandera
Bastrop
*Baylor
Population Group: Low Income—Baylor County
*Bee (g)
Facility: McConell Psn
Bexar
Service Area: San Antonio (West Side)
Service Area: San Antonio (Southside)
Service Area: San Antonio (Eastside)
Facility: Dominguez Prs
*Blanco
*Borden
Bowie
Facility: Telford Prs
Brazoria
Facility: Ramsey I Prs
Facility: Ramsey II Prs
*Brewster
*Briscoe
*Brooks
*Burleson
Caldwell
Cameron (g)
Facility: Port Isabel INS Health Facility
*Camp
Population Group: Low-Income Camp County
*Carson
*Chambers
*Cherokee
Population Group: Low Inc—Cherokee Co
Facility: Skyview/Hodge Psn
*Cochran
*Coke
*Coleman
*Collingsworth
Comal
Population Group: Low Inc—Comal County
Coryell (g)
Facility: Gatesville Prison
Facility: Hughes Prs
Facility: Mountain View Prison
*Crane (g)
Facility: Tx Tech Univ Pc Clinics
*Crockett
Dallas
Service Area: Lisbon
Service Area: Simpson-Stuart
Service Area: South Dallas
Service Area: Trinity
Facility: Hutchins Prs
Facility: Parkland Mem Hosp Outpt Cl (C.T. 100)
*Dawson
*Deaf Smith
*Delta
Denton
Population Group: Low Inc—N Denton
*Dickens
*Dimmit
Service Area: Dimmit-Zavala
*Donley
*Duval
El Paso
Service Area: Lower Valley—El Paso
Service Area: South El Paso
Service Area: Southeast El Paso
Facility: El Paso INS Health Facility
Facility: Tx Tech Med. Ambulatory Cl
*Falls
*Fannin (g)
Facility: Choice Moore Prs
Facility: Cole Prs
*Fisher
*Foard
Fort Bend
Facility: Jester I Prs
Facility: Jester II Prs
*Freestone
Facility: Boyd Prs
*Frio (g)
Facility: Briscoe Prs
*Gaines
Galveston
Service Area: Bolivar Penninsula
*Garza
*Glasscock
*Goliad
*Gonzales
Population Group: Low Inc—Gonzales Co
*Grimes (g)
Facility: Luther Prs
*Hale
Population Group: Low Inc/MFW—Hale Co
*Hall
*Hansford
Hardin
Harris
Service Area: Acres Home
Service Area: Aldine
Service Area: Casa De Amigos
Service Area: East Central Houston
Service Area: Galena Park/Jacinto City
Service Area: Ripley
Service Area: Settegast
Service Area: South Central Houston
Facility: Joe Kegan Psn
Facility: Lychner Prs
*Hartley
*Henderson
Population Group: Low Inc—Henderson Co
Hidalgo (g)
Facility: Lopez Psn
Facility: Segovia Psn
*Hill
*Hockley
*Houston
Facility: Eastham Prs
*Hudspeth
*Hunt
Population Group: Low Inc—Hunt Co
*Irion
*Jackson
*Jasper
Facility: Goodman Prs
Jefferson
Service Area: Port Arthur Inner City
Facility: Gist Prs
Facility: Leblanc Prs
Facility: Stiles Prs
*Jim Wells
*Jones
*Karnes (g)
Facility: Conanally Prison
*Kenedy
*Kent
*King
*Kinney
*Knox
*La Salle
*Lamb
*Lampasas
*Lee
*Leon
Liberty
Facility: Henley Prs
Facility: Hightower Prs
Facility: Plane Prs
*Limestone
*Lipscomb
*Live Oak (g)
Facility: FCI Three Rivers
*Loving
Lubbock
Service Area: East Lubbock
*Lynn
*Madison
Facility: Ferguson Prs
*Marion
*Mason
*Maverick
*McMullen
*Medina
*Menard
*Milam
*Mills
*Moore
Population Group: Low Inc—Moore Co
*Morris
*Motley
*Nacogdoches
Population Group: Low Inc—Nacogdoches Co
Nueces
Service Area: Port Aransas
*Oldham
Orange
Population Group: Low Income— Orange County
*Palo Pinto
Population Group: Low Inc—Palo Pinto Co
*Panola
*Parmer
*Polk (g)
Facility: Terrell Prison
*Presidio
*Rains
*Reagan
*Red River
*Reeves
*Refugio
*Roberts
*Robertson
*Runnels
*Rusk
*Sabine
*San Augustine
*San Jacinto
*San Saba
*Shackelford
*Shelby
Population Group: Low Inc—Shelby Co
*Sherman
*Starr
*Stephens
*Sterling
*Swisher
Tarrant
Service Area: Diamond Hill
Service Area: Poly/Stop Six
Facility: Jp Smith Hosp Clinics (Fh,Gyn,Med,Ob,Ped
*Terrell
*Terry
Travis
Service Area: Dove Springs
Service Area: East Austin
Service Area: South Austin
*Trinity
*Tyler (g)
Facility: Lewis Prs
Upshur
*Upton
Population Group: Low Income-Upton County
*Uvalde
Population Group: Low Inc—Uvalde Co
*Val Verde
*Van Zandt
*Walker
Facility: Ellis I Prs
Facility: Holliday Prs
Facility: Wynne Prs
Waller
*Ward
Webb
*Wheeler
Population Group: Low Inc—Wheeler Co
*Willacy
Wilson
*Winkler
*Wise
*Wood
Facility: Johnston Prs
*Yoakum
*Zapata
*Zavala
Service Area: Dimmit-Zavala

PRIMARY MEDICAL CARE: Texas Service Area Listing
Service Area Name
Acres Home
County—Harris
Parts:
C.T. 524
C.T. 525.02-525.04
C.T. 530.02
C.T. 531.01
C.T. 531.03
Aldine
County—Harris
Parts:
C.T. 222.01-222.02
C.T. 223.01-223.03
C.T. 224.01
C.T. 240.02
Bolivar Penninsula
County—Galveston
Parts:
C.T. 1254
Casa De Amigos
County—Harris
Parts:
C.T. 502
C.T. 503.01-503.02
C.T. 504
C.T. 505.01-505.02
C.T. 506.01-506.02
C.T. 507.01-507.02
C.T. 508
C.T. 509.02-509.03
C.T. 512
C.T. 514.01-514.02
C.T. 515.02
Diamond Hill
County—Tarrant
Parts:
C.T. 1002.01-1002.02
C.T. 1003-1004
C.T. 1008-1011
C.T. 1050.01
C.T. 1050.06
Dimmit-Zavala
County—Dimmit
County—Zavala
Dove Springs
County—Travis
Parts:
C.T. 24.11-24.13
East Austin
County—Travis
Parts:
C.T. 4.02
C.T. 8.01-8.04
C.T. 9.01-9.02
C.T. 10
C.T. 18.11-18.12
C.T. 21.04-21.13
C.T. 22.01-22.02
C.T. 22.05
East Central Houston
County—Harris
Parts:
C.T. 201.01-201.02
C.T. 202.10
C.T. 202.20
C.T. 203.01-203.03
C.T. 204
C.T. 205.01
C.T. 205.03
C.T. 205.98
C.T. 206.01
C.T. 206.98
C.T. 207.03-207.04
C.T. 208.02-208.03
C.T. 209
C.T. 210.01
C.T. 214.01
East Lubbock
County—Lubbock
Parts:
C.T. 1
C.T. 2.01-2.02
C.T. 3.01-3.02
C.T. 6.03-6.06
C.T. 7-11
C.T. 13-14
C.T. 23-25
Galena Park/Jacinto City
County—Harris
Parts:
C.T. 211-212
Lisbon
County—Dallas
Parts:
C.T. 56-57
C.T. 59.01-59.02
C.T. 87.01
C.T. 87.03-87.05
C.T. 88.01-88.02
Lower Valley—El Paso
County—El Paso
Parts:
C.T. 35
C.T. 37.01-37.02
C.T. 38.01-38.02
C.T. 41.03-41.07
C.T. 42.01-42.02
Poly/Stop Six
County—Tarrant
Parts:
C.T. 1035
C.T. 1036.01
C.T. 1037.01-1037.02
C.T. 1046.01
C.T. 1046.04
C.T. 1062.01-1062.02
C.T. 1063
Port Aransas
County—Nueces
Parts:
C.T. 51.02
Port Arthur Inner City
County—Jefferson
Parts:
C.T. 51-65
Ripley
County—Harris
Parts:
C.T. 300.22-300.23
C.T. 301.01-301.02
C.T. 302
C.T. 308.20
C.T. 309.01-309.03
C.T. 310-312
C.T. 313.01-313.02
C.T. 314.02
C.T. 319.01
C.T. 321.01-321.02
San Antonio (Eastside)
County—Bexar
Parts:
C.T. 1101-1104
C.T. 1109-1110
C.T. 1301-1306
C.T. 1307.85
C.T. 1308-1313
C.T. 1401
San Antonio (Southside)
County—Bexar
Parts:
C.T. 1402-1412
C.T. 1416-1418
C.T. 1501-1522
C.T. 1609
C.T. 1610.85
C.T. 1611-1612
C.T. 1619-1620
San Antonio (West Side)
County—Bexar
Parts:
C.T. 1105-1108
C.T. 1601-1606
C.T. 1607.85
C.T. 1616
C.T. 1701-1716
C.T. 1901-1902
Settegast
County—Harris
Parts:
C.T. 207.01-207.02
C.T. 208.01
C.T. 215.01-215.03
C.T. 216.01-216.02
C.T. 217.01-217.02
C.T. 218.03-218.04
C.T. 225.03-225.04
C.T. 227
Simpson-Stuart
County—Dallas
Parts:
C.T. 112-113
C.T. 114.01-114.02
C.T. 167.01
C.T. 169.01
South Austin
County—Travis
Parts:
C.T. 23.04
C.T. 23.10-23.12
C.T. 24.16
South Central Houston
County—Harris
Parts:
C.T. 318.02-318.03
C.T. 319.02
C.T. 325.01-325.02
C.T. 327.01-327.02
C.T. 328.01-328.03
C.T. 329.02-329.03
C.T. 339.03
C.T. 340
C.T. 342
C.T. 343.01-343.02
South Dallas
County—Dallas
Parts:
C.T. 25
C.T. 27.01-27.02
C.T. 28-29
C.T. 33-38
C.T. 39.01-39.02
C.T. 40
C.T. 93.03-93.04
C.T. 115
C.T. 116.01
South El Paso
County—El Paso
Parts:
C.T. 17-21
C.T. 28-29
Southeast El Paso
County—El Paso
Parts:
C.T. 39.01-39.03
C.T. 40.01-40.02
C.T. 103.08-103.10
C.T. 104.01-104.04
C.T. 105
Trinity
County—Dallas
Parts:
C.T. 41
C.T. 49
C.T. 54-55
C.T. 86.01-86.02
C.T. 89

PRIMARY MEDICAL CARE: Texas Population Group Listing
Population Group
Low Inc—Cherokee Co
County—Cherokee
Parts:
Low Income
Low Inc—Comal County
County—Comal
Parts:
Low Income
Low Inc—Gonzales Co
County—Gonzales
Parts:
Low Income
Low Inc—Henderson Co
County—Henderson
Parts:
Low Income
Low Inc—Hunt Co
County—Hunt
Parts:
Low Income
Low Inc—Moore Co
County—Moore
Parts:
Low Income
Low Inc—N Denton
County—Denton
Parts:
Denton CCD
Pilot Point—Aubrey CCD
Sanger CCD
Low Inc—Nacogdoches Co
County—Nacogdoches
Parts:
Nacogdoches
Low Inc—Palo Pinto Co
County—Palo Pinto
Parts:
Low-Income
Low Inc—Shelby Co
County—Shelby
Parts:
Low Income
Low Inc—Uvalde Co
County—Uvalde
Parts:
Low Income
Low Inc—Wheeler Co
County—Wheeler
Parts:
Low Income
Low Inc/MFW—Hale Co
County—Hale
Parts:
Low Income
MFW
Low Income— Orange County
County—Orange
Parts:
Low Income
Low Income—Baylor County
County—Baylor
Parts:
Low Income
Low Income-Upton County
County—Upton
Parts:
Low Income
Low-Income Camp County
County—Camp
Parts:
Low-Income
Med Ind—Andrews Co
County—Andrews
Parts:
Medically Indigent

PRIMARY MEDICAL CARE: Texas Facility Listing
Facility Name
Beto Prs
County—Anderson
Boyd Prs
County—Freestone
Briscoe Prs
County—Frio
Choice Moore Prs
County—Fannin
Coffield Prs
County—Anderson
Cole Prs
County—Fannin
Conanally Prison
County—Karnes
Diboll Prs
County—Angelina
Dominguez Prs
County—Bexar
Eastham Prs
County—Houston
El Paso INS Health Facility
County—El Paso
Ellis I Prs
County—Walker
Ferguson Prs
County—Madison
FCI Three Rivers
County—Live Oak
Gatesville Prison
County—Coryell
Gist Prs
County—Jefferson
Goodman Prs
County—Jasper
Gurney Prs
County—Anderson
Henley Prs
County—Liberty
Hightower Prs
County—Liberty
Holliday Prs
County—Walker
Hughes Prs
County—Coryell
Hutchins Prs
County—Dallas
Jester I Prs
County—Fort Bend
Jester II Prs
County—Fort Bend
Joe Kegan Psn
County—Harris
Johnston Prs
County—Wood
Jp Smith Hosp Clinics (Fh,Gyn,Med,Ob,Ped
County—Tarrant
Leblanc Prs
County—Jefferson
Lewis Prs
County—Tyler
Lopez Psn
County—Hidalgo
Luther Prs
County—Grimes
Lychner Prs
County—Harris
McConell Psn
County—Bee
Michael Prs
County—Anderson
Mountain View Prison
County—Coryell
Parkland Mem Hosp Outpt Cl (C.T. 100)
County—Dallas
Plane Prs
County—Liberty
Port Isabel INS Health Facility
County—Cameron
Powledge Prs
County—Anderson
Ramsey I Prs
County—Brazoria
Ramsey II Prs
County—Brazoria
Segovia Psn
County—Hidalgo
Skyview/Hodge Psn
County—Cherokee
Stiles Prs
County—Jefferson
Telford Prs
County—Bowie
Terrell Prison
County—Polk
Tx Tech Med. Ambulatory Cl
County—El Paso
Tx Tech Univ Pc Clinics
County—Crane
Wynne Prs
County—Walker

PRIMARY MEDICAL CARE: Utah County Listing
County Name
*Beaver
Population Group: Low Inc—Beaver Co
*Box Elder
Service Area: West Box Elder
*Carbon
*Daggett
*Duchesne
Population Group: Low Inc—Duchesne Co
*Emery
*Garfield
*Grand
*Juab
*Kane
Service Area: Kanab/Fredonia (UT/AZ)
*Millard
*Morgan
Population Group: Low Income—Morgan Co
*Piute
*Rich
Population Group: Low Income—Rich Co
Salt Lake
Population Group: Low Income—Salt Lake Co
Facility: Utah State Prison
*San Juan
*Sanpete
Population Group: Low Inc—Sanpete
Facility: Central Utah Corr Fac
*Sevier
Population Group: Low Inc—Sevier
*Tooele
*Uintah
Utah
Population Group: Low Income—Utah County
*Wasatch
*Washington
Population Group: Low Income—Washington County
*Wayne
Weber
Population Group: Low Income—Weber County

PRIMARY MEDICAL CARE: Utah Service Area Listing
Service Area Name
Kanab/Fredonia (UT/AZ)
County—Kane
West Box Elder
County—Box Elder
Parts:
West Box Elder Division

PRIMARY MEDICAL CARE: Utah Population Group Listing
Population Group
Low Inc—Beaver Co
County—Beaver
Parts:
Low Income
Low Inc—Duchesne Co
County—Duchesne
Parts:
Low Income
Low Inc—Sanpete
County—Sanpete
Parts:
Low Income
Low Inc—Sevier
County—Sevier
Parts:
Low Income
Low Income—Morgan Co
County—Morgan
Parts:
Low Income
Low Income—Rich Co
County—Rich
Parts:
Low Income
Low Income—Salt Lake Co
County—Salt Lake
Parts:
Low Income
Low Income—Utah County
County—Utah
Parts:
Low Income
Low Income—Washington County
County—Washington
Parts:
Low Income
Low Income—Weber County
County—Weber
Parts:
Low Income

PRIMARY MEDICAL CARE: Utah Facility Listing
Facility Name
Central Utah Corr Fac
County—Sanpete
Utah State Prison
County—Salt Lake

PRIMARY MEDICAL CARE: Vermont County Listing
County Name
*Addison
Service Area: Route 100
*Caledonia
Population Group: Low Inc—Hardwick
*Essex
Service Area: Island Pond
Service Area: Upper Connecticut Valley (NH/VT)
Franklin
Service Area: Richford-Enosburg
*Lamoille
Population Group: Low Inc—Hardwick
*Orange
Service Area: Chelsea
*Orleans
Service Area: Island Pond
Service Area: Richford-Enosburg
Population Group: Low Inc—Hardwick
Facility: Northern State Correctional Facility
*Rutland
Service Area: Black River Valley
Service Area: Pawlet/Granville (VT/NY)
Service Area: Route 100
*Washington
Service Area: Mad River Valley
Population Group: Low Inc—Hardwick
*Windsor
Service Area: Black River Valley
Service Area: Route 100

PRIMARY MEDICAL CARE: Vermont Service Area Listing
Service Area Name
Black River Valley
County—Rutland
Parts:
Mount Holly Town
County—Windsor
Parts:
Cavendish Town
Ludlow Town
Plymouth Town
Reading Town
Chelsea
County—Orange
Parts:
Chelsea Town
Corinth Town
Strafford Town
Tunbridge Town
Vershire Town
Washington Town
Island Pond
County—Essex
Parts:
Avery's Gore
Brighton Town
Ferdinand Town
Lewis Town
Norton Town
Warner's Grant
Warren's Gore
County—Orleans
Parts:
Charleston Town
Morgan Town
Mad River Valley
County—Washington
Parts:
Fayston Town
Moretown Town
Waitsfield Town
Warren Town
Pawlet/Granville (VT/NY)
County—Rutland
Parts:
Danby Town
Middletown Springs To
Mount Tabor Town
Pawlet Town
Poultney Town
Tinmouth Town
Wells Town
Richford-Enosburg
County—Franklin
Parts:
Bakersfield Town
Berkshire Town
Enosburg Town
Fairfield Town
Franklin Town
Montgomery Town
Richford Town
Sheldon Town
County—Orleans
Parts:
Jay Town
Route 100
County—Addison
Parts:
Granville Town
Hancock Town
County—Rutland
Parts:
Pittsfield Town
County—Windsor
Parts:
Rochester Town
Stockbridge Town
Upper Connecticut Valley (NH/VT)
County—Essex
Parts:
Averill Town
Bloomfield Town
Brunswick Town
Canaan Town
Lemington Town
Maidstone Town

PRIMARY MEDICAL CARE: Vermont Population Group Listing
Population Group
Low Inc—Hardwick
County—Caledonia
Parts:
Hardwick Town
Stannard Town
Walden Town
County—Lamoille
Parts:
Wolcott Town
County—Orleans
Parts:
Craftsbury Town
Greensboro Town
County—Washington
Parts:
Woodbury Town

PRIMARY MEDICAL CARE: Vermont Facility Listing
Facility Name
Northern State Correctional Facility
County—Orleans

PRIMARY MEDICAL CARE: Virginia County Listing
County Name
*Accomack
*Alleghany
Service Area: Clifton Forge/Covington
*Amelia
*Appomattox
Bedford
Service Area: Big Island
*Bland
Botetourt
Service Area: Northern Botetourt
*Brunswick
Service Area: Brunswick/La Crosse
*Buchanan
Campbell/Lynchburg
Service Area: Altavista/Chatham
Facility: Free Clinic Of Central Va
*Caroline
*Carroll
Service Area: Laurel Fork
Charles City
Population Group: Low Inc—Charles City Co
*Charlotte
Chesapeake
Service Area: South Norfolk
*Clifton Forge City (Indep)
Service Area: Clifton Forge/Covington
*Covington City (Indep)
Service Area: Clifton Forge/Covington
*Craig
*Dickenson
Dinwiddie/Petersburg
Facility: FCI Petersburg
*Franklin
Goochland
Service Area: Goochland/Fife
*Grayson/Galax
Service Area: Trout Dale/Independence
Hanover
Service Area: Beaverdam/Montpelier
*Henry/Martinsville
Population Group: Low Inc—Martinsville
*Highland
Isle Of Wight
Service Area: Berlin-Ivor
King George
*Lee
*Louisa
Service Area: Beaverdam/Montpelier
*Lunenburg
*Mecklenburg
Service Area: Brunswick/La Crosse
Service Area: Chase City
Facility: Comm. Memorial HC—Primary Care Clinic
*Nelson
New Kent
Newport News
Service Area: Newport News
*Northampton
Population Group: Low Inc/MFW—Northampton Co
*Northumberland
*Page
*Patrick
Pittsylvania/Danville
Service Area: Altavista/Chatham
Population Group: Low Inc—Danville
Portsmouth City
Service Area: Downtown Portsmouth
*Richmond
Richmond City
Service Area: East End Richmond
Service Area: Old South Richmond
Population Group: Homeless—Richmond City
Roanoke/Roanoke-Salem
Service Area: Northwest Roanoke
*Rockbridge/Buena Vista
Service Area: Big Island
*Russell
*Smyth
Service Area: Konnarock
Service Area: Saltville
*Southampton/Franklin
Service Area: Berlin-Ivor
Spotsylvania/Fredericksbg
Service Area: Beaverdam/Montpelier
Suffolk
Service Area: City Of Suffolk
*Surry
*Sussex
Washington/Bristol
Service Area: Mendota
Service Area: Saltville
*Westmoreland

PRIMARY MEDICAL CARE: Virginia Service Area Listing
Service Area Name
Altavista/Chatham
County—Campbell/Lynchburg
Parts:
C.T. 204.98
C.T. 205-209
County—Pittsylvania/Danville
Parts:
C.T. 101-107
Beaverdam/Montpelier
County—Hanover
Parts:
C.T. 3201-3202
County—Louisa
Parts:
C.T. 9501
C.T. 9505
County—Spotsylvania/Fredericksbg
Parts:
C.T. 204.01
Berlin-Ivor
County—Isle Of Wight
Parts:
Hardy District
County—Southampton/Franklin
Parts:
Berlin And Ivor District
Big Island
County—Bedford
Parts:
Peaks District
County—Rockbridge/Buena Vista
Parts:
Natural Bridge District
Brunswick/La Crosse
County—Brunswick
County—Mecklenburg
Parts:
La Crosse District
Chase City
County—Mecklenburg
Parts:
Bluestone District
Boydton District
Buckhorn District
Chase City District
Clarksville District
City Of Suffolk
County—Suffolk
Parts:
C.T. 651
C.T. 653-655
C.T. 756
Clifton Forge/Covington
County—Alleghany
County—Clifton Forge City (Indep)
County—Covington City (Indep)
Downtown Portsmouth
County—Portsmouth City
Parts:
C.T. 2107
C.T. 2110-2111
C.T. 2113-2114
C.T. 2117-2121
East End Richmond
County—Richmond City
Parts:
C.T. 201-212
Goochland/Fife
County—Goochland
Parts:
C.T. 4002-4005
Konnarock
County—Smyth
Parts:
C.T. 9907
Laurel Fork
County—Carroll
Parts:
Laurel Fork District
Mendota
County—Washington/Bristol
Parts:
Tyler District
Newport News
County—Newport News
Parts:
C.T. 301-302
C.T. 302.99
C.T. 303.98
C.T. 304-306
C.T. 308-310
C.T. 313
Northern Botetourt
County—Botetourt
Parts:
C.T. 401-402
Northwest Roanoke
County—Roanoke/Roanoke-Salem
Parts:
C.T. 1-2
C.T. 7-10
C.T. 23
Old South Richmond
County—Richmond City
Parts:
C.T. 601-605
C.T. 607.98
C.T. 608.98
Saltville
County—Smyth
Parts:
North Fork District
Saltville District
County—Washington/Bristol
Parts:
Jefferson District
South Norfolk
County—Chesapeake
Parts:
C.T. 201-204
C.T. 205.01-205.02
C.T. 206-207
Tri-County(Buck/Fluv/Cumb)
Trout Dale/Independence
County—Grayson/Galax
Parts:
Elk Creek District
Wilson Creek District

PRIMARY MEDICAL CARE: Virginia Population Group Listing
Population Group
Homeless—Richmond City
County—Richmond City
Parts:
C.T. 301-306
C.T. 412-415
Low Inc—Charles City Co
County—Charles City
Parts:
Low Inc—Chrls Cty Co
Low Inc—Danville
County—Pittsylvania/Danville
Parts:
C.T. 108.98
C.T. 109-111
C.T. 112.98
C.T. 113.98
C.T. 114
Danville City
Low Inc—Martinsville
County—Henry/Martinsville
Parts:
Henry Co
Martinsville City
Low Inc/MFW—Northampton Co
County—Northampton
Parts:
Low Inc/MFW

PRIMARY MEDICAL CARE: Virginia Facility Listing
Facility Name
Comm. Memorial HC—Primary Care Clinic
County—Mecklenburg
Free Clinic Of Central Va
County—Campbell/Lynchburg
FCI Petersburg
County—Dinwiddie/Petersburg

PRIMARY MEDICAL CARE: Washington County Listing
County Name
*Adams
Facility: Columbia Basin Health Association
Benton
Population Group: Low Inc/MFW—Benton Co
*Chelan
Population Group: MSFW—Chelan/Douglas
*Clallam
Service Area: Clallam Bay-Neah Bay
Population Group: Lower Elwha Indian Tribe
Facility: Clallam Bay Corrections Ct r
Clark
Population Group: Low Inc—C. Vancouver/Hazel Dell
Population Group: Low Inc—Camas
*Cowlitz
Population Group: Low Inc—Cowlitz Co
*Douglas
Service Area: Grand Coulee
Population Group: MSFW—Chelan/Douglas
*Ferry
Service Area: Republic
Population Group: Am In—Colville Res
Franklin
Population Group: Low Inc/MFW—Franklin Co
Facility: Coyote Ridge Corr Inst
*Garfield
*Grant
Service Area: Grand Coulee
Service Area: Royal City
Population Group: Low Inc/MFW—Central Grant Co
*Grays Harbor
Service Area: Copalis Beach
Service Area: Mc Cleary-Elma
Service Area: Neilton
Service Area: Westport
Population Group: Low Inc—Aberdeen/Hoquiam
*Jefferson
Service Area: Clallam Bay-Neah Bay
Service Area: Quilcene Bay
Population Group: Low Inc-Discovery Bay/Oak Bay
King
Population Group: Low Inc/Homeless—S King Co
Kitsap
Population Group: Low Inc—Bremerton
*Kittitas
Service Area: Cle Elum
*Klickitat
Population Group: MSFW—W Klickitat Co
*Lewis
Service Area: Morton
Population Group: Low Inc—SW Lewis Co
*Lincoln
Service Area: Grand Coulee
Service Area: Odessa
*Mason (g)
Facility: Wa Corr/Reception Ct r
*Okanogan
Service Area: Twisp/Winthrop
Population Group: Am In—Colville Res
Population Group: MSFW—C Okanogan Co
Population Group: MSFW—N Okanogan Co
Population Group: MSFW—S Okanogan Co
*Pacific
Service Area: Raymond
*Pend Oreille
Service Area: Ione/Metaline Falls
Service Area: Newport/Cusick
Pierce
Service Area: Longbranch
Population Group: Low Inc—Eastside Tacoma
Population Group: Low Inc—Lakewood (SW Pierce Co)
Facility: McNeil Island Corr. C.
*Skagit
Service Area: Concrete
Population Group: MSFW—West Skagit Co
*Skamania
Snohomish
Service Area: Darrington
Population Group: Low Inc/Homeless—Snohomish Co
Facility: Twin Rivers Corr C
Spokane
Service Area: Deer Park
Service Area: Rockford
Population Group: Low Inc—Southwestern Spokane
Population Group: Low Inc—Eastern Spokane
*Stevens
Service Area: Chewelah
Service Area: Deer Park
Service Area: Northport
Thurston
Population Group: Low Inc—Thurston South Div
*Wahkiakum
Population Group: Low Inc—Wahkiakum Co
*Walla Walla
Population Group: Low Inc/MFW—Walla Walla
Facility: Wa State Pen
Whatcom
Population Group: MSFW—Whatcom Co
*Whitman
Service Area: Rock Lake/La Crosse
Population Group: Low Inc—NE Whitman Co
Yakima
Population Group: MFW—Yakima Co

PRIMARY MEDICAL CARE: Washington Service Area Listing
Service Area Name
Chewelah
County—Stevens
Parts:
Chewelah Division
Columbia Division
Springdale Division
Clallam Bay-Neah Bay
County—Clallam
Parts:
Clallam Bay-Neah Bay CCD
Forks CCD
County—Jefferson
Parts:
West End CCD
Cle Elum
County—Kittitas
Parts:
Cle Elum Division
Manastash Division
Concrete
County—Skagit
Parts:
Upper Skagit Division
Copalis Beach
County—Grays Harbor
Parts:
North Beach Division
Darrington
County—Snohomish
Parts:
Cascade Division
Deer Park
County—Spokane
Parts:
Colbert Division
Deer Park Division
County—Stevens
Parts:
Loon Lake Division
Grand Coulee
County—Douglas
Parts:
Bridgeport Division
County—Grant
Parts:
Coulee City Division
Grand Coulee Division
County—Lincoln
Parts:
Wilbur Division
Ione/Metaline Falls
County—Pend Oreille
Parts:
Ione-Metaline Falls Division
Longbranch
County—Pierce
Parts:
Lower Peninsula CCD (C.T.
Mc Cleary-Elma
County—Grays Harbor
Parts:
Elma Division
Malone-Porter Division
McCleary Division
Morton
County—Lewis
Parts:
Big Bottom Division
Mineral Division
Morton Division
Mossyrock Division
Neilton
County—Grays Harbor
Parts:
Humptulips Division
Lake Quinault Division
Newport/Cusick
County—Pend Oreille
Parts:
Newport Division
Northport
County—Stevens
Parts:
Kettle Falls Division
Odessa
County—Lincoln
Parts:
Odessa Division
Quilcene Bay
County—Jefferson
Parts:
Quilcene Bay Division
Raymond
County—Pacific
Parts:
Raymond Division
Willapa Valley Division
Republic
County—Ferry
Parts:
Curlew Division
Orient-Sherman Division
Republic Division
Rock Lake/La Crosse
County—Whitman
Parts:
La Crosse Division
Rock Lake Division
Rockford
County—Spokane
Parts:
Rockford Division
Royal City
County—Grant
Parts:
Southern Slopes Division
Twisp/Winthrop
County—Okanogan
Parts:
Early Winters Division
Methow Valley Division
Westport
County—Grays Harbor
Parts:
South Shore Division

PRIMARY MEDICAL CARE: Washington Population Group Listing
Population Group
Am In—Colville Res
County—Ferry
Parts:
Colville Res CCD
County—Okanogan
Parts:
Colville Res CCD
Low Inc—Aberdeen/Hoquiam
County—Grays Harbor
Parts:
Aberdeen-Hoquiam CCD
North River CCD
Wishkah CCD
Wyhoochee CCD
Low Inc—Bremerton
County—Kitsap
Parts:
C.T. 801.01-801.02
C.T. 802-803
C.T. 805-806
C.T. 808.98
C.T. 809.98
C.T. 810-811
807
812.00
813
814
814.99
922
923
924
Low Inc—C. Vancouver/Hazel Dell
County—Clark
Parts:
C.T. 408.01
C.T. 409.03-409.04
C.T. 410.02-410.03
C.T. 410.05-410.07
C.T. 411.05-411.06
C.T. 416
C.T. 417.03
C.T. 418-421
C.T. 423-429
Low Inc—Camas
County—Clark
Parts:
C.T. 405.02-405.03
C.T. 414-415
Low Inc—Cowlitz Co
County—Cowlitz
Parts:
Low Income
Low Inc—Eastern Spokane
County—Spokane
Parts:
C.T. 101
C.T. 132.01
Low Inc—Eastside Tacoma
County—Pierce
Parts:
C.T. 618-627
C.T. 628.01-628.02
C.T. 629-635
Low Inc—Lakewood (SW Pierce Co)
County—Pierce
Parts:
C.T. 714.03-714.05
C.T. 715.01
C.T. 715.03-715.04
C.T. 717.01-717.02
C.T. 718.02-718.04
C.T. 719.01-719.02
C.T. 720
C.T. 721.05-721.08
C.T. 723.06
C.T. 723.08
Low Inc—NE Whitman Co
County—Whitman
Parts:
Rosalia CCD
Steptoe CCD
Tekoa CCD
Low Inc—Southwestern Spokane
County—Spokane
Parts:
C.T. 104.01
C.T. 139
C.T. 140.01-140.02
C.T. 141-142
Low Inc—SW Lewis Co
County—Lewis
Parts:
Boistfort CCD
Ethel CCD
Olequa CCD
Low Inc—Thurston South Div
County—Thurston
Parts:
Low Income
Low Inc—Wahkiakum Co
County—Wahkiakum
Parts:
Low Income
Low Inc-Discovery Bay/Oak Bay
County—Jefferson
Parts:
Discovery Bay CCD
Oak Bay CCD
Low Inc/Homeless—S King Co
County—King
Parts:
C.T. 252-254
C.T. 259
C.T. 291
C.T. 292.01-292.02
C.T. 295.01-295.02
C.T. 296-297
C.T. 298.01
C.T. 305.01-305.02
C.T. 306-308
Low Inc/Homeless—Snohomish Co
County—Snohomish
Parts:
C.T 0419.02
C.T. 401.98
C.T. 402-408
C.T. 410-412
C.T. 414-415
C.T. 418.01
C.T. 418.03-418.04
C.T. 419.01
C.T. 510-512
C.T. 514-515
C.T. 517
C.T. 518.01-518.02
Low Inc/MFW—Benton Co
County—Benton
Parts:
Low Income
MFW
Low Inc/MFW—Central Grant Co
County—Grant
Parts:
Ephrata—Soap Lake CCD
George CCD
Gloyd CCD
Moses Lake CCD
Quincy CCD
Warden CCD
Wilson Creek CCD
Low Inc/MFW—Franklin Co
County—Franklin
Parts:
Low Income
MFW
Low Inc/MFW—Walla Walla
County—Walla Walla
Parts:
Low Income
MFW
Lower Elwha Indian Tribe
County—Clallam
Parts:
Agnew-Carlsborg CCD
Crescent CCD
Forks CCD
Port Angeles CCD
Sequim CCD
MFW—Yakima Co
County—Yakima
Parts:
MFW
MSFW—C Okanogan Co
County—Okanogan
Parts:
Concully-Riverside CCD
Okanogan CCD
Omak CCD
MSFW—Chelan/Douglas
County—Chelan
Parts:
MSFW
County—Douglas
Parts:
MSFW
MSFW—N Okanogan Co
County—Okanogan
Parts:
Oroville CCD
Tonasket-Pine Creek CCD
MSFW—S Okanogan Co
County—Okanogan
Parts:
Brewster-Wakefield CCD
MSFW—W Klickitat Co
County—Klickitat
Parts:
Wahkiakus CCD
White Salmon CCD
Yakima Res CCD
MSFW—West Skagit Co
County—Skagit
Parts:
Anacortes CCD
Bayview CCD
Bow CCD
Burlington CCD
Cavanaugh CCD
Clear Lake CCD
Conway CCD
La Conner CCD
Lyman-Hamilton CCD
Mount Vernon CCD
Samish CCD
Sedro-Woolley CCD
MSFW—Whatcom Co
County—Whatcom
Parts:
MSFW

PRIMARY MEDICAL CARE: Washington Facility Listing
Facility Name
Clallam Bay Corrections Ct r
County—Clallam
Columbia Basin Health Association
County—Adams
Coyote Ridge Corr Inst
County—Franklin
McNeil Island Corr. C.
County—Pierce
Twin Rivers Corr C
County—Snohomish
Wa Corr/Reception Ct r
County—Mason
Wa State Pen
County—Walla Walla

PRIMARY MEDICAL CARE: West Virginia County Listing
County Name
*Barbour
Berkeley
Population Group: Low Inc/MFW—Shenandoah
*Boone
Service Area: McDowell
*Braxton
*Calhoun
*Clay
*Doddridge
Service Area: Doddridge/Salem
*Fayette
Service Area: New Haven
*Gilmer
*Grant
Service Area: Mt Storm-Union District
*Greenbrier
Service Area: Greenbrier
Service Area: Rainelle
*Hampshire
Hancock
Population Group: Low Inc—East Liverpool
*Hardy
Service Area: Baker
*Harrison
Service Area: Doddridge/Salem
*Jackson
Jefferson
Population Group: Low Inc/MFW—Shenandoah
Kanawha
Service Area: Clendenin
*Lincoln
Marshall
Service Area: Cameron
*Mercer
Service Area: Matoaka
*Mingo
Service Area: Gilbert
Service Area: Kermit
*Monongalia
Service Area: Clay/Battelle (WV/PA)
*Monroe
*Morgan
Service Area: Paw Paw
*Nicholas
Service Area: Richwood
*Pendleton
*Preston
Service Area: Bruceton Mills
Service Area: Rowlesburg/Eglon
*Raleigh
Service Area: Northwest Raleigh
Facility: FCI Beckley
*Randolph
Service Area: Huttonsville
*Ritchie
*Roane
*Summers
*Taylor
*Tyler
*Upshur
Service Area: Rock Cave
Wayne
Service Area: Wayne/Fort Gay
*Webster
Service Area: Richwood
*Wetzel
Service Area: Clay/Battelle (WV/PA)
*Wirt
*Wyoming
Population Group: Low Income—Wyoming Co

PRIMARY MEDICAL CARE: West Virginia Service Area Listing
Service Area Name
Baker
County—Hardy
Parts:
Capon District
Lost River District
Bruceton Mills
County—Preston
Parts:
Grant District
Cameron
County—Marshall
Parts:
C.T. 208
Clay/Battelle (WV/PA)
County—Monongalia
Parts:
C.T. 114
County—Wetzel
Parts:
C.T. 304
Clendenin
County—Kanawha
Parts:
C.T. 112
Doddridge/Salem
County—Doddridge
County—Harrison
Parts:
C.T. 316
Gilbert
County—Mingo
Parts:
Stafford District
Greenbrier
County—Greenbrier
Parts:
Anthony Creek District
Falling Spring District
Williamsburg District
Huttonsville
County—Randolph
Parts:
Huttonsville District
Middle Fork District
Mingo District
Valley Bend District
Kermit
County—Mingo
Parts:
Harvey District
Kermit District
Matoaka
County—Mercer
Parts:
C.T. 9509
C.T. 9516
McDowell
County—Boone
Parts:
District 1
District 2
Mt Storm-Union District
County—Grant
Parts:
Union District
New Haven
County—Fayette
Parts:
C.T. 210-211
Northwest Raleigh
County—Raleigh
Parts:
C.T. 111-112
Paw Paw
County—Morgan
Parts:
C.T. 9709-9710
Rainelle
County—Greenbrier
Parts:
Meadow Bluff District
Richwood
County—Nicholas
Parts:
Beaver District
County—Webster
Parts:
Glade District
Rock Cave
County—Upshur
Parts:
Banks District
Meade District
Rowlesburg/Eglon
County—Preston
Parts:
Lyon District
Reno District
Union District
Wayne/Fort Gay
County—Wayne
Parts:
Butler District
Stonewall District
Union District

PRIMARY MEDICAL CARE: West Virginia Population Group Listing
Population Group
Low Inc—East Liverpool
County—Hancock
Parts:
Grant District
Low Inc/MFW—Shenandoah
County—Berkeley
Parts:
Low Income/Migrant Farmw
County—Jefferson
Parts:
Low Incomw/Migrant Farmw
Low Income—Wyoming Co
County—Wyoming
Parts:
Wyoming

PRIMARY MEDICAL CARE: West Virginia Facility Listing
Facility Name
FCI Beckley
County—Raleigh

PRIMARY MEDICAL CARE: Wisconsin County Listing
County Name
*Adams (g)
Facility: FCI Oxford
*Ashland
Service Area: Bayfield
Population Group: Am In—Bad River Tribe
*Barron
Service Area: Chetek/Colfax
*Bayfield
Service Area: Bayfield
Service Area: Hayward/Radisson
Brown
Service Area: Pulaski
Population Group: Am In—Oneida Nation
Facility: Green Bay Maximum Security Inst
*Buffalo
Population Group: Low Inc—Durand
Population Group: Low Inc—Mondovi
*Burnett
*Clark
*Columbia
Population Group: Low Inc—Portage/Pardeeville
Facility: Columbia Maximum Security Inst
*Crawford
Population Group: Low Inc—Boscobel
*Dodge
Facility: Dodge Corr Inst
Facility: Fox Lake Medium Security Inst
Facility: Waupun Maximum Security Inst
*Door
Service Area: Sister Bay/Washington Island
Service Area: Sturgeon Bay
Douglas
Service Area: Minong/Solon Springs
*Dunn
Service Area: Chetek/Colfax
Population Group: Low Inc—Durand
Eau Claire
Population Group: Low Inc—Augusta/Osseo
*Fond Du Lac
Facility: Kettle Moraine Medium Security Inst
*Grant
Service Area: Platteville/Cuba City
Population Group: Low Inc—Boscobel
Population Group: Low Inc—Lancaster/Fennimore
*Green Lake
Service Area: Markesan/Kingston
*Iowa
Service Area: Platteville/Cuba City
*Iron
Population Group: Low Inc—Ironwood/Hurley (MI/WI)
*Jackson
Population Group: Low Inc—Augusta/Osseo
*Juneau
Service Area: Hillsboro
Kenosha
Service Area: Kenosha
*Kewaunee
Service Area: Kewaunee City/Algoma
La Crosse
Service Area: Coon Valley/Chaseburg
*Lafayette
Service Area: Darlington/Shullsburg
Service Area: Platteville/Cuba City
*Langlade
Service Area: Elcho
Service Area: Mountain/White Lake
*Lincoln
Population Group: Low Inc—Tomahawk
Marathon
Service Area: Tigerton/Birnamwood
Population Group: Low Inc—Wausau City
*Marinette
Service Area: W. Marinette
Population Group: Low Inc—E Marinette/S Menominee (MI/WI
*Marquette
Service Area: Montello
*Menominee
Milwaukee
Service Area: Capitol Drive (Milwaukee)
Service Area: Inner City West
Service Area: Inner City South
Service Area: Juneautown
Population Group: Low Inc—Inner City North (Milwaukee)
*Monroe
Service Area: Hillsboro
Service Area: Sparta
*Oconto
Service Area: Mountain/White Lake
Service Area: Oconto/Oconto Falls
Service Area: Pulaski
*Oneida
Service Area: Elcho
Population Group: Low Inc—Tomahawk
Outagamie
Service Area: Clintonville/Marion
Population Group: Am In—Oneida Nation
*Pepin
Population Group: Low Inc—Durand
Population Group: Low Inc—Mondovi
Pierce
Population Group: Low Inc—Durand
*Polk
Service Area: Frederic/Luck
*Price
Racine
Facility: Racine Medium Security Inst
*Richland
Service Area: Hillsboro
Service Area: Spring Green/Plain
Rock
Service Area: Central Beloit
*Rusk
Population Group: Low Inc—Rusk Co
*Sauk
Service Area: Hillsboro
Service Area: Spring Green/Plain
*Sawyer
Service Area: Hayward/Radisson
*Shawano
Service Area: Clintonville/Marion
Service Area: Oconto/Oconto Falls
Service Area: Pulaski
Service Area: Tigerton/Birnamwood
Population Group: Am In—Stockbridge-Munsee Tribe
*Taylor
*Trempealeau
Service Area: Galesville/Trempealeau
Population Group: Low Inc—Augusta/Osseo
*Vernon
Service Area: Coon Valley/Chaseburg
Service Area: Hillsboro
*Vilas
Service Area: Land O'Lakes/Presque Isle
*Washburn
Service Area: Hayward/Radisson
Service Area: Minong/Solon Springs
Population Group: Low Inc—Spooner/Shell Lake
*Waupaca
Service Area: Clintonville/Marion
Service Area: Tigerton/Birnamwood
*Waushara
Service Area: Wautoma/Plainfield/Wild Rose
Winnebago
Facility: Oshkosh Medium Security Inst

PRIMARY MEDICAL CARE: Wisconsin Service Area Listing
Service Area Name
Bayfield
County—Ashland
Parts:
La Pointe Town
County—Bayfield
Parts:
Bayfield City
Bayfield Town
Bayview Town
Bell Town
Clover Town
Russell Town
Capitol Drive (Milwaukee)
County—Milwaukee
Parts:
C.T. 23-28
C.T. 36
C.T. 38-49
C.T. 60-61
C.T. 63-65
Central Beloit
County—Rock
Parts:
C.T. 15-19
Chetek/Colfax
County—Barron
Parts:
Arland Town
Chetek City
Chetek Town
Dallas Village
Dallas Town
Dovre Town
Maple Grove Town
Prairie Farm Village
Prairie Lake Town
Prairie Farm Town
Sioux Creek Town
Sumner Town
Turtle Lake Town
Turtle Lake Village
Vance Creek Town
County—Dunn
Parts:
Boyceville Village
Colfax Village
Colfax Town
Downing Village
Grant Town
Hay River Town
Knapp Village
New Haven Town
Otter Creek Town
Ridgeland Village
Sand Creek Town
Sheridan Town
Sherman Town
Stanton Town
Tainter Town
Tiffany Town
Wheeler Village
Wilson Town
Clintonville/Marion
County—Outagamie
Parts:
Bear Creek Vil
Deer Creek Town
Maine Town
County—Shawano
Parts:
Grant Town
Pella Town
County—Waupaca
Parts:
Bear Creek Town
Clintonville City
Dupont Town
Embarrass Vil
Larrabee Town
Marion City
Matteson Town
Union Town
Coon Valley/Chaseburg
County—La Crosse
Parts:
Washington Town
County—Vernon
Parts:
Chaseburg Vil
Coon Town
Coon Valley Vil
Hamburg Town
Darlington/Shullsburg
County—Lafayette
Parts:
Argyle Town
Argyle Vil
Blanchard Town
Blanchardville Vil
Darlington City
Darlington Town
Fayette Town
Gratiot Town
Gratiot Vil
Kendall Town
Lamont Town
Monticello Town
Seymour Town
Shullsburg Town
Shullsburg City
South Wayne Vil
Wayne Town
White Oak Springs Town
Willow Springs Town
Wiota Town
Elcho
County—Langlade
Parts:
Ainsworth Town
Elcho Town
Parrish Town
Summit Town
Upham Town
County—Oneida
Parts:
Enterprise Town
Schoepke Town
Frederic/Luck
County—Polk
Parts:
Bone Lake Town
Clam Falls Town
Frederic Vil
Georgetown Town
Laketown Town
Lorain Town
Luck Town
Luck Vil
McKinley Town
West Sweden Town
Galesville/Trempealeau
County—Trempealeau
Parts:
Caledonia Town
Ettrick Town
Ettrick Vil
Gale Town
Galesville City
Trempealeau Vil
Trempealeau Town
Hayward/Radisson
County—Bayfield
Parts:
Barnes Town
Cable Town
Drummond Town
Grand View Town
Namakagon Town
County—Sawyer
Parts:
Bass Lake Town
Couderay Town
Couderay Vil
Edgewater Town
Exeland Vil
Hayward City
Hayward Town
Hunter Town
Lenroot Town
Meadowbrook Town
Meteor Town
Ojibwa Town
Radisson Town
Radisson Vil
Round Lake Town
Sand Lake Town
Spider Lake Town
Weirgor Town
Winter Vil
Winter Town
County—Washburn
Parts:
Bass Lake Town
Stinnett Town
Stone Lake Town
Hillsboro
County—Juneau
Parts:
Union Center Village
Wonewoc Town
Wonewoc Village
County—Monroe
Parts:
Glendale Town
Kendall Village
Sheldon Town
Wellington Town
County—Richland
Parts:
Bloom Town
Cazenovia Village
Henrietta Town
Westford Town
Yuba Village
County—Sauk
Parts:
Woodland Town
County—Vernon
Parts:
Forest Town
Greenwood Town
Hillsboro City
Hillsboro Town
Ontario Village
Union Town
Whitestown Town
Inner City South
County—Milwaukee
Parts:
C.T. 155-159
C.T. 162-169
C.T. 174-177
Inner City West
County—Milwaukee
Parts:
C.T. 62
C.T. 87-90
C.T. 96-100
C.T. 119-123
C.T. 133-138
C.T. 148-149
Juneautown
County—Milwaukee
Parts:
C.T. 108
C.T. 110-113
Kenosha
County—Kenosha
Parts:
C.T. 7-12
C.T. 16
Kewaunee City/Algoma
County—Kewaunee
Parts:
Ahnapee Town
Algoma City
Carlton Town
Casco Town
Casco Village
Kewaunee City
Lincoln Town
Pierce Town
West Kewaunee Town
Land O'Lakes/Presque Isle
County—Vilas
Parts:
Land O'Lakes Town
Presque Isle Town
Winchester Town
Markesan/Kingston
County—Green Lake
Parts:
Kingston Vil
Kingston Town
Mackford Town
Manchester Town
Markesan City
Marquette Town
Marquette City
Minong/Solon Springs
County—Douglas
Parts:
Bennett Town
Dairyland Town
Gordon Town
Highland Town
Oakland Town
Solon Springs Village
Solon Springs Town
Wascott Town
County—Washburn
Parts:
Brooklyn Town
Chicog Town
Frog Creek Town
Gull Lake Town
Minong Town
Minong Village
Montello
County—Marquette
Parts:
Crystal Lake Town
Harris Town
Mecan Town
Montello City
Montello Town
Neshkoro Town
Neshkoro Vil
Newton Town
Oxford Town
Oxford Vil
Packwaukee Town
Shields Town
Springfield Town
Westfield Vil
Westfield Town
Mountain/White Lake
County—Langlade
Parts:
Evergreen Town
Langlade Town
White Lake Vil
Wolf River Town
County—Oconto
Parts:
Armstrong Town
Bagley Town
Brazeau Town
Breed Town
Doty Town
Lakewood Town
Riverview Town
Townsend Town
Oconto/Oconto Falls
County—Oconto
Parts:
Abrams Town
Gillett City
Gillett Town
How Town
Lena Town
Lena Village
Little River Town
Maple Valley Town
Morgan Town
Oconto City
Oconto Falls City
Oconto Falls Town
Oconto Town
Pensaukee Town
Spruce Town
Stiles Town
Suring Village
Underhill Town
County—Shawano
Parts:
Green Valley Town
Platteville/Cuba City
County—Grant
Parts:
Clifton Town
Cuba City City
Dickeyville Vil
Ellenboro Town
Harrison Town
Hazel Green Town
Hazel Green Vil
Lima Town
Livingston Vil
Paris Town
Platteville City
Platteville Town
Smelser Town
County—Iowa
Parts:
Mifflin Town
Rewey Vil
County—Lafayette
Parts:
Belmont Town
Belmont Vil
Benton Town
Benton Vil
Elk Grove Town
New Diggings Town
Pulaski
County—Brown
Parts:
Pittsfield Town
Pulaski Vil
County—Oconto
Parts:
Chase Town
County—Shawano
Parts:
Angelica Town
Maple Grove Town
Sister Bay/Washington Island
County—Door
Parts:
Baileys Harbor Town
Ephraim Vil
Gibraltar Town
Liberty Grove Town
Sister Bay Vil
Washington Town
Sparta
County—Monroe
Parts:
Angelo Town
Cashton Village
Jefferson Town
Lafayette Town
Leon Town
Little Falls Town
Melvina Village
New Lyme Town
Norwalk Village
Portland Town
Ridgeville Town
Sparta Town
Sparta City
Wells Town
Spring Green/Plain
County—Richland
Parts:
Buena Vista Town
Lone Rock Village
County—Sauk
Parts:
Bear Creek Town
Franklin Town
Honey Creek Town
Plain Village
Spring Green Town
Spring Green Village
Troy Town
Sturgeon Bay
County—Door
Parts:
Brussels Town
Claybanks Town
Egg Harbor Town
Egg Harbor Vil
Forestville Town
Forestville Vil
Gardner Town
Jacksonport Town
Nasewaupee Town
Sevastopol Town
Sturgeon Bay City
Sturgeon Bay Town
Union Town
Tigerton/Birnamwood
County—Marathon
Parts:
Elderon Town
Elderon Vil
Franzen Town
Hatley Vil
Norrie Town
Plover Town
County—Shawano
Parts:
Almon Town
Aniwa Town
Aniwa Vil
Birnamwood Town
Birnamwood Vil
Bowler Vil
Eland Vil
Fairbanks Town
Germania Town
Hutchins Town
Mattoon Vil
Morris Town
Tigerton Vil
Wittenberg Vil
Wittenberg Town
County—Waupaca
Parts:
Big Falls Vil
Harrison Town
Wyoming Town
W. Marinette
County—Marinette
Parts:
Amberg Town
Athelstane Town
Beaver Town
Beecher Town
Coleman Village
Crivitz Village
Dunbar Town
Goodman Town
Lake Town
Middle Inlet Town
Niagara Town
Pembine Town
Pound Town
Pound Village
Silver Cliff Town
Stephenson Town
Wausaukee Town
Wausaukee Village
Wautoma/Plainfield/Wild Rose
County—Waushara
Parts:
Coloma Town
Coloma Vil
Dakota Town
Deerfield Town
Hancock Town
Hancock Vil
Marion Town
Mount Morris Town
Oasis Town
Plainfield Town
Plainfield Vil
Richford Town
Rose Town
Springwater Town
Wautoma City
Wautoma Town
Wild Rose Vil

PRIMARY MEDICAL CARE: Wisconsin Population Group Listing
Population Group
Am In—Bad River Tribe
County—Ashland
Parts:
Sanborn Town
Am In—Oneida Nation
County—Brown
Parts:
Hobart Town
County—Outagamie
Parts:
Oneida Town
Am In—Stockbridge-Munsee Tribe
County—Shawano
Parts:
Bartelme Town
Red Springs Town
Low Inc—Augusta/Osseo
County—Eau Claire
Parts:
Augusta City
Bridge Creek Town
Clear Creek Town
Fairchild Vil
Fairchild Town
Otter Creek Town
County—Jackson
Parts:
Cleveland Town
Garfield Town
Northfield Town
County—Trempealeau
Parts:
Hale Town
Osseo City
Strum Vil
Sumner Town
Unity Town
Low Inc—Boscobel
County—Crawford
Parts:
Haney Town
Marietta Town
Scott Town
Steuben Vil
Wauzeka Town
Wauzeka Vil
County—Grant
Parts:
Bagley Vil
Blue River Vil
Boscobel City
Boscobel Town
Castle Rock Town
Hickory Grove Town
Marion Town
Millville Town
Mount Hope Town
Mount Ida Town
Muscoda Town
Muscoda Vil
Patch Grove Vil
Patch Grove Town
Watterstown Town
Woodman Town
Woodman Vil
Wyalusing Town
Low Inc—Durand
County—Buffalo
Parts:
Maxville Twn
Nelson Vil
Nelson Twn
County—Dunn
Parts:
Dunn Twn
Eau Galle Twn
Peru Twn
Rock Creek Twn
Spring Brook Twn
Weston Twn
County—Pepin
Parts:
Durand Twn
Durand City
Frankfort Twn
Lima Twn
Pepin Twn
Pepin Vil
Stockholm Vil
Stockholm Twn
Waterville Twn
Waubeek Twn
County—Pierce
Parts:
El Paso Twn
Elmwood Vil
Gilman Twn
Maiden Rocktwn
Maiden Rock Vil
Plum City Vil
Rock Elm Twn
Salem Twn
Spring Lake Twn
Spring Valley Vil
Union Twn
Low Inc—E Marinette/S Menominee (MI/WI
County—Marinette
Parts:
Grover Town
Marinette City
Peshtigo City
Pestigo Town
Porterfield Town
Wagner Town
Low Inc—Inner City North (Milwaukee)
County—Milwaukee
Parts:
C.T. 44
C.T. 66-72
C.T. 79-86
C.T. 101-107
C.T. 114-118
C.T. 139-142
C.T. 145-147
C.T. 151
Low Inc—Ironwood/Hurley (MI/WI)
County—Iron
Parts:
Anderson Town
Carey Town
Gurney Town
Hurley City
Kimball Town
Knight Town
Mercer Town
Montreal City
Oma Town
Pence Town
Saxon Town
Low Inc—Lancaster/Fennimore
County—Grant
Parts:
Beetown Town
Bloomington Town
Bloomington Vil
Cassville Vil
Cassville Town
Fennimore Town
Fennimore City
Glen Haven Town
Lancaster City
Liberty Town
Little Grant Town
Montfort Vil
North Lancaster Town
Potosi Town
Potosi Vil
South Lancaster Town
Waterloo Town
Wingville Town
Low Inc—Mondovi
County—Buffalo
Parts:
Alma City
Alma Town
Belvidere Town
Buffalo City
Canton Town
Cochrane Vil
Dover Town
Gilmanton Town
Lincoln Town
Modena Town
Mondovi City
Mondovi Town
Naples Town
County—Pepin
Parts:
Albany Town
Low Inc—Portage/Pardeeville
County—Columbia
Parts:
Caledonia Twn
Cambria Vil
Courtland Twn
Dekorra Twn
Doylestown Vil
Fall River Vil
Fort Winnebago Twn
Fountain Prairie Twn
Friesland Vil
Lewiston Twn
Lowville Twn
Marcellon Twn
Otsego Twn
Pacific Twn
Pardeeville Vil
Portage City
Poynette Vil
Randolph Twn
Randolph Vil
Rio Vil
Scott Twn
Springvale Twn
Wyocena Vil
Wyocena Twn
Low Inc—Rusk Co
County—Rusk
Parts:
Low Income
Low Inc—Spooner/Shell Lake
County—Washburn
Parts:
Barronett Town
Bashaw Town
Beaver Brook Town
Birchwood Town
Birchwood Vil
Casey Town
Crystal Town
Evergreen Town
Long Lake Town
Madge Town
Sarona Town
Shell Lake City
Spooner City
Spooner Town
Springbrook Town
Trego Town
Low Inc—Tomahawk
County—Lincoln
Parts:
Bradley Town
Harrison Town
King Town
Skanawan Town
Somo Town
Tomahawk City
Tomahawk Town
Wilson Town
County—Oneida
Parts:
Little Rice Town
Lynne Town
Nokomis Town
Low Inc—Wausau City
County—Marathon
Parts:
C.T. 1-2
C.T. 4-5
C.T. 6.01-6.02
C.T. 7

PRIMARY MEDICAL CARE: Wisconsin Facility Listing
Facility Name
Columbia Maximum Security Inst
County—Columbia
Dodge Corr Inst
County—Dodge
Fox Lake Medium Security Inst
County—Dodge
FCI Oxford
County—Adams
Green Bay Maximum Security Inst
County—Brown
Kettle Moraine Medium Security Inst
County—Fond Du Lac
Oshkosh Medium Security Inst
County—Winnebago
Racine Medium Security Inst
County—Racine
Waupun Maximum Security Inst
County—Dodge

PRIMARY MEDICAL CARE: Wyoming County Listing
County Name
*Big Horn
*Campbell
Service Area: Wright
*Carbon
Facility: Wyoming State Penitentiary
*Crook
*Fremont
Service Area: Dubois
Service Area: Sweetwater
*Hot Springs
Natrona
Service Area: Midwest/Edgerton
Population Group: Low Income—Casper
*Niobrara
*Park
Service Area: Gardiner/Yellowstone (MT/WY)
*Platte
Service Area: Chugwater
Service Area: Glendo
Service Area: Guernsey
*Sublette
*Teton
Service Area: Gardiner/Yellowstone (MT/WY)
*Uinta
*Washakie
*Weston

PRIMARY MEDICAL CARE: Wyoming Service Area Listing
Service Area Name
Chugwater
County—Platte
Parts:
Chugwater Division
Dubois
County—Fremont
Parts:
Dubois Division
Gardiner/Yellowstone (MT/WY)
County—Park
Parts:
Yellowstone National Park Divisi
County—Teton
Parts:
Yellowstone National Park Divisi
Glendo
County—Platte
Parts:
Glendo Division
Guernsey
County—Platte
Parts:
Guernsey Division
Midwest/Edgerton
County—Natrona
Parts:
Casper Division
Sweetwater
County—Fremont
Parts:
Sweetwater Division
Wright
County—Campbell
Parts:
Gillette South Division

PRIMARY MEDICAL CARE: Wyoming Population Group Listing
Population Group
Low Income—Casper
County—Natrona
Parts:
Census Tract 0012.00
Census Tract 0011.00
Census Tract 0008.00
Census Tract 0007.00
Census Tract 0004.00
Census Tract 0003.00
Census Tract 0002.00
Census Tract 0001.00

PRIMARY MEDICAL CARE: Wyoming Facility Listing
Facility Name
Wyoming State Penitentiary
County—Carbon

PRIMARY MEDICAL CARE: American Samoa County Listing
County Name
*Eastern
Service Area: Terr. Of American Samoa
*Manua
Service Area: Terr. Of American Samoa
*Rose Island
Service Area: Terr. Of American Samoa
*Swains Island
Service Area: Terr. Of American Samoa
*Western
Service Area: Terr. Of American Samoa

PRIMARY MEDICAL CARE: American Samoa Service Area Listing
Service Area Name
Terr. Of American Samoa
County—Eastern
County—Manua
County—Rose Island
County—Swains Island
County—Western

PRIMARY MEDICAL CARE: Fed Ste Micronesia County Listing
County Name
*Chuuk State
*Kosrae State
*Pohnpei State
*Yap State

PRIMARY MEDICAL CARE: Guam County Listing
County Name
*Guam

PRIMARY MEDICAL CARE: N. Mariana Islands County Listing
County Name
*Northern Islands
Service Area: Commonwealth N. Mariana Islands
*Rota
Service Area: Commonwealth N. Mariana Islands
*Saipan
Service Area: Commonwealth N. Mariana Islands
*Tinian
Service Area: Commonwealth N. Mariana Islands

PRIMARY MEDICAL CARE: N. Mariana Islands Service Area Listing
Service Area Name
Commonwealth N. Mariana Islands
County—Northern Islands
County—Rota
County—Saipan
County—Tinian

PRIMARY MEDICAL CARE: Republic of Palau County Listing
County Name
*Republic Of Palau

PRIMARY MEDICAL CARE: Puerto Rico County Listing
County Name
*Adjuntas (W 1/2)
Service Area: Castaner
Aguada
Population Group: Pov Pop—Subregion 4A
Aguadilla
Population Group: Pov Pop—Subregion 4A
*Aguas Buenas
Service Area: Caguas (Sub-Region I)
Anasco
Population Group: Pov Pop—Subregion 4B
*Arroyo
Population Group: Pov Pop—Subregion 5C
*Barranquitas
Population Group: Pov Pop—Barranquitas
*Cabo Rojo
Population Group: Pov Pop—Subregion 4C
*Caguas
Service Area: Caguas (Sub-Region I)
*Canovanas
Population Group: Rsa 14
*Ceiba
Population Group: Rsa 14
*Cidra
Service Area: Caguas (Sub-Region I)
*Coamo
Population Group: Pov Pop—Subregion 5B
*Culebra
Population Group: Rsa 14
*Fajardo
Population Group: Rsa 14
*Guayama
Population Group: Pov Pop—Subregion 5C
*Gurabo
Service Area: Caguas (Sub-Region I)
Hormigueros
Population Group: Pov Pop—Subregion 4C
*Humacao
Population Group: Pov. Pop.—Subregion 6A
*Isabela
Population Group: Pov Pop—Subregion 4A
Juana Diaz
Population Group: Pov Pop—Subregion 5B
*Juncos
Service Area: Caguas (Sub-Region I)
*Lajas
Population Group: Pov Pop—Subregion 4C
*Lares (S 1/2)
Service Area: Castaner
*Las Marias
Population Group: Pov. Pop.—Las Marias
*Las Peidras
Population Group: Pov. Pop.—Subregion 6A
*Loiza
Population Group: Rsa 14
*Luquillo
Population Group: Rsa 14
*Maricao (E 1/2)
Service Area: Castaner
*Maunabo
Population Group: Pov. Pop.—Subregion 6A
Mayaguez
Population Group: Pov. Pop.—Mayaguez
Moca
Population Group: Pov Pop—Subregion 4A
*Naguabo
Population Group: Pov. Pop.—Subregion 6A
*Patillas
Population Group: Pov Pop—Subregion 5C
Ponce
Population Group: Low Income—SW Ponce
Facility: Las Cucharas Corr Inst
*Rincon
Population Group: Pov Pop—Subregion 4B
*Rio Grande
Population Group: Rsa 14
Sabana Grande
Population Group: Pov Pop—Subregion 4C
*Salinas
Population Group: Pov Pop—Subregion 5C
San German
Population Group: Pov Pop—Subregion 4C
*San Sebastian
Population Group: Pov Pop—Subregion 4A
*Santa Isabel
Population Group: Pov Pop—Subregion 5B
*Vega Baja
Population Group: Pov Pop—Vega Baja
*Vieques
Population Group: Rsa 14
Villalba
Population Group: Pov Pop—Subregion 5B
*Yabucoa
Population Group: Pov. Pop.—Subregion 6A
*Yauco (N 1/4)
Service Area: Castaner

PRIMARY MEDICAL CARE: Puerto Rico Service Area Listing
Service Area Name
Caguas (Sub-Region I)
County—Aguas Buenas
County—Caguas
County—Cidra
County—Gurabo
County—Juncos
Castaner
County—Adjuntas (W 1/2)
County—Lares (S 1/2)
County—Maricao (E 1/2)
County—Yauco (N 1/4)

PRIMARY MEDICAL CARE: Puerto Rico Population Group Listing
Population Group
Low Income—SW Ponce
County—Ponce
Parts:
C.T. 714.01-714.02
C.T. 715
C.T. 716.01-716.02
C.T. 719
C.T. 721.01-721.02
C.T. 721.99
C.T. 730.01-730.07
Pov Pop—Barranquitas
County—Barranquitas
Parts:
Pov. Pop.—Barranquitas
Pov Pop—Subregion 4B
County—Anasco
Parts:
Pov. Pop.
County—Rincon
Parts:
Pov. Pop.
Pov Pop—Subregion 4C
County—Cabo Rojo
Parts:
Pov. Pop.
County—Hormigueros
Parts:
Pov. Pop.
County—Lajas
Parts:
Pov. Pop.
County—Sabana Grande
Parts:
Pov. Pop.
County—San German
Parts:
Pov. Pop.
Pov Pop—Subregion 4A
County—Aguada
Parts:
Pov. Pop.
County—Aguadilla
Parts:
Pov. Pop.
County—Isabela
Parts:
Pov. Pop.
County—Moca
Parts:
Pov. Pop.
County—San Sebastian
Parts:
Pov. Pop.
Pov Pop—Subregion 5C
County—Arroyo
Parts:
Pov. Pop.
County—Guayama
Parts:
Pov. Pop.
County—Patillas
Parts:
Pov. Pop.
County—Salinas
Parts:
Pov. Pop.
Pov Pop—Subregion 5B
County—Coamo
Parts:
Pov. Pop.
County—Juana Diaz
Parts:
Pov. Pop.
County—Santa Isabel
Parts:
Pov. Pop.
County—Villalba
Parts:
Pov. Pop.
Pov Pop—Vega Baja
County—Vega Baja
Parts:
Pov. Pop.—Vega Baja
Pov. Pop.—Las Marias
County—Las Marias
Parts:
Pov. Pop.
Pov. Pop.—Mayaguez
County—Mayaguez
Pov. Pop.—Subregion 6A
County—Humacao
Parts:
Pov. Pop.
County—Las Peidras
Parts:
Pov. Pop.
County—Maunabo
Parts:
Pov. Pop.
County—Naguabo
Parts:
Pov. Pop.
County—Yabucoa
Parts:
Pov. Pop.
Rsa 14
County—Canovanas
Parts:
Canovanas
County—Ceiba
Parts:
Ceiba
County—Culebra
Parts:
Culebra
County—Fajardo
Parts:
Fajardo
County—Loiza
Parts:
Loiza
County—Luquillo
Parts:
Luquillo
County—Rio Grande
Parts:
Rio Grande
County—Vieques
Parts:
Vieques

PRIMARY MEDICAL CARE: Puerto Rico Facility Listing
Facility Name
Las Cucharas Corr Inst
County—Ponce

PRIMARY MEDICAL CARE: Virgin Islands County Listing
County Name
*St. Croix
Service Area: Fredericksted
*St. Thomas
Service Area: East End St. Thomas

PRIMARY MEDICAL CARE: Virgin Islands Service Area Listing
Service Area Name
East End St. Thomas
County—St. Thomas
Parts:
East End
Southside
Tutu
Fredericksted
County—St. Croix
Parts:
Fredericksted
Northwest
Southwest

MENTAL HEALTH: Alabama County Listing
County Name
Autauga
Service Area: Catchment Area M-14
Baldwin
Service Area: Catchment Area M-21
*Barbour
Service Area: Catchment Area M-19
*Bibb
Service Area: Catchment Area M-8
*Bullock
Service Area: Catchment Area M-15
*Butler
Service Area: Catchment Area M-18
Calhoun
Service Area: Catchment Area M-7
*Chambers
Service Area: Catchment Area M-12
*Cherokee
Service Area: Catchment Area M-6
*Chilton
Service Area: Catchment Area M-11
*Choctaw
Service Area: Catchment Area M-10
*Clarke
Service Area: Catchment Area M-17
*Clay
Service Area: Catchment Area M-9
*Cleburne
Service Area: Catchment Area M-7
*Coffee
Service Area: Catchment Area M-18
Colbert
Service Area: Catchment Area M-1
*Conecuh
Service Area: Catchment Area M-17
*Coosa
Service Area: Catchment Area M-9
*Covington
Service Area: Catchment Area M-18
*Crenshaw
Service Area: Catchment Area M-18
*Cullman
Service Area: Catchment Area M-22
Dale
Service Area: Catchment Area M-19
*Dallas
Service Area: Catchment Area M-13
*Dekalb
Service Area: Catchment Area M-6
Elmore
Service Area: Catchment Area M-14
*Escambia
Service Area: Catchment Area M-17
Etowah
Service Area: Catchment Area M-6
*Fayette
Service Area: Catchment Area M-4
*Franklin
Service Area: Catchment Area M-1
*Geneva
Service Area: Catchment Area M-19
*Greene
Service Area: Catchment Area M-10
*Hale
Service Area: Catchment Area M-10
*Henry
Service Area: Catchment Area M-19
*Houston
Service Area: Catchment Area M-19
*Jackson
Service Area: Catchment Area M-20
*Lamar
Service Area: Catchment Area M-4
Lauderdale
Service Area: Catchment Area M-1
Lee
Service Area: Catchment Area M-12
*Lowndes
Service Area: Catchment Area M-14
*Macon
Service Area: Catchment Area M-15
*Marengo
Service Area: Catchment Area M-10
*Marion
Service Area: Catchment Area M-4
*Marshall
Service Area: Catchment Area M-20
Mobile
Service Area: Catchment Area M-16
*Monroe
Service Area: Catchment Area M-17
Montgomery
Service Area: Catchment Area M-14
*Perry
Service Area: Catchment Area M-13
*Pickens
Service Area: Catchment Area M-8
*Pike
Service Area: Catchment Area M-15
*Randolph
Service Area: Catchment Area M-9
Russell
Service Area: Catchment Area M-12
Shelby
Service Area: Catchment Area M-11
*Sumter
Service Area: Catchment Area M-10
*Talladega
Service Area: Catchment Area M-9
*Tallapoosa
Service Area: Catchment Area M-12
Tuscaloosa
Service Area: Catchment Area M-8
Facility: M. Starke Harper Geriatric Psych Center
*Walker
Service Area: Catchment Area M-4
*Washington
Service Area: Catchment Area M-16
*Wilcox
Service Area: Catchment Area M-13
*Winston
Service Area: Catchment Area M-4

MENTAL HEALTH: Alabama Service Area Listing
Service Area Name
Catchment Area M-1
County—Colbert
County—Franklin
County—Lauderdale
Catchment Area M-10
County—Choctaw
County—Greene
County—Hale
County—Marengo
County—Sumter
Catchment Area M-11
County—Chilton
County—Shelby
Catchment Area M-12
County—Chambers
County—Lee
County—Russell
County—Tallapoosa
Catchment Area M-13
County—Dallas
County—Perry
County—Wilcox
Catchment Area M-14
County—Autauga
County—Elmore
County—Lowndes
County—Montgomery
Catchment Area M-15
County—Bullock
County—Macon
County—Pike
Catchment Area M-16
County—Mobile
County—Washington
Catchment Area M-17
County—Clarke
County—Conecuh
County—Escambia
County—Monroe
Catchment Area M-18
County—Butler
County—Coffee
County—Covington
County—Crenshaw
Catchment Area M-19
County—Barbour
County—Dale
County—Geneva
County—Henry
County—Houston
Catchment Area M-20
County—Jackson
County—Marshall
Catchment Area M-21
County—Baldwin
Catchment Area M-22
County—Cullman
Catchment Area M-4
County—Fayette
County—Lamar
County—Marion
County—Walker
County—Winston
Catchment Area M-6
County—Cherokee
County—Dekalb
County—Etowah
Catchment Area M-7
County—Calhoun
County—Cleburne
Catchment Area M-8
County—Bibb
County—Pickens
County—Tuscaloosa
Catchment Area M-9
County—Clay
County—Coosa
County—Randolph
County—Talladega

MENTAL HEALTH: Alabama Facility Listing
Facility Name
M. Starke Harper Geriatric Psych Center
County—Tuscaloosa

MENTAL HEALTH: Alaska Census Area Listing
Census Area Name
*Aleutians East Borough
*Aleutians West Area
*Bethel Area
*Denali Borough
*Ketchikan Gateway Borough
*Lake And Peninsula Borough
*Nome Census Area
Service Area: Nome
*North Slope Borough
*Northwest Arctic Borough
*Prince Of Wales-Outer Ket
*Skagway-Hoonah-Angoon Borough
*Wrangell-Petersburg Area
*Yukon-Koyukuk Area

MENTAL HEALTH: Alaska Service Area Listing
Service Area Name
Nome
Census Area—Nome Census Area

MENTAL HEALTH: Arizona County Listing
County Name
*Apache
Service Area: N. Arizona Mental Hlth Catch Area
Coconino
Service Area: N. Arizona Mental Hlth Catch Area
*Gila
Service Area: Pinal/Gila Catchment Area
*La Paz
Service Area: Southwest Az Catchment Area
Maricopa
Facility: Maricopa Co Jails
Mohave
Service Area: N. Arizona Mental Hlth Catch Area
*Navajo
Service Area: N. Arizona Mental Hlth Catch Area
Pinal
Service Area: Pinal/Gila Catchment Area
*Yavapai
Service Area: N. Arizona Mental Hlth Catch Area
*Yuma
Service Area: Southwest Az Catchment Area

MENTAL HEALTH: Arizona Service Area Listing
Service Area Name
N. Arizona Mental Hlth Catch Area
County—Apache
County—Coconino
County—Mohave
County—Navajo
County—Yavapai
Pinal/Gila Catchment Area
County—Gila
County—Pinal
Southwest Az Catchment Area
County—La Paz
County—Yuma

MENTAL HEALTH: Arizona Facility Listing
Facility Name
Maricopa Co Jails
County—Maricopa

MENTAL HEALTH: Arkansas County Listing
County Name
*Arkansas
Service Area: Pine Bluff C.A.
*Ashley
Service Area: Monticello C.A.
*Baxter
Service Area: Mountain Home C.A.
*Boone
Service Area: Mountain Home C.A.
*Bradley
Service Area: Monticello C.A.
*Calhoun
Service Area: El Dorado
*Carroll
*Chicot
Service Area: Monticello C.A.
*Clark
Service Area: Hot Springs C.A.
*Clay
Service Area: Jonesboro
*Cleburne
Service Area: Batesville
*Cleveland
Service Area: Pine Bluff C.A.
*Columbia
Service Area: El Dorado
*Conway
Service Area: Russellville C.A.
Craighead
Service Area: Jonesboro
Crawford
Service Area: Fort Smith C.A.
Crittenden
Service Area: Helena
*Cross
Service Area: Helena
*Dallas
Service Area: El Dorado
*Desha
Service Area: Monticello C.A.
*Drew
Service Area: Monticello C.A.
*Franklin
Service Area: Fort Smith C.A.
*Fulton
Service Area: Batesville
*Garland
Service Area: Hot Springs C.A.
*Grant
Service Area: Pine Bluff C.A.
*Greene
Service Area: Jonesboro
*Hempstead
Service Area: Texarkana C.A.
*Hot Spring
Service Area: Hot Springs C.A.
*Howard
Service Area: Texarkana C.A.
*Independence
Service Area: Batesville
*Izard
Service Area: Batesville
*Jackson
Service Area: Batesville
Jefferson
Service Area: Pine Bluff C.A.
*Johnson
Service Area: Russellville C.A.
*Lafayette
Service Area: Texarkana C.A.
*Lawrence
Service Area: Jonesboro
*Lee
Service Area: Helena
*Lincoln
Service Area: Pine Bluff C.A.
*Little River
Service Area: Texarkana C.A.
*Logan
Service Area: Fort Smith C.A.
*Madison
*Marion
Service Area: Mountain Home C.A.
Miller
Service Area: Texarkana C.A.
*Mississippi
Service Area: Jonesboro
*Monroe
Service Area: Helena
*Montgomery
Service Area: Hot Springs C.A.
*Nevada
Service Area: El Dorado
*Newton
Service Area: Mountain Home C.A.
*Ouachita
Service Area: El Dorado
*Perry
Service Area: Russellville C.A.
*Phillips
Service Area: Helena
*Pike
Service Area: Hot Springs C.A.
*Poinsett
Service Area: Jonesboro
*Polk
Service Area: Fort Smith C.A.
*Pope
Service Area: Russellville C.A.
*Randolph
Service Area: Jonesboro
*Scott
Service Area: Fort Smith C.A.
*Searcy
Service Area: Mountain Home C.A.
Sebastian
Service Area: Fort Smith C.A.
*Sevier
Service Area: Texarkana C.A.
*Sharp
Service Area: Batesville
*St. Francis
Service Area: Helena
*Stone
Service Area: Batesville
*Union
Service Area: El Dorado
*Van Buren
Service Area: Batesville
*White
Service Area: Batesville
*Woodruff
Service Area: Batesville
*Yell
Service Area: Russellville C.A.

MENTAL HEALTH: Arkansas Service Area Listing
Service Area Name
Batesville
County—Cleburne
County—Fulton
County—Independence
County—Izard
County—Jackson
County—Sharp
County—Stone
County—Van Buren
County—White
County—Woodruff
El Dorado
County—Calhoun
County—Columbia
County—Dallas
County—Nevada
County—Ouachita
County—Union
Fort Smith C.A.
County—Crawford
County—Franklin
County—Logan
County—Polk
County—Scott
County—Sebastian
Helena
County—Crittenden
County—Cross
County—Lee
County—Monroe
County—Phillips
County—St. Francis
Hot Springs C.A.
County—Clark
County—Garland
County—Hot Spring
County—Montgomery
County—Pike
Jonesboro
County—Clay
County—Craighead
County—Greene
County—Lawrence
County—Mississippi
County—Poinsett
County—Randolph
Monticello C.A.
County—Ashley
County—Bradley
County—Chicot
County—Desha
County—Drew
Mountain Home C.A.
County—Baxter
County—Boone
County—Marion
County—Newton
County—Searcy
Pine Bluff C.A.
County—Arkansas
County—Cleveland
County—Grant
County—Jefferson
County—Lincoln
Russellville C.A.
County—Conway
County—Faulkner
County—Johnson
County—Perry
County—Pope
County—Yell
Texarkana C.A.
County—Hempstead
County—Howard
County—Lafayette
County—Little River
County—Miller
County—Sevier

MENTAL HEALTH: California County Listing
County Name
*Calaveras
Fresno
Service Area: West Side Fresno Co
Kern
Population Group: Low Inc—Arvin/Lamont (MSSA 61)
*Lake
Madera
Merced
*Shasta
Population Group: Low Inc—Shasta Co
*Tehama
*Trinity
Tulare
Service Area: Earlimart (MSSA 230)
Service Area: Porterville (MSSAS 231 & 232)
Service Area: Visalia (MSSA 227, 228, 233a, 233b)
Service Area: Woodlake (MSSA 229)
*Tuolumne

MENTAL HEALTH: California Service Area Listing
Service Area Name
Earlimart (MSSA 230)
County—Tulare
Parts:
C.T. 32
C.T. 42-44
Parts:
C.T. 62-64
Porterville (MSSAS 231 & 232)
County—Tulare
Parts:
C.T. 27
C.T. 33-41
C.T. 45
Visalia (MSSA 227, 228, 233a, 233b)
County—Tulare
Parts:
C.T. 2
C.T. 3.02
C.T. 3.98
C.T. 4-6
C.T. 8-9
C.T. 10.01-10.02
C.T. 11-16
C.T. 17.01-17.02
C.T. 18-19
C.T. 20.01-20.05
C.T. 21-22
C.T. 23.01-23.02
C.T. 24-26
C.T. 28
C.T. 29.01-29.02
C.T. 30-31
West Side Fresno Co
County—Fresno
Parts:
C.T. 78
C.T. 79.98
C.T. 80-83
C.T. 84.01-84.02
Woodlake (MSSA 229)
County—Tulare
Parts:
C.T. 1
C.T. 7

MENTAL HEALTH: California Population Group Listing
Population Group
Low Inc—Arvin/Lamont (MSSA 61)
County—Kern
Low Inc—Shasta Co
County—Shasta

MENTAL HEALTH: Colorado County Listing
County Name
*Fremont
Facility: USP Florence

MENTAL HEALTH: Colorado Facility Listing
Facility Name
USP Florence
County—Fremont

MENTAL HEALTH: Connecticut County Listing
County Name
Hartford
Service Area: Charter Oak Terrace/ Rice Heights
New London
Facility: York Corr Inst

MENTAL HEALTH: Connecticut Service Area Listing
Service Area Name
Charter Oak Terrace/ Rice Heights
County—Hartford
Parts:
C.T. 5001-5004
C.T. 5019
C.T. 5027-5030
C.T. 5043
C.T. 5045-5046
C.T. 5049

MENTAL HEALTH: Connecticut Facility Listing
Facility Name
York Corr Inst
County—New London

MENTAL HEALTH: District Of Columbia County Listing
County Name
The District
Service Area: Region Iv—Anacostia

MENTAL HEALTH: District Of Columbia Service Area Listing
Service Area Name
Region Iv—Anacostia
County—The District
Parts:
C.T. 73.01-73.02
C.T. 73.04
C.T. 73.08
C.T. 74.01
C.T. 74.04
C.T. 74.06-74.09
C.T. 74.30
C.T. 75.02-75.04
C.T. 76.01
C.T. 76.03-76.05
C.T. 77.03
C.T. 77.07-77.09
C.T. 97
C.T. 98.03-98.10
C.T. 98.20
C.T. 99.01-99.07

MENTAL HEALTH: Florida County Listing
County Name
Alachua
Facility: Gainesville Corr Inst
*Baker
Facility: Baker Corr. Inst.
*Bradford
Service Area: Mental Health Catchment Area 3A
Facility: Florida State Prs
Facility: Lawtey Corr Inst
Facility: New River Corr Inst
Brevard
Facility: Brevard Corr Inst
*Calhoun
Facility: Calhoun Corr Inst
*Columbia
Service Area: Mental Health Catchment Area 3A
Facility: Columbia Corr Inst
*De Soto
Facility: Desoto Corr Inst
*Dixie
Service Area: Suwannee River
Facility: Cross City Corr Inst
Escambia
Facility: Century Corr Inst
*Gilchrist
Service Area: Suwannee River
Facility: Lancaster Corr Inst
*Glades
Population Group: Low Inc—South Central Florida
Facility: Moore Haven Corr Facility
*Gulf
Facility: Gulf Corr Inst
*Hamilton
Service Area: Mental Health Catchment Area 3A
Facility: Hamilton Corr Inst
*Hardee
Facility: Hardee Corr Inst
*Hendry
Population Group: Low Inc—South Central Florida
Facility: Hendry Corr Inst
Hernando
Facility: Hernando Corr Inst
*Highlands
Facility: Avon Park Corr Inst
Hillsborough
Population Group: Low Inc/MFW—SE Hillsborough
Facility: Hillsborough Corr Inst
*Holmes
Facility: Holmes Corr Inst
*Indian River
Facility: Indian River Corr Inst
*Jackson
Facility: Apalachee Corr Inst
Facility: Jackson Corr Inst
Facility: River Junction Corr Inst
*Jefferson
Facility: Jefferson Corr Inst
*Lafayette
Service Area: Mental Health Catchment Area 3A
Facility: Mayo Corr Inst
*Levy
Service Area: Suwannee River
*Liberty
Facility: Liberty Corr Inst
*Madison
Facility: Madison Corr Inst
Manatee
Population Group: Low Inc/MFW—Central Manatee
Marion
Facility: Florida Corr. Inst.
Facility: Marion Corr Inst
Martin
Facility: Martin Corr Inst
*Monroe
Service Area: Upper/Middle Keys
Okaloosa
Facility: Okaloosa Corr Inst
Orange
Facility: C Fl Reception Ct r
Palm Beach
Service Area: Belle Glade/Pahokee
Facility: Glades Corr Inst
Pasco
Population Group: Low Inc/MFW E Pasco
Polk
Facility: Polk Corr Inst
*Putnam
Facility: Putnam Corr Inst
Santa Rosa
Facility: Santa Rosa Corr Inst
*Sumter
Facility: Sumter Corr Inst
*Suwannee
Service Area: Mental Health Catchment Area 3A
*Union
Service Area: Mental Health Catchment Area 3A
Facility: N Fl Reception Ct r
*Wakulla
Facility: Wakulla Corr Inst
*Walton
Facility: Walton Corr Inst
*Washington
Facility: Washington Corr Inst

MENTAL HEALTH: Florida Service Area Listing
Service Area Name
Belle Glade/Pahokee
County—Palm Beach
Parts:
Belle Glade-Pahokee Division
Parts:
C.T. 1.01-1.04
C.T. 2
C.T. 3.01-3.03
C.T. 6.01
C.T. 7.01-7.02
C.T. 13
C.T. 15.01-15.02
C.T. 16
C.T. 19.01
C.T. 19.03-19.04
Brandon Division
Parts:
Gibsonton Division
Palm River-East Tampa Division
Plant City Division
Ruskin Division
Wimauma-Lithia Division
Mental Health Catchment Area 3A
County—Bradford
County—Columbia
County—Hamilton
County—Lafayette
County—Suwannee
County—Union
Suwannee River
County—Dixie
County—Gilchrist
County—Levy
Upper/Middle Keys
County—Monroe
Parts:
Middle Keys Division
Upper Keys Division

MENTAL HEALTH: Florida Population Group Listing
Population Group
Low Inc—South Central Florida
County—Glades
County—Hendry
Low Inc/MFW E Pasco
County—Pasco
Parts:
C.T. 320.01-320.02
C.T. 321.01-321.02
C.T. 322-329
C.T. 330.01-330.04
C.T. 331
Low Inc/MFW—Central Manatee
County—Manatee
Low Inc/MFW—SE Hillsborough
County—Hillsborough

MENTAL HEALTH: Florida Facility Listing
Facility Name
Apalachee Corr Inst
County—Jackson
Avon Park Corr Inst
County—Highlands
Baker Corr. Inst.
County—Baker
Brevard Corr Inst
County—Brevard
C Fl Reception Ct r
County—Orange
Calhoun Corr Inst
County—Calhoun
Century Corr Inst
County—Escambia
Columbia Corr Inst
County—Columbia
Cross City Corr Inst
County—Dixie
Desoto Corr Inst
County—De Soto
Florida Corr. Inst.
County—Marion
Florida State Prs
County—Bradford
Gainesville Corr Inst
County—Alachua
Glades Corr Inst
County—Palm Beach
Gulf Corr Inst
County—Gulf
Hamilton Corr Inst
County—Hamilton
Hardee Corr Inst
County—Hardee
Hendry Corr Inst
County—Hendry
Hernando Corr Inst
County—Hernando
Hillsborough Corr Inst
County—Hillsborough
Holmes Corr Inst
County—Holmes
Indian River Corr Inst
County—Indian River
Jackson Corr Inst
County—Jackson
Jefferson Corr Inst
County—Jefferson
Lancaster Corr Inst
County—Gilchrist
Lawtey Corr Inst
County—Bradford
Liberty Corr Inst
County—Liberty
Madison Corr Inst
County—Madison
Marion Corr Inst
County—Marion
Martin Corr Inst
County—Martin
Mayo Corr Inst
County—Lafayette
Moore Haven Corr Facility
County—Glades
N Fl Reception Ct r
County—Union
New River Corr Inst
County—Bradford
Okaloosa Corr Inst
County—Okaloosa
Polk Corr Inst
County—Polk
Putnam Corr Inst
County—Putnam
River Junction Corr Inst
County—Jackson
Santa Rosa Corr Inst
County—Santa Rosa
Sumter Corr Inst
County—Sumter
Wakulla Corr Inst
County—Wakulla
Walton Corr Inst
County—Walton
Washington Corr Inst
County—Washington

MENTAL HEALTH: Georgia County Listing
County Name
*Bryan
Service Area: Gateway Catchment Area
*Butts
Service Area: McIntosh Trail Catchment Area
*Camden
Service Area: Gateway Catchment Area
*Catoosa
Service Area: MHCA #1—Lookout Mountain
*Chattooga
Service Area: MHCA #1—Lookout Mountain
*Cherokee
Service Area: Georgia Highlands
Cobb
Facility: Devereux Treatment Center
*Crisp
Service Area: Middle Flint Ca 26
*Dade
Service Area: MHCA #1—Lookout Mountain
*Dooly
Service Area: Middle Flint Ca 26
*Fannin
Service Area: Georgia Highlands
*Fayette
Service Area: McIntosh Trail Catchment Area
Fulton
Service Area: South Central Fulton
Service Area: West Fulton Trail
*Gilmer
Service Area: Georgia Highlands
*Glynn
Service Area: Gateway Catchment Area
*Henry
Service Area: McIntosh Trail Catchment Area
*Irwin
Facility: Irwin Youth Development Campus
*Johnson
Facility: Wrightsville Youth Develp Campus
*Lamar
Service Area: McIntosh Trail Catchment Area
*Liberty
Service Area: Gateway Catchment Area
*Long
Service Area: Gateway Catchment Area
*Macon
Service Area: Middle Flint Ca 26
*Marion
Service Area: Middle Flint Ca 26
*McIntosh
Service Area: Gateway Catchment Area
*Mitchell
Facility: Autry State Prison
*Murray
Service Area: Georgia Highlands
*Pickens
Service Area: Georgia Highlands
*Pike
Service Area: McIntosh Trail Catchment Area
*Schley
Service Area: Middle Flint Ca 26
*Spalding
Service Area: McIntosh Trail Catchment Area
*Sumter
Service Area: Middle Flint Ca 26
*Taylor
Service Area: Middle Flint Ca 26
*Upson
Service Area: McIntosh Trail Catchment Area
*Walker
Service Area: MHCA #1—Lookout Mountain
*Webster
Service Area: Middle Flint Ca 26
*Whitfield
Service Area: Georgia Highlands

MENTAL HEALTH: Georgia Service Area Listing
Service Area Name
Gateway Catchment Area
County—Bryan
County—Camden
County—Glynn
County—Liberty
County—Long
County—McIntosh
Georgia Highlands
County—Cherokee
County—Fannin
County—Gilmer
County—Murray
County—Pickens
County—Whitfield
McIntosh Trail Catchment Area
County—Butts
County—Fayette
County—Henry
County—Lamar
County—Pike
County—Spalding
County—Upson
Middle Flint Ca 26
County—Crisp
County—Dooly
County—Macon
County—Marion
County—Schley
County—Sumter
County—Taylor
County—Webster
MHCA #1—Lookout Mountain
County—Catoosa
County—Chattooga
County—Dade
County—Walker
Pineland
County—Appling
County—Bulloch
County—Candler
County—Evans
County—Jeff Davis
County—Tattnall
County—Toombs
County—Wayne
South Central Fulton
County—Fulton
Parts:
C.T. 44
C.T. 46.95
C.T. 48
C.T. 49.95
C.T. 50
C.T. 52-53
C.T. 55.01-55.02
C.T. 56-58
C.T. 63-64
C.T. 67
C.T. 68.01-68.02
C.T. 69-73
West Fulton Trail
County—Fulton
Parts:
C.T. 60-62
C.T. 77.01-77.02
C.T. 78.02-78.04
C.T. 79-80
C.T. 81.01-81.02
C.T. 82.01-82.02
C.T. 83.01-83.02
C.T. 84-85
C.T. 86.01-86.02
C.T. 87.01-87.02
C.T. 88
C.T. 103.01-103.02

MENTAL HEALTH: Georgia Facility Listing
Facility Name
Autry State Prison
County—Mitchell
Devereux Treatment Center
County—Cobb
Irwin Youth Development Campus
County—Irwin
Wrightsville Youth Develp Campus
County—Johnson

MENTAL HEALTH: Hawaii County Listing
County Name
*Hawaii
Service Area: Kau
Service Area: Puna
Population Group: Low Inc—N Hawai'i

MENTAL HEALTH: Hawaii Service Area Listing
Service Area Name
Kau
County—Hawaii
Parts:
C.T. 212
Puna
County—Hawaii
Parts:
C.T. 210.01-210.02
C.T. 211

MENTAL HEALTH: Hawaii Population Group Listing
Population Group
Low Inc—N Hawai'i
County—Hawaii
Parts:
C.T. 217-221

MENTAL HEALTH: Idaho County Listing
County Name
*Adams
Population Group: Low Inc/MFW—Catchment Area III
*Bannock
Service Area: Mental Hlth Region Vi
*Bear Lake
Service Area: Mental Hlth Region Vi
*Bingham
Service Area: Mental Hlth Region Vi
*Blaine
Service Area: Mental Hlth Region V
*Bonneville
Service Area: MH Region Vii
*Butte
Service Area: MH Region Vii
*Camas
Service Area: Mental Hlth Region V
*Canyon
Population Group: Low Inc/MFW—Catchment Area III
*Caribou
Service Area: Mental Hlth Region Vi
*Cassia
Service Area: Mental Hlth Region V
*Clark
Service Area: MH Region Vii
*Clearwater
Service Area: Mental Hlth Region II
*Custer
Service Area: MH Region Vii
*Franklin
Service Area: Mental Hlth Region Vi
*Fremont
Service Area: MH Region Vii
*Gem
Population Group: Low Inc/MFW—Catchment Area III
*Gooding
Service Area: Mental Hlth Region V
*Idaho
Service Area: Mental Hlth Region II
*Jefferson
Service Area: MH Region Vii
*Jerome
Service Area: Mental Hlth Region V
*Latah
Service Area: Mental Hlth Region II
*Lemhi
Service Area: MH Region Vii
*Lewis
Service Area: Mental Hlth Region II
*Lincoln
Service Area: Mental Hlth Region V
*Madison
Service Area: MH Region Vii
*Minidoka
Service Area: Mental Hlth Region V
*Nez Perce
Service Area: Mental Hlth Region II
*Oneida
Service Area: Mental Hlth Region Vi
*Owyhee
Population Group: Low Inc/MFW—Catchment Area III
*Payette
Population Group: Low Inc/MFW—Catchment Area III
*Power
Service Area: Mental Hlth Region Vi
*Teton
Service Area: MH Region Vii
*Twin Falls
Service Area: Mental Hlth Region V
*Washington
Population Group: Low Inc/MFW—Catchment Area III

MENTAL HEALTH: Idaho Service Area Listing
Service Area Name
Mental Hlth Region II
County—Clearwater
County—Idaho
County—Latah
County—Lewis
County—Nez Perce
Mental Hlth Region V
County—Blaine
County—Camas
County—Cassia
County—Gooding
County—Jerome
County—Lincoln
County—Minidoka
County—Twin Falls
Mental Hlth Region Vi
County—Bannock
County—Bear Lake
County—Bingham
County—Caribou
County—Franklin
County—Oneida
County—Power
MH Region Vii
County—Bonneville
County—Butte
County—Clark
County—Custer
County—Fremont
County—Jefferson
County—Lemhi
County—Madison
County—Teton

MENTAL HEALTH: Idaho Population Group Listing
Population Group
Low Inc/MFW—Catchment Area III
County—Adams
County—Canyon
County—Gem
County—Owyhee
County—Payette
County—Washington

MENTAL HEALTH: Illinois County Listing
County Name
*Clay
Service Area: Catchment Area 4-03-33
*Coles
Service Area: Catchment Area 3
Cook
Service Area: Ashbum/Beverly/Mount Greenwood/Morgan Pa
Service Area: Auburn Gresham/Washington Heights
Service Area: Roseland/Pullman/Riverdale
Service Area: South Chicago
Service Area: South Shore/Chatham/Avalon Park/Burnside
Population Group: Hmlss—Uptown/Near North Side/Loop
Facility: Cook Co Dept Of Corr
Facility: Englewood Neighborhood Hlth Ct r
Facility: Tinley Park Mhc
*Crawford
Service Area: Catchment Area 4-03-33
*Cumberland
Service Area: Catchment Area 3
*Douglas
Service Area: Catchment Area 3
*Edwards
Service Area: Catchment Area 4-03-33
*Henderson
Service Area: Galesburg
*Henry
Service Area: Galesburg
*Jasper
Service Area: Catchment Area 4-03-33
*Knox
Service Area: Galesburg
*Lawrence
Service Area: Catchment Area 4-03-33
*Richland
Service Area: Catchment Area 4-03-33
*Shelby
Service Area: Catchment Area 3
*Wabash
Service Area: Catchment Area 4-03-33
*Warren
Service Area: Galesburg
*Wayne
Service Area: Catchment Area 4-03-33

MENTAL HEALTH: Illinois Service Area Listing
Service Area Name
Ashbum/Beverly/Mount Greenwood/Morgan Pa
County—Cook
Parts:
C.T. 7001-7005
C.T. 7201-7207
C.T. 7401-7404
C.T. 7501-7506
Auburn Gresham/Washington Heights
County—Cook
Parts:
C.T. 7101-7115
C.T. 7301-7307
Catchment Area 3
County—Coles
County—Cumberland
County—Douglas
County—Shelby
Catchment Area 4-03-33
County—Clay
County—Crawford
County—Edwards
County—Jasper
County—Lawrence
County—Richland
County—Wabash
County—Wayne
Galesburg
County—Henderson
County—Henry
County—Knox
County—Warren
Roseland/Pullman/Riverdale
County—Cook
Parts:
C.T. 4901-4914
C.T. 5001-5003
C.T. 5301-5306
C.T. 5401
South Chicago
County—Cook
Parts:
C.T. 4601-4610
C.T. 4801-4805
C.T. 5101-5105
C.T. 5201-5206
C.T. 5501-5502
South Shore/Chatham/Avalon Park/Burnside
County—Cook
Parts:
C.T. 4301-4314
C.T. 4401-4409
C.T. 4501-4503
C.T. 4701
C.T. 6901-6915

MENTAL HEALTH: Illinois Population Group Listing
Population Group
Hmlss—Uptown/Near North Side/Loop
County—Cook
Parts:
Edgewater (C.T. 301-309)
Lakeview (C.T. 601-634)
Lincoln Park (C.T.701-720
Loop (C.T. 3201-3206)
Near N Side (C.T.801-819
Uptown (C.T. 310-321)

MENTAL HEALTH: Illinois Facility Listing
Facility Name
Cook Co Dept Of Corr
County—Cook
Englewood Neighborhood Hlth Ct r
County—Cook
Tinley Park Mhc
County—Cook

MENTAL HEALTH: Indiana County Listing
County Name
Adams
*Crawford
Service Area: Southern Indiana Catchment Area
*Dubois
Service Area: Southern Indiana Catchment Area
*Grant
*Greene
Hendricks
Facility: Reception And Diagnostic Ct r
*Huntington
Service Area: Warsaw
*Kosciusko
Service Area: Warsaw
Lake
Service Area: Gary
Madison
Facility: Pendleton Corr Fac
*Marshall
Service Area: Warsaw
*Miami
Facility: Miami Corr Facility
*Orange
Service Area: Southern Indiana Catchment Area
*Perry
Service Area: Southern Indiana Catchment Area
Facility: Branchville Training Ct r
*Spencer
Service Area: Southern Indiana Catchment Area
*Sullivan
*Wabash
Service Area: Warsaw
*Whitley
Service Area: Warsaw

MENTAL HEALTH: Indiana Service Area Listing
Service Area Name
Gary
County—Lake
Parts:
C.T. 101
C.T. 102.98-103.00
C.T. 104-134
C.T. 411-412
C.T. 413.01
Southern Indiana Catchment Area
County—Crawford
County—Dubois
County—Orange
County—Perry
County—Spencer
Warsaw
County—Huntington
County—Kosciusko
County—Marshall
County—Wabash
County—Whitley

MENTAL HEALTH: Indiana Facility Listing
Facility Name
Branchville Training Ct r
County—Perry
Miami Corr Facility
County—Miami
Pendleton Corr Fac
County—Madison
Reception And Diagnostic Ct r
County—Hendricks

MENTAL HEALTH: Iowa County Listing
County Name
*Adair
Service Area: Catchment Area 13
*Allamakee
Service Area: Catchment Area 3
*Audubon
Service Area: Catchment Area 13
*Boone
Service Area: Ft Dodge/Boone
*Bremer
Service Area: Catchment Area 3
*Buchanan
Service Area: Catchment Area 3
*Buena Vista
Service Area: MHCA 1
*Butler
Service Area: Catchment Area 3
*Calhoun
Service Area: Ft Dodge/Boone
*Cass
Service Area: Catchment Area 13
*Cerro Gordo
Service Area: Mental Hlth Catch Area 2
*Cherokee
Service Area: MHCA 1
*Chickasaw
Service Area: Catchment Area 3
*Clay
Service Area: MHCA 1
*Clayton
Service Area: Catchment Area 3
*Clinton
Service Area: Clinton/Jackson
*Dallas
Service Area: Catchment Area 13
*Des Moines
Service Area: Mental Hlth Catch Area 16
*Dickinson
Service Area: MHCA 1
Dubuque
Service Area: Clinton/Jackson
*Emmet
Service Area: MHCA 1
*Fayette
Service Area: Catchment Area 3
*Floyd
Service Area: Mental Hlth Catch Area 2
*Franklin
Service Area: Mental Hlth Catch Area 2
*Greene
Service Area: Ft Dodge/Boone
*Guthrie
Service Area: Catchment Area 13
*Hamilton
Service Area: Ft Dodge/Boone
*Hancock
Service Area: Mental Hlth Catch Area 2
*Hardin
Service Area: Catchment Area 8
*Henry
Service Area: Mental Hlth Catch Area 16
*Howard
Service Area: Catchment Area 3
*Humboldt
Service Area: Ft Dodge/Boone
*Ida
Service Area: MHCA 1
*Jackson
Service Area: Clinton/Jackson
*Jasper
Service Area: Catchment Area 8
*Jefferson
Service Area: Mental Hlth Catch Area 16
*Keokuk
Service Area: Catchment Area 8
*Kossuth
Service Area: Mental Hlth Catch Area 2
*Lee
Service Area: Mental Hlth Catch Area 16
*Louisa
Service Area: Mental Hlth Catch Area 16
*Lyon
Service Area: MHCA 1
*Madison
Service Area: Catchment Area 13
*Mahaska
Service Area: Catchment Area 8
*Marion
Service Area: Catchment Area 8
*Marshall
Service Area: Catchment Area 8
*Mitchell
Service Area: Mental Hlth Catch Area 2
*Montgomery
Service Area: Catchment Area 13
*O'brien
Service Area: MHCA 1
*Osceola
Service Area: MHCA 1
*Page
Service Area: Catchment Area 13
*Palo Alto
Service Area: MHCA 1
*Plymouth
Service Area: MHCA 1
*Pocahontas
Service Area: MHCA 1
*Poweshiek
Service Area: Catchment Area 8
*Shelby
Service Area: Catchment Area 13
*Sioux
Service Area: MHCA 1
*Tama
Service Area: Catchment Area 8
*Van Buren
Service Area: Mental Hlth Catch Area 16
*Washington
Service Area: Mental Hlth Catch Area 16
*Webster
Service Area: Ft Dodge/Boone
*Winnebago
Service Area: Mental Hlth Catch Area 2
*Winneshiek
Service Area: Catchment Area 3
*Worth
Service Area: Mental Hlth Catch Area 2
*Wright
Service Area: Mental Hlth Catch Area 2

MENTAL HEALTH: Iowa Service Area Listing
Service Area Name
Catchment Area 13
County—Adair
County—Audubon
County—Cass
County—Dallas
Parts:
Dallas Township
Lincoln Township
Linn Township
Spring Valley Township
Union Township
Washington Township
County—Adair
County—Audubon
County—Cass
County—Guthrie
County—Madison
County—Montgomery
County—Page
County—Shelby
Catchment Area 3
County—Allamakee
County—Bremer
County—Buchanan
County—Butler
County—Chickasaw
County—Clayton
County—Fayette
County—Howard
County—Winneshiek
Catchment Area 8
County—Hardin
County—Jasper
County—Keokuk
County—Mahaska
County—Marion
County—Marshall
County—Poweshiek
County—Tama
Clinton/Jackson
County—Clinton
County—Dubuque
County—Jackson
Ft Dodge/Boone
County—Boone
County—Calhoun
County—Greene
County—Hamilton
County—Humboldt
County—Webster
Mental Hlth Catch Area 16
County—Des Moines
County—Henry
County—Jefferson
County—Lee
County—Louisa
County—Van Buren
County—Washington
Mental Hlth Catch Area 2
County—Cerro Gordo
County—Floyd
County—Franklin
County—Hancock
County—Kossuth
County—Mitchell
County—Winnebago
County—Worth
County—Wright
MHCA 1
County—Buena Vista
County—Cherokee
County—Clay
County—Dickinson
County—Emmet
County—Ida
County—Lyon
County—O'brien
County—Osceola
County—Palo Alto
County—Plymouth
County—Pocahontas
County—Sioux

MENTAL HEALTH: Kansas County Listing
County Name
*Allen
Service Area: Mental Hlth Area 7
*Anderson
Service Area: Mental Hlth Area 7
*Atchison
Service Area: Mental Hlth Area 4
*Barber
Service Area: Catchment Area 21
*Barton
Service Area: Mental Hlth Area 20
*Bourbon
Service Area: Mental Hlth Area 7
*Brown
Service Area: Mental Hlth Area 3
*Chase
Service Area: Mental Hlth Area 12
*Chautauqua
Service Area: Mental Hlth Area 13
*Cherokee
*Cheyenne
Service Area: Mental Hlth Area 23
*Clark
Service Area: Mental Hlth Area 22
*Cloud
Service Area: Mental Health Area 14 (Part)
*Coffey
Service Area: Mental Hlth Area 12
*Comanche
Service Area: Mental Hlth Area 22
*Cowley
*Crawford
*Decatur
Service Area: Mental Hlth Area 23
*Dickinson
Service Area: Mental Hlth Area 15
*Doniphan
Service Area: Mental Hlth Area 3
*Edwards
Service Area: Mental Hlth Area 22
*Elk
Service Area: Mental Hlth Area 13
*Ellis
Service Area: Mental Hlth Area 23
*Ellsworth
Service Area: Mental Hlth Area 15
*Finney
Service Area: Mental Health Area 24
*Ford
Service Area: Mental Health Area 24
*Franklin
*Gove
Service Area: Mental Hlth Area 23
*Graham
Service Area: Mental Hlth Area 23
*Grant
Service Area: Mental Health Area 24
*Gray
Service Area: Mental Health Area 24
*Greeley
Service Area: Mental Health Area 24
*Greenwood
Service Area: Mental Hlth Area 12
*Hamilton
Service Area: Mental Health Area 24
*Harper
Service Area: Catchment Area 21
*Haskell
Service Area: Mental Hlth Area 25
*Hodgeman
Service Area: Mental Health Area 24
*Jackson
Service Area: Mental Hlth Area 3
*Jefferson
Service Area: Mental Hlth Area 4
*Jewell
Service Area: Mental Health Area 14 (Part)
*Kearny
Service Area: Mental Health Area 24
*Kingman
Service Area: Catchment Area 21
*Kiowa
Service Area: Mental Hlth Area 22
*Labette
*Lane
Service Area: Mental Health Area 24
Leavenworth
Service Area: Mental Hlth Area 4
*Lincoln
Service Area: Mental Hlth Area 15
*Linn
Service Area: Mental Hlth Area 7
*Logan
Service Area: Mental Hlth Area 23
*Lyon
Service Area: Mental Hlth Area 12
*Meade
Service Area: Mental Hlth Area 25
Miami
Service Area: Mental Hlth Area 6
*Mitchell
Service Area: Mental Health Area 14 (Part)
*Montgomery
Service Area: Mental Hlth Area 13
*Morris
Service Area: Mental Hlth Area 12
*Morton
Service Area: Mental Health Area 24
*Nemaha
Service Area: Mental Hlth Area 3
*Neosho
Service Area: Mental Hlth Area 7
*Ness
Service Area: Mental Hlth Area 23
*Norton
Service Area: Mental Hlth Area 23
*Osage
Service Area: Mental Hlth Area 12
*Osborne
Service Area: Mental Hlth Area 23
*Ottawa
Service Area: Mental Hlth Area 15
*Pawnee
Service Area: Mental Hlth Area 20
*Phillips
Service Area: Mental Hlth Area 23
*Pratt
Service Area: Catchment Area 21
*Rawlins
Service Area: Mental Hlth Area 23
*Reno
Service Area: Catchment Area 21
*Republic
Service Area: Mental Health Area 14 (Part)
*Rice
Service Area: Mental Hlth Area 20
*Rooks
Service Area: Mental Hlth Area 23
*Rush
Service Area: Mental Hlth Area 23
*Russell
Service Area: Mental Hlth Area 23
*Saline
Service Area: Mental Hlth Area 15
*Scott
Service Area: Mental Health Area 24
*Seward
Service Area: Mental Hlth Area 25
*Sheridan
Service Area: Mental Hlth Area 23
*Sherman
Service Area: Mental Hlth Area 23
*Smith
Service Area: Mental Hlth Area 23
*Stafford
Service Area: Mental Hlth Area 20
*Stanton
Service Area: Mental Health Area 24
*Stevens
Service Area: Mental Hlth Area 25
*Sumner
*Thomas
Service Area: Mental Hlth Area 23
*Trego
Service Area: Mental Hlth Area 23
*Wabaunsee
Service Area: Mental Hlth Area 12
*Wallace
Service Area: Mental Hlth Area 23
*Washington
Service Area: Mental Health Area 14 (Part)
*Wichita
Service Area: Mental Health Area 24
*Wilson
Service Area: Mental Hlth Area 13
*Woodson
Service Area: Mental Hlth Area 7

MENTAL HEALTH: Kansas Service Area Listing
Service Area Name
Catchment Area 21
County—Barber
County—Harper
County—Kingman
County—Pratt
County—Reno
Mental Health Area 14 (Part)
County—Clay
County—Cloud
County—Geary
County—Jewell
County—Marshall
County—Mitchell
County—Pottawatomie
County—Republic
County—Riley
County—Washington
Mental Health Area 24
County—Finney
County—Ford
County—Grant
County—Gray
County—Greeley
County—Hamilton
County—Hodgeman
County—Kearny
County—Lane
County—Morton
County—Scott
County—Stanton
County—Wichita
Mental Hlth Area 12
County—Chase
County—Coffey
County—Greenwood
County—Lyon
County—Morris
County—Osage
County—Wabaunsee
Mental Hlth Area 13
County—Chautauqua
County—Elk
County—Montgomery
County—Wilson
Mental Hlth Area 15
County—Dickinson
County—Ellsworth
County—Lincoln
County—Ottawa
County—Saline
Mental Hlth Area 20
County—Barton
County—Pawnee
County—Rice
County—Stafford
Mental Hlth Area 22
County—Clark
County—Comanche
County—Edwards
County—Kiowa
Mental Hlth Area 23
County—Cheyenne
County—Decatur
County—Ellis
County—Gove
County—Graham
County—Logan
County—Ness
County—Norton
County—Osborne
County—Phillips
County—Rawlins
County—Rooks
County—Rush
County—Russell
County—Sheridan
County—Sherman
County—Smith
County—Thomas
County—Trego
County—Wallace
Mental Hlth Area 25
County—Haskell
County—Meade
County—Seward
County—Stevens
Mental Hlth Area 3
County—Brown
County—Doniphan
County—Jackson
County—Nemaha
Mental Hlth Area 4
County—Atchison
County—Jefferson
County—Leavenworth
Mental Hlth Area 6
County—Miami
Mental Hlth Area 7
County—Allen
County—Anderson
County—Bourbon
County—Linn
County—Neosho
County—Woodson

MENTAL HEALTH: Kentucky County Listing
County Name
*Adair
Service Area: Lake Cumberland Catchment Area
*Allen
Service Area: Barren River Catchment Area
*Anderson
*Ballard
Service Area: Western Kentucy
*Barren
Service Area: Barren River Catchment Area
*Bell
Service Area: Cumberland River B
*Boyd
Service Area: Fivco Catchment Area
*Boyle
Service Area: Danville Catchment Area
*Bracken
Service Area: Buffalo Trace
*Breathitt
Service Area: Upper Kentucky River
*Butler
Service Area: Barren River Catchment Area
*Caldwell
Service Area: Pennyroyal
*Calloway
Service Area: Western Kentucy
*Carlisle
Service Area: Western Kentucy
*Carroll
Service Area: Northern Kentucky
*Carter
Service Area: Fivco Catchment Area
*Casey
Service Area: Lake Cumberland Catchment Area
*Christian
Service Area: Pennyroyal
*Clay
Service Area: Cumberland River A
*Clinton
Service Area: Lake Cumberland Catchment Area
*Crittenden
Service Area: Pennyroyal
*Cumberland
Service Area: Lake Cumberland Catchment Area
*Daviess
Service Area: Green River Catchment Area
*Edmonson
Service Area: Barren River Catchment Area
*Elliott
Service Area: Fivco Catchment Area
*Estill
*Fleming
Service Area: Buffalo Trace
*Floyd
Service Area: Mountain
*Franklin
*Fulton
Service Area: Western Kentucy
*Gallatin
Service Area: Northern Kentucky
*Garrard
Service Area: Danville Catchment Area
*Grant
Service Area: Northern Kentucky
*Graves
Service Area: Western Kentucy
*Green
Service Area: Lake Cumberland Catchment Area
*Greenup
Service Area: Fivco Catchment Area
*Hancock
Service Area: Green River Catchment Area
*Harlan
Service Area: Cumberland River B
*Harrison
*Hart
Service Area: Barren River Catchment Area
*Henderson
Service Area: Green River Catchment Area
*Henry
*Hickman
Service Area: Western Kentucy
*Hopkins
Service Area: Pennyroyal
*Jackson
Service Area: Cumberland River A
*Johnson
Service Area: Mountain
*Knott
Service Area: Upper Kentucky River
*Knox
Service Area: Cumberland River B
*Laurel
Service Area: Cumberland River A
*Lawrence
Service Area: Fivco Catchment Area
*Lee
Service Area: Upper Kentucky River
*Leslie
Service Area: Upper Kentucky River
*Letcher
Service Area: Upper Kentucky River
*Lewis
Service Area: Buffalo Trace
*Lincoln
Service Area: Danville Catchment Area
*Livingston
Service Area: Pennyroyal
*Logan
Service Area: Barren River Catchment Area
*Lyon
Service Area: Pennyroyal
Madison
*Magoffin
Service Area: Mountain
*Marshall
Service Area: Western Kentucy
*Martin
Service Area: Mountain
*Mason
Service Area: Buffalo Trace
*McCracken
Service Area: Western Kentucy
*McCreary
Service Area: Lake Cumberland Catchment Area
*McLean
Service Area: Green River Catchment Area
*Mercer
Service Area: Danville Catchment Area
*Metcalfe
Service Area: Barren River Catchment Area
*Monroe
Service Area: Barren River Catchment Area
*Muhlenberg
Service Area: Pennyroyal
*Nicholas
*Ohio
Service Area: Green River Catchment Area
*Owen
Service Area: Northern Kentucky
*Owsley
Service Area: Upper Kentucky River
*Perry
Service Area: Upper Kentucky River
*Pike
Service Area: Mountain
*Powell
*Pulaski
Service Area: Lake Cumberland Catchment Area
*Robertson
Service Area: Buffalo Trace
*Rockcastle
Service Area: Cumberland River A
*Russell
Service Area: Lake Cumberland Catchment Area
*Simpson
Service Area: Barren River Catchment Area
*Spencer
*Taylor
Service Area: Lake Cumberland Catchment Area
*Todd
Service Area: Pennyroyal
*Trigg
Service Area: Pennyroyal
*Trimble
*Union
Service Area: Green River Catchment Area
*Warren
Service Area: Barren River Catchment Area
*Wayne
Service Area: Lake Cumberland Catchment Area
*Webster
Service Area: Green River Catchment Area
*Whitley
Service Area: Cumberland River A
*Wolfe
Service Area: Upper Kentucky River

MENTAL HEALTH: Kentucky Service Area Listing
Service Area Name
Barren River Catchment Area
County—Allen
County—Barren
County—Butler
County—Edmonson
County—Hart
County—Logan
County—Metcalfe
County—Monroe
County—Simpson
County—Warren
Buffalo Trace
County—Bracken
County—Fleming
County—Lewis
County—Mason
County—Robertson
Cumberland River A
County—Clay
County—Jackson
County—Laurel
County—Rockcastle
County—Whitley
Cumberland River B
County—Bell
County—Harlan
County—Knox
Danville Catchment Area
County—Boyle
County—Garrard
County—Lincoln
County—Mercer
Fivco Catchment Area
County—Boyd
County—Carter
County—Elliott
County—Greenup
County—Lawrence
Green River Catchment Area
County—Daviess
County—Hancock
County—Henderson
County—McLean
County—Ohio
County—Union
County—Webster
Lake Cumberland Catchment Area
County—Adair
County—Casey
County—Clinton
County—Cumberland
County—Green
County—McCreary
County—Pulaski
County—Russell
County—Taylor
County—Wayne
Mountain
County—Floyd
County—Johnson
County—Magoffin
County—Martin
County—Pike
Northern Kentucky
County—Carroll
County—Gallatin
County—Grant
County—Owen
Pennyroyal
County—Caldwell
County—Christian
County—Crittenden
County—Hopkins
County—Livingston
County—Lyon
County—Muhlenberg
County—Todd
County—Trigg
Upper Kentucky River
County—Breathitt
County—Knott
County—Lee
County—Leslie
County—Letcher
County—Owsley
County—Perry
County—Wolfe
Western Kentucy
County—Ballard
County—Calloway
County—Carlisle
County—Fulton
County—Graves
County—Hickman
County—McCracken
County—Marshall

MENTAL HEALTH: Maine County Listing
County Name
*Aroostook
Population Group: Low Inc—MHCA 1
Cumberland
Population Group: Low-Income Bridgton Mhaa
*Franklin
Service Area: Rumford
*Oxford
Service Area: Rumford
Population Group: Low-Income Bridgton Mhaa
Penobscot
Population Group: Low Inc—MHCA 2
Population Group: Low Inc—MHCA 1
*Piscataquis
Population Group: Low Inc—MHCA 2
*Somerset
Population Group: Low Inc—MHCA 3
*Washington
Service Area: Greater Washington
Population Group: Low Inc—MHCA 1

MENTAL HEALTH: Maine Service Area Listing
Service Area Name
Greater Washington
County—Washington
Parts:
Addison Town
Alexander Town
Baileyville Town
Baring Town
Beals Town
Beddington Town
Calais City
Centerville Town
Charlotte Town
Cherryfield Town
Codyville Plantation
Columbia Falls Town
Columbia Town
Cooper Town
Crawford Town
Cutler Town
Deblois Town
Dennysville Town
East Central Washington Unorg.
East Machias Town
Eastport City
Grand Lake Stream Plantation
Harrington Town
Jonesboro Town
Jonesport Town
Lubec Town
Machias Town
Machiasport Town
Marshfield Town
Meddybemps Town
Milbridge Town
North Washington Unorg.
Northfield Town
Passamaquoddy Indian Township Re
Passamaquoddy Pleasant Point Res
Pembroke Town
Perry Town
Princeton Town
Robbinston Town
Roque Bluffs Town
Steuben Town
Talmadge Town
Topsfield Town
Vanceboro Town
Waite Town
Wesley Town
Whiting Town
Whitneyville Town
Bridgton Town
Parts:
Casco Town
Harrison Town
Naples Town
Sebago Town
Denmark Town
Rumford
County—Franklin
Parts:
Carthage Town
South Franklin Unorg.
Weld Town
County—Oxford
Parts:
Andover Town
Byron Town
Dixfield Town
Hanover Town
Mexico Town
Milton Unorg.
Peru Town
Roxbury Town
Rumford Town

MENTAL HEALTH: Maine Population Group Listing
Population Group
Low Inc—MHCA 1
County—Aroostook
Parts:
Aroostook Co
County—Penobscot
Parts:
Mt. Chase Town
Patten Town
Stacyvilletown
County—Washington
Parts:
Danforth Town
Low Inc—MHCA 2
County—Penobscot
Parts:
Carroll Town
Chester Town
Drew Town
East Millinocket Town
Kingman Town
Lee Town
Lincoln Town
Mattawamkeagtown
Medway Town
Millinocket Town
Prentiss Town
Springfield Town
Webster Town
Winn Town
Woodville Town
County—Piscataquis
Parts:
Piscataquis Co
Low Inc—MHCA 3
County—Somerset
Parts:
Somerset Co
Low-Income Bridgton Mhaa
County—Cumberland
County—Oxford

MENTAL HEALTH: Maryland County Listing
County Name
*Caroline
Service Area: Mid-Shore
*Dorchester
Service Area: Mid-Shore
*Garrett
*Kent
Service Area: Northeastern Shore
*Queen Anne's
Service Area: Northeastern Shore
*Somerset
*Worcester

MENTAL HEALTH: Maryland Service Area Listing
Service Area Name
Mid-Shore
County—Caroline
County—Dorchester
County—Talbot
Northeastern Shore
County—Kent
County—Queen Anne's

MENTAL HEALTH: Massachusetts County Listing
County Name
Suffolk
Population Group: Homeless—Dorchester(S)
Population Group: Homeless—Roxbury(S)
Population Group: Homeless—South End(S)
Population Group: Homeless—Downtown(S)
Worcester
Population Group: Low Income—Worcester
Parts:

MENTAL HEALTH: Massachusetts Service Area Listing
Service Area Name
Parts:
C.T. 901-906
C.T. 912-915
C.T. 918-919
C.T. 923-924
C.T. 1001
C.T. 1101.01-1101.02
Parts:
C.T. 203
C.T. 701-702
Parts:
C.T. 103
C.T. 104.02
C.T. 801-810
C.T. 812-821
C.T. 1203
C.T. 1205
Parts:
C.T. 704
C.T. 710-712
Worcester City

MENTAL HEALTH: Massachusetts Population Group Listing
Population Group
Homeless—Dorchester(S)
County—Suffolk
Homeless—Downtown(S)
County—Suffolk
Homeless—Roxbury(S)
County—Suffolk
Homeless—South End(S)
County—Suffolk
Low Income—Worcester
County—Worcester

MENTAL HEALTH: Michigan County Listing
County Name
*Alger
*Antrim
Service Area: Mancelona/Kalkaska
*Arenac
*Baraga
Service Area: Copper Country
*Benzie
Service Area: Manistee
*Branch
*Cass
*Charlevoix
Population Group: Low Inc—Charlevoix Co
*Cheboygan
*Chippewa
Service Area: Eastern/Upper Peninsula
*Clare
Service Area: Mt. Pleasant
*Crawford
Service Area: North Central
*Delta
*Dickinson
Service Area: Iron Mountain
*Emmet
Population Group: Low Inc—Emmet Co
*Gladwin
Service Area: Midland/Gladwin
*Gratiot
*Hillsdale
*Houghton
Service Area: Copper Country
*Huron
*Iosco
Service Area: Au Sable Valley
*Iron
Service Area: Iron Mountain
*Isabella
Service Area: Mt. Pleasant
*Kalkaska
Service Area: Mancelona/Kalkaska
*Keweenaw
Service Area: Copper Country
*Lake
Service Area: Lake/Mason/Oceana
*Leelanau
*Lenawee
*Mackinac
Service Area: Eastern/Upper Peninsula
*Manistee
Service Area: Manistee
*Mason
Service Area: Lake/Mason/Oceana
*Mecosta
Service Area: Mt. Pleasant
*Menominee
*Midland
Service Area: Midland/Gladwin
*Missaukee
Service Area: North Central
*Montcalm
*Newaygo
*Oceana
Service Area: Lake/Mason/Oceana
*Ogemaw
Service Area: Au Sable Valley
*Ontonagon
Service Area: Copper Country
*Osceola
Service Area: Mt. Pleasant
*Oscoda
Service Area: Au Sable Valley
*Otsego
Ottawa
*Roscommon
Service Area: North Central
*Sanilac
*Schoolcraft
*Tuscola (g)
Facility: Caro Regional Mhc
Wayne
Service Area: East Detroit
Service Area: Northwest Detroit
Population Group: Low Inc—Southwest Detroit
*Wexford
Service Area: North Central

MENTAL HEALTH: Michigan Service Area Listing
Service Area Name
Au Sable Valley
County—Iosco
County—Ogemaw
County—Oscoda
Copper Country
County—Baraga
County—Houghton
County—Keweenaw
County—Ontonagon
East Detroit
County—Wayne
Parts:
C.T. 5004-5005
C.T. 5013
C.T. 5020
C.T. 5039-5045
C.T. 5121-5124
C.T. 5126
C.T. 5129
C.T. 5132-5136
C.T. 5139-5143
C.T. 5145-5157
C.T. 5161-5164
C.T. 5166-5169
Eastern/Upper Peninsula
County—Chippewa
County—Mackinac
Iron Mountain
County—Dickinson
County—Iron
Lake/Mason/Oceana
County—Lake
County—Mason
County—Oceana
Mancelona/Kalkaska
County—Antrim
County—Kalkaska
Manistee
County—Benzie
County—Manistee
Midland/Gladwin
County—Gladwin
County—Midland
Mt. Pleasant
County—Clare
County—Isabella
County—Mecosta
County—Osceola
North Central
County—Crawford
County—Missaukee
County—Roscommon
County—Wexford
Northwest Detroit
County—Wayne
Parts:
C.T. 5341-5347
C.T. 5350-5357
C.T. 5366-5367
C.T. 5371-5373
C.T. 5377-5378
C.T. 5423-5426
C.T. 5451-5454

MENTAL HEALTH: Michigan Population Group Listing
Population Group
Low Inc—Charlevoix Co
County—Charlevoix
Parts:
Low Income
Low Inc—Emmet Co
County—Emmet
Parts:
Low Income
Low Inc—Southwest Detroit
County—Wayne
Parts:
C.T. 5209
C.T. 5211-5215
C.T. 5220-5222
C.T. 5231-5238
C.T. 5240-5243
C.T. 5251-5258
C.T. 5260-5265

MENTAL HEALTH: Michigan Facility Listing
Facility Name
Caro Regional Mhc
County—Tuscola

MENTAL HEALTH: Minnesota County Listing
County Name
*Aitkin
Service Area: Itasca/Koochiching
*Becker
Service Area: Fergus Falls
*Beltrami
Service Area: Bemidji
*Cass
Service Area: Bemidji
*Chisago
Service Area: Cambridge
*Clay
Service Area: Fergus Falls
*Clearwater
Service Area: Bemidji
*Cottonwood
Service Area: Worthington
*Douglas
Service Area: Fergus Falls
*Faribault
Service Area: Fairmount
*Grant
Service Area: Fergus Falls
*Hubbard
Service Area: Bemidji
*Isanti
Service Area: Cambridge
*Itasca
Service Area: Itasca/Koochiching
*Jackson
Service Area: Worthington
*Kanabec
Service Area: Cambridge
*Kittson
Service Area: E Grand Forks
*Koochiching
Service Area: Itasca/Koochiching
*Lake Of The Woods
Service Area: Bemidji
*Lincoln
Service Area: Marshall
*Lyon
Service Area: Marshall
*Mahnomen
Service Area: E Grand Forks
*Marshall
Service Area: E Grand Forks
*Martin
Service Area: Fairmount
*Mille Lacs
Service Area: Cambridge
*Murray
Service Area: Marshall
*Nobles
Service Area: Worthington
*Norman
Service Area: E Grand Forks
*Otter Tail
Service Area: Fergus Falls
*Pennington
Service Area: E Grand Forks
*Pine
Service Area: Cambridge
*Pipestone
Service Area: Worthington
*Polk
Service Area: E Grand Forks
*Pope
Service Area: Fergus Falls
*Red Lake
Service Area: E Grand Forks
*Redwood
Service Area: Marshall
*Rock
Service Area: Worthington
*Roseau
Service Area: Bemidji
*Stevens
Service Area: Fergus Falls
*Traverse
Service Area: Fergus Falls
*Watonwan
Service Area: Fairmount
*Wilkin
Service Area: Fergus Falls
*Yellow Medicine
Service Area: Marshall

MENTAL HEALTH: Minnesota Service Area Listing
Service Area Name
Bemidji
County—Beltrami
County—Cass
County—Clearwater
County—Hubbard
County—Lake Of The Woods
County—Roseau
Cambridge
County—Chisago
County—Isanti
County—Kanabec
County—Mille Lacs
County—Pine
E Grand Forks
County—Kittson
County—Mahnomen
County—Marshall
County—Norman
County—Pennington
County—Polk
County—Red Lake
Fairmount
County—Faribault
County—Martin
County—Watonwan
Fergus Falls
County—Becker
County—Clay
County—Douglas
County—Grant
County—Otter Tail
County—Pope
County—Stevens
County—Traverse
County—Wilkin
Itasca/Koochiching
County—Aitkin
County—Itasca
County—Koochiching
Marshall
County—Lincoln
County—Lyon
County—Murray
County—Redwood
County—Yellow Medicine
Worthington
County—Cottonwood
County—Jackson
County—Nobles
County—Pipestone
County—Rock

MENTAL HEALTH: Mississippi County Listing
County Name
*Adams
Service Area: Catchment Area #11
*Alcorn
Service Area: Catchment Area #4
*Amite
Service Area: Catchment Area #11
*Attala
Service Area: Catchment Area #6
*Benton
Service Area: Catchment Area #3
*Bolivar
Service Area: Catchment Area #5
*Calhoun
Service Area: Catchment Area #2
*Carroll
Service Area: Catchment Area #6
*Chickasaw
Service Area: Catchment Area #3
*Choctaw
Service Area: Catchment Area #7
*Claiborne
Service Area: Catchment Area #11
*Clarke
Service Area: Catchment Area #10
*Clay
Service Area: Catchment Area #7
*Coahoma
Service Area: Catchment Area #1
*Covington
Service Area: Catchment Area #12
*Desoto
Service Area: Catchment Area #2
*Forrest
Service Area: Catchment Area #12
*Franklin
Service Area: Catchment Area #11
*George
Service Area: Catchment Area #14
*Greene
Service Area: Catchment Area #12
*Grenada
Service Area: Catchment Area #6
*Hancock
Service Area: Catchment Area #13
*Harrison
Service Area: Catchment Area #13
*Holmes
Service Area: Catchment Area #6
*Humphreys
Service Area: Catchment Area #6
*Issaquena
Service Area: Catchment Area #5
*Itawamba
Service Area: Catchment Area #3
*Jackson
Service Area: Catchment Area #14
*Jasper
Service Area: Catchment Area #10
*Jefferson
*Jefferson Davis
Service Area: Catchment Area #11
Service Area: Catchment Area #12
*Jones
Service Area: Catchment Area #12
*Kemper
Service Area: Catchment Area #10
*Lafayette
Service Area: Catchment Area #2
*Lamar
Service Area: Catchment Area #12
*Lauderdale
Service Area: Catchment Area #10
*Lawrence
Service Area: Catchment Area #11
*Leake
Service Area: Catchment Area #10
*Lee
Service Area: Catchment Area #3
*Leflore
Service Area: Catchment Area #6
*Lincoln
Service Area: Catchment Area #11
*Lowndes
Service Area: Catchment Area #7
*Marion
Service Area: Catchment Area #12
*Marshall
Service Area: Catchment Area #2
*Monroe
Service Area: Catchment Area #3
*Montgomery
Service Area: Catchment Area #6
*Neshoba
Service Area: Catchment Area #10
*Newton
Service Area: Catchment Area #10
*Noxubee
Service Area: Catchment Area #7
*Oktibbeha
Service Area: Catchment Area #7
*Panola
Service Area: Catchment Area #2
*Pearl River
Service Area: Catchment Area #13
*Perry
Service Area: Catchment Area #12
*Pike
Service Area: Catchment Area #11
*Pontotoc
Service Area: Catchment Area #3
*Prentiss
Service Area: Catchment Area #4
*Quitman
Service Area: Catchment Area #1
*Scott
Service Area: Catchment Area #10
*Sharkey
Service Area: Catchment Area #5
*Smith
Service Area: Catchment Area #10
*Stone
Service Area: Catchment Area #13
*Sunflower
Service Area: Catchment Area #6
*Tallahatchie
Service Area: Catchment Area #1
*Tate
Service Area: Catchment Area #2
*Tippah
Service Area: Catchment Area #4
*Tishomingo
Service Area: Catchment Area #4
*Tunica
Service Area: Catchment Area #1
*Union
Service Area: Catchment Area #3
*Walthall
Service Area: Catchment Area #11
*Warren
Service Area: Catchment Area #15
*Washington
Service Area: Catchment Area #5
*Wayne
Service Area: Catchment Area #12
*Webster
Service Area: Catchment Area #7
*Wilkinson
Service Area: Catchment Area #11
*Winston
Service Area: Catchment Area #7
*Yalobusha
Service Area: Catchment Area #2
*Yazoo
Service Area: Catchment Area #15

MENTAL HEALTH: Mississippi Service Area Listing
Service Area Name
Catchment Area #1
County—Coahoma
County—Quitman
County—Tallahatchie
County—Tunica
Catchment Area #10
County—Clarke
County—Jasper
County—Kemper
County—Lauderdale
County—Leake
County—Neshoba
County—Newton
County—Scott
County—Smith
Catchment Area #11
County—Adams
County—Amite
County—Claiborne
County—Franklin
County—Jefferson
County—Lawrence
County—Lincoln
County—Pike
County—Walthall
County—Wilkinson
Catchment Area #12
County—Covington
County—Forrest
County—Greene
County—Jefferson Davis
County—Jones
County—Lamar
County—Marion
County—Perry
County—Wayne
Catchment Area #13
County—Hancock
County—Harrison
County—Pearl River
County—Stone
Catchment Area #14
County—George
County—Jackson
Catchment Area #15
County—Warren
County—Yazoo
Catchment Area #2
County—Calhoun
County—Desoto
County—Lafayette
County—Marshall
County—Panola
County—Tate
County—Yalobusha
Catchment Area #3
County—Benton
County—Chickasaw
County—Itawamba
County—Lee
County—Monroe
County—Pontotoc
County—Union
Catchment Area #4
County—Alcorn
County—Prentiss
County—Tippah
County—Tishomingo
Catchment Area #5
County—Bolivar
County—Issaquena
County—Sharkey
County—Washington
Catchment Area #6
County—Attala
County—Carroll
County—Grenada
County—Holmes
County—Humphreys
County—Leflore
County—Montgomery
County—Sunflower
Catchment Area #7
County—Choctaw
County—Clay
County—Lowndes
County—Noxubee
County—Oktibbeha
County—Webster
County—Winston

MENTAL HEALTH: Missouri County Listing
County Name
*Adair
Service Area: Hannibal
*Andrew
Service Area: St Joseph
*Atchison
Service Area: St Joseph
*Audrain
Service Area: Mexico
*Barry
Service Area: Nevada
*Barton
Service Area: Joplin
*Bates
Service Area: Nevada
*Benton
Service Area: Nevada
*Bollinger
Service Area: Cape Girardeau
*Buchanan
Service Area: St Joseph
*Butler
Service Area: Poplar Bluff
*Caldwell
Service Area: Chillicothe
*Callaway
Service Area: Mexico
*Camden
Service Area: Jefferson City
*Cape Girardeau
Service Area: Cape Girardeau
*Carter
Service Area: Poplar Bluff
*Cass
Service Area: Warrensburg
*Cedar
Service Area: Nevada
Christian
Christian
Population Group: Low Inc—Springfield
Population Group: Low Inc—Springfield
*Clark
Service Area: Hannibal
*Clinton
Service Area: St Joseph
*Cole
Service Area: Jefferson City
*Crawford
Service Area: Rolla
*Dade
Service Area: Nevada
*Dallas
Population Group: Low Inc—Springfield
*Daviess
Service Area: Chillicothe
*Dekalb
Service Area: St Joseph
*Dent
Service Area: Rolla
*Douglas
Service Area: West Plains
*Dunklin
Service Area: Poplar Bluff
*Gasconade
Service Area: Rolla
*Gentry
Service Area: St Joseph
Greene
Population Group: Low Inc—Springfield
*Grundy
Service Area: Chillicothe
*Harrison
Service Area: Chillicothe
*Henry
Service Area: Nevada
*Hickory
Service Area: Nevada
*Holt
Service Area: St Joseph
*Howell
Service Area: West Plains
*Iron
Service Area: Rolla
*Jasper
Service Area: Joplin
*Jefferson
Service Area: Cape Girardeau
*Johnson
Service Area: Warrensburg
*Knox
Service Area: Hannibal
*Laclede
Service Area: Jefferson City
*Lafayette
Service Area: Warrensburg
*Lawrence
Service Area: Nevada
*Lewis
Service Area: Hannibal
*Linn
Service Area: Chillicothe
*Livingston
Service Area: Chillicothe
*Macon
Service Area: Hannibal
*Madison
Service Area: Cape Girardeau
*Maries
Service Area: Rolla
*Marion
Service Area: Hannibal
*McDonald
Service Area: Joplin
*Mercer
Service Area: Chillicothe
*Miller
Service Area: Jefferson City
*Mississippi
Service Area: Sikeston
*Monroe
Service Area: Mexico
*Montgomery
Service Area: Mexico
*Morgan
Service Area: Columbia
*New Madrid
Service Area: Sikeston
*Newton
Service Area: Joplin
*Nodaway
Service Area: St Joseph
*Oregon
Service Area: West Plains
*Osage
Service Area: Jefferson City
*Ozark
Service Area: West Plains
*Pemiscot
Service Area: Poplar Bluff
*Perry
Service Area: Cape Girardeau
*Pettis
Service Area: Columbia
*Phelps
Service Area: Rolla
*Pike
Service Area: Mexico
*Polk
Population Group: Low Inc—Springfield
*Pulaski
Service Area: Jefferson City
*Putnam
Service Area: Chillicothe
*Ralls
Service Area: Mexico
*Reynolds
Service Area: Poplar Bluff
*Ripley
Service Area: Poplar Bluff
*Saline
Service Area: Columbia
*Schuyler
Service Area: Hannibal
*Scotland
Service Area: Hannibal
*Scott
Service Area: Sikeston
*Shannon
Service Area: West Plains
*Shelby
Service Area: Hannibal
*St. Clair
Service Area: Nevada
*St. Francois
Service Area: Rolla
*Ste. Genevieve
Service Area: Cape Girardeau
*Stoddard
Service Area: Sikeston
*Stone
Population Group: Low Inc—Springfield
*Sullivan
Service Area: Chillicothe
*Taney
Population Group: Low Inc—Springfield
*Texas
Service Area: West Plains
*Vernon
Service Area: Nevada
*Washington
Service Area: Rolla
*Wayne
Service Area: Poplar Bluff
Webster
Population Group: Low Inc—Springfield
*Worth
Service Area: St Joseph
*Wright
Service Area: West Plains

MENTAL HEALTH: Missouri Service Area Listing
Service Area Name
Cape Girardeau
County—Bollinger
County—Cape Girardeau
County—Jefferson
County—Madison
County—Perry
County—Ste. Genevieve
Chillicothe
County—Caldwell
County—Daviess
County—Grundy
County—Harrison
County—Linn
County—Livingston
County—Mercer
County—Putnam
County—Sullivan
Columbia
County—Boone
County—Carroll
County—Chariton
County—Cooper
County—Howard
County—Moniteau
County—Morgan
County—Pettis
County—Randolph
County—Saline
Hannibal
County—Adair
County—Clark
County—Knox
County—Lewis
County—Macon
County—Marion
County—Schuyler
County—Scotland
County—Shelby
Jefferson City
County—Camden
County—Cole
County—Laclede
County—Miller
County—Osage
County—Pulaski
Joplin
County—Barton
County—Jasper
County—McDonald
County—Newton
Mexico
County—Audrain
County—Callaway
County—Monroe
County—Montgomery
County—Pike
County—Ralls
Nevada
County—Barry
County—Bates
County—Benton
County—Cedar
County—Dade
County—Henry
County—Hickory
County—Lawrence
County—St. Clair
County—Vernon
Poplar Bluff
County—Butler
County—Carter
County—Dunklin
County—Pemiscot
County—Reynolds
County—Ripley
County—Wayne
Rolla
County—Crawford
County—Dent
County—Gasconade
County—Iron
County—Maries
County—Phelps
County—St. Francois
County—Washington
Sikeston
County—Mississippi
County—New Madrid
County—Scott
County—Stoddard
St Joseph
County—Andrew
County—Atchison
County—Buchanan
County—Clinton
County—Dekalb
County—Gentry
County—Holt
County—Nodaway
County—Worth
Warrensburg
County—Cass
County—Johnson
County—Lafayette
West Plains
County—Douglas
County—Howell
County—Oregon
County—Ozark
County—Shannon
County—Texas
County—Wright

MENTAL HEALTH: Missouri Population Group Listing
Population Group
Low Inc—Springfield
County—Christian
County—Dallas
County—Greene
County—Polk
County—Stone
County—Taney
County—Webster

MENTAL HEALTH: Montana County Listing
County Name
*Beaverhead
*Big Horn
*Blaine
Service Area: North-Central Montana
*Carter
Service Area: Eastern Montana
*Chouteau
Service Area: North-Central Montana
*Custer
Service Area: Eastern Montana
*Daniels
Service Area: Eastern Montana
*Dawson
Service Area: Eastern Montana
*Deer Lodge
Service Area: Silver Bow/Deer Lodge
Facility: Montana State Hospital
*Fallon
Service Area: Eastern Montana
*Fergus
Service Area: Lewistown
*Garfield
Service Area: Eastern Montana
*Glacier
Service Area: North-Central Montana
*Golden Valley
*Granite
*Hill
Service Area: North-Central Montana
*Judith Basin
Service Area: Lewistown
*Lake
*Liberty
Service Area: North-Central Montana
*Lincoln
*Madison
*McCone
Service Area: Eastern Montana
*Meagher
*Mineral
*Musselshell
*Park
*Petroleum
Service Area: Lewistown
*Phillips
Service Area: Eastern Montana
*Pondera
Service Area: North-Central Montana
*Powder River
Service Area: Eastern Montana
*Powell (g)
Facility: Montana State Prison
*Prairie
Service Area: Eastern Montana
*Ravalli
*Richland
Service Area: Eastern Montana
*Roosevelt
Service Area: Eastern Montana
*Rosebud
Service Area: Eastern Montana
*Sanders
*Sheridan
Service Area: Eastern Montana
*Silver Bow
Service Area: Silver Bow/Deer Lodge
*Stillwater
*Sweet Grass
*Teton
Service Area: North-Central Montana
*Toole
Service Area: North-Central Montana
*Treasure
Service Area: Eastern Montana
*Valley
Service Area: Eastern Montana
*Wheatland
Service Area: Lewistown
*Wibaux
Service Area: Eastern Montana

MENTAL HEALTH: Montana Service Area Listing
Service Area Name
Eastern Montana
County—Carter
County—Custer
County—Daniels
County—Dawson
County—Fallon
County—Garfield
County—McCone
County—Phillips
County—Powder River
County—Prairie
County—Richland
County—Roosevelt
County—Rosebud
County—Sheridan
County—Treasure
County—Valley
County—Wibaux
Lewistown
County—Fergus
County—Judith Basin
County—Petroleum
County—Wheatland
North-Central Montana
County—Blaine
County—Chouteau
County—Glacier
County—Hill
County—Liberty
County—Pondera
County—Teton
County—Toole
Silver Bow/Deer Lodge
County—Deer Lodge
County—Silver Bow

MENTAL HEALTH: Montana Facility Listing
Facility Name
Montana State Hospital
County—Deer Lodge
Montana State Prison
County—Powell

MENTAL HEALTH: Nebraska County Listing
County Name
*Antelope
Service Area: Catchment Area 4
*Arthur
Service Area: Catchment Area 2
*Banner
Service Area: Catchment Area 1
*Boone
Service Area: Catchment Area 4
*Box Butte
Service Area: Catchment Area 1
*Boyd
Service Area: Catchment Area 4
*Brown
Service Area: Catchment Area 4
*Burt
Service Area: Catchment Area 4
*Butler
Service Area: Catchment Area 5
*Cedar
Service Area: Catchment Area 4
*Chase
Service Area: Catchment Area 2
*Cherry
Service Area: Catchment Area 4
*Cheyenne
Service Area: Catchment Area 1
*Colfax
Service Area: Catchment Area 4
*Cuming
Service Area: Catchment Area 4
Dakota
Service Area: Catchment Area 4
*Dawes
Service Area: Catchment Area 1
*Dawson
Service Area: Catchment Area 2
*Deuel
Service Area: Catchment Area 1
*Dixon
Service Area: Catchment Area 4
Douglas
Facility: Douglas County Hosp (Mhc)
*Dundy
Service Area: Catchment Area 2
*Fillmore
Service Area: Catchment Area 5
*Frontier
Service Area: Catchment Area 2
*Gage
Service Area: Catchment Area 5
*Garden
Service Area: Catchment Area 1
*Gosper
Service Area: Catchment Area 2
*Grant
Service Area: Catchment Area 2
*Hayes
Service Area: Catchment Area 2
*Hitchcock
Service Area: Catchment Area 2
*Holt
Service Area: Catchment Area 4
*Hooker
Service Area: Catchment Area 2
*Jefferson
Service Area: Catchment Area 5
*Johnson
Service Area: Catchment Area 5
*Keith
Service Area: Catchment Area 2
*Keya Paha
Service Area: Catchment Area 4
*Kimball
Service Area: Catchment Area 1
*Knox
Service Area: Catchment Area 4
Lancaster
Service Area: Catchment Area 5
*Lincoln
Service Area: Catchment Area 2
*Logan
Service Area: Catchment Area 2
*Madison
Service Area: Catchment Area 4
*Morrill
Service Area: Catchment Area 1
*MCPherson
Service Area: Catchment Area 2
*Nance
Service Area: Catchment Area 4
*Nemaha
Service Area: Catchment Area 5
*Otoe
Service Area: Catchment Area 5
*Pawnee
Service Area: Catchment Area 5
*Perkins
Service Area: Catchment Area 2
*Pierce
Service Area: Catchment Area 4
*Platte
Service Area: Catchment Area 4
*Polk
Service Area: Catchment Area 5
*Red Willow
Service Area: Catchment Area 2
*Richardson
Service Area: Catchment Area 5
*Rock
Service Area: Catchment Area 4
*Saline
Service Area: Catchment Area 5
*Saunders
Service Area: Catchment Area 5
*Scotts Bluff
Service Area: Catchment Area 1
*Seward
Service Area: Catchment Area 5
*Sheridan
Service Area: Catchment Area 1
*Sioux
Service Area: Catchment Area 1
*Stanton
Service Area: Catchment Area 4
*Thayer
Service Area: Catchment Area 5
*Thomas
Service Area: Catchment Area 2
*Thurston
Service Area: Catchment Area 4
*Wayne
Service Area: Catchment Area 4
*York
Service Area: Catchment Area 5

MENTAL HEALTH: Nebraska Service Area Listing
Service Area Name
Catchment Area 1
County—Banner
County—Box Butte
County—Cheyenne
County—Dawes
County—Deuel
County—Garden
County—Kimball
County—Morrill
County—Scotts Bluff
County—Sheridan
County—Sioux
Catchment Area 2
County—Arthur
County—Chase
County—Dawson
County—Dundy
County—Frontier
County—Gosper
County—Grant
County—Hayes
County—Hitchcock
County—Hooker
County—Keith
County—Lincoln
County—Logan
County—MCPherson
County—Perkins
County—Red Willow
County—Thomas
Catchment Area 4
County—Antelope
County—Boone
County—Boyd
County—Brown
County—Burt
County—Cedar
County—Cherry
County—Colfax
County—Cuming
County—Dakota
County—Dixon
County—Holt
County—Keya Paha
County—Knox
County—Madison
County—Nance
County—Pierce
County—Platte
County—Rock
County—Stanton
County—Thurston
County—Wayne
Catchment Area 5
County—Butler
County—Fillmore
County—Gage
County—Jefferson
County—Johnson
County—Lancaster
County—Nemaha
County—Otoe
County—Pawnee
County—Polk
County—Richardson
County—Saline
County—Saunders
County—Seward
County—Thayer
County—York

MENTAL HEALTH: Nebraska Facility Listing
Facility Name
Douglas County Hosp (Mhc)
County—Douglas

MENTAL HEALTH: Nevada County Listing
County Name
Carson City
Facility: Nv State Prsn—Carson City
*Churchill
*Elko
*Humboldt
*Lander
*Mineral
*Pershing
*White Pine

MENTAL HEALTH: Nevada Facility Listing
Facility Name
Nv State Prsn—Carson City
County—Carson City

MENTAL HEALTH: New Hampshire County Listing
County Name
*Carroll
Service Area: Mental Hlth Region I
*Coos
Service Area: Mental Hlth Region I
*Grafton
Service Area: Eastern Grafton (Reg. III)
Service Area: Mental Hlth Region I

MENTAL HEALTH: New Hampshire Service Area Listing
Service Area Name
Eastern Grafton (Reg. III)
County—Grafton
Parts:
Alexandria Town
Ashland Town
Bridgewater Town
Bristol Town
Campton Town
Ellsworth Town
Groton Town
Hebron Town
Holderness Town
Plymouth Town
Rumney Town
Thornton Town
Wentworth Town
Mental Hlth Region I
County—Carroll
County—Coos
County—Grafton
Parts:
Bath Town
Benton Town
Bethlehem Town
Easton Town
Franconia Town
Haverhill Town
Landaff Town
Lincoln Town
Lisbon Town
Littleton Town
Lyman Town
Monroe Town
Piermont Town
Sugar Hill Town
Warren Town
Waterville Valley Town
Woodstock Town

MENTAL HEALTH: New Jersey County Listing
County Name
Essex
Salem

MENTAL HEALTH: New Mexico County Listing
County Name
Bernalillo
Service Area: North Valley
Service Area: Southwest Valley
*Catron
Service Area: Border MH Service Area
*Chaves
Service Area: Southeastern MH Service Area
*Curry
Service Area: Plains MH Service Area
*Debaca
Service Area: Plains MH Service Area
*Eddy
Service Area: Southeastern MH Service Area
*Grant
Service Area: Border MH Service Area
*Guadalupe
Service Area: Plains MH Service Area
*Harding
Service Area: Plains MH Service Area
*Hidalgo
Service Area: Border MH Service Area
*Lea
Service Area: Southeastern MH Service Area
*Lincoln
Service Area: Southeastern MH Service Area
*Luna
Service Area: Border MH Service Area
*McKinley
Service Area: Catchment Area #1
*Otero
Service Area: Southeastern MH Service Area
*Quay
Service Area: Plains MH Service Area
*Rio Arriba
*Roosevelt
Service Area: Plains MH Service Area
*San Juan
Service Area: Catchment Area #1
*San Miguel
Facility: Las Vegas Medical Center
Sandoval
Service Area: Northern Sandoval
*Sierra
Service Area: South Central MH Service Area
*Socorro
Service Area: South Central MH Service Area
*Taos
*Union
Service Area: Plains MH Service Area
Valencia

MENTAL HEALTH: New Mexico Service Area Listing
Service Area Name
Border MH Service Area
County—Catron
County—Grant
County—Hidalgo
County—Luna
Catchment Area #1
County—McKinley
County—San Juan
North Valley
County—Bernalillo
Parts:
C.T. 29
C.T. 30.01-30.02
C.T. 31
C.T. 32.01-32.02
C.T. 35.01-35.02
C.T. 36
Northern Sandoval
County—Sandoval
Parts:
Cuba CCD
Jemez CCD
Santo Domingo CCD
Plains MH Service Area
County—Curry
County—Debaca
County—Guadalupe
County—Harding
County—Quay
County—Roosevelt
County—Union
South Central MH Service Area
County—Sierra
County—Socorro
Southeastern MH Service Area
County—Chaves
County—Eddy
County—Lea
County—Lincoln
County—Otero
Southwest Valley
County—Bernalillo
Parts:
C.T. 23
C.T. 24.01-24.02
C.T. 43
C.T. 44.01-44.02
C.T. 45.01-45.02
C.T. 46.02-46.04

MENTAL HEALTH: New Mexico Facility Listing
Facility Name
Las Vegas Medical Center
County—San Miguel

MENTAL HEALTH: New York County Listing
County Name
*Allegany
Bronx
Facility: NYC Corr. Fac./Rikers Island
*Cattaraugus
Cayuga
Chautauqua
*Chenango
*Delaware
Erie
Service Area: P.S. 84 Neighborhood
*Essex
*Franklin
*Fulton
*Jefferson
*Lewis
Livingston
Monroe
Service Area: Jordan (Rochester)
New York
Service Area: Chinatown/Lower Manhattan
Facility: Bellevue Hosp Ct r
Facility: Callen/Lorde Mental Health Clinic
Facility: Ft. Washington—Proj Renewal
Facility: Holland House- Proj Renewal
Facility: New Providence—Proj Renewal
Facility: Psych Outreach To Homeless
Facility: Renewal On Clinton
Facility: World Trade Center
*Schuyler
*Seneca
Wayne

MENTAL HEALTH: New York Service Area Listing
Service Area Name
Chinatown/Lower Manhattan
County—New York
Parts:
C.T. 2.01-2.02
C.T. 6
C.T. 8
C.T. 10.01-10.02
C.T. 12
C.T. 14.01-14.02
C.T. 15.01
C.T. 16
C.T. 18
C.T. 22.01
C.T. 25
C.T. 27
C.T. 29
C.T. 30.01
C.T. 41
Jordan (Rochester)
County—Monroe
Parts:
C.T. 7
C.T. 13-15
C.T. 39
C.T. 43
C.T. 48-53
C.T. 55-56
C.T. 80
C.T. 90-92
C.T. 93.01-93.02
C.T. 94.01-94.03
P.S. 84 Neighborhood
County—Erie
Parts:
C.T. 27.02
C.T. 29
C.T. 32.01-32.02
C.T. 33.01-33.02
C.T. 34-36
C.T. 39.01-39.02
C.T. 40.01-40.02
C.T. 41-42
C.T. 44.02
C.T. 52.02
C.T. 64

MENTAL HEALTH: New York Facility Listing
Facility Name
Bellevue Hosp Ct r
County—New York
Callen/Lorde Mental Health Clinic
County—New York
Ft. Washington—Proj Renewal
County—New York
Holland House- Proj Renewal
County—New York
New Providence—Proj Renewal
County—New York
NYC Corr. Fac./Rikers Island
County—Bronx
Psych Outreach To Homeless
County—New York
Renewal On Clinton
County—New York
World Trade Center
County—New York

MENTAL HEALTH: North Carolina County Listing
County Name
*Bertie
Service Area: Roanoke-Chowan
*Bladen
Service Area: Southeast Regional
*Brunswick
Burke
Facility: Broughton Hospital
Caldwell
*Camden
Service Area: Albemarle
*Cherokee
Service Area: Smokey Mountain
*Chowan
Service Area: Albemarle
*Clay
Service Area: Smokey Mountain
*Columbus
Service Area: Southeast Regional
*Currituck
Service Area: Albemarle
*Dare
Service Area: Albemarle
*Duplin
Service Area: Duplin-Sampson
*Edgecombe
Population Group: Low Inc—Edgecombe/Nash
*Gates
Service Area: Roanoke-Chowan
*Graham
Service Area: Smokey Mountain
*Halifax
Service Area: Halifax MHCA
*Hertford
Service Area: Roanoke-Chowan
*Hyde
Service Area: Tideland
*Jackson
Service Area: Smokey Mountain
*Macon
Service Area: Smokey Mountain
*Martin
Service Area: Tideland
*Nash
Population Group: Low Inc—Edgecombe/Nash
*Northampton
Service Area: Roanoke-Chowan
*Pasquotank
Service Area: Albemarle
*Perquimans
Service Area: Albemarle
*Robeson
Service Area: Southeast Regional
*Sampson
Service Area: Duplin-Sampson
*Scotland
Service Area: Southeast Regional
*Surry
Service Area: Surry-Yadkin
*Swain
Service Area: Smokey Mountain
*Tyrrell
Service Area: Tideland
*Vance
Facility: FCI—Butner
*Washington
Service Area: Tideland
*Yadkin
Service Area: Surry-Yadkin

MENTAL HEALTH: North Carolina Service Area Listing
Service Area Name
Albemarle
County—Camden
County—Chowan
County—Currituck
County—Dare
County—Pasquotank
County—Perquimans
Duplin-Sampson
County—Duplin
County—Sampson
Halifax MHCA
County—Halifax
Roanoke-Chowan
County—Bertie
County—Gates
County—Hertford
County—Northampton
Smokey Mountain
County—Cherokee
County—Clay
County—Graham
County—Haywood
County—Jackson
County—Macon
County—Swain
Southeast Regional
County—Bladen
County—Columbus
County—Robeson
County—Scotland
Surry-Yadkin
County—Surry
County—Yadkin
Tideland
County—Beaufort
County—Hyde
County—Martin
County—Tyrrell
County—Washington

MENTAL HEALTH: North Carolina Population Group Listing
Population Group
Low Inc—Edgecombe/Nash
County—Edgecombe
County—Nash

MENTAL HEALTH: North Carolina Facility Listing
Facility Name
Broughton Hospital
County—Burke
FCI—Butner
County—Vance

MENTAL HEALTH: North Dakota County Listing
County Name
*Adams
*Barnes
Service Area: Jamestown (Ca 38004)
*Benson
Service Area: Devils Lake Catchment Area
*Billings
*Bottineau
*Bowman
*Burke
*Cavalier
Service Area: Devils Lake Catchment Area
*Dickey
Service Area: Jamestown (Ca 38004)
*Divide
*Dunn
*Eddy
Service Area: Devils Lake Catchment Area
*Emmons
*Foster
Service Area: Jamestown (Ca 38004)
*Golden Valley
*Grant
*Griggs
Service Area: Jamestown (Ca 38004)
*Hettinger
*Kidder
*Lamoure
Service Area: Jamestown (Ca 38004)
*Logan
Service Area: Jamestown (Ca 38004)
*McIntosh
Service Area: Jamestown (Ca 38004)
*McKenzie
*McLean
*Mercer
*Mountrail
*Nelson
*Oliver
*Pembina
*Pierce
*Ramsey
Service Area: Devils Lake Catchment Area
*Ransom
*Renville
*Richland
*Rolette
Service Area: Devils Lake Catchment Area
*Sargent
*Sheridan
*Sioux
*Slope
*Steele
*Stutsman
Service Area: Jamestown (Ca 38004)
Facility: North Dakota State Hosp
*Towner
Service Area: Devils Lake Catchment Area
*Traill
*Walsh
*Wells
Service Area: Jamestown (Ca 38004)

MENTAL HEALTH: North Dakota Service Area Listing
Service Area Name
Devils Lake Catchment Area
County—Benson
County—Cavalier
County—Eddy
County—Ramsey
County—Rolette
County—Towner
Jamestown (Ca 38004)
County—Barnes
County—Dickey
County—Foster
County—Griggs
County—Lamoure
County—Logan
County—McIntosh
County—Stutsman
County—Wells

MENTAL HEALTH: North Dakota Facility Listing
Facility Name
North Dakota State Hosp
County—Stutsman

MENTAL HEALTH: Ohio County Listing
County Name
*Adams
*Athens
Service Area: Catchment Area #33
*Belmont
Service Area: Catchment Area #8
*Brown
*Clinton
Crawford
Cuyahoga
Facility: Cleveland Psych Inst
*Gallia
Service Area: Catchment Area #35
Geauga
*Harrison
Service Area: Catchment Area #8
*Hocking
Service Area: Catchment Area #33
*Jackson
Service Area: Catchment Area #35
Lawrence
Lorain
Facility: Grafton Corr Fac
*Marion
*Meigs
Service Area: Catchment Area #35
*Monroe
Service Area: Catchment Area #8
*Ross
Facility: Chillicothe Corr Inst
Facility: Ross Corr Inst
*Scioto (g)
Facility: S Ohio Corr Fac
Stark
Facility: Massillon State Hosp
*Vinton
Service Area: Catchment Area #33

MENTAL HEALTH: Ohio Service Area Listing
Service Area Name
Catchment Area #33
County—Athens
County—Hocking
County—Vinton
Catchment Area #35
County—Gallia
County—Jackson
County—Meigs
Catchment Area #8
County—Belmont
County—Harrison
County—Monroe

MENTAL HEALTH: Ohio Facility Listing
Facility Name
Chillicothe Corr Inst
County—Ross
Cleveland Psych Inst
County—Cuyahoga
Grafton Corr Fac
County—Lorain
Massillon State Hosp
County—Stark
Ross Corr Inst
County—Ross
S Ohio Corr Fac
County—Scioto

MENTAL HEALTH: Oklahoma County Listing
County Name
*Adair
Service Area: Catchment Area #21
*Atoka
Service Area: Catchment Area #6
*Beckham
Service Area: Catchment Area #9
*Blaine
Service Area: Catchment Area #9
*Bryan
Service Area: Catchment Area #7
*Carter
Service Area: Catchment Area #7
*Cherokee
Service Area: Catchment Area #21
*Choctaw
Service Area: Catchment Area #6
*Coal
Service Area: Catchment Area #6
*Craig
Facility: Eastern State Mental Hospital
*Creek
Service Area: Catchment Area #13
*Custer
Service Area: Catchment Area #9
*Dewey
Service Area: Catchment Area #9
*Garvin
Service Area: Catchment Area #7
*Greer
Service Area: Catchment Area #9
*Haskell
Service Area: Catchment Area #6
*Hughes
Service Area: Catchment Area #6
*Johnston
Service Area: Catchment Area #7
*Kay
Service Area: Catchment Area #11
*Kiowa
Service Area: Catchment Area #9
*Latimer
Service Area: Catchment Area #6
*Le Flore
Service Area: Catchment Area #6
*Love
Service Area: Catchment Area #7
*Marshall
Service Area: Catchment Area #7
*McCurtain
Service Area: Catchment Area #6
*Murray
Service Area: Catchment Area #7
*Noble
Service Area: Catchment Area #11
*Okfuskee
Service Area: Catchment Area #13
*Okmulgee
Service Area: Catchment Area #13
*Osage
Service Area: Catchment Area #11
*Pawnee
Service Area: Catchment Area #11
*Payne
Service Area: Catchment Area #11
*Pittsburg
Service Area: Catchment Area #6
*Pontotoc
Service Area: Catchment Area #7
*Pushmataha
Service Area: Catchment Area #6
*Roger Mills
Service Area: Catchment Area #9
*Seminole
Service Area: Catchment Area #7
*Sequoyah
Service Area: Catchment Area #21
*Wagoner
Service Area: Catchment Area #21
*Washita
Service Area: Catchment Area #9

MENTAL HEALTH: Oklahoma Service Area Listing
Service Area Name
Catchment Area #11
County—Kay
County—Noble
County—Osage
County—Pawnee
County—Payne
Catchment Area #13
County—Creek
County—Okfuskee
County—Okmulgee
Catchment Area #21
County—Adair
County—Cherokee
County—Sequoyah
County—Wagoner
Catchment Area #6
County—Atoka
County—Choctaw
County—Coal
County—Haskell
County—Hughes
County—Latimer
County—Le Flore
County—McCurtain
County—Pittsburg
County—Pushmataha
Catchment Area #7
County—Bryan
County—Carter
County—Garvin
County—Johnston
County—Love
County—Marshall
County—Murray
County—Pontotoc
County—Seminole
Catchment Area #9
County—Beckham
County—Blaine
County—Custer
County—Dewey
County—Greer
County—Kiowa
County—Roger Mills
County—Washita

MENTAL HEALTH: Oklahoma Facility Listing
Facility Name
Eastern State Mental Hospital
County—Craig

MENTAL HEALTH: Oregon County Listing
County Name
*Baker
Service Area: Northeastern Oregon
*Clatsop
*Coos
Service Area: Catchment Area 14
*Crook
Service Area: Central Oregon
*Curry
Service Area: Catchment Area 14
*Gilliam
Service Area: East Columbia
*Grant
Service Area: East Columbia
*Harney
Service Area: Southeastern Oregon
*Hood River
Service Area: Mid Columbia Region
*Jefferson
Service Area: Central Oregon
*Josephine
*Klamath
*Lincoln
*Malheur
Service Area: Southeastern Oregon
*Marion
Population Group: Low Inc/MFW/Homeless—Marion And Polk C
*Morrow
Service Area: East Columbia
*Polk
Population Group: Low Inc/MFW/Homeless—Marion And Polk C
*Sherman
Service Area: Mid Columbia Region
*Tillamook
*Umatilla
Service Area: East Columbia
*Union
Service Area: Northeastern Oregon
*Wallowa
Service Area: Northeastern Oregon
*Wasco
Service Area: Mid Columbia Region
*Wheeler
Service Area: East Columbia

MENTAL HEALTH: Oregon Service Area Listing
Service Area Name
Catchment Area 14
County—Coos
County—Curry
Central Oregon
County—Crook
County—Jefferson
East Columbia
County—Gilliam
County—Grant
County—Morrow
County—Umatilla
County—Wheeler
Mid Columbia Region
County—Hood River
County—Sherman
County—Wasco
Northeastern Oregon
County—Baker
County—Union
County—Wallowa
Southeastern Oregon
County—Harney
County—Malheur

MENTAL HEALTH: Oregon Population Group Listing
Population Group
Low Inc/MFW/Homeless—Marion And Polk C
County—Marion
County—Polk

MENTAL HEALTH: Pennsylvania County Listing
County Name
*Armstrong
Population Group: Low Inc—Armstrong Co
Carbon
*Clearfield
Facility: Sci Houtzdale
*Clinton
Fayette
*Forest
*Greene
*Huntingdon
Service Area: Juniata/Mifflin
*Juniata
Service Area: Juniata/Mifflin
Lackawanna
Population Group: Low Income—Northern Lackawana
Lancaster
Population Group: Low Inc—Lancaster City
Lycoming (g)
Facility: Sci Muncy
*Mifflin
Service Area: Juniata/Mifflin
Monroe
*Pike
*Susquehanna
*Tioga
*Warren
*Wayne
Wyoming

MENTAL HEALTH: Pennsylvania Service Area Listing
Service Area Name
Juniata/Mifflin
County—Huntingdon
County—Juniata
County—Mifflin

MENTAL HEALTH: Pennsylvania Population Group Listing
Population Group
Low Inc—Armstrong Co
County—Armstrong
Parts:
Low Income
Low Inc—Lancaster City
County—Lancaster
Parts:
C.T. 1
C.T. 4-10
C.T. 14-16
Low Income—Northern Lackawana
County—Lackawanna
Parts:
Archbaldboro.
Blakelyboro.
Carbondale Twp
Carbondale Boro.
Fell Twp
Greenfield Twp
Jefferson Twp
Jermynboro.
Jessup Boro.
Mayfield Boro.
Olyphant Boro.
Scott Twp
Vandling Boro.

MENTAL HEALTH: Pennsylvania Facility Listing
Facility Name
Sci Houtzdale
County—Clearfield
Sci Muncy
County—Lycoming

MENTAL HEALTH: Rhode Island County Listing
County Name
Washington
Population Group: Narragansett Indian Tribe
Parts:

MENTAL HEALTH: Rhode Island Service Area Listing
Service Area Name
Charlestown Town

MENTAL HEALTH: Rhode Island Population Group Listing
Population Group
Narragansett Indian Tribe
County—Washington

MENTAL HEALTH: South Carolina County Listing
County Name
*Abbeville
Service Area: Catchment Area 5
*Allendale
Population Group: Low Inc—Catchment Area 11
*Anderson
Population Group: Low Inc—Catchment Area 1
Facility: Patrick B. Harris Psychiatric Hospital
*Bamberg
Service Area: Catchment Area 14
*Barnwell
Population Group: Low Inc—Catchment Area 10
*Beaufort
Population Group: Low Inc—Catchment Area 11
*Berkeley
Service Area: Catchment Area 8B
*Calhoun
Service Area: Catchment Area 14
*Charleston
Population Group: Low Inc—Catchment Area 15
*Cherokee
Service Area: Catchment Area 3
*Chester
Service Area: Catchment Area 4
*Chesterfield
Service Area: Catchment Area 12
*Clarendon
Service Area: Catchment Area 9
*Colleton
Population Group: Low Inc—Catchment Area 11
*Darlington
Service Area: Catchment Area 7
*Dillon
Service Area: Catchment Area 12
*Dorchester
Population Group: Low Inc—Catchment Area 15
*Edgefield
Service Area: Catchment Area 5
*Fairfield
*Florence
Service Area: Catchment Area 7
*Greenwood
Service Area: Catchment Area 5
*Hampton
Population Group: Low Inc—Catchment Area 11
*Jasper
Population Group: Low Inc—Catchment Area 11
*Kershaw
Service Area: Catchment Area 9
*Lancaster
Service Area: Catchment Area 4
*Laurens
Service Area: Catchment Area 5
*Lee
Service Area: Catchment Area 9
*Marion
Service Area: Catchment Area 7
*Marlboro
Service Area: Catchment Area 12
*McCormick
Service Area: Catchment Area 5
*Newberry
Service Area: Catchment Area 5
*Oconee
Population Group: Low Inc—Catchment Area 1
*Orangeburg
Service Area: Catchment Area 14
*Pickens
Population Group: Low Inc—Catchment Area 1
Richland
Facility: G. Werber Bryan Psychiatric Hospital
Facility: William S. Hall Institute
*Saluda
Service Area: Catchment Area 5
*Spartanburg
Service Area: Catchment Area 3
*Sumter
Service Area: Catchment Area 9
*Union
Service Area: Catchment Area 3
*Williamsburg
Service Area: Catchment Area 13
*York
Service Area: Catchment Area 4

MENTAL HEALTH: South Carolina Service Area Listing
Service Area Name
Catchment Area 12
County—Chesterfield
County—Dillon
County—Marlboro
Catchment Area 13
County—Georgetown
County—Horry
County—Williamsburg
Catchment Area 14
County—Bamberg
County—Calhoun
County—Orangeburg
Catchment Area 3
County—Cherokee
County—Spartanburg
County—Union
Catchment Area 4
County—Chester
County—Lancaster
County—York
Catchment Area 5
County—Abbeville
County—Edgefield
County—Greenwood
County—Laurens
County—McCormick
County—Newberry
County—Saluda
Catchment Area 7
County—Darlington
County—Florence
County—Marion
Catchment Area 8B
County—Berkeley
Catchment Area 9
County—Clarendon
County—Kershaw
County—Lee
County—Sumter

MENTAL HEALTH: South Carolina Population Group Listing
Population Group
Low Inc—Catchment Area 10
Parts:
Aiken Co
County—Barnwell
Parts:
Barnwell Co
Low Inc—Catchment Area 15
County—Charleston
County—Dorchester
Low Inc—Catchment Area 11
County—Allendale
Parts:
Allendale Co
County—Beaufort
Parts:
Beaufortco
County—Colleton
Parts:
Colleton Co
County—Hampton
Parts:
Hampton Co
County—Jasper
Parts:
Jasper Co
Low Inc—Catchment Area 1
County—Anderson
County—Oconee
County—Pickens

MENTAL HEALTH: South Carolina Facility Listing
Facility Name
G. Werber Bryan Psychiatric Hospital
County—Richland
Patrick B. Harris Psychiatric Hospital
County—Anderson
William S. Hall Institute
County—Richland

MENTAL HEALTH: South Dakota County Listing
County Name
*Aurora
Service Area: Catchment Area 4
*Beadle
Service Area: Catchment Area 3
*Bon Homme
Service Area: Catchment Area 12
Facility: Sd State Pen.—Bon Homme
*Brookings
Service Area: Catchment Area 1
*Brule
Service Area: Catchment Area 4
*Buffalo
Service Area: Catchment Area 2
*Charles Mix
Service Area: Catchment Area 12
*Clark
Service Area: Catchment Area 5
*Clay
Service Area: Catchment Area 12
*Codington
Service Area: Catchment Area 5
*Corson
Service Area: Catchment Area 8
*Davison
Service Area: Catchment Area 4
*Deuel
Service Area: Catchment Area 5
*Dewey
Service Area: Catchment Area 8
*Douglas
Service Area: Catchment Area 12
*Grant
Service Area: Catchment Area 5
*Gregory
Service Area: Catchment Area 10
*Haakon
Service Area: Catchment Area 2
*Hamlin
Service Area: Catchment Area 5
*Hand
Service Area: Catchment Area 3
*Hanson
Service Area: Catchment Area 4
*Hughes
Service Area: Catchment Area 2
*Hutchinson
Service Area: Catchment Area 12
*Hyde
Service Area: Catchment Area 2
*Jerauld
Service Area: Catchment Area 3
*Jones
Service Area: Catchment Area 2
*Kingsbury
Service Area: Catchment Area 5
*Lake
Service Area: Catchment Area 3
*Lyman
Service Area: Catchment Area 2
*Mellette
Service Area: Catchment Area 10
*Miner
Service Area: Catchment Area 3
Minnehaha
Facility: Sd State Pen.—Minnehaha
*Moody
Service Area: Catchment Area 1
*Perkins
Service Area: Catchment Area 8
*Roberts
Service Area: Catchment Area 5
*Sanborn
Service Area: Catchment Area 4
*Spink (g)
Facility: Redfield State Hospital
*Stanley
Service Area: Catchment Area 2
*Sully
Service Area: Catchment Area 2
*Todd
Service Area: Catchment Area 10
*Tripp
Service Area: Catchment Area 10
*Union
Service Area: Catchment Area 12
*Yankton
Service Area: Catchment Area 12
Facility: South Dakota Human Srv Ct r
*Ziebach
Service Area: Catchment Area 8

MENTAL HEALTH: South Dakota Service Area Listing
Service Area Name
Catchment Area 1
County—Brookings
County—Moody
Catchment Area 10
County—Gregory
County—Mellette
County—Todd
County—Tripp
Catchment Area 12
County—Bon Homme
County—Charles Mix
County—Clay
County—Douglas
County—Hutchinson
County—Union
County—Yankton
Catchment Area 2
County—Buffalo
County—Haakon
County—Hughes
County—Hyde
County—Jones
County—Lyman
County—Stanley
County—Sully
Catchment Area 3
County—Beadle
County—Hand
County—Jerauld
County—Lake
County—Miner
Catchment Area 4
County—Aurora
County—Brule
County—Davison
County—Hanson
County—Sanborn
Catchment Area 5
County—Clark
County—Codington
County—Deuel
County—Grant
County—Hamlin
County—Kingsbury
County—Roberts
Catchment Area 7
Catchment Area 8
County—Corson
County—Dewey
County—Perkins
County—Ziebach

MENTAL HEALTH: South Dakota Facility Listing
Facility Name
Redfield State Hospital
County—Spink
Sd State Pen.—Bon Homme
County—Bon Homme
Sd State Pen.—Minnehaha
County—Minnehaha
South Dakota Human Srv Ct r
County—Yankton

MENTAL HEALTH: Tennessee County Listing
County Name
*Bedford
Population Group: Low Inc—Catchment Area 19
*Benton
Population Group: Low Inc—Catchment Area 21
*Bledsoe
Population Group: Low Inc—Catchment Area 12
*Bradley
Population Group: Low Inc—Catchment Area 10
*Cannon
Service Area: Catchment Area 9
*Carroll
Population Group: Low Inc—Catchment Area 21
*Cheatham
Population Group: Low Inc—Catchment Area 14
*Chester
Service Area: Catchment Area 24
*Claiborne
Population Group: Low Inc—Catchment Area 5
*Clay
Service Area: Catchment Area 9
*Cocke
Population Group: Low Inc—Catchment Area 5
*Coffee
Population Group: Low Inc—Catchment Area 19
*Crockett
Service Area: Catchment Area 22
*Cumberland
Service Area: Catchment Area 9
*Decatur
Service Area: Catchment Area 24
*Dekalb
Service Area: Catchment Area 9
*Dickson
Population Group: Low Inc—Catchment Area 14
*Dyer
Service Area: Catchment Area 22
*Fayette
Service Area: Catchment Area 25
*Fentress
Service Area: Catchment Area 9
*Franklin
Population Group: Low Inc—Catchment Area 19
*Gibson
Population Group: Low Inc—Catchment Area 21
*Giles
Service Area: Catchment Area 20
*Grainger
Population Group: Low Inc—Catchment Area 5
*Greene
Population Group: Low Inc—Catchment Area 4
*Grundy
Population Group: Low Inc—Catchment Area 12
*Hamblen
Population Group: Low Inc—Catchment Area 5
*Hancock
Population Group: Low Inc—Catchment Area 4
*Hardeman
Service Area: Catchment Area 24
*Hardin
Service Area: Catchment Area 24
*Hawkins
Population Group: Low Inc—Catchment Area 4
*Haywood
Service Area: Catchment Area 23
*Henderson
Service Area: Catchment Area 23
*Henry
Population Group: Low Inc—Catchment Area 21
*Hickman
Service Area: Catchment Area 20
*Houston
Population Group: Low Inc—Catchment Area 14
*Humphreys
Population Group: Low Inc—Catchment Area 14
*Jackson
Service Area: Catchment Area 9
*Jefferson
Population Group: Low Inc—Catchment Area 5
*Lake
Service Area: Catchment Area 22
*Lauderdale
Service Area: Catchment Area 25
*Lawrence
Service Area: Catchment Area 20
*Lewis
Service Area: Catchment Area 20
*Lincoln
Population Group: Low Inc—Catchment Area 19
*Macon
Service Area: Catchment Area 9
*Madison
Service Area: Catchment Area 23
*Marion
Population Group: Low Inc—Catchment Area 12
*Marshall
Service Area: Catchment Area 20
*Maury
Service Area: Catchment Area 20
*McMinn
Population Group: Low Inc—Catchment Area 10
*McNairy
Service Area: Catchment Area 24
*Meigs
Population Group: Low Inc—Catchment Area 10
*Montgomery
Population Group: Low Inc—Catchment Area 14
*Moore
Population Group: Low Inc—Catchment Area 19
*Obion
Service Area: Catchment Area 22
*Overton
Service Area: Catchment Area 9
*Perry
Service Area: Catchment Area 20
*Pickett
Service Area: Catchment Area 9
*Polk
Population Group: Low Inc—Catchment Area 10
*Putnam
Service Area: Catchment Area 9
*Rhea
Population Group: Low Inc—Catchment Area 12
*Robertson
Population Group: Low Inc—Catchment Area 14
*Sequatchie
Population Group: Low Inc—Catchment Area 12
*Shelby
Population Group: Low Inc—Shelby
*Smith
Service Area: Catchment Area 9
*Stewart
Population Group: Low Inc—Catchment Area 14
*Sumner
Service Area: Catchment Area 31
*Tipton
Service Area: Catchment Area 25
*Trousdale
Service Area: Catchment Area 31
*Union
Population Group: Low Inc—Catchment Area 5
*Van Buren
Service Area: Catchment Area 9
*Warren
Service Area: Catchment Area 9
*Wayne
Service Area: Catchment Area 20
*Weakley
Service Area: Catchment Area 22
*White
Service Area: Catchment Area 9
*Wilson
Service Area: Catchment Area 31

MENTAL HEALTH: Tennessee Service Area Listing
Service Area Name
Catchment Area 20
County—Giles
County—Hickman
County—Lawrence
County—Lewis
County—Marshall
County—Maury
County—Perry
County—Wayne
Catchment Area 22
County—Crockett
County—Dyer
County—Lake
County—Obion
County—Weakley
Catchment Area 23
County—Haywood
County—Henderson
County—Madison
Catchment Area 24
County—Chester
County—Decatur
County—Hardeman
County—Hardin
County—McNairy
Catchment Area 25
County—Fayette
County—Lauderdale
County—Tipton
Catchment Area 31
County—Sumner
County—Trousdale
County—Wilson
Catchment Area 9
County—Cannon
County—Clay
County—Cumberland
County—Dekalb
County—Fentress
County—Jackson
County—Macon
County—Overton
County—Pickett
County—Putnam
County—Smith
County—Van Buren
County—Warren
County—White

MENTAL HEALTH: Tennessee Population Group Listing
Population Group
Low Inc—Catchment Area 4
County—Greene
County—Hancock
County—Hawkins
Low Inc—Catchment Area 21
County—Benton
County—Carroll
County—Gibson
County—Henry
Low Inc—Catchment Area 19
County—Bedford
County—Coffee
County—Franklin
County—Lincoln
County—Moore
Low Inc—Catchment Area 10
County—Bradley
County—McMinn
County—Meigs
County—Polk
Low Inc—Catchment Area 12
County—Bledsoe
County—Grundy
County—Marion
County—Rhea
County—Sequatchie
Low Inc—Catchment Area 14
County—Cheatham
County—Dickson
County—Houston
County—Humphreys
County—Montgomery
County—Robertson
County—Stewart
Low Inc—Catchment Area 5
County—Claiborne
County—Cocke
County—Grainger
County—Hamblen
County—Jefferson
County—Union
Low Inc—Shelby
County—Shelby

MENTAL HEALTH: Texas County Listing
County Name
*Anderson
Facility: Beto Psn
Facility: Gurney Prison
*Andrews
Service Area: West Texas Center (LSA 46a)
*Angelina
Service Area: LSA 7 (Burke Center)
Facility: Duncan Prison
*Archer
Service Area: Rolling Plains (LSA 39b)
*Armstrong
Service Area: Texas Panhandle (LSA 45b)
*Atascosa
Service Area: LSA 8 (Camino Real)
*Austin
Service Area: LSA 11 (Central Gulf Designation)
*Bailey
Service Area: LSA 12 (Central Plains)
*Bandera
Service Area: LSA 40
*Baylor
Service Area: LSA 55
*Bee
Facility: McConnel Prsn
*Blanco
Service Area: LSA 32
*Bowie
Service Area: LSA 34 (North East Texas)
*Brazos
Service Area: LSA 32 (Mhmra Of Brazos Valley)
*Brewster
Service Area: LSA 6 (Big Bend)
*Briscoe
Service Area: LSA 12 (Central Plains)
*Brooks
Service Area: Coastal Plain—LSA 14b
*Brown
Service Area: LSA 13 (Central Texas)
*Burleson
Service Area: LSA 32 (Mhmra Of Brazos Valley)
*Callahan
Service Area: Abilene—LSA 1
*Cameron
Service Area: LSA 44 (Tropical Texas)
*Carson
Service Area: Texas Panhandle (LSA 45b)
*Cass
Service Area: LSA 34 (North East Texas)
*Castro
Service Area: LSA 12 (Central Plains)
*Childress
Service Area: LSA 53
*Clay
Service Area: Rolling Plains (LSA 39b)
*Coleman
Service Area: LSA 13 (Central Texas)
*Collingsworth
Service Area: Texas Panhandle (LSA 45b)
*Comanche
Service Area: LSA 13 (Central Texas)
*Cooke
Service Area: LSA 31 (Services Of Texoma)
Coryell
Facility: Mountain View Prison
*Cottle
Service Area: LSA 55
*Crane
Service Area: Permian Basin (LSA 37)
*Crockett
Service Area: New Val Verde
*Culberson
Service Area: LSA 6 (Big Bend)
*Dawson
Service Area: West Texas Center (LSA 46a)
*Dickens
Service Area: LSA 55
*Dimmit
Service Area: LSA 8 (Camino Real)
*Donley
Service Area: Texas Panhandle (LSA 45b)
*Duval
Service Area: Coastal Plain—LSA 14b
*Eastland
Service Area: LSA 13 (Central Texas)
*Ector
Service Area: Permian Basin (LSA 37)
*Edwards
Service Area: LSA 40
El Paso
*Ellis
Service Area: LSA 26 (Johnson County)
*Erath
Service Area: LSA 36 (Pecan Valley)
*Falls
Service Area: LSA 21 (Heart Of Texas Mhmr=Mha)
*Fannin
Service Area: LSA 31 (Services Of Texoma)
*Fisher
Service Area: Abilene—LSA 1
*Floyd
Service Area: LSA 12 (Central Plains)
*Foard
Service Area: LSA 55
*Freestone
Service Area: LSA 21 (Heart Of Texas Mhmr=Mha)
Facility: Boyd Prison
*Frio
Service Area: LSA 8 (Camino Real)
*Gaines
Service Area: West Texas Center (LSA 46a)
*Garza
Service Area: LSA 38b
Gillespie
Service Area: LSA 40
*Glasscock
Service Area: Permian Basin (LSA 37)
*Gonzales
Service Area: LSA 8 (Camino Real)
*Gray
Service Area: Texas Panhandle (LSA 45b)
*Grayson
Service Area: LSA 31 (Services Of Texoma)
*Gregg
Service Area: LSA 40 (Sabine Valley Center)
*Grimes
Service Area: LSA 32 (Mhmra Of Brazos Valley)
*Guadalupe
Service Area: LSA 8 (Camino Real)
*Hale
Service Area: LSA 12 (Central Plains)
*Hall
Service Area: Texas Panhandle (LSA 45b)
*Hansford
Service Area: Texas Panhandle (LSA 45b)
*Hardeman
Service Area: LSA 55
*Hardin
Service Area: LSA 7 (Burke Center)
*Harrison
Service Area: LSA 40 (Sabine Valley Center)
*Haskell
Service Area: Abilene—LSA 1
Hays
Service Area: LSA 32
*Hemphill
Service Area: Texas Panhandle (LSA 45b)
*Henderson
Service Area: LSA 12
*Hidalgo
Service Area: LSA 44 (Tropical Texas)
Facility: Lopez Psn
*Hood
Service Area: LSA 36 (Pecan Valley)
*Houston
Service Area: LSA 7 (Burke Center)
*Hudspeth
Service Area: LSA 6 (Big Bend)
*Hutchinson
Service Area: Texas Panhandle (LSA 45b)
*Jack
Service Area: Rolling Plains (LSA 39b)
*Jasper
Service Area: LSA 7 (Burke Center)
*Jeff Davis
Service Area: LSA 6 (Big Bend)
*Jim Hogg
Service Area: LSA 27 (Laredo)
*Jim Wells
Service Area: Coastal Plain—LSA 14b
*Johnson
Service Area: LSA 26 (Johnson County)
*Jones
Service Area: Abilene—LSA 1
*Karnes
Service Area: LSA 8 (Camino Real)
Facility: Conanally Prison
*Kendall
Service Area: LSA 40
*Kenedy
Service Area: Coastal Plain—LSA 14b
*Kent
Service Area: LSA 38b
*Kerr
Service Area: LSA 40
*Kimble
Service Area: LSA 40
*King
Service Area: LSA 55
*Kinney
Service Area: New Val Verde
*Kleberg
Service Area: Coastal Plain—LSA 14b
*Knox
Service Area: LSA 55
*La Salle
Service Area: LSA 8 (Camino Real)
*Lamb
Service Area: LSA 12 (Central Plains)
*Leon
Service Area: LSA 32 (Mhmra Of Brazos Valley)
*Liberty
Service Area: LSA 43 (Tri-Co Mhmr Center)
*Limestone
Service Area: LSA 21 (Heart Of Texas Mhmr=Mha)
*Lipscomb
Service Area: Texas Panhandle (LSA 45b)
*Llano
Service Area: LSA 40
*Loving
Service Area: Permian Basin (LSA 37)
*Madison
Service Area: LSA 32 (Mhmra Of Brazos Valley)
*Marion
Service Area: LSA 40 (Sabine Valley Center)
*Martin
Service Area: West Texas Center (LSA 46a)
*Mason
Service Area: LSA 40
*Maverick
Service Area: LSA 8 (Camino Real)
*McCulloch
Service Area: LSA 13 (Central Texas)
*McMullen
Service Area: LSA 8 (Camino Real)
*Menard
Service Area: LSA 40
*Midland
Service Area: Permian Basin (LSA 37)
*Mills
Service Area: LSA 13 (Central Texas)
*Montague
Service Area: Rolling Plains (LSA 39b)
*Montgomery
Service Area: LSA 43 (Tri-Co Mhmr Center)
*Motley
Service Area: LSA 12 (Central Plains)
*Nacogdoches
Service Area: LSA 7 (Burke Center)
*Navarro
Service Area: LSA 26 (Johnson County)
*Newton
Service Area: LSA 7 (Burke Center)
*Nolan
Service Area: Abilene—LSA 1
*Ochiltree
Service Area: Texas Panhandle (LSA 45b)
*Palo Pinto
Service Area: LSA 36 (Pecan Valley)
*Panola
Service Area: LSA 40 (Sabine Valley Center)
*Parker
Service Area: LSA 36 (Pecan Valley)
*Parmer
Service Area: LSA 12 (Central Plains)
*Pecos
Service Area: Permian Basin (LSA 37)
*Polk
Service Area: LSA 7 (Burke Center)
Facility: Terrell Prison
*Presidio
Service Area: LSA 6 (Big Bend)
*Rains
Service Area: LSA 12
*Real
Service Area: LSA 40
*Red River
Service Area: LSA 34 (North East Texas)
*Roberts
*Roberts
Service Area: Texas Panhandle (LSA 45b)
Service Area: Texas Panhandle (LSA 45b)
*Robertson
Service Area: LSA 32 (Mhmra Of Brazos Valley)
*Runnels
Service Area: LSA 37b
*Rusk
Service Area: LSA 40 (Sabine Valley Center)
*Sabine
Service Area: LSA 7 (Burke Center)
*San Augustine
Service Area: LSA 7 (Burke Center)
*San Jacinto
Service Area: LSA 7 (Burke Center)
*San Saba
Service Area: LSA 13 (Central Texas)
*Shackelford
Service Area: Abilene—LSA 1
*Shelby
Service Area: LSA 7 (Burke Center)
Smith
Service Area: LSA 12
*Somervell
Service Area: LSA 36 (Pecan Valley)
*Starr
Service Area: LSA 27 (Laredo)
*Stephens
Service Area: Abilene—LSA 1
*Stonewall
Service Area: Abilene—LSA 1
*Sutton
Service Area: New Val Verde
*Swisher
Service Area: LSA 12 (Central Plains)
Taylor
Service Area: Abilene—LSA 1
*Terrell
Service Area: New Val Verde
*Terry
Service Area: West Texas Center (LSA 46a)
*Throckmorton
Service Area: Abilene—LSA 1
*Trinity
Service Area: LSA 7 (Burke Center)
*Tyler
Service Area: LSA 7 (Burke Center)
*Upshur
Service Area: LSA 40 (Sabine Valley Center)
*Upton
Service Area: Permian Basin (LSA 37)
*Val Verde
Service Area: New Val Verde
*Van Zandt
Service Area: LSA 12
*Walker
Service Area: LSA 43 (Tri-Co Mhmr Center)
*Waller
Service Area: LSA 11 (Central Gulf Designation)
*Ward
Service Area: Permian Basin (LSA 37)
*Washington
Service Area: LSA 32 (Mhmra Of Brazos Valley)
*Webb
Service Area: LSA 27 (Laredo)
*Wheeler
Service Area: Texas Panhandle (LSA 45b)
*Wilbarger
Service Area: LSA 55
*Willacy
Service Area: LSA 44 (Tropical Texas)
*Wilson
Service Area: LSA 8 (Camino Real)
*Winkler
Service Area: Permian Basin (LSA 37)
*Wise
Service Area: Rolling Plains (LSA 39b)
*Wood
Service Area: LSA 12
*Yoakum
Service Area: West Texas Center (LSA 46a)
*Young
Service Area: Rolling Plains (LSA 39b)
*Zapata
Service Area: LSA 27 (Laredo)
*Zavala
Service Area: LSA 8 (Camino Real)

MENTAL HEALTH: Texas Service Area Listing
Service Area Name
Abilene—LSA 1
County—Callahan
County—Fisher
County—Haskell
County—Jones
County—Nolan
County—Shackelford
County—Stephens
County—Stonewall
County—Taylor
County—Throckmorton
Coastal Plain—LSA 14b
County—Aransas
County—Bee
County—Brooks
County—Duval
County—Jim Wells
County—Kenedy
County—Kleberg
County—San Patricio
LSA 11 (Central Gulf Designation)
County—Austin
County—Waller
LSA 12
County—Henderson
County—Rains
County—Smith
County—Van Zandt
County—Wood
LSA 12 (Central Plains)
County—Bailey
County—Briscoe
County—Castro
County—Floyd
County—Hale
County—Lamb
County—Motley
County—Parmer
County—Swisher
LSA 13 (Central Texas)
County—Brown
County—Coleman
County—Comanche
County—Eastland
County—McCulloch
County—Mills
County—San Saba
LSA 21 (Heart Of Texas Mhmr=Mha)
County—Falls
County—Freestone
County—Limestone
LSA 26 (Johnson County)
County—Ellis
County—Johnson
County—Navarro
LSA 27 (Laredo)
County—Jim Hogg
County—Starr
County—Webb
County—Zapata
LSA 31 (Services Of Texoma)
County—Cooke
County—Fannin
County—Grayson
LSA 32
County—Blanco
County—Hays
LSA 32 (Mhmra Of Brazos Valley)
County—Brazos
County—Burleson
County—Grimes
County—Leon
County—Madison
County—Robertson
County—Washington
LSA 34 (North East Texas)
County—Bowie
County—Cass
County—Red River
LSA 36 (Pecan Valley)
County—Erath
County—Hood
County—Palo Pinto
County—Parker
County—Somervell
LSA 37b
County—Runnels
LSA 38b
County—Garza
County—Kent
LSA 40
County—Bandera
County—Edwards
County—Gillespie
County—Kendall
County—Kerr
County—Kimble
County—Llano
County—Mason
County—Menard
County—Real
LSA 40 (Sabine Valley Center)
County—Gregg
County—Harrison
County—Marion
County—Panola
County—Rusk
County—Upshur
LSA 43 (Tri-Co Mhmr Center)
County—Liberty
County—Montgomery
County—Walker
LSA 44 (Tropical Texas)
County—Cameron
County—Hidalgo
County—Willacy
LSA 53
County—Childress
LSA 55
County—Baylor
County—Cottle
County—Dickens
County—Foard
County—Hardeman
County—King
County—Knox
County—Wilbarger
LSA 6 (Big Bend)
County—Brewster
County—Culberson
County—Hudspeth
County—Jeff Davis
County—Presidio
LSA 7 (Burke Center)
County—Angelina
County—Hardin
County—Houston
County—Jasper
County—Nacogdoches
County—Newton
County—Polk
County—Sabine
County—San Augustine
County—San Jacinto
County—Shelby
County—Trinity
County—Tyler
LSA 8 (Camino Real)
County—Atascosa
County—Dimmit
County—Frio
County—Gonzales
County—Guadalupe
County—Karnes
County—La Salle
County—McMullen
County—Maverick
County—San Patricio
County—Wilson
County—Zavala
New Val Verde
County—Crockett
County—Kinney
County—Sutton
County—Terrell
County—Val Verde
Permian Basin (LSA 37)
County—Crane
County—Ector
County—Glasscock
County—Loving
County—Midland
County—Pecos
County—Reeves
County—Upton
County—Ward
County—Winkler
Rolling Plains (LSA 39b)
County—Archer
County—Clay
County—Jack
County—Montague
County—Wise
County—Young
Texas Panhandle (LSA 45b)
County—Armstrong
County—Carson
County—Collingsworth
County—Donley
County—Gray
County—Hall
County—Hansford
County—Hemphill
County—Hutchinson
County—Lipscomb
County—Ochiltree
County—Roberts
County—Wheeler
West Texas Center (LSA 46a)
County—Andrews
County—Dawson
County—Gaines
County—Martin
County—Terry
County—Yoakum

MENTAL HEALTH: Texas Facility Listing
Facility Name
Beto Psn
County—Anderson
Boyd Prison
County—Freestone
Conanally Prison
County—Karnes
Duncan Prison
County—Angelina
Gurney Prison
County—Anderson
Lopez Psn
County—Hidalgo
McConnel Prsn
County—Bee
Mountain View Prison
County—Coryell
Terrell Prison
County—Polk

MENTAL HEALTH: Utah County Listing
County Name
*Beaver
Service Area: Five County MHCA (SW District)
*Box Elder
Population Group: Low Inc—Bridgerland Area
*Cache
Population Group: Low Inc—Bridgerland Area
*Carbon
Population Group: Low Inc—Four County MHCA (SE District)
*Daggett
Service Area: Uintah Basin
*Duchesne
Service Area: Uintah Basin
*Emery
Population Group: Low Inc—Four County MHCA (SE District)
*Garfield
Service Area: Five County MHCA (SW District)
*Grand
Population Group: Low Inc—Four County MHCA (SE District)
*Iron
Service Area: Five County MHCA (SW District)
*Juab
Service Area: Six County MHCA
Kane
Service Area: Five County MHCA (SW District)
*Millard
Service Area: Six County MHCA
*Morgan
Population Group: Low Inc—Weber/Morgan
*Piute
Service Area: Six County MHCA
*Rich
Population Group: Low Inc—Bridgerland Area
Salt Lake
Facility: Draper State Prison
*San Juan
Population Group: Low Inc—Four County MHCA (SE District)
*Sanpete
Service Area: Six County MHCA
Facility: Central Utah Corr Fac
*Sevier
Service Area: Six County MHCA
*Tooele
*Uintah
Service Area: Uintah Basin
Utah
*Washington
Service Area: Five County MHCA (SW District)
*Wayne
Service Area: Six County MHCA
Weber
Population Group: Low Inc—Weber/Morgan

MENTAL HEALTH: Utah Service Area Listing
Service Area Name
Five County MHCA (SW District)
County—Beaver
County—Garfield
County—Iron
County—Kane
County—Washington
Six County MHCA
County—Juab
County—Millard
County—Piute
County—Sanpete
County—Sevier
County—Wayne
Uintah Basin
County—Daggett
County—Duchesne
County—Uintah

MENTAL HEALTH: Utah Population Group Listing
Population Group
Low Inc—Bridgerland Area
County—Box Elder
County—Cache
County—Rich
Low Inc—Four County MHCA (SE District)
County—Carbon
County—Emery
County—Grand
County—San Juan
Low Inc—Weber/Morgan
County—Morgan
County—Weber

MENTAL HEALTH: Utah Facility Listing
Facility Name
Central Utah Corr Fac
County—Sanpete
Draper State Prison
County—Salt Lake

MENTAL HEALTH: Vermont County Listing
County Name
*Caledonia
Service Area: Northeast Kingdom
*Essex
Service Area: Northeast Kingdom
*Franklin
Service Area: Franklin/Grand Isle
*Grand Isle
Service Area: Franklin/Grand Isle
*Orleans
Service Area: Northeast Kingdom

MENTAL HEALTH: Vermont Service Area Listing
Service Area Name
Franklin/Grand Isle
County—Franklin
County—Grand Isle
Northeast Kingdom
County—Caledonia
County—Essex
County—Orleans

MENTAL HEALTH: Virginia County Listing
County Name
*Brunswick
Service Area: Southside Planning Ditrict
*Buchanan
Service Area: Planning Dist II
*Danville City
Service Area: Planning Dist XII
*Dickenson
Service Area: Planning Dist II
*Dinwiddie/Petersburg
Service Area: Planning Dist Xix
*Essex
Service Area: Middle Peninsula/Northern Neck
*Franklin
Service Area: Planning Dist XII
*Gloucester
Service Area: Middle Peninsula/Northern Neck
*Halifax
Service Area: Southside Planning Ditrict
*Henry
Service Area: Planning Dist XII
*King And Queen
Service Area: Middle Peninsula/Northern Neck
*King William
Service Area: Middle Peninsula/Northern Neck
*Lancaster
Service Area: Middle Peninsula/Northern Neck
*Martinsville City
Service Area: Planning Dist XII
*Mathews
Service Area: Middle Peninsula/Northern Neck
*Mecklenburg
Service Area: Southside Planning Ditrict
*Middlesex
Service Area: Middle Peninsula/Northern Neck
*Northumberland
Service Area: Middle Peninsula/Northern Neck
*Patrick
Service Area: Planning Dist XII
*Pittsylvania
Service Area: Planning Dist XII
*Richmond
Service Area: Middle Peninsula/Northern Neck
*Russell
Service Area: Planning Dist II
*Smyth
Facility: Southwestern MH Inst
*Surry
Service Area: Planning Dist Xix
*Sussex
Service Area: Planning Dist Xix
*Tazewell
Service Area: Planning Dist II
*Westmoreland
Service Area: Middle Peninsula/Northern Neck

MENTAL HEALTH: Virginia Service Area Listing
Service Area Name
Middle Peninsula/Northern Neck
County—Essex
County—Gloucester
County—King And Queen
County—King William
County—Lancaster
County—Mathews
County—Middlesex
County—Northumberland
County—Richmond
County—Westmoreland
Planning Dist II
County—Buchanan
County—Dickenson
County—Russell
County—Tazewell
Planning Dist Xix
County—Dinwiddie/Petersburg
County—Surry
County—Sussex
Planning Dist XII
County—Franklin
County—Henry
County—Patrick
County—Pittsylvania
County—Danville City
County—Martinsville City
Southside Planning Ditrict
County—Brunswick
County—Halifax
County—Mecklenburg

MENTAL HEALTH: Virginia Facility Listing
Facility Name
Southwestern MH Inst
County—Smyth

MENTAL HEALTH: Washington County Listing
County Name
*Adams
*Benton
Service Area: Tri-Cities
Population Group: MFW—Benton/Franklin
*Chelan
Service Area: Chelan/Douglas
*Clallam (g)
Facility: Clallam Bay Corr Ct r
*Cowlitz
Population Group: Low Inc—Cowlitz Co
*Douglas
Service Area: Chelan/Douglas
*Ferry
*Franklin
Service Area: Tri-Cities
Population Group: MFW—Benton/Franklin
Facility: Coyote Ridge Corr Ct r
*Grant
*Jefferson
*Kittitas
*Lewis
Population Group: Low Inc—Lewis Cty
*Lincoln
*Mason
Population Group: Low Inc—Mason Cty
Facility: Wash/Corr/Reception Ct r
*Okanogan
*Pend Oreille
Snohomish
Facility: Twin Rivers Corr Ct r
*Stevens
*Wahkiakum
*Walla Walla
Service Area: Tri-Cities
Facility: Wa State Pen
Yakima
Population Group: MSFW—Yakima Cty

MENTAL HEALTH: Washington Service Area Listing
Service Area Name
Chelan/Douglas
County—Chelan
County—Douglas
Parts:
Low Inc
Tri-Cities
County—Benton
County—Franklin
County—Walla Walla
Parts:
Burbank CCD

MENTAL HEALTH: Washington Population Group Listing
Population Group
Low Inc—Cowlitz Co
County—Cowlitz
Low Inc—Lewis Cty
County—Lewis
Parts:
Low Inc
Low Inc—Mason Cty
County—Mason
MFW—Benton/Franklin
County—Benton
Parts:
MFW
County—Franklin
Parts:
MFW
MSFW—Yakima Cty
County—Yakima

MENTAL HEALTH: Washington Facility Listing
Facility Name
Clallam Bay Corr Ct r
County—Clallam
Coyote Ridge Corr Ct r
County—Franklin
Twin Rivers Corr Ct r
County—Snohomish
Wa State Pen
County—Walla Walla
Wash/Corr/Reception Ct r
County—Mason

MENTAL HEALTH: West Virginia County Listing
County Name
*Braxton
Service Area: Central (VI-2)
*Doddridge
Service Area: Central (VI-2)
*Gilmer
Service Area: Central (VI-2)
*Grant
Service Area: Petersburg (VIII)
*Greenbrier
Service Area: Seneca (IV)
*Hampshire
Service Area: Petersburg (VIII)
*Hardy
Service Area: Petersburg (VIII)
*Harrison
Service Area: Central (VI-2)
*Lewis
Service Area: Central (VI-2)
Facility: William R. Sharpe Hospital
*Logan
Service Area: Logan/Mingo (II-1)
*Mc Dowell
Service Area: Mercer/Mcdowell/Wyoming (I-1)
*Mercer
Service Area: Mercer/Mcdowell/Wyoming (I-1)
*Mineral
Service Area: Petersburg (VIII)
*Mingo
Service Area: Logan/Mingo (II-1)
*Nicholas
Service Area: Seneca (IV)
*Pendleton
Service Area: Petersburg (VIII)
*Pocahontas
Service Area: Seneca (IV)
*Webster
Service Area: Seneca (IV)
*Wyoming
Service Area: Mercer/Mcdowell/Wyoming (I-1)

MENTAL HEALTH: West Virginia Service Area Listing
Service Area Name
Central (VI-2)
County—Braxton
County—Doddridge
County—Gilmer
County—Harrison
County—Lewis
Logan/Mingo (II-1)
County—Logan
County—Mingo
Mercer/Mcdowell/Wyoming (I-1)
County—Mc Dowell
County—Mercer
County—Wyoming
Petersburg (VIII)
County—Grant
County—Hampshire
County—Hardy
County—Mineral
County—Pendleton
Seneca (IV)
County—Greenbrier
County—Nicholas
County—Pocahontas
County—Webster

MENTAL HEALTH: West Virginia Facility Listing
Facility Name
William R. Sharpe Hospital
County—Lewis

MENTAL HEALTH: Wisconsin County Listing
County Name
*Adams
Service Area: Catchment Area 16
*Ashland
Service Area: Catchment Area 3
*Barron
Service Area: Catchment Area 2
*Bayfield
Service Area: Catchment Area 3
Brown
Facility: Green Bay Corr. I.
*Buffalo
Service Area: Catchment Area 9
*Burnett
Service Area: Catchment Area 2
*Clark
*Columbia
Service Area: Catchment Area 16
*Crawford
Service Area: Catchment Area 21
*Dodge
Facility: Dodge Corr Inst
Facility: Fox Lake Corr. I.
Facility: Waupun Corr Inst
*Door
Service Area: Catchment Area #6
*Douglas
Service Area: Catchment Area 1
*Dunn
Service Area: Catchment Area 7
*Florence
Service Area: Catchment Area #6
*Forest
Service Area: Catchment Area 4
*Grant
Service Area: Catchment Area 21
*Green
Service Area: Catchment Area 21
*Iowa
Service Area: Catchment Area 21
*Iron
Service Area: Catchment Area 3
*Jackson
Service Area: Catchment Area 9
Facility: Jackson Corr Inst
*Jefferson
*Juneau
Service Area: Catchment Area 15
*Lafayette
Service Area: Catchment Area 21
*Langlade
*Lincoln
*Marinette
Service Area: Catchment Area #6
*Marquette
Service Area: Catchment Area 16
*Menominee
Service Area: Catchment Area 11
Milwaukee
Service Area: Near North Side—Milwaukee
Facility: Milwaukee MH Complex
*Monroe
*Oconto
*Oneida
Service Area: Catchment Area 4
*Pepin
Service Area: Catchment Area 7
*Pierce
Service Area: Catchment Area 7
*Polk
Service Area: Catchment Area 2
*Price
Service Area: Catchment Area 3
Racine
Facility: Racine Corr I
Facility: Racine Youth Corr Ct r
*Richland
Service Area: Catchment Area 15
*Rusk
Service Area: Catchment Area 2
*Sauk
Service Area: Catchment Area 15
*Sawyer
Service Area: Catchment Area 3
*Shawano
Service Area: Catchment Area 11
Sheboygan
Facility: Kettle Moraine Corr I
*St. Croix
Service Area: Catchment Area 7
*Taylor
*Trempealeau
Service Area: Catchment Area 9
*Vernon
*Vilas
Service Area: Catchment Area 4
*Washburn
Service Area: Catchment Area 2
Waukesha
Facility: Ethan Allen School
*Waupaca
Service Area: Catchment Area 11
*Waushara
Winnebago
Facility: Oshkosh Corr I
Facility: Wisconsin Resource Center

MENTAL HEALTH: Wisconsin Service Area Listing
Service Area Name
Catchment Area 1
County—Douglas
Catchment Area #6
County—Door
County—Florence
County—Marinette
Catchment Area 11
County—Menominee
County—Shawano
County—Waupaca
Catchment Area 15
County—Juneau
County—Richland
County—Sauk
Catchment Area 16
County—Adams
County—Columbia
County—Marquette
Catchment Area 2
County—Barron
County—Burnett
County—Polk
County—Rusk
County—Washburn
Catchment Area 21
County—Crawford
County—Grant
County—Green
County—Iowa
County—Lafayette
Catchment Area 3
County—Ashland
County—Bayfield
County—Iron
County—Price
County—Sawyer
Catchment Area 4
County—Forest
County—Oneida
County—Vilas
Catchment Area 7
County—Dunn
County—Pepin
County—Pierce
County—St. Croix
Catchment Area 9
County—Buffalo
County—Jackson
County—Trempealeau
Near North Side—Milwaukee
County—Milwaukee
Parts:
C.T. 18-28
C.T. 38-49
C.T. 60-72
C.T. 79-92
C.T. 98-107
C.T. 114-116
C.T. 141-142
C.T. 145

MENTAL HEALTH: Wisconsin Facility Listing
Facility Name
Dodge Corr Inst
County—Dodge
Ethan Allen School
County—Waukesha
Fox Lake Corr. I.
County—Dodge
Green Bay Corr. I.
County—Brown
Jackson Corr Inst
County—Jackson
Kettle Moraine Corr I
County—Sheboygan
Milwaukee MH Complex
County—Milwaukee
Oshkosh Corr I
County—Winnebage
Racine Corr I
County—Racine
Racine Youth Corr Ct r
County—Racine
Waupun Corr Inst
County—Dodge
Wisconsin Resource Center
County—Winnebage

MENTAL HEALTH: Wyoming County Listing
County Name
*Uinta
Facility: Wyoming State Hosp

MENTAL HEALTH: Wyoming Facility Listing
Facility Name
Wyoming State Hosp
County—Uinta

MENTAL HEALTH: American Samoa County Listing
County Name
*Eastern
Service Area: Terr. Of American Samoa
*Manua
Service Area: Terr. Of American Samoa
*Rose Island
Service Area: Terr. Of American Samoa
*Swains Island
Service Area: Terr. Of American Samoa
*Western
Service Area: Terr. Of American Samoa

MENTAL HEALTH: American Samoa Service Area Listing
Service Area Name
Terr. Of American Samoa
County—Eastern
County—Manua
County—Rose Island
County—Swains Island
County—Western

MENTAL HEALTH: Fed Ste Micronesia County Listing
County Name
*Chuuk State
*Kosrae State
*Pohnpei State
*Yap State

MENTAL HEALTH: Guam County Listing
County Name
*Guam
Service Area: Terr. Of Guam

MENTAL HEALTH: Guam Service Area Listing
Service Area Name
Terr. Of Guam
County—Guam

MENTAL HEALTH: N. Mariana Islands County Listing
County Name
*Northern Islands
Service Area: Commonwealth N. Marianas Islands
*Rota
Service Area: Commonwealth N. Marianas Islands
*Saipan
Service Area: Commonwealth N. Marianas Islands
*Tinian
Service Area: Commonwealth N. Marianas Islands

MENTAL HEALTH: N. Mariana Islands Service Area Listing
Service Area Name
Commonwealth N. Marianas Islands
County—Northern Islands
County—Rota
County—Saipan
County—Tinian

MENTAL HEALTH: Republic of Palau County Listing
County Name
*Republic Of Palau

MENTAL HEALTH: Puerto Rico County Listing
County Name
*Adjuntas (W 1/2)
Service Area: Castaner
*Aguas Buenas
Service Area: Caguas (Sub-Region I)
*Caguas
Service Area: Caguas (Sub-Region I)
*Canovanas
*Canovanas
Service Area: Rsa 14
Service Area: Rsa 14
*Ceiba
*Ceiba
Service Area: Rsa 14
Service Area: Rsa 14
*Cidra
Service Area: Caguas (Sub-Region I)
*Culebra
*Culebra
Service Area: Rsa 14
Service Area: Rsa 14
*Dorado
Service Area: Rsa 14
*Fajardo
*Fajardo
Service Area: Rsa 14
Service Area: Rsa 14
*Gurabo
Service Area: Caguas (Sub-Region I)
*Juncos
Service Area: Caguas (Sub-Region I)
*Lares (S 1/2)
Service Area: Castaner
*Loiza
*Loiza
Service Area: Rsa 14
Service Area: Rsa 14
*Luquillo
*Luquillo
Service Area: Rsa 14
Service Area: Rsa 14
*Maricao (E 1/2)
Service Area: Castaner
*Rio Grande
*Rio Grande
Service Area: Rsa 14
Service Area: Rsa 14
*Vieques
*Vieques
Service Area: Rsa 14
Service Area: Rsa 14
*Yauco (N 1/4)
Service Area: Castaner

MENTAL HEALTH: Puerto Rico Service Area Listing
Service Area Name
Caguas (Sub-Region I)
County—Aguas Buenas
County—Caguas
County—Cidra
County—Gurabo
County—Juncos
Castaner
County—Adjuntas (W 1/2)
County—Lares (S 1/2)
County—Maricao (E 1/2)
County—Yauco (N 1/4)
Rsa 14
County—Canovanas
County—Ceiba
County—Culebra
County—Fajardo
County—Loiza
County—Luquillo
County—Rio Grande
County—Vieques

MENTAL HEALTH: Virgin Islands County Listing
County Name
*St. Croix
Service Area: Virgin Islands C.A.
*St. John
Service Area: Virgin Islands C.A.
*St. Thomas
Service Area: Virgin Islands C.A.

MENTAL HEALTH: Virgin Islands Service Area Listing
Service Area Name
Virgin Islands C.A.
County—St. Croix
County—St. John
County—St. Thomas

DENTAL: Alabama County Listing
County Name
Autauga
Population Group: Low Inc Pop—Autauga Co.
*Barbour
Population Group: Low Inc—Barbour Co
*Bibb
Blount
*Chambers
Population Group: Low Inc—Chambers Co
*Choctaw
Population Group: Low Inc—Choctaw
*Conecuh
Elmore
Population Group: Low Inc Pop—Elmore Co
*Escambia
Population Group: Low Inc—Escambia County
Etowah
Population Group: Low Inc—Etowah Co
*Greene
*Hale
*Lowndes
Madison
Population Group: Low Inc—C Huntsville
*Marengo
Mobile
Service Area: North Mobile
Population Group: Low Inc—NW Mobile
Population Group: Low Inc—Central Mobile/Prichard
Population Group: Low Inc—SE Mobile
*Monroe
Montgomery
Population Group: Low Inc—W Montgomery
*Perry
*Pickens
*Pike
Population Group: Low Inc—Pike Co
*Sumter
*Talladega
Facility: FCI—Talladega
Tuscaloosa
Population Group: Low Inc—Tuscaloosa Co
*Washington
*Wilcox

DENTAL: Alabama Service Area Listing
Service Area Name
North Mobile
County—Mobile
Parts:
C.T. 58-60

DENTAL: Alabama Population Group Listing
Population Group
Low Inc—Barbour Co
County—Barbour
Low Inc—C Huntsville
County—Madison
Parts:
C.T. 1
C.T. 2.01-2.02
C.T. 3.01-3.02
C.T. 7.01-7.02
C.T. 8
C.T. 10-13
C.T. 15-16
C.T. 20-24
C.T. 25.01-25.02
Low Inc—Central Mobile/Prichard
County—Mobile
Parts:
C.T. 1-3
C.T. 4.01-4.02
C.T. 5-6
C.T. 7.01-7.02
C.T. 8
C.T. 12.01
C.T. 26
C.T. 38.01
C.T. 39.01
C.T. 40-48
Low Inc—Chambers Co
County—Chambers
Parts:
Low Inc
Low Inc—Choctaw
County—Choctaw
Parts:
Low Income
Low Inc—Escambia County
County—Escambia
Parts:
Low-Income
Low Inc—Etowah Co
County—Etowah
Parts:
Low Income
Low Inc—NW Mobile
County—Mobile
Parts:
C.T. 34.01-34.02
C.T. 49-50
C.T. 61.03
C.T. 161.03
Low Inc—Pike Co
County—Pike
Parts:
Low Income
Low Inc—SE Mobile
County—Mobile
Parts:
C.T. 9.01-9.02
C.T. 10.01-10.02
C.T. 11
C.T. 13.01-13.02
C.T. 14
C.T. 15.01-15.02
C.T. 16
C.T. 21-22
C.T. 23.01-23.02
C.T. 24
C.T. 25.01-25.02
C.T. 27-29
Low Inc—Tuscaloosa Co
County—Tuscaloosa
Parts:
Low Income
Low Inc—W Montgomery
County—Montgomery
Parts:
C.T. 1-2
C.T. 3.85
C.T. 4-7
C.T. 10-11
C.T. 13
C.T. 15-16
C.T. 22-24
C.T. 51.02
C.T. 59.02
Low Inc Pop—Autauga Co.
County—Autauga
Parts:
Low Inc Pop Autauga Co
Low Inc Pop—Elmore Co
County—Elmore
Parts:
Low Inc—Elmore Co

DENTAL: Alabama Facility Listing
Facility Name
FCI—Talladega
County—Talladega

DENTAL: Arizona County Listing
County Name
*Apache
Service Area: Fort Defiance
*Cochise
Service Area: Elfrida
*Coconino
Service Area: Williams
Population Group: Low Inc—Flagstaff
*Greenlee
*La Paz
Maricopa
Population Group: Low Inc—Buckeye
Population Group: Low Inc—Wickenburg
Population Group: Low Inc—S Mountain
Facility: FCI Phoenix
Facility: FCI Tucson
Facility: Maricopa Co Jails
Pima
Service Area: South Tucson
Facility: FCI Tucson
Pinal
Service Area: Florence
Service Area: San Manuel
Population Group: Low Inc-Coolidge/Eloy/Casa Grande
*Santa Cruz
Yuma
Service Area: Wellton
Population Group: Low Inc—Somerton
Population Group: Low Income—Yuma

DENTAL: Arizona Service Area Listing
Service Area Name
Elfrida
County—Cochise
Parts:
C.T. 5
Florence
County—Pinal
Parts:
C.T. 8-9
Fort Defiance
County—Apache
Parts:
Fort Apache Division
San Manuel
County—Pinal
Parts:
C.T. 6-7
South Tucson
County—Pima
Parts:
C.T. 1-12
C.T. 13.01-13.02
C.T. 14
C.T. 20-24
C.T. 25.01-25.02
C.T. 37.01-37.03
C.T. 38-39
C.T. 41.02-41.04
C.T. 43.01
C.T. 43.09
Wellton
County—Yuma
Parts:
C.T. 105-107
C.T. 112-113
Williams
County—Coconino
Parts:
C.T. 17-19

DENTAL: Arizona Population Group Listing
Population Group
Low Inc—Buckeye
County—Maricopa
Parts:
C.T. 506-507
Low Inc—Flagstaff
County—Coconino
Parts:
C.T. 1-15
Low Inc—S Mountain
County—Maricopa
Parts:
C.T. 1152-1161
C.T. 1162.02-1162.04
C.T. 1163-1165
C.T. 1166.01-1166.02
C.T. 1167.02-1167.04
Low Inc—Somerton
County—Yuma
Parts:
Somerton CCD
Low Inc—Wickenburg
County—Maricopa
Parts:
C.T. 405.02
C.T. 405.09
Low Inc-Coolidge/Eloy/Casa Grande
County—Pinal
Parts:
Casa Grande CCD
Coolidge CCD
Eloy CCD
Manicopa-Stanfield
Low Income—Yuma
County—Yuma
Parts:
Yuma CCD

DENTAL: Arizona Facility Listing
Facility Name
FCI Phoenix
County—Maricopa
FCI Tucson
County—Pima
FCI Tucson
County—Maricopa
Maricopa Co Jails
County—Maricopa

DENTAL: Arkansas County Listing
County Name
*Ashley
Service Area: Parkdale
*Calhoun
*Cleveland
*Fulton
*Grant
Jefferson
Service Area: Altheimer
*Lafayette
*Lee
*Lincoln
*Monroe
*Montgomery
*Newton
*Perry
*Phillips
*Poinsett
Service Area: Marked Tree
*Prairie
Pulaski
Service Area: College Station
*Searcy
*Sharp
*Woodruff

DENTAL: Arkansas Service Area Listing
Service Area Name
Altheimer
County—Jefferson
Parts:
C.T. 1.85
C.T. 7
College Station
County—Pulaski
Parts:
C.T. 2
C.T. 4-5
C.T. 40.01
C.T. 40.03
C.T. 40.05
Marked Tree
County—Poinsett
Parts:
Greenwood Township
Little River Township
Tyronza Township
Parkdale
County—Ashley
Parts:
Beech Creek Twp
De Bastrop Twp
Portland Twp
Wilmot Twp

DENTAL: California County Listing
County Name
Alameda
Population Group: Low Inc—Fruitvale (MSSA 2d)
Butte
Population Group: Low Inc-Oroville/Palermo(MSSA 10)
*Colusa
Population Group: Low Inc/MFW—Colusa Co
Contra Costa
Population Group: Low Inc—Antioch/Pittsburg North (MSSA
*Del Norte
Population Group: Low Inc—Del Norte Co
Fresno
Population Group: Low Inc—San Joaquin/Tranquility
*Glenn
Population Group: Low Inc—Willows
*Humboldt
Population Group: Low Inc—Garberville/Redway
Population Group: Low Inc—Trinity/Klamath
Population Group: Low Inc—Eureka/Arcata
Population Group: Low Inc—Rio Dell/Scotia
Population Group: Low Inc—Fortuna
Population Group: Low Inc—Ferndale
Population Group: Low Inc—Area Around Arcata
Population Group: Low Inc—North Coastal
*Imperial
Service Area: Brawley-Calipatria
Service Area: Calexico—MSSA 49
Service Area: East Imperial—MSSA 47
Kern
Service Area: Arvin-Lamont (MSSA 61)
Service Area: Buttonwillow
Service Area: McFarland/Delano
Service Area: S. Westside/Frazier Park
Service Area: Shafter/Wasco
Population Group: Low Inc—N Westside/Taft
*Lake
Population Group: Low Inc—Lakeport (MSSA 70)
*Lassen
Population Group: Low Inc—Susanville
Los Angeles
Population Group: Low Inc—Watts/Willowbrook
Facility: FCI Terminal Island
*Mendocino
Service Area: Covelo
Service Area: Laytonville/Leggett
Service Area: Redwood/Potter Valley
Population Group: Low Inc—Willits
Monterey
Service Area: Greenfield/Soledad/Gonzales
Service Area: King City
Population Group: Low-Income—N. Salinas (MSSA 109.2a)
San Francisco
Population Group: Low Inc—South Of Market
Santa Barbara
Facility: USP Lompoc
Shasta
Service Area: Castella (MSSA 187)
Service Area: French Gulch (MSSA 186)
Population Group: Low Inc—Redding (MSSAS 189.1 & 189.2)
*Sierra
Service Area: West Sierra (MSSA 192)
*Siskiyou
Service Area: Happy Camp
Service Area: Tulake (MSSA 101.2)
*Trinity
Service Area: Hayfork/Forest Glen/Peanut (MSSA 225)
Service Area: L. Trinity/Helena/Salyer (MSSA 223)
Service Area: Weaverville, Trinity Ct r (MSSA 224)
Tulare
Population Group: Low Inc—Porterville (MSSA 231/232)
Population Group: Low Inc—Visalia (MSSA 233a)

DENTAL: California Service Area Listing
Service Area Name
Arvin-Lamont(MSSA 61)
County—Kern
Parts:
C.T. 62-64
Brawley-Calipatria
County—Imperial
Parts:
C.T. 101-107
C.T. 123.02
Buttonwillow
County—Kern
Parts:
C.T. 37
Calexico—MSSA 49
County—Imperial
Parts:
C.T. 119-122
Castella (MSSA 187)
County—Shasta
Parts:
C.T. 125
Covelo
County—Mendocino
Parts:
C.T. 101
East Imperial—MSSA 47
County—Imperial
Parts:
C.T. 124
French Gulch (MSSA 186)
County—Shasta
Parts:
C.T. 124
Greenfield/Soledad/Gonzales
County—Monterey
Parts:
C.T. 108.98
C.T. 109
C.T. 111-112
Happy Camp
County—Siskiyou
Parts:
C.T. 5
Hayfork/Forest Glen/Peanut (MSSA 225)
County—Trinity
Parts:
C.T. 3.98
King City
County—Monterey
Parts:
C.T. 113
C.T. 114.02
L. Trinity/Helena/Salyer (MSSA 223)
County—Trinity
Parts:
C.T. 2
Laytonville/Leggett
County—Mendocino
Parts:
C.T. 102
McFarland/Delano
County—Kern
Parts:
C.T. 46-48
C.T. 49.01-49.02
C.T. 50
Redwood/Potter Valley
County—Mendocino
Parts:
C.T. 108
S. Westside/Frazier Park
County—Kern
Parts:
C.T. 33.02
Shafter/Wasco
County—Kern
Parts:
C.T. 39-45
Tulake (MSSA 101.2)
County—Siskiyou
Parts:
C.T. 1
Weaverville, Trinity Ct r (MSSA 224)
County—Trinity
Parts:
C.T. 1
West Sierra (MSSA 192)
County—Sierra
Parts:
West Sierra Division

DENTAL: California Population Group Listing
Population Group
Low Inc—Antioch/Pittsburg North (MSSA
County—Contra Costa
Parts:
C.T. 3050
C.T. 3071.02
C.T. 3072.01-3072.02
C.T. 3072.04-3072.05
C.T. 3090
C.T. 3100
C.T. 3110
C.T. 3120
C.T. 3132.01-3132.02
C.T. 3141.01-3141.02
C.T. 3142
C.T. 3142.98
C.T. 3552
Low Inc—Area Around Arcata
County—Humboldt
Parts:
C.T. 9
C.T. 12
Low Inc—Del Norte Co
County—Del Norte
Parts:
Low Income
Low Inc—Eureka/Arcata
County—Humboldt
Parts:
C.T. 1
C.T. 1.99-2.00
C.T. 3-8
C.T. 10-11
C.T. 106-107
Low Inc—Ferndale
County—Humboldt
Parts:
C.T. 112
Low Inc—Fortuna
County—Humboldt
Parts:
C.T. 108-110
Low Inc—Fruitvale (MSSA 2d)
County—Alameda
Parts:
C.T. 4061-4062
C.T. 4065-4066
C.T. 4070-4075
Low Inc—Garberville/Redway
County—Humboldt
Parts:
C.T. 113
Low Inc—Lakeport (MSSA 70)
County—Lake
Parts:
C.T. 1-5
C.T. 10
Low Inc—N Westside/Taft
County—Kern
Parts:
C.T. 33.03-33.04
C.T. 34-36
Low Inc—North Coastal
County—Humboldt
Parts:
C.T. 102
Low Inc—Porterville (MSSA 231/232)
County—Tulare
Parts:
C.T. 27
C.T. 33-41
C.T. 45
Low Inc—Redding (MSSAS 189.1 & 189.2)
County—Shasta
Parts:
C.T. 101-123
Low Inc—Rio Dell/Scotia
County—Humboldt
Parts:
C.T. 111
Low Inc—San Joaquin/Tranquility
County—Fresno
Parts:
C.T. 82
Low Inc—South Of Market
County—San Francisco
Parts:
C.T. 122-125
C.T. 176.02
C.T. 176.98
C.T. 177-178
C.T. 179.01-179.02
C.T. 179.99-180.00
C.T. 201.98
C.T. 226-229
C.T. 607
Low Inc—Susanville
County—Lassen
Parts:
Honey Lake Div
Madeline Plains Div
Susanville Div
Westwood Div
Low Inc—Trinity/Klamath
County—Humboldt
Parts:
C.T. 101
Low Inc—Visalia (MSSA 233a)
County—Tulare
Parts:
C.T. 9
C.T. 10.01-10.02
C.T. 11-13
C.T. 17.01-17.02
C.T. 18-19
C.T. 20.01-20.05
Low Inc—Watts/Willowbrook
County—Los Angeles
Parts:
C.T. 2408-2410
C.T. 2420-2423
C.T. 2426-2427
C.T. 2430-2431
C.T. 5352
C.T. 5404
C.T. 5406-5408
C.T. 5412-5414
Low Inc—Willits
County—Mendocino
Parts:
C.T. 106-107
Low Inc—Willows
County—Glenn
Parts:
C.T. 103-105
Low Inc-Oroville/Palermo(MSSA 10)
County—Butte
Parts:
C.T. 25-33
Low Inc/MFW—Colusa Co
County—Colusa
Parts:
Low Income/MFW
Low-Income—N. Salinas (MSSA 109.2a)
County—Monterey
Parts:
C.T. 1-9
C.T. 13
C.T. 17-18
C.T. 105.01-105.02
C.T. 106.01-106.02

DENTAL: California Facility Listing
Facility Name
FCI Terminal Island
County—Los Angeles
USP Lompoc
County—Santa Barbara

DENTAL: Colorado County Listing
County Name
Adams
Service Area: Commerce City
Population Group: Low Income—Northwest Adams
*Alamosa
Population Group: Low Inc—Alamosa Co
*Costilla
Denver
Service Area: Eastside (Denver)
Service Area: Montbello
Service Area: Westside (Denver)
Facility: Denver Reception & Diagnostic Center
Facility: Denver Women's C.F.
Douglas
Facility: FCI Englewood
*Fremont
Facility: Centennial C.F.
Facility: Colorado State Penn
Facility: Colorado Territorial C.F.
Facility: Florence Admax USP
Facility: Freemont C.F.
Facility: FCI Florence
Facility: USP Florence
*Kiowa
*Morgan
Population Group: Low Income/MSFW—Morgan Co
*Prowers
Population Group: Low Inc—Prowers Co
Pueblo
Population Group: Low Inc/MFW—Pueblo Co
*Saguache

DENTAL: Colorado Service Area Listing
Service Area Name
Commerce City
County—Adams
Parts:
C.T. 87.03
C.T. 87.05-87.06
C.T. 88.01-88.02
C.T. 89.01
C.T. 89.52
Eastside (Denver)
County—Denver
Parts:
C.T. 15-16
C.T. 23
C.T. 24.01-24.02
C.T. 25
C.T. 26.01-26.02
C.T. 27.01-27.03
C.T. 28.01-28.03
C.T. 35
C.T. 36.01-36.03
C.T. 41.01-41.02
C.T. 41.04
Montbello
County—Denver
Parts:
C.T. 83.04-83.06
C.T. 83.11-83.12
Westside (Denver)
County—Denver
Parts:
C.T. 2.01-2.02
C.T. 4.01-4.02
C.T. 5.01-5.02
C.T. 6
C.T. 7.01-7.02
C.T. 8
C.T. 9.01-9.03
C.T. 10
C.T. 11.01-11.02
C.T. 13.01-13.02
C.T. 14.01-14.02
C.T. 18-19
C.T. 21
C.T. 45.01-45.02
C.T. 46.01-46.02
C.T. 54.02

DENTAL: Colorado Population Group Listing
Population Group
Low Inc—Alamosa Co
County—Alamosa
Parts:
Low Income
Migrant Farmworker
Low Inc—Prowers Co
County—Prowers
Parts:
Prowers
Low Inc/MFW—Pueblo Co
County—Pueblo
Parts:
Low Income/MFW
Low Income—Northwest Adams
County—Adams
Parts:
C.T. 90.01-90.03
C.T. 93.06-93.10
C.T. 93.15-93.18
C.T. 94.01
C.T. 94.07
C.T. 95.01-95.02
C.T. 95.53
C.T. 96.03-96.06
C.T. 97.50
Low Income/MSFW—Morgan Co
County—Morgan
Parts:
Low-Income/MSFW

DENTAL: Colorado Facility Listing
Facility Name
Centennial C.F.
County—Fremont
Colorado State Penn
County—Fremont
Colorado Territorial C.F.
County—Fremont
Denver Reception & Diagnostic Center
County—Denver
Denver Women's C.F.
County—Denver
Florence Admax USP
County—Fremont
Freemont C.F.
County—Fremont
FCI Englewood
County—Douglas
FCI Florence
County—Fremont
USP Florence
County—Fremont

DENTAL: Connecticut County Listing
County Name
Fairfield
Service Area: Central/East Bridgeport
Service Area: Southwest Bridgeport
Hartford
Service Area: Charter Oak/Frog Hollow/Parkville
Service Area: North/Northcentral Hartford
Population Group: Low Inc— C New Britain
Middlesex
Population Group: Low Inc/Homeless—Cent Middletown
New Haven
Service Area: S. Cent Waterbury
Population Group: Low Inc—Meriden
New London
Population Group: Low Inc—Norwich
Population Group: Low Inc—New London (Inner City)
Windham
Population Group: Low Inc—Town Of Windham

DENTAL: Connecticut Service Area Listing
Service Area Name
Central/East Bridgeport
County—Fairfield
Parts:
C.T. 713-717
C.T. 735-736
C.T. 738-744
Charter Oak/Frog Hollow/Parkville
County—Hartford
Parts:
C.T. 5001-5004
C.T. 5019
C.T. 5027-5030
C.T. 5043
C.T. 5045-5046
C.T. 5049
North/Northcentral Hartford
County—Hartford
Parts:
C.T. 5008-5015
C.T. 5017-5018
C.T. 5035
C.T. 5037
S. Cent Waterbury
County—New Haven
Parts:
C.T. 3501-3506
C.T. 3508
C.T. 3512
C.T. 3514
C.T. 3517
Southwest Bridgeport
County—Fairfield
Parts:
C.T. 702-712

DENTAL: Connecticut Population Group Listing
Population Group
Low Inc— C New Britain
County—Hartford
Parts:
C.T. 4159-4162
C.T. 4166
C.T. 4168
C.T. 4171
Low Inc—Meriden
County—New Haven
Parts:
Ct 1701.01
Ct 1702.02
Ct 1702.01
Ct 1702.02
Ct 1703
Ct 1710
Ct 1713
Ct 1714
Ct 1715
Low Inc—New London (Inner City)
County—New London
Parts:
C.T. 6901
C.T. 6901.99-6902.00
C.T. 6902.99-6903.00
C.T. 6904-6906
C.T. 6906.99-6907.00
C.T. 6907.99-6908.00
C.T. 6909
Low Inc—Norwich
County—New London
Parts:
Census Tract 6970
Census Tract 6969
Census Tract 6968
Census Tract 6967
Census Tract 6966
Census Tract 6965
Census Tract 6964
Census Tract 6961
Low Inc—Town Of Windham
County—Windham
Parts:
Windham Town
Low Inc/Homeless—Cent Middletown
County—Middlesex
Parts:
Census Tract 5411.00
Census Tract 5416.00
Census Tract 5415.00
Census Tract 5418.00
Census Tract 5417.00

DENTAL: DELAWARE County Listing
County Name
New Castle
Service Area: Southbridge
Service Area: Wilmington
*Sussex

DENTAL: DELAWARE Service Area Listing
Service Area Name
Southbridge
County—New Castle
Parts:
C.T. 19
C.T. 153-155
Wilmington
County—New Castle
Parts:
C.T. 1
C.T. 6.01-6.02
C.T. 7-9
C.T. 15-17
C.T. 20-23

DENTAL: District Of Columbia County Listing
County Name
Dist Of Columbia
Population Group: Homeless—Downtown D.C.

DENTAL: District Of Columbia Population Group Listing
Population Group
Homeless—Downtown D.C.
County—Dist Of Columbia
Parts:
C.T. 40.01-40.02
C.T. 41
C.T. 42.02
C.T. 46-47
C.T. 48.01-48.02
C.T. 49.01-49.02
C.T. 50-51
C.T. 52.10
C.T. 52.20
C.T. 53.01-53.02
C.T. 54.01-54.02
C.T. 55.01-55.02
C.T. 56
C.T. 57.01-57.02
C.T. 58-59

DENTAL: Florida County Listing
County Name
Alachua
Facility: Gainesville Corr Inst
*Baker
Facility: Baker Corr Inst
Bradford
Facility: Fl State Prison
Facility: Lawtey Corr Inst
Brevard
Facility: Brevard Corr Inst
Broward
Facility: Broward Corr Inst
*Calhoun
Facility: Calhoun Corr Inst
Charlotte
Facility: Charlotte Corr Inst
Collier
Service Area: Everglades
Service Area: Immokalee
*Columbia
Facility: Columbia Corr Inst
Dade
Service Area: Homestead
Service Area: Model Cities
Facility: Dade Corr Inst
Facility: FCI Miami
Facility: S Fl Reception Ct r
*De Soto
Facility: Desoto Corr Inst
*Dixie (g)
Facility: Cross City Corr Inst
Duval
Population Group: Low Inc—NW Jacksonville
Escambia
Population Group: Low Inc—NW Escambia
Facility: Century Corr Inst
*Franklin
Gadsden
Population Group: Low Inc/MFW—Gadsden Co
*Gilchrist (g)
Facility: Lancaster Corr Inst
*Glades
*Gulf
Population Group: Low Inc—Gulf Co
Facility: Gulf Corr Inst
*Hamilton (g)
Facility: Hamilton Corr Inst
*Hardee
Population Group: Low Inc/MFW—Hardee Co
Facility: Hardee Corr Inst
*Hendry
Hernando
Population Group: Low Inc—Hernando Co
*Highlands
Population Group: Low Inc/MFW—Highlands Co
Facility: Avon Park Corr Inst
Hillsborough
Population Group: Low Inc/MFW—Ruskin/Apollo Beach
Population Group: Low Inc/MFW—Plant City/Dover
*Holmes (g)
Facility: Holmes Corr Inst
*Indian River
Population Group: Low Inc/MFW Fellsmere
Facility: Hendry Corr Inst
Facility: Indian River Corr Inst
*Jackson
Facility: Apalachee Corr Inst
Facility: FCI—Marianna
Facility: Jackson Corr Inst
Facility: River Junction Corr Inst
*Jefferson (g)
Facility: Jefferson Corr Inst
*Lafayette (g)
Facility: Mayo Corr Inst
Lake
Population Group: MFW—Lake Co
Facility: Lake Corr Inst
Leon
Population Group: Low Inc—Bond Community
*Levy
*Liberty
Facility: Liberty Corr Inst
*Madison (g)
Facility: Madison Corr Inst
Manatee
Population Group: MFW—Manatee
Marion
Facility: Florida Corr Inst
Martin
Service Area: Indiantown
Facility: Martin Corr Inst
Okaloosa
Facility: Okaloosa Corr Inst
*Okeechobee
Orange
Facility: C Fl Reception Ct r
Palm Beach
Service Area: Belle Glade/Pahokee
Population Group: Low Inc—West Palm Beach
Pasco
Service Area: Eastern Pasco
Facility: Zephyrhills Corr Inst
Polk
Service Area: Frostproof
Facility: Polk Corr Inst
*Putnam
Santa Rosa
Facility: Santa Rosa Corr Inst
St Lucie
Population Group: Low Inc—Central Ft. Pierce
*Sumter (g)
Facility: Fcc Coleman
Facility: Sumter Corr Inst
*Suwannee
Population Group: Low Inc—Suwannee Co
*Taylor
*Union
Facility: N Fl Reception Ct r
Facility: Union Corr Inst
Volusia
Facility: Tomoka Corr Inst
*Walton (g)
Facility: Walton Corr Inst
*Washington

DENTAL: Florida Service Area Listing
Service Area Name
Belle Glade/Pahokee
County—Palm Beach
Parts:
C.T. 80.01-80.02
C.T. 81.01-81.02
C.T. 82.01-82.03
C.T. 83.01-83.02
Eastern Pasco
County—Pasco
Parts:
C.T. 320.01-320.02
C.T. 321.01-321.02
C.T. 322-329
C.T. 330.01-330.04
C.T. 331
Everglades
County—Collier
Parts:
C.T. 111.01-111.02
Frostproof
County—Polk
Parts:
Frostproof Division
Homestead
County—Dade
Parts:
C.T. 104-105
C.T. 106.02
C.T. 107.01
C.T. 108-109
C.T. 110.01-110.02
C.T. 111
C.T. 112.01-112.02
C.T. 113
C.T. 114.98
Immokalee
County—Collier
Parts:
C.T. 112.02-112.03
C.T. 113-114
Indiantown
County—Martin
Parts:
C.T. 18
Model Cities
County—Dade
Parts:
C.T. 4.08
C.T. 8.01-8.02
C.T. 9.01-9.03
C.T. 10.01-10.04
C.T. 11.03
C.T. 15.01-15.02
C.T. 16.01-16.02
C.T. 17.01-17.02
C.T. 18.01-18.03
C.T. 19.01
C.T. 19.03-19.04
C.T. 23

DENTAL: Florida Population Group Listing
Population Group
Low Inc—Bond Community
County—Leon
Parts:
C.T. 1
C.T. 4-6
C.T. 10.01
C.T. 11.01-11.02
C.T. 12-14
Low Inc—Central Ft. Pierce
County—St Lucie
Parts:
C.T. 1
C.T. 1.99-2.00
C.T. 3-5
C.T. 9.02
Low Inc—Gulf Co
County—Gulf
Parts:
Low Income
Low Inc—Hernando Co
County—Hernando
Parts:
Low Income
Low Inc—NW Escambia
County—Escambia
Parts:
C.T. 38-40
Low Inc—NW Jacksonville
County—Duval
Parts:
C.T. 1
C.T. 1.99-2.00
C.T. 2.99-3.00
C.T. 3.99-4.00
C.T. 5
C.T. 9-19
C.T. 26-29
C.T. 107-109
C.T. 112-116
C.T. 118
C.T. 121
Low Inc—Suwannee Co
County—Suwannee
Parts:
Low Income
Low Inc—West Palm Beach
County—Palm Beach
Parts:
C.T. 20-24
C.T. 26
Low Inc/MFW—Gadsden Co
County—Gadsden
Parts:
Low Income/Migrant Farmw
Low Inc/MFW—Hardee Co
County—Hardee
Parts:
Low Income/Migrant Farmw
Low Inc/MFW—Highlands Co
County—Highlands
Parts:
Low Income/MFW
Low Inc/MFW—Plant City/Dover
County—Hillsborough
Parts:
C.T. 101.02-101.04
C.T. 124-131
Low Inc/MFW—Ruskin/Apollo Beach
County—Hillsborough
Parts:
C.T. 140.02
C.T. 141.01
C.T. 141.03-141.04
Low Inc/MFW Fellsmere
County—Indian River
Parts:
Fellsmere Division
MFW—Lake Co
County—Lake
Parts:
MFW
MFW—Manatee
County—Manatee
Parts:
C.T. 13
C.T. 14.01-14.02
C.T. 15.01
C.T. 15.01
C.T. 16
C.T. 19.01
C.T. 19.03-19.04

DENTAL: Florida Facility Listing
Facility Name
Apalachee Corr Inst
County—Jackson
Avon Park Corr Inst
County—Highlands
Baker Corr Inst
County—Baker
Brevard Corr Inst
County—Brevard
Broward Corr Inst
County—Broward
C Fl Reception Ct r
County—Orange
Calhoun Corr Inst
County—Calhoun
Century Corr Inst
County—Escambia
Charlotte Corr Inst
County—Charlotte
Columbia Corr Inst
County—Columbia
Cross City Corr Inst
County—Dixie
Dade Corr Inst
County—Dade
Desoto Corr Inst
County—De Soto
Fcc Coleman
County—Sumter
Fl State Prison
County—Bradford
Florida Corr Inst
County—Marion
FCI—Marianna
County—Jackson
FCI Miami
County—Dade
Gainesville Corr Inst
County—Alachua
Gulf Corr Inst
County—Gulf
Hamilton Corr Inst
County—Hamilton
Hardee Corr Inst
County—Hardee
Hendry Corr Inst
County—Indian River
Holmes Corr Inst
County—Holmes
Indian River Corr Inst
County—Indian River
Jackson Corr Inst
County—Jackson
Jefferson Corr Inst
County—Jefferson
Lake Corr Inst
County—Lake
Lancaster Corr Inst
County—Gilchrist
Lawtey Corr Inst
County—Bradford
Liberty Corr Inst
County—Liberty
Madison Corr Inst
County—Madison
Martin Corr Inst
County—Martin
Mayo Corr Inst
County—Lafayette
N Fl Reception Ct r
County—Union
Okaloosa Corr Inst
County—Okaloosa
Polk Corr Inst
County—Polk
River Junction Corr Inst
County—Jackson
S Fl Reception Ct r
County—Dade
Santa Rosa Corr Inst
County—Santa Rosa
Sumter Corr Inst
County—Sumter
Tomoka Corr Inst
County—Volusia
Union Corr Inst
County—Union
Walton Corr Inst
County—Walton
Zephyrhills Corr Inst
County—Pasco

DENTAL: Georgia County Listing
County Name
Bibb
Facility: Middle Ga Corr Complex
Bryan
*Burke
*Butts
Facility: Ga Diagnostic Prison
*Calhoun
Facility: Calhoun State Prison
*Camden
Chatham
Facility: Costal State Prison
*Colquitt
Population Group: Low Inc—Colquitt
*Crawford
*Dawson
Population Group: Low Inc—Dawson Co
De Kalb
Facility: Marietta Health Center
Facility: Metro State Prison
*Dodge
Facility: Dodge State Prison
Dougherty
Population Group: Low Inc—Dougherty
Forsyth
Facility: Phillips State Prison
Fulton
Service Area: Atlanta Southside
Service Area: West Atlanta
Facility: Douglas Health Center
Facility: Procare At Midtown, Inc.
Facility: Smyrna Health Center
Facility: USP Atlanta
*Hancock (g)
Facility: Hancock State Prison
Harris
*Liberty
*Long
*Macon
*Marion
*Pulaski
*Putnam
*Sumter
Population Group: Low Inc—Sumter
*Talbot
*Tattnall
Twiggs
*Ware
Population Group: Low Inc—Ware Co
*Warren
*Washington
*Wayne
Facility: FCI—Jesup
*Whitfield
Population Group: Low Inc—Whitfield
*Wilcox
Facility: Wilcox State Prison
*Worth
Population Group: Low Inc—Worth

DENTAL: Georgia Service Area Listing
Service Area Name
Atlanta Southside
County—Fulton
Parts:
C.T. 44
C.T. 46.95
C.T. 48
C.T. 49.95
C.T. 50
C.T. 52-53
C.T. 55.01-55.02
C.T. 56-58
C.T. 63-64
C.T. 67
C.T. 68.01-68.02
C.T. 69-73
West Atlanta
County—Fulton
Parts:
C.T. 8
C.T. 22-26
C.T. 36-41
C.T. 42.95
C.T. 43
C.T. 60-62
C.T. 66.02
C.T. 78.04
C.T. 80
C.T. 81.01-81.02
C.T. 82.01-82.02
C.T. 83.01-83.02
C.T. 84-85
C.T. 86.01-86.02
C.T. 87.01-87.02
C.T. 88

DENTAL: Georgia Population Group Listing
Population Group
Low Inc—Colquitt
County—Colquitt
Parts:
Low Income
Low Inc—Dawson Co
County—Dawson
Parts:
Low Income
Low Inc—Dougherty
County—Dougherty
Parts:
Low Income
Low Inc—Sumter
County—Sumter
Parts:
Low Income
Low Inc—Ware Co
County—Ware
Parts:
Low Income
Low Inc—Whitfield
County—Whitfield
Parts:
Low Income
Low Inc—Worth
County—Worth
Parts:
Low Income

DENTAL: Georgia Facility Listing
Facility Name
Calhoun State Prison
County—Calhoun
Costal State Prison
County—Chatham
Dodge State Prison
County—Dodge
Douglas Health Center
County—Fulton
FCI—Jesup
County—Wayne
Ga Diagnostic Prison
County—Butts
Hancock State Prison
County—Hancock
Marietta Health Center
County—De Kalb
Metro State Prison
County—De Kalb
Middle Ga Corr Complex
County—Bibb
Phillips State Prison
County—Forsyth
Procare At Midtown, Inc.
County—Fulton
Smyrna Health Center
County—Fulton
USP Atlanta
County—Fulton
Wilcox State Prison
County—Wilcox

DENTAL: Hawaii County Listing
County Name
*Hawaii
Population Group: Low Inc—West Hawaii
Population Group: Low Inc—East Hawaii
*Maui
Service Area: Hana/Haiku

DENTAL: Hawaii Service Area Listing
Service Area Name
Hana/Haiku
County—Maui
Parts:
C.T. 301-302

DENTAL: Hawaii Population Group Listing
Population Group
Low Inc—East Hawaii
County—Hawaii
Parts:
C.T. 201-206
C.T. 206.99
C.T. 207.01-207.02
C.T. 208.01-208.02
C.T. 209
C.T. 210.01-210.02
C.T. 211
C.T. 219-221
Low Inc—West Hawaii
County—Hawaii
Parts:
C.T. 212-214
C.T. 215.01-215.02
C.T. 215.97-215.98
C.T. 216-218

DENTAL: Idaho County Listing
County Name
Ada
Population Group: Low Inc—Urban Boise City
*Adams
*Bannock
Population Group: Low Inc/MFW—Bannock C0
*Benewah
Population Group: Low Inc—Benewah Co
*Bingham
Population Group: Low Inc/MFW—Bingham Co
*Boise
Population Group: Low Inc—Boise Co
*Bonner
Population Group: Low Inc/MFW—Bonner Co
*Boundary
Population Group: Low Inc—Boundary Co
*Butte
Population Group: Low Inc/MFW—Butte Co
*Camas
Canyon
Population Group: Low Inc/MFW—S Treasure Valley
*Caribou
Population Group: Low Inc/MFW—Caribou Co
*Clark
*Elmore
Population Group: Low Inc/MFW—Elmore Co
*Fremont
Population Group: Low-Inc/MFW—Fremont Co
*Gem
Population Group: Low Inc/MFW—N Treasure Valley
*Gooding
Population Group: Low-Inc/MFW—Gooding Co
*Idaho
*Jerome
Population Group: Low Inc/MFW—Jerome Co
*Kootenai
Population Group: Low Inc—Kootenai
*Lemhi
Population Group: Low Inc—Lemhi Co
*Lincoln
*Nez Perce
Population Group: Nez Perce Co—Low Inc/MFW
*Oneida
Population Group: Low Inc—Oneida Co
*Owyhee
Service Area: Bruneau
Population Group: Low Inc/MFW—S Treasure Valley
*Payette
Population Group: Low Inc/MFW—N Treasure Valley
*Power
Population Group: Low Inc/MFW—Power Co
*Shoshone
Population Group: Low Inc—Shoshone Co
*Teton
Population Group: Low Inc/MFW—Teton Co
*Twin Falls
Population Group: MSFW—Twin Falls Co
*Valley
Population Group: Low Inc—Valley Co
*Washington
Population Group: Low Inc/MFW—N Treasure Valley

DENTAL: Idaho Service Area Listing
Service Area Name
Bruneau
County—Owyhee
Parts:
Bruneau Division
Grand View Division
Murphy Division
Western Shoshone Division

DENTAL: Idaho Population Group Listing
Population Group
Low -Inc/MFW—Gooding Co
County—Gooding
Parts:
Low—Inc/MFW—Gooding
Low Inc—Benewah Co
County—Benewah
Parts:
Low Income
Low Inc—Boise Co
County—Boise
Low Inc—Boundary Co
County—Boundary
Parts:
Low Inc
Low Inc—Kootenai
County—Kootenai
Parts:
Kootenai Co
Low Inc—Lemhi Co
County—Lemhi
Parts:
Lemhi Co
Low Inc—Oneida Co
County—Oneida
Parts:
Oneida Co
Low Inc—Shoshone Co
County—Shoshone
Parts:
Shoshone
Low Inc—Urban Boise City
County—Ada
Parts:
Ct 1
Ct 10
Ct 11
Ct 12.01
Ct 12.02
Ct 14
Ct 15
Ct 16
Ct 17
Ct 18
Ct 19
Ct 20
Ct 21
Ct 23.11
Ct 23.10
Ct 23.02
Ct 4
Ct 5
Ct 6
Ct 9
Low Inc—Valley Co
County—Valley
Low Inc/MFW—Bannock C0
County—Bannock
Parts:
Low Income
Low Inc/MFW—Bingham Co
County—Bingham
Parts:
Low Income
Low Inc/MFW—Bonner Co
County—Bonner
Parts:
Low Inc/MFW
Low Inc/MFW—Butte Co
County—Butte
Parts:
Low Inc/MFW
Low Inc/MFW—Caribou Co
County—Caribou
Parts:
Low Inc/MFW
Low Inc/MFW—Elmore Co
County—Elmore
Low Inc/MFW—Jerome Co
County—Jerome
Parts:
Jerome Co
Low Inc/MFW—N Treasure Valley
County—Gem
Parts:
Low Income/MFW-Gem Co
County—Payette
Parts:
Low Income/MFW-Payette
County—Washington
Parts:
Low Income/MFW-Washington
Low Inc/MFW—Power Co
County—Power
Parts:
Power Co
Low Inc/MFW—S Treasure Valley
County—Canyon
Parts:
Low Income
MFW
County—Owyhee
Parts:
Homedale CCD
Marsing CCD
Low Inc/MFW—Teton Co
County—Teton
Parts:
Teton Co
Low-Inc/MFW—Fremont Co
County—Fremont
Parts:
Low Inc/MFW—Fremont
MSFW—Twin Falls Co
County—Twin Falls
Parts:
MSFW
Nez Perce Co—Low Inc/MFW
County—Nez Perce
Parts:
Low Inc/MFW

DENTAL: Illinois County Listing
County Name
*Adams
Population Group: Low Inc—Adams Co
*Bond
Facility: FCI Greenville
*Bureau
Population Group: Low Inc—Bureau Co
Champaign
Population Group: Low Inc—Campaign Co
Cook
Service Area: Englewood Area
Service Area: Riverdale (Chicago)
Population Group: Homeless—Chicago
Population Group: Medicaid Elig—Southwest East (Chicago)
*Douglas
Population Group: Low Inc—Douglas Co
*Gallatin
*Henderson
Population Group: Low Inc—Henderson Co
*Macoupin
Population Group: Low Inc—Macoupin Co
*Montgomery
Population Group: Low Inc—Montgomery Co
*Saline
Population Group: Low Inc—Saline Co
Tazewell
Facility: Pekin Corr Inst
*White
Population Group: Low Inc—White Co
*Whiteside
Population Group: Low Inc—Whiteside Co
*Williamson
Facility: USP Marion
Winnebago
Population Group: Low Inc—SW Rockford

DENTAL: Illinois Service Area Listing
Service Area Name
Englewood Area
County—Cook
Parts:
C.T. 6701-6720
C.T. 6801-6814
Riverdale (Chicago)
County—Cook
Parts:
C.T. 5401

DENTAL: Illinois Population Group Listing
Population Group
Homeless—Chicago
County—Cook
Parts:
Comm. Area 77 (Edgewater
Comm. Area 32 (Loop)
Comm. Area 28 (Near West
Comm. Area 24 (West Town
Comm. Area 22 (Logan Squ
Comm. Area 8 (Near Nort
Comm. Area 7 (Lincoln P
Comm. Area 6 (Lakeview)
Comm. Area 5 (North Cen
Comm. Area 4 (Lincoln S
Comm. Area 3 (Uptown)
Low Inc—Adams Co
County—Adams
Parts:
Low Income
Low Inc—Bureau Co
County—Bureau
Parts:
Low Income
Low Inc—Campaign Co
County—Champaign
Parts:
Low Income
Low Inc—Douglas Co
County—Douglas
Parts:
Low Income
Low Inc—Henderson Co
County—Henderson
Parts:
Low Income
Low Inc—Macoupin Co
County—Macoupin
Parts:
Low Income
Low Inc—Montgomery Co
County—Montgomery
Parts:
Low Income
Low Inc—Saline Co
County—Saline
Parts:
Low Income
Low Inc—SW Rockford
County—Winnebago
Parts:
C.T. 8
C.T. 10-13
C.T. 18-22
C.T. 23.01-23.02
C.T. 24-29
C.T. 31-32
Low Inc—White Co
County—White
Parts:
Low Income
Low Inc—Whiteside Co
County—Whiteside
Parts:
Low Income
Medicaid Elig—Southwest East (Chicago)
County—Cook
Parts:
C.T. 4901-4914
C.T. 5001-5003
C.T. 5301-5306
C.T. 5401

DENTAL: Illinois Facility Listing
Facility Name
FCI Greenville
County—Bond
Pekin Corr Inst
County—Tazewell
USP Marion
County—Williamson

DENTAL: Indiana County Listing
County Name
Allen
Population Group: Low Inc—Central Ft Wayne City
Elkhart
Population Group: Low Inc—NW Elkhart Co
*La Porte
Population Group: Low Inc—LA Porte Co
Marion
Service Area: Highland-Brookside (Indianapolis)
Service Area: Near North Side (Indianapolis)
Service Area: South Central Indianapolis
St Joseph
Population Group: Low Inc—South Bend
Tippecanoe
Population Group: Low Inc—Lafayette City
Vigo
Facility: Terre Haute Corr Inst

DENTAL: Indiana Service Area Listing
Service Area Name
Highland-Brookside (Indianapolis)
County—Marion
Parts:
C.T. 3526-3527
C.T. 3544-3545
C.T. 3547-3551
Near North Side (Indianapolis)
County—Marion
Parts:
C.T. 3517
C.T. 3519
C.T. 3521
C.T. 3528
C.T. 3531-3532
South Central Indianapolis
County—Marion
Parts:
C.T. 3556-3557
C.T. 3559
C.T. 3562
C.T. 3569-3572
C.T. 3578-3580

DENTAL: Indiana Population Group Listing
Population Group
Low Inc—Central Ft Wayne City
County—Allen
Parts:
C.T. 6
C.T. 9-27
C.T. 28.97-28.98
C.T. 29-30
Low Inc—Lafayette City
County—Tippecanoe
Parts:
C.T. 4
C.T. 6
C.T. 53-55
C.T. 103-105
Low Inc—LA Porte Co
County—La Porte
Parts:
Low Income
Low Inc—NW Elkhart Co
County—Elkhart
Parts:
C.T. 16-17
C.T. 18.97
C.T. 21
C.T. 22.97-22.98
C.T. 23-28
Low Inc—South Bend
County—St Joseph
Parts:
C.T. 1-2
C.T. 4-7
C.T. 9-10
C.T. 17-24
C.T. 27-30
C.T. 33-35

DENTAL: Indiana Facility Listing
Facility Name
Terre Haute Corr Inst
County—Vigo

DENTAL: Iowa County Listing
County Name
*Guthrie
Polk
Population Group: Low Inc—City Of Des Moines
Woodbury
Population Group: Low Inc—Central Sioux City

DENTAL: Iowa Population Group Listing
Population Group
Low Inc—Central Sioux City
County—Woodbury
Parts:
C.T. 7-8
C.T. 10
C.T. 12-16
Low Inc—City Of Des Moines
County—Polk
Parts:
C.T. 11-12
C.T. 17-18
C.T. 21
C.T. 26-27
C.T. 42
C.T. 44
C.T. 48-53

DENTAL: Kansas County Listing
County Name
*Comanche 1
Douglas
Population Group: Low Inc—Douglas Co
*Ellis
Population Group: Low Inc—Ellis Co
*Haskell
*Kiowa
Leavenworth
Facility: USP Leavenworth
*Lyon
Population Group: Low Inc—Emporia City
*Ness
*Rawlins
Shawnee
Population Group: Low Inc—City Of Topeka
*Wichita

DENTAL: Kansas Population Group Listing
Population Group
Low Inc—City Of Topeka
County—Shawnee
Parts:
Low Income
Low Inc—Douglas Co
County—Douglas
Parts:
Low Income
Low Inc—Ellis Co
County—Ellis
Parts:
Low Income
Low Inc—Emporia City
County—Lyon
Parts:
Low-Income

DENTAL: Kansas Facility Listing
Facility Name
USP Leavenworth
County—Leavenworth

DENTAL: Kentucky County Listing
County Name
*Ballard
*Clay
Facility: FCI Manchester
*Edmonson
*Harlan
*Hart
*Jackson
Jefferson
Service Area: West End—Louisville
*Larue
*Laurel
*Lee
Service Area: Lee/Owsley
*McCreary
*Meade
*Owsley
Service Area: Lee/Owsley
*Rockcastle
*Todd
*Wolfe

DENTAL: Kentucky Service Area Listing
Service Area Name
Lee/Owsley
County—Lee
County—Owsley
West End—Louisville
County—Jefferson
Parts:
C.T. 1-18
C.T. 20-24
C.T. 27-28
C.T. 30
C.T. 34-35

DENTAL: Kentucky Facility Listing
Facility Name
FCI Manchester
County—Clay

DENTAL: Louisiana Parish Listing
Parish Name
*Allen
Facility: FCI Oakdale
*Caldwell
*Catahoula
East Baton Rouge
Service Area: Eden Park/South Baton Rouge
*Natchitoches
Orleans
Population Group: Downtown New Orleans Homless Pop
*Red River
St Landry
*St Mary
*Tensas
*Union
*West Carroll
*Winn

DENTAL: Louisiana Service Area Listing
Service Area Name
Eden Park/South Baton Rouge
Parish—East Baton Rouge
Parts:
C.T. 8-10
C.T. 12-16
C.T. 21-22
C.T. 24-25

DENTAL: Louisiana Population Group Listing
Population Group
Downtown New Orleans Homless Pop
Parish—Orleans
Parts:
C.T. 57-59
C.T. 67-68

DENTAL: Louisiana Facility Listing
Facility Name
FCI Oakdale
Parish—Allen

DENTAL: Maine County Listing
County Name
Androscoggin
Service Area: Jay-Livermore
*Aroostook
Service Area: Allagash
Service Area: Danforth
Service Area: Fort Kent
Population Group: Low Income—Presque Isle
Cumberland
Population Group: Low Inc—Portland
*Franklin
Service Area: Jay-Livermore
Service Area: Rangeley/Kingsfield
Population Group: Low Inc—Farmington
*Hancock
Population Group: Low Inc—Bucksport
Population Group: Low Inc—Gouldsboro
Population Group: Low Inc—Ellsworth
*Kennebec
Service Area: Jay-Livermore
Population Group: Low Inc—Waterville Dcaa
Population Group: Low Inc—Farmington
Facility: Augusta Mental Health Institute
*Knox
Service Area: Penobscot Bay
*Oxford
Service Area: Jay-Livermore
Service Area: Rangeley/Kingsfield
Penobscot
Service Area: Danforth
Facility: Bangor Mental Health Institute
*Piscataquis
Service Area: Bingham Dcaa
Population Group: Low Inc—Skowhegan Dcaa
*Somerset
Service Area: Bingham Dcaa
Service Area: Jackman Dcaa
Population Group: Low Inc—Skowhegan Dcaa
Population Group: Low Inc—Waterville Dcaa
Waldo
Population Group: Low Inc—Waterville Dcaa
Population Group: Low Inc—Bucksport
Population Group: Low Inc—Belfast
*Washington
Service Area: Danforth
Service Area: Eastport/Lubec
Population Group: Low Inc—Calais Dcaa
Population Group: Low Inc—Gouldsboro
Population Group: Low-Income Machias/Jonesport (Dcaa #37)

DENTAL: Maine Service Area Listing
Service Area Name
Allagash
County—Aroostook
Parts:
Allagash Town
Northwest Aroostook Unorg.
St. Francis Town
St. John Plantation
Bingham Dcaa
County—Piscataquis
Parts:
Kingsbury Plantation
County—Somerset
Parts:
Bingham Town
Caratunk Town
Moscow Town
NW Somerset (S. 1/3)
Pleasant Ridge Plantation
The Forks Plantation
West Forks Plantation
Danforth
County—Aroostook
Parts:
Bancroft Town
Orient Town
Weston Town
County—Penobscot
Parts:
Drew Plantation
Kingman Unorg.
Prentiss Plantation
County—Washington
Parts:
Codyville Plantation
Danforth Town
Grand Lake Stream Plantation
North Washington Unorg.
Passamaquoddy Indian Township Re
Talmadge Town
Topsfield Town
Vanceboro Town
Waite Town
Eastport/Lubec
County—Washington
Parts:
Dennysville Town
East Central Washington Unorg.
Eastport City
Lubec Town
Pembroke Town
Perry Town
Whiting Town
Fort Kent
County—Aroostook
Parts:
Eagle Lake Town
Fort Kent Town
Frenchville Town
Grand Isle Town
Hamlin Town
Madawaska Town
New Canada Town
Square Lake Unorg.
St. Agatha Town
Van Buren Town
Wallagrass Plantation
Winterville Plantation
Jackman Dcaa
County—Somerset
Parts:
Dennistown Plantation
Jackman Town
Moose River Town
Jay-Livermore
County—Androscoggin
Parts:
Livermore Falls Town
Livermore Town
County—Franklin
Parts:
Jay Town
County—Kennebec
Parts:
Fayette Town
County—Oxford
Parts:
Canton Town
Hartford Town
Sumner Town
Penobscot Bay
County—Knox
Parts:
Matinicus Isle Plantation
North Haven Town
Vinalhaven Town
Rangeley/Kingsfield
County—Franklin
Parts:
Carrabassett Valley Town
Coplin Plantation
Dallas Plantation
Eustis Town
Kingsfield Twn
Madrid Town
Phillips Town
Rangeley Town
Rangeley Plantation
Sandy River Plantation
Unorg. Terr.—E.C.Franklin
Wyman Unorg.
County—Oxford
Parts:
Lincoln Plantation
Magalloway Plantation
Unorg. Terr.-N.Oxford

DENTAL: Maine Population Group Listing
Population Group
Low Inc—Belfast
County—Waldo
Parts:
Belfast City
Belmont Town
Brooks Town
Jackson Town
Knox Town
Liberty Town
Lincolnville Town
Monroe Town
Montville Town
Morrill Town
Northport Town
Searsmont Town
Searsport Town
Stockton Springs Town
Swanville Town
Waldo Town
Low Inc—Bucksport
County—Hancock
Parts:
Bucksport Town
Orland Town
Verona Town
County—Waldo
Parts:
Frankfort Town
Prospect Town
Low Inc—Calais Dcaa
County—Washington
Parts:
Alexander Town
Baileyville Town
Baring Town
Calais City
Charlotte Town
Cooper Town
Crawford Town
Meddybemps Town
Princeton Town
Robbinston Town
Low Inc—Ellsworth
County—Hancock
Parts:
Eastbrook Town
Ellsworth City
Franklin Town
Hancock Town
Lamoine Town
Mariaville Town
Osborn Town
Otis Town
Trenton Town
Waltham Town
Low Inc—Farmington
County—Franklin
Parts:
Avon Town
Chesterville Town
Farmington Town
Industry Town
New Sharon Town
Strong Town
Temple Town
Wilton Town
County—Kennebec
Parts:
Vienna Town
Low Inc—Gouldsboro
County—Hancock
Parts:
East Hancock Unorg.
Gouldsboro Town
Sorrento Town
Sullivan Town
Winter Harbor Town
County—Washington
Parts:
Beddington Town
Cherryfield Town
Columbia Town
Deblois Town
Harrington Town
Milbridge Town
Steuben Town
Low Inc—Portland
County—Cumberland
Parts:
Low Income
Low Inc—Skowhegan Dcaa
County—Piscataquis
Parts:
Wellington Town
County—Somerset
Parts:
Anson Town
Athens Town
Brighton Plantation Town
Canaan Town
Central Somerset Unorg.
Cornville Town
Embden Town
Harmony Town
Highland Plantation Town
Madison Town
Mercer Town
New Portland Town
Norridgewock Town
Skowhegan Town
Smithfield Town
Solon Town
Starks Town
Low Inc—Waterville Dcaa
County—Kennebec
Parts:
Albion Town
Belgrade Town
Benton Town
China Town
Clinton Town
Oakland Town
Rome Town
Sidney Town
Unity Township
Vassalboro Town
Waterville Town
Winslow Town
County—Somerset
Parts:
Fairfield Town
County—Waldo
Parts:
Burnham Town
Freedom Town
Palermo Town
Thorndike Town
Troy Town
Unity Town
Low Income—Presque Isle
County—Aroostook
Parts:
Ashland Town
Blaine Town
Bridgewater Town
Caribou City
Castle Hill Town
Caswell Town
Central Aroostook Unorg.
Chapman Town
Connor Unorg.
Cyr Plantation
East Plantation
Easton Town
Fort Fairfield Town
Garfield Plantation
Limestone Town
Mapleton Town
Mars Hill Town
Masardis Town
Nashville Plantation
New Sweeden Town
Oxbow Plantation
Perham Town
Portage Lake Town
Presque Isle City
Stockholm Town
Wade Town
Washburn Town
Westfield Town
Westmanland Town
Woodland Town
Low-Income Machias/Jonesport (Dcaa #37)
County—Washington
Parts:
Addison Twn
Beals Twn
Centerville Twn
Columbia Falls Twn
Cutler Twn
East Machias Twn
Jonesboro Twn
Jonesport Twn
Machias Twn
Machiasport Twn
Marshfield Twn
Northfield Twn
Roque Bluffs Twn
Wesley Twn
Whitneyville Twn
1/3 Ec Washington Unorg.

DENTAL: Maine Facility Listing
Facility Name
Augusta Mental Health Institute
County—Kennebec
Bangor Mental Health Institute
County—Penobscot

DENTAL: Maryland County Listing
County Name
Allegany
Population Group: Low Inc—Allegany Co
Facility: FCI Cumberland
Baltimore City
Population Group: Low Inc—N Central Baltimore
Population Group: Low Inc—East Baltimore
Population Group: Low Inc—Sandtown Winchester
Facility: Health Care For The Homeless Facility
*Caroline
Population Group: Low Inc—Caroline
Charles
Population Group: Low Inc—Nanjemoy-Marbury
*Somerset
Population Group: Medicaid—Somerset Co

DENTAL: Maryland Population Group Listing
Population Group
Low Inc—Allegany Co
County—Allegany
Parts:
Low Income
Low Inc—Caroline
County—Caroline
Parts:
Low Inc Pop Caroline
Low Inc—East Baltimore
County—Baltimore City
Parts:
C.T. 301-302
C.T. 501
C.T. 603-605
C.T. 703-704
C.T. 802
C.T. 803.01-803.02
C.T. 804
C.T. 806-808
C.T. 909
C.T. 1001-1002
C.T. 1004
C.T. 1205
Low Inc—N Central Baltimore
County—Baltimore City
Parts:
C.T. 901-908
C.T. 1201-1204
C.T. 2709.03
C.T. 2710.01-2710.02
C.T. 2711.01-2711.02
Low Inc—Nanjemoy-Marbury
County—Charles
Parts:
District 3, Nanjemoy
District 10, Marbury
Low Inc—Sandtown Winchester
County—Baltimore City
Parts:
C.T. 1401-1403
C.T. 1501-1502
C.T. 1601-1604
C.T. 1607
C.T. 1702-1703
Medicaid—Somerset Co
County—Somerset
Parts:
Medicaid Eligibles

DENTAL: Maryland Facility Listing
Facility Name
FCI Cumberland
County—Allegany
Health Care For The Homeless Facility
County—Baltimore City

DENTAL: Massachusetts County Listing
County Name
Hampden
Service Area: Worthington
Population Group: Low Inc—C Springfield
Hampshire
Service Area: Worthington
Suffolk
Service Area: North Dorchester
Population Group: Low Inc—Mattapan
Population Group: Low Inc—Roxbury
Population Group: Low Inc—South End
Population Group: Low Inc—Allston-Brighton
Worcester
Population Group: Low Inc—Worcester

DENTAL: Massachusetts Service Area Listing
Service Area Name
North Dorchester
County—Suffolk
Parts:
C.T. 901-924
Worthington
County—Hampden
Parts:
Chester Town
County—Hampshire
Parts:
Chesterfield Town
Cummington Town
Goshen Town
Middlefield Town
Plainfield Town
Worthington Town

DENTAL: Massachusetts Population Group Listing
Population Group
Low Inc—Allston-Brighton
County—Suffolk
Parts:
C.T. 1
C.T. 2.01-2.02
C.T. 3
C.T. 4.01-4.02
C.T. 5.01-5.02
C.T. 6.01-6.02
C.T. 7.01-7.02
C.T. 8.01-8.02
Low Inc—C Springfield
County—Hampden
Parts:
C.T. 8005-8010
C.T. 8011.01-8011.02
C.T. 8012-8013
C.T. 8014.01-8014.02
C.T. 8015.01-8015.02
C.T. 8017-8020
Low Inc—Mattapan
County—Suffolk
Parts:
C.T. 1010.01-1010.02
C.T. 1011.01-1011.02
Low Inc—Roxbury
County—Suffolk
Parts:
Ct 801.00
Ct 802.00
Ct 803.00
Ct 804.00
Ct 805.00
Ct 806.00
Ct 807.00
Ct 808.00
Ct 809.00
Ct 811.00
Ct 812.00
Ct 813.00
Ct 814.00
Ct 815.00
Ct 816.00
Ct 817.00
Ct 818.00
Ct 819.00
Ct 820.00
Ct 821.00
Low Inc—South End
County—Suffolk
Parts:
C.T. 704-712
Low Inc—Worcester
County—Worcester
Parts:
Ct 7301
Ct 7302
Ct 7303
Ct 7304.01
Ct 7304.02
Ct 7305
Ct 7306
Ct 7307
Ct 7308.01
Ct 7308.02
Ct 7309.01
Ct 7309.02
Ct 7310
Ct 7311.01
Ct 7311.02
Ct 7312.01
Ct 7312.02
Ct 7313
Ct 7314
Ct 7315
Ct 7316
Ct 7317
Ct 7318
Ct 7319
Ct 7320.01
Ct 7320.02
Ct 7321
Ct 7322.01
Ct 7322.02
Ct 7322.03
Ct 7323
Ct 7324
Ct 7325
Ct 7326
Ct 7327
Ct 7328
Ct 7329.01
Ct 7329.02
Ct 7330
Ct 7331.02
Ct 7331.01

DENTAL: Michigan County Listing
County Name
*Alcona
Population Group: Low Inc—Alcona Co
*Alger
Population Group: Low Inc—Alger Co
*Alpena
Population Group: Low Inc—Alpena Co
*Antrim
Population Group: Low Inc—Antrim Co
*Arenac
Population Group: Low Inc—Arenac Co
*Baraga
Population Group: Low Inc—Baraga Co
*Benzie
Population Group: Low Inc/MFW—Benzie Co
Berrien
Population Group: Low Inc—Berrien Co
*Branch
Population Group: Low Inc—Branch Co
Calhoun
Population Group: Low Inc—Calhoun Co
*Cass
Population Group: Low Inc—Cass Co
*Cheboygan
Population Group: Low Inc—Cheboygan Co
*Chippewa
Population Group: Low Inc—Chippewa Co
*Clare
Population Group: Low Inc—Clare Co
*Crawford
Population Group: Low Inc—Crawford Co
*Delta
Population Group: Low Inc—Delta Co
*Dickinson
Population Group: Low Inc—Dickenson Co
*Emmet
Population Group: Low Inc—Emmet Co
Genesee
Population Group: Low Inc—South Flint
Population Group: Low Inc—North Flint
*Gladwin
Population Group: Low Inc—Gladwin Co
*Gogebic
Population Group: Low Inc—Gogebic Co
*Gratiot
Population Group: Low Inc/MFW—Gratiot Co
*Hillsdale
Population Group: Low Inc—Hillsdale Co
*Houghton
Population Group: Low Inc—Houghton Co
*Huron
Population Group: Low Inc/MFW—Huron Co
*Ionia
Population Group: Low Inc—Ionia Co
*Iosco
Population Group: Low Inc—Iosco Co
*Iron
Population Group: Low Inc—Iron Co
*Isabella
Population Group: Low Inc—Isabella Co
Jackson
Population Group: Low Inc—Jackson Co
Kalamazoo
Population Group: Low Inc—Northern Kalamazoo City
Facility: Kalamazoo Co Dental Office
*Kalkaska
Population Group: Low Inc—Kalkaska Co
Kent
Population Group: Low Inc/MFW—Kent Co
*Keweenaw
Population Group: Low Inc—Keweenaw Co
*Lake
Population Group: Low Inc—Lake Co
*Lenawee
Population Group: Low Inc—W Lenawee
*Luce
Population Group: Low Inc—Luce Co
*Mackinac
Population Group: Low Inc—Mackinac Co
*Manistee
Population Group: Low Inc/MFW—Manistee Co
*Marquette
Population Group: Low Inc—Marquette Co
*Mason
Population Group: Low Inc/MFW—Mason Co
*Mecosta
Population Group: Low Inc/MFW—Mecosta Co
*Menominee
Population Group: Low Inc—Menominee Co
*Missaukee
Population Group: Low Inc—Missaukee Co
Monroe
Population Group: Low Income—Monroe City
*Montcalm
Population Group: Low Inc/MFW—Montcalm Co
*Montmorency
Population Group: Low Inc—Montmorency Co
Muskegon
Population Group: Low Income—Muskegon Co
*Newaygo
Population Group: Low Inc/MFW—Newaygo Co
*Oceana
Population Group: Low Inc/MFW—Oceana Co
*Ogemaw
Population Group: Low Inc—Ogemaw Co
*Ontonagon
Population Group: Low Inc—Ontonagon Co
*Osceola
Population Group: Low Inc—Osceola Co
*Oscoda
Population Group: Low Inc—Oscoda Co
*Otsego
Population Group: Low Inc—Otsego Co
*Presque Isle
Population Group: Low Inc—Presque Isle Co
*Roscommon
Population Group: Low Inc—Roscommon Co
Saginaw
Population Group: Low Inc—Eastside Saginaw
*Sanilac
Population Group: Low Inc/MFW—Sanilac Co
*Schoolcraft
Population Group: Low Inc—Schoolcraft Co
*Tuscola
Population Group: Low Inc/MFW—Tuscola Co
Van Buren
Population Group: Low Inc—Van Buren Co
Wayne
Service Area: Southwest Detroit
Population Group: Low Inc—Tireman/Chadsey
Population Group: Low Inc—Central Detroit
Population Group: Low Inc—Highland Park City
Population Group: Low Inc—Romulus City
Population Group: Low Inc—River Rouge City
Population Group: Low Inc—Melvindale City
Population Group: Low Inc—Inkster City
Population Group: Low Inc—Ecorse City
Population Group: Low Inc—Eastside Detroit
Population Group: Low Inc—Mackenzie/Brooks
Population Group: Low Inc—Chene
Population Group: Low Inc—Airport/Conner
Population Group: Low Inc—Nolan/State Fair/Davison/Persh
Population Group: Low Inc—Outer Drive/Van Dyke
*Wexford
Population Group: Low Inc—Wexford Co

DENTAL: Michigan Service Area Listing
Service Area Name
Southwest Detroit
County—Wayne
Parts:
C.T. 5208-5209
C.T. 5211-5214
C.T. 5231-5238
C.T. 5240-5243
C.T. 5245
C.T. 5247-5248

DENTAL: Michigan Population Group Listing
Population Group
Low Inc—Airport/Conner
County—Wayne
Parts:
C.T. 5037
C.T. 5039-5048
C.T. 5052-5053
C.T. 5107-5109
Low Inc—Alcona Co
County—Alcona
Parts:
Low Income
Low Inc—Alger Co
County—Alger
Parts:
Low Income
Low Inc—Alpena Co
County—Alpena
Parts:
Low Income
Low Inc—Antrim Co
County—Antrim
Parts:
Low Income
MFW
Low Inc—Arenac Co
County—Arenac
Parts:
Low Income
Low Inc—Baraga Co
County—Baraga
Parts:
Low Income
Low Inc—Berrien Co
County—Berrien
Parts:
Low Income
Low Inc—Branch Co
County—Branch
Parts:
Low Income
Low Inc—Calhoun Co
County—Calhoun
Parts:
Low Income
Low Inc—Cass Co
County—Cass
Parts:
Low Income
Low Inc—Central Detroit
County—Wayne
Parts:
C.T. 5172-5176
C.T. 5180-5181
C.T. 5201-5207
C.T. 5218
Low Inc—Cheboygan Co
County—Cheboygan
Parts:
Low Income
Low Inc—Chene
County—Wayne
Parts:
C.T. 5111
C.T. 5161
C.T. 5177-5178
C.T. 5183-5188
Low Inc—Chippewa Co
County—Chippewa
Parts:
Low Income
Low Inc—Clare Co
County—Clare
Parts:
Low Income
Low Inc—Crawford Co
County—Crawford
Parts:
Low Income
Low Inc—Delta Co
County—Delta
Parts:
Low Income
Low Inc—Dickenson Co
County—Dickinson
Parts:
Low Income
Low Inc—Eastside Detroit
County—Wayne
Parts:
C.T. 5121-5124
C.T. 5126
C.T. 5129
C.T. 5132-5136
C.T. 5139-5143
C.T. 5145-5156
Low Inc—Eastside Saginaw
County—Saginaw
Parts:
C.T. 1-11
C.T. 110
Low Inc—Ecorse City
County—Wayne
Parts:
C.T. 5795
C.T. 5795.99-5796.00
C.T. 5797-5798
Low Inc—Emmet Co
County—Emmet
Parts:
Low Income
Low Inc—Gladwin Co
County—Gladwin
Parts:
Low Income
Low Inc—Gogebic Co
County—Gogebic
Parts:
Low Income
Low Inc—Highland Park City
County—Wayne
Parts:
C.T. 5530-5537
Low Inc—Hillsdale Co
County—Hillsdale
Parts:
Low Income
Low Inc—Houghton Co
County—Houghton
Parts:
Low Income
Low Inc—Inkster City
County—Wayne
Parts:
C.T. 5701-5710
Low Inc—Ionia Co
County—Ionia
Parts:
Low Income
Low Inc—Iosco Co
County—Iosco
Parts:
Low Income
Low Inc—Iron Co
County—Iron
Parts:
Low Income
Low Inc—Isabella Co
County—Isabella
Parts:
Low Income
Low Inc—Jackson Co
County—Jackson
Parts:
Low Income
Low Inc—Kalkaska Co
County—Kalkaska
Parts:
Low Income
Low Inc—Keweenaw Co
County—Keweenaw
Parts:
Low Income
Low Inc—Lake Co
County—Lake
Parts:
Low Income
Low Inc—Luce Co
County—Luce
Parts:
Low Income
Low Inc—Mackenzie/Brooks
County—Wayne
Parts:
C.T. 5341-5344
C.T. 5347
C.T. 5350-5357
C.T. 5364-5367
C.T. 5370-5373
C.T. 5377-5378
C.T. 5451-5454
Low Inc—Mackinac Co
County—Mackinac
Parts:
Low Income
Low Inc—Marquette Co
County—Marquette
Parts:
Low Income
Low Inc—Melvindale City
County—Wayne
Parts:
C.T. 5230
C.T. 5986
Low Inc—Menominee Co
County—Menominee
Parts:
Low Income
Low Inc—Missaukee Co
County—Missaukee
Parts:
Low Income
Low Inc—Montmorency Co
County—Montmorency
Parts:
Low Income
Low Inc—Nolan/State Fair/Davison/Persh
County—Wayne
Parts:
C.T. 5064-5080
C.T. 5102-5106
Low Inc—North Flint
County—Genesee
Parts:
C.T. 1-11
C.T. 14
C.T. 17-27
C.T. 103.02
C.T. 103.04
Low Inc—Northern Kalamazoo City
County—Kalamazoo
Parts:
C.T. 1
C.T. 2.01-2.02
C.T. 3
C.T. 4.02
C.T. 5-6
C.T. 8.01-8.02
C.T. 9-10
Low Inc—Ogemaw Co
County—Ogemaw
Parts:
Low Income
Low Inc—Ontonagon Co
County—Ontonagon
Parts:
Low Income
Low Inc—Osceola Co
County—Osceola
Parts:
Low Income
Low Inc—Oscoda Co
County—Oscoda
Parts:
Low Income
Low Inc—Otsego Co
County—Otsego
Parts:
Low Income
Low Inc—Outer Drive/Van Dyke
County—Wayne
Parts:
C.T. 5035-5036
C.T. 5049-5051
C.T. 5061-5063
Low Inc—Presque Isle Co
County—Presque Isle
Parts:
Low Income
Low Inc—River Rouge City
County—Wayne
Parts:
C.T. 5790-5793
Low Inc—Romulus City
County—Wayne
Parts:
C.T. 5855-5863
Low Inc—Roscommon Co
County—Roscommon
Parts:
Low Income
Low Inc—Schoolcraft Co
County—Schoolcraft
Parts:
Low Income
Low Inc—South Flint
County—Genesee
Parts:
C.T. 12-13
C.T. 15
C.T. 28-29
C.T. 32
C.T. 36-40
C.T. 113.01-113.02
Low Inc—Tireman/Chadsey
County—Wayne
Parts:
C.T. 5221-5222
C.T. 5251-5258
C.T. 5260-5265
C.T. 5335-5337
C.T. 5345-5346
Low Inc—Van Buren Co
County—Van Buren
Parts:
Low Income
Low Inc—W Lenawee
County—Lenawee
Parts:
Adrian City
Dover Twp
Fairfield Twp
Hudson City
Hudson Twp
Madison Charter Twp
Medina Twp
Morenci City
Rollin Twp
Rome Twp
Seneca Twp
Low Inc—Wexford Co
County—Wexford
Parts:
Low Income
Low Inc/MFW—Benzie Co
County—Benzie
Parts:
Low Income
MFW
Low Inc/MFW—Gratiot Co
County—Gratiot
Parts:
Low Income
MFW
Low Inc/MFW—Huron Co
County—Huron
Parts:
Low Income
MFW
Low Inc/MFW—Kent Co
County—Kent
Parts:
Low Income
MFW
Low Inc/MFW—Manistee Co
County—Manistee
Parts:
Low Income
MFW
Low Inc/MFW—Mason Co
County—Mason
Parts:
Low Income
MFW
Low Inc/MFW—Mecosta Co
County—Mecosta
Parts:
Low Income
MFW
Low Inc/MFW—Montcalm Co
County—Montcalm
Parts:
Low Income
MFW
Low Inc/MFW—Newaygo Co
County—Newaygo
Parts:
Low Income
MFW
Low Inc/MFW—Oceana Co
County—Oceana
Parts:
Low Income
MFW
Low Inc/MFW—Sanilac Co
County—Sanilac
Parts:
Low Income
MFW
Low Inc/MFW—Tuscola Co
County—Tuscola
Parts:
Low Income
MFW
Low Income—Monroe City
County—Monroe
Parts:
Low-Income
Low Income—Muskegon Co
County—Muskegon
Parts:
Low-Income

DENTAL: Michigan Facility Listing
Facility Name
Kalamazoo Co Dental Office
County—Kalamazoo

DENTAL: Minnesota County Listing
County Name
*Carlton
Population Group: Low Inc—Clay Co
*Cook
*Koochiching
Service Area: Littlefork/Big Falls
Population Group: Low Inc—Koochiching Co
Olmsted
Facility: Federal Medical Ct r—Rochester
St Louis
Service Area: Cook/Orr
Service Area: Littlefork/Big Falls

DENTAL: Minnesota Service Area Listing
Service Area Name
Cook/Orr
County—St Louis
Parts:
C.T. 151-152
C.T. 155
Littlefork/Big Falls
County—Koochiching
Parts:
Big Falls City
East Koochiching Unorg.
Littlefork City
Mizpah City
Nett Lake Unorg.
Northome Unorg.
Northome City
Northwest Koochiching Unorg.
South Koochiching Unorg.
County—St Louis
Parts:
Nett Lake Unorg.

DENTAL: Minnesota Population Group Listing
Population Group
Low Inc—Clay Co
County—Carlton
Parts:
Low Income
Low Inc—Koochiching Co
County—Koochiching
Parts:
Low Income

DENTAL: Minnesota Facility Listing
Facility Name
Federal Medical Ct r—Rochester
County—Olmsted

DENTAL: Mississippi County Listing
County Name
*Amite
*Benton
*Carroll
*Chickasaw
*Claiborne
*Clarke
*Franklin
*Greene
Hancock
Harrison
Population Group: Pov Pop—Harrison Co
Hinds
Population Group: Low Inc—Western Hinds
*Holmes
*Humphreys
*Issaquena
Service Area: Issaquena-Sharkey
*Jasper
*Jefferson
*Kemper
*Lawrence
*Leake
Madison
Population Group: Low Inc—Madison
*Marshall
*Monroe
Population Group: Low Inc—Monroe Co
*Montgomery
*Neshoba
*Noxubee
*Panola
*Pearl River
*Perry
*Quitman
*Scott
*Sharkey
Service Area: Issaquena-Sharkey
*Smith
*Stone
*Tallahatchie
*Tate
*Tunica
*Walthall
*Wayne
*Webster
*Yazoo

DENTAL: Mississippi Service Area Listing
Service Area Name
Issaquena-Sharkey
County—Issaquena
County—Sharkey

DENTAL: Mississippi Population Group Listing
Population Group
Low Inc—Madison
County—Madison
Low Inc—Monroe Co
County—Monroe
Parts:
Low Income
Low Inc—Western Hinds
County—Hinds
Parts:
C.T. 106-107
C.T. 112-113
Pov Pop—Harrison Co
County—Harrison
Parts:
Pov Pop

DENTAL: Missouri County Listing
County Name
*Adair
Population Group: Low-Income—Adair Co
*Carter
*Chariton
*Hickory
*Holt
*Macon
*McDonald
Population Group: Low Inc—Mcdonald Co
*Pemiscot
*Polk
Population Group: Low Income—Polk County
St Louis City
Population Group: Low Inc—N. St. Louis
Population Group: Low Inc—W. Central St. Louis
Population Group: Low Inc—Southeast St. Louis
Population Group: Low Inc—E. Central St. Louis
*Vernon
Population Group: Low Inc—Vernon Co
Webster
Population Group: Low Inc—Webster Co

DENTAL: Missouri Population Group Listing
Population Group
Low Inc—E. Central St. Louis
County—St Louis City
Parts:
C.T. 1171-1172
C.T. 1181
C.T. 1184
C.T. 1186
C.T. 1211
C.T. 1214
C.T. 1222
C.T. 1255-1256
Low Inc—Mcdonald Co
County—McDonald
Parts:
Low-Income
Low Inc—N. St. Louis
County—St Louis City
Parts:
C.T. 1053-1055
C.T. 1061-1067
C.T. 1071-1077
C.T. 1081-1082
C.T. 1085
C.T. 1096-1097
C.T. 1101-1105
C.T. 1111-1115
C.T. 1122-1123
C.T. 1201-1203
C.T. 1212-1213
C.T. 1257
C.T. 1266-1267
Low Inc—Southeast St. Louis
County—St Louis City
Parts:
C.T. 1014-1015
C.T. 1018
C.T. 1018.99
C.T. 1155-1157
C.T. 1164-1165
C.T. 1173-1174
C.T. 1185
C.T. 1221
C.T. 1224
C.T. 1231-1235
C.T. 1241-1243
C.T. 1246
Low Inc—Vernon Co
County—Vernon
Parts:
Low Income
Low Inc—W. Central St. Louis
County—St Louis City
Parts:
C.T. 1051.98
C.T. 1052
C.T. 1121
C.T. 1124
C.T. 1191-1193
Low Inc—Webster Co
County—Webster
Parts:
Low-Income
Low Income—Polk County
County—Polk
Parts:
Low-Income
Low-Income—Adair Co
County—Adair
Parts:
Low Income

DENTAL: Montana County Listing
County Name
*Madison
Population Group: Low Inc—Madison County
*Missoula
Population Group: Low Income—Missoula
*Roosevelt
Service Area: Poplar/Wolf Point

DENTAL: Montana Service Area Listing
Service Area Name
Poplar/Wolf Point
County—Roosevelt
Parts:
Fort Peck Reservation Division

DENTAL: Montana Population Group Listing
Population Group
Low Inc—Madison County
County—Madison
Parts:
Low Income
Low Income—Missoula
County—Missoula
Parts:
Low-Income

DENTAL: Nebraska County Listing
County Name
*Arthur
Service Area: Arthur/Grant
*Blaine
*Cuming
Population Group: Am In—Winnebago/Omaha
*Frontier
*Furnas
*Grant
Service Area: Arthur/Grant
*Greeley
Service Area: Greeley/Wheeler
*Hayes
Service Area: Hayes/Hitchcock
*Hitchcock
Service Area: Hayes/Hitchcock
*Logan
Service Area: Logan/MCPherson
*Morrill
*MCPherson
Service Area: Logan/MCPherson
*Scotts Bluff
Population Group: Medicaid—Scotts Bluff Co
*Thurston
Population Group: Am In—Winnebago/Omaha
*Wheeler
Service Area: Greeley/Wheeler

DENTAL: Nebraska Service Area Listing
Service Area Name
Arthur/Grant
County—Arthur
County—Grant
Greeley/Wheeler
County—Greeley
County—Wheeler
Hayes/Hitchcock
County—Hayes
County—Hitchcock
Logan/MCPherson
County—Logan
County—MCPherson

DENTAL: Nebraska Population Group Listing
Population Group
Am In—Winnebago/Omaha
County—Cuming
Parts:
Om In—Cleveland Twp
Om In—Bancroft Twp
County—Thurston
Parts:
Winnebago Indians
Medicaid—Scotts Bluff Co
County—Scotts Bluff
Parts:
Medicaid Eligible

DENTAL: Nevada County Listing
County Name
*Churchill
Service Area: Dixie Valley
Clark
Service Area: Northeast Clark
Population Group: Low Inc—Las Vegas
*Elko
Service Area: Jackpot
Service Area: Montello/West Wendover
Service Area: Mountain City/Jarbidge
Service Area: Wells
*Esmeralda
*Eureka
*Humboldt
Service Area: McDermitt
Service Area: Summit Lake
*Lyon
*Nye
*Pershing
Washoe
Population Group: Low Inc-Reno/Sparks

DENTAL: Nevada Service Area Listing
Service Area Name
Dixie Valley
County—Churchill
Parts:
Dixie Valley Division
Jackpot
County—Elko
Parts:
Jackpot Division
McDermitt
County—Humboldt
Parts:
McDermitt Division
Montello/West Wendover
County—Elko
Parts:
Montello Division
West Wendover Division
Mountain City/Jarbidge
County—Elko
Parts:
Jarbidge Division
Mountain City Division
Northeast Clark
County—Clark
Parts:
C.T. 56.02-56.03
C.T. 59
Summit Lake
County—Humboldt
Parts:
Summit Lake Division
Wells
County—Elko
Parts:
Wells Division

DENTAL: Nevada Population Group Listing
Population Group
Low Inc—Las Vegas
County—Clark
Parts:
Las Vegas CCD
Low Inc-Reno/Sparks
County—Washoe
Parts:
C.T. 1-3
C.T. 7
C.T. 9
C.T. 10.04
C.T. 14-15
C.T. 17-19
C.T. 21.01
C.T. 22.03-22.04
C.T. 28
C.T. 33.01

DENTAL: New Hampshire County Listing
County Name
*Belknap
Facility: Sci—Laconia
*Coos
Service Area: Upper Connecticut Valley
Population Group: Low Inc—Berlin
Hillsboro
Population Group: Low Inc—Manchester
Merrimack
Facility: Sci—Concord

DENTAL: New Hampshire Service Area Listing
Service Area Name
Upper Connecticut Valley
County—Coos
Parts:
Clarksville Town
Colebrook Town
Columbia Town
Dixville Township
Errol Town
Millsfield Township
Pittsburg Town
Stewartstown Town
Wentworth Location

DENTAL: New Hampshire Population Group Listing
Population Group
Low Inc—Berlin
County—Coos
Parts:
Berlin City
Cambridge Township
Dummer Town
Gorham Town
Milan Town
Randolph Town
Shelburne Town
Stark Town
Success Township
Low Inc—Manchester
County—Hillsboro
Parts:
C.T. 1
C.T. 2.01-2.02
C.T. 3-8
C.T. 9.01
C.T. 11-25

DENTAL: New Hampshire Facility Listing
Facility Name
Sci—Concord
County—Merrimack
Sci—Laconia
County—Belknap

DENTAL: New Jersey County Listing
County Name
Camden
Population Group: Low Inc—Camden City
Cumberland
Population Group: Low Inc/MFW—Cumberland Co
Facility: FCI Fairton
Mercer
Population Group: Medicaid—Trenton

DENTAL: New Jersey Population Group Listing
Population Group
Low Inc—Camden City
County—Camden
Parts:
Camden City (6001-6020)
Low Inc/MFW—Cumberland Co
County—Cumberland
Parts:
Low Income
MFW
Medicaid—Trenton
County—Mercer
Parts:
C.T. 1-24

DENTAL: New Jersey Facility Listing
Facility Name
FCI Fairton
County—Cumberland

DENTAL: New Mexico County Listing
County Name
Bernalillo
Service Area: North Valley
Service Area: Southwest Valley
*Catron
*Cibola
*Curry
Population Group: Low Inc—Curry Co
Dona Ana
Service Area: Hatch
Service Area: Southern Dona Ana
Population Group: Dent Ind—Las Cruces
Population Group: Low Income—Dona Ana Hill
*Eddy
Population Group: Low Inc—Eddy Co
*Grant
Population Group: Low Inc—Grant Co
*Guadalupe
*Harding
*Hidalgo
*Luna
*McKinley
*Mora
*Otero
*Rio Arriba
Service Area: North/Western Rio Arriba
Service Area: Penasco/Truchas/Embudo
*Roosevelt
Population Group: Dent Ind—Roosevelt Co
Sandoval
Service Area: Cuba (N. Sandoval)
Santa Fe
Population Group: Low-Inc—Santa Fe Co
*Sierra
*Taos
Service Area: North/Western Rio Arriba
Service Area: Penasco/Truchas/Embudo
Service Area: Questa
*Torrance

DENTAL: New Mexico Service Area Listing
Service Area Name
Cuba (N. Sandoval)
County—Sandoval
Parts:
Cuba Division
Jemez Division
Santo Domingo Division
Hatch
County—Dona Ana
Parts:
Hatch Division
North Valley
County—Bernalillo
Parts:
C.T. 29
C.T. 30.01-30.02
C.T. 31
C.T. 32.01-32.02
C.T. 35.01-35.02
C.T. 36
North/Western Rio Arriba
County—Rio Arriba
Parts:
Coyote Division
Jicarilla Division
Rio Chama Division
Tierra Amarilla Division
Vallecitas Division
Western Rio Arriba Division
County—Taos
Parts:
Tres Piedras Division
Penasco/Truchas/Embudo
County—Rio Arriba
Parts:
Chimayo Division
Dixon Division
County—Taos
Parts:
Penasco Division
Picuris Division
Questa
County—Taos
Parts:
Arroyo Hondo CCD
Questa CCD
Southern Dona Ana
County—Dona Ana
Parts:
Anthony Division
South Dona Ana Division
Southwest Valley
County—Bernalillo
Parts:
C.T. 23
C.T. 24.01-24.02
C.T. 40.01
C.T. 43
C.T. 44.01-44.02
C.T. 45.01-45.02
C.T. 46.02-46.04

DENTAL: New Mexico Population Group Listing
Population Group
Dent Ind—Las Cruces
County—Dona Ana
Parts:
C.T. 1-9
Dent Ind—Roosevelt Co
County—Roosevelt
Parts:
Dentally Indigent
Low Inc—Curry Co
County—Curry
Parts:
Low Income
Low Inc—Eddy Co
County—Eddy
Parts:
Low Inc—Eddyco.
Low Inc—Grant Co
County—Grant
Parts:
Low Inc
Low Income—Dona Ana Hill
County—Dona Ana
Parts:
Low Income
Low-Inc—Santa Fe Co
County—Santa Fe
Parts:
Low Inc

DENTAL: New York County Listing
County Name
*Allegany
Service Area: Arcade
Service Area: Letchworth
Population Group: Low Inc—Wellsville
Bronx
Service Area: Morris Heights
Service Area: Morrisania/High Bridge
*Cattaraugus
Service Area: Arcade
Service Area: Randolph-Ellicottville
Population Group: Low Inc—Olean
Cayuga
Population Group: Low-Income Groton-Moravia
Chautauqua
Population Group: Low Inc—Dunkirk/Fredonia
Population Group: Low Inc—Jamestown
Population Group: Low Inc—Westfield
*Clinton
Population Group: Low Income—Dannemora
*Cortland
Population Group: Low Income— Cortland Co
Dutchess
Population Group: Low Inc—Beacon City
*Franklin
Facility: FCI Raybrook
*Jefferson
Population Group: Low-Income Jefferson County
Kings
Service Area: Bedford-Stuyvesant
Service Area: Coney Island
Service Area: Crown Heights
Service Area: Sunset Park
*Lewis
Population Group: Low Inc—Lewis Co
Monroe
Population Group: Low Inc—Westside Rochester
New York
Service Area: Central/West Harlem
Service Area: East Harlem
Service Area: Lower East Side
Service Area: Washington Hgts/Inwood
Population Group: Low Inc—Chinatown/Lwr Manhattan
Onondaga
Population Group: Low Inc—Syracuse
Orange
Population Group: MFW—Goshen/Warwick
Population Group: MFW—Walden
Oswego
Population Group: Low Inc—Pulaski PCSa
Schenectady
Population Group: Low Inc—Central Schenectady City
*St Lawrence
Population Group: Low Income—Ogdensburg
Tioga
Population Group: Low Income—Tioga County
*Tompkins
Population Group: Low-Income Groton-Moravia
*Ulster
Population Group: MFW—New Paltz
*Wyoming
Service Area: Arcade
Service Area: Letchworth

DENTAL: New York Service Area Listing
Service Area Name
Arcade
County—Allegany
Parts:
Centerville Town
Rushford Town
County—Cattaraugus
Parts:
Farmersville Town
Freedom Town
Machias Town
Yorkshire Town
County—Wyoming
Parts:
Arcade Town
Eagle Town
Java Town
Orangeville Town
Sheldon Town
Wethersfield Town
Bedford-Stuyvesant
County—Kings
Parts:
C.T. 11
C.T. 23
C.T. 25
C.T. 27
C.T. 29.01-29.02
C.T. 31
C.T. 33
C.T. 35
C.T. 179
C.T. 181
C.T. 183
C.T. 185.01-185.02
C.T. 187
C.T. 189
C.T. 191
C.T. 193
C.T. 195
C.T. 197
C.T. 199
C.T. 201
C.T. 203
C.T. 205
C.T. 207
C.T. 213
C.T. 215
C.T. 217
C.T. 219
C.T. 221
C.T. 223
C.T. 225
C.T. 227
C.T. 229
C.T. 231
C.T. 233
C.T. 235
C.T. 237
C.T. 239
C.T. 241
C.T. 243
C.T. 245
C.T. 247
C.T. 249
C.T. 251
C.T. 253
C.T. 255
C.T. 257
C.T. 259.01-259.02
C.T. 261
C.T. 263
C.T. 265
C.T. 267
C.T. 269
C.T. 271.01-271.02
C.T. 273
C.T. 275
C.T. 277
C.T. 279
C.T. 281
C.T. 283
C.T. 285.01-285.02
C.T. 287
C.T. 289
C.T. 291
C.T. 293
C.T. 295
C.T. 297
C.T. 299
C.T. 301
C.T. 303
C.T. 307
C.T. 309
C.T. 311
C.T. 313
C.T. 315
C.T. 317.01-317.02
C.T. 319
C.T. 321
C.T. 323
C.T. 325
C.T. 327
C.T. 329
C.T. 331
C.T. 333
C.T. 335
C.T. 337
C.T. 339
C.T. 341
C.T. 343
C.T. 345
C.T. 347
C.T. 349
C.T. 351
C.T. 353
C.T. 355
C.T. 357
C.T. 359
C.T. 361
C.T. 363
C.T. 365.01-365.02
C.T. 367
C.T. 369
C.T. 371
C.T. 373
C.T. 375
C.T. 377
C.T. 379
C.T. 381
C.T. 383
C.T. 385
C.T. 387
Central/West Harlem
County—New York
Parts:
C.T. 186
C.T. 190
C.T. 197.02
C.T. 200
C.T. 201.02
C.T. 207.02
C.T. 208
C.T. 209.01-209.02
C.T. 211-212
C.T. 213.01-213.02
C.T. 214
C.T. 216
C.T. 217.01-217.02
C.T. 218
C.T. 219.97
C.T. 220
C.T. 221.01-221.02
C.T. 222
C.T. 223.97-223.98
C.T. 224-226
C.T. 227.01-227.02
C.T. 228-230
C.T. 231.01-231.02
C.T. 232-234
C.T. 235.01-235.02
C.T. 236-237
C.T. 239
C.T. 241
C.T. 243.02
Coney Island
County—Kings
Parts:
C.T. 326
C.T. 328
C.T. 330
C.T. 340
C.T. 342
C.T. 348.01
C.T. 352
Crown Heights
County—Kings
Parts:
C.T. 213
C.T. 215
C.T. 217
C.T. 219
C.T. 317.02
C.T. 319
C.T. 321
C.T. 323
C.T. 325
C.T. 327
C.T. 329
C.T. 331
C.T. 333
C.T. 335
C.T. 337
C.T. 339
C.T. 349
C.T. 351
C.T. 353
C.T. 355
C.T. 357
East Harlem
County—New York
Parts:
C.T. 156.02
C.T. 158.02
C.T. 160.02
C.T. 162
C.T. 164
C.T. 166
C.T. 168
C.T. 170
C.T. 172.01-172.02
C.T. 174.01-174.02
C.T. 178
C.T. 180
C.T. 182
C.T. 184
C.T. 188
C.T. 192
C.T. 194
C.T. 196
C.T. 198
C.T. 202
C.T. 204
C.T. 206
C.T. 210
Letchworth
County—Allegany
Parts:
Allen Town
Caneadea Town
Granger Town
Hume Town
County—Wyoming
Parts:
Castile Town
Gainesville Town
Genesee Falls Town
Pike Town
Lower East Side
County—New York
Parts:
C.T. 10.02
C.T. 20
C.T. 22.01-22.02
C.T. 24
C.T. 26.01-26.02
C.T. 28
Morris Heights
County—Bronx
Parts:
C.T. 205
C.T. 213.01-213.02
C.T. 215.01-215.02
C.T. 217.01
C.T. 239
C.T. 243
C.T. 245
C.T. 247
C.T. 249
C.T. 251
C.T. 253
C.T. 255
C.T. 257
Morrisania/High Bridge
County—Bronx
Parts:
C.T. 47
C.T. 49
C.T. 53.01
C.T. 57
C.T. 59.01-59.02
C.T. 61
C.T. 67
C.T. 69
C.T. 121.01
C.T. 123
C.T. 125
C.T. 127.01
C.T. 129.01
C.T. 131
C.T. 133
C.T. 135
C.T. 137
C.T. 139
C.T. 141
C.T. 143
C.T. 145
C.T. 147
C.T. 149
C.T. 151
C.T. 153
C.T. 155
C.T. 157
C.T. 161
C.T. 163
C.T. 165
C.T. 167
C.T. 169
C.T. 171
C.T. 173
C.T. 175
C.T. 177
C.T. 179
C.T. 181
C.T. 183
C.T. 187
C.T. 189
C.T. 193
C.T. 195
C.T. 197
C.T. 199
C.T. 201
C.T. 211
C.T. 213.02
C.T. 217.02
C.T. 219
C.T. 221
C.T. 223
C.T. 225
C.T. 227.02-227.03
C.T. 229.02
C.T. 367
C.T. 369.02
Randolph-Ellicottville
County—Cattaraugus
Parts:
Carrollton Town
Coldspring Town
Conewango Town
Ellicottville Town
Franklinville Town
Great Valley Town
Humphrey Town
Little Valley Town
Mansfield Town
Napoli Town
New Albion Town
Randolph Town
Red House Town
Salamanca City
Salamanca Town
South Valley Town
Sunset Park
County—Kings
Parts:
C.T. 2
C.T. 18
C.T. 20
C.T. 22
C.T. 72
C.T. 74
C.T. 76
C.T. 78
C.T. 80
C.T. 82
C.T. 84
C.T. 86
C.T. 88
C.T. 90
C.T. 92
C.T. 94
C.T. 96
C.T. 98
C.T. 100-102
C.T. 108
C.T. 110
C.T. 112
C.T. 117
C.T. 121-122
C.T. 141
C.T. 143
C.T. 145
C.T. 147
Washington Hgts/Inwood
County—New York
Parts:
C.T. 243.01
C.T. 245
C.T. 247
C.T. 249
C.T. 251
C.T. 253
C.T. 255
C.T. 261
C.T. 263
C.T. 265
C.T. 267
C.T. 269
C.T. 271
C.T. 273
C.T. 275
C.T. 277
C.T. 279
C.T. 281
C.T. 283
C.T. 285
C.T. 287
C.T. 289
C.T. 291
C.T. 293
C.T. 295
C.T. 297
C.T. 301
C.T. 303
C.T. 307
C.T. 309
C.T. 311

DENTAL: New York Population Group Listing
Population Group
Low Inc—Beacon City
County—Dutchess
Parts:
C.T. 2101-2103
Low Inc—Central Schenectady City
County—Schenectady
Parts:
C.T. 201-204
C.T. 207-209
C.T. 210.01-210.02
C.T. 211.02-211.03
C.T. 214-215
C.T. 217
Low Inc—Chinatown/Lwr Manhattan
County—New York
Parts:
C.T. 2.01-2.02
C.T. 6
C.T. 8
C.T. 10.01
C.T. 14.01-14.02
C.T. 15.01
C.T. 16
C.T. 18
C.T. 25
C.T. 27
C.T. 29
C.T. 30.01-30.02
C.T. 32
C.T. 34
C.T. 36.01-36.02
C.T. 38
C.T. 40-41
C.T. 43
C.T. 45
C.T. 55.02
Low Inc—Dunkirk/Fredonia
County—Chautauqua
Parts:
Arkwright Town
Charlotte Town
Dunkirk City
Dunkirk Town
Pomfret Town
Portland Town
Sheridan Town
Stockton Town
Low Inc—Jamestown
County—Chautauqua
Parts:
Busti Town
Carroll Town
Ellery Town
Ellicott Town
Ellington Town
Gerry Town
Harmony Town
Jamestown City
Kiantone Town
North Harmony Town
Poland Town
Low Inc—Lewis Co
County—Lewis
Parts:
Low Income
Low Inc—Olean
County—Cattaraugus
Parts:
Allegany Town
Hinsdale Town
Ischua Town
Lyndon Town
Olean City
Olean Town
Portville Town
Low Inc—Pulaski PCSa
County—Oswego
Parts:
Albion Town
Boylston Town
Mexico Town
Orwell Town
Redfield Town
Richland Town
Sandy Creek Town
Williamstown Town
Low Inc—Syracuse
County—Onondaga
Parts:
C.T. 5-7
C.T. 13-16
C.T. 21-24
C.T. 29-35
C.T. 36.01
C.T. 38-45
C.T. 51-55
C.T. 57-59
C.T. 61.01-61.02
Low Inc—Wellsville
County—Allegany
Parts:
Alfred Town
Alma Town
Almond Town
Amity Town
Andover Town
Angelica Town
Belfast Town
Birdsall Town
Bolivar Town
Burns Town
Clarksville Town
Cuba Town
Friendship Town
Genesee Town
Grove Town
Independence Town
New Hudson Town
Scio Town
Ward Town
Wellsville Town
West Almond Town
Willing Town
Wirt Town
Low Inc—Westfield
County—Chautauqua
Parts:
Chautauqua Town
Clymer Town
French Creek Town
Mina Town
Ripley Town
Sherman Town
Westfield Town
Low Inc—Westside Rochester
County—Monroe
Parts:
C.T. 2
C.T. 16-17
C.T. 23-24
C.T. 27
C.T. 40-41
C.T. 62-71
C.T. 75
C.T. 87.01-87.02
C.T. 88
C.T. 94.03
C.T. 95
C.T. 96.01-96.04
Low Income— Cortland Co
County—Cortland
Parts:
Low-Income
Low Income—Dannemora
County—Clinton
Parts:
Dannemora Town
Ellenburg Town
Saranacv Town
Low Income—Ogdensburg
County—St Lawrence
Parts:
De Peyster Town
Lisbon Town
Morristown Town
Ogdensburg City
Oswegatchie Town
Waddington Town
Low Income—Tioga County
County—Tioga
Parts:
Low Income
Low-Income Groton-Moravia
County—Cayuga
Parts:
Locke Town
Moravia Town
Sempronius Town
Summerhill Town
County—Tompkins
Parts:
Groton Town
Low-Income Jefferson County
County—Jefferson
Parts:
Low-Income
MFW—Goshen/Warwick
County—Orange
Parts:
Goshen Town
Warwick Town
MFW—New Paltz
County—Ulster
Parts:
New Paltz
MFW—Walden
County—Orange
Parts:
Montgomery Town

DENTAL: New York Facility Listing
Facility Name
FCI Raybrook
County—Franklin

DENTAL: North Carolina County Listing
County Name
*Anson
*Bertie
Population Group: Low Inc—Bertie
*Bladen
Population Group: Low Inc—Bladen
*Caswell
Population Group: Low Inc—Caswell
*Cherokee
Population Group: Low Inc—Cherokee
*Clay
Population Group: Low Inc—Clay
*Cleveland
Population Group: Low Income—Cleveland
*Craven
Population Group: Low Inc—Craven
Cumberland
Population Group: Low Inc—Cumberland Co
*Duplin
Population Group: Low Inc—Duplin
Edgecombe
Population Group: Low Inc—Edgecombe
Gaston
Population Group: Medicaid—Gaston Co
Guilford
Population Group: Low Inc—Inner Greensboro
*Halifax
*Harnett
Population Group: Low Inc—Harnett Co
*Henderson
Population Group: Low Inc/MFW—Henderson
*Jones
Population Group: Low Inc—Jones
*Lenoir
Population Group: Low Inc—Lenoir
*Macon
Population Group: Low Inc—Macon
Madison
Service Area: Hot Springs
*Mitchell
Population Group: Low Inc—Mitchell
New Hanover
Population Group: Low Inc—New Hanover
*Northampton
*Pamlico
Population Group: Low Inc—Pamlico
*Person
Population Group: Low Inc—Person
*Robeson
Population Group: Low Inc—Robeson
*Sampson
Population Group: Low Inc—Sampson
*Surry
Population Group: Low Income—Surry
*Vance
Facility: FCI—Butner
*Warren
*Wilkes
*Yancey
Population Group: Low-Income —Yancey County

DENTAL: North Carolina Service Area Listing
Service Area Name
Hot Springs
County—Madison
Parts:
Hot Springs Twp
Laurel Twp
Revere Rice Cove Twp
Spring Creek Twp
Walnut Twp

DENTAL: North Carolina Population Group Listing
Population Group
Low Inc—Bertie
County—Bertie
Parts:
Low Income
Low Inc—Bladen
County—Bladen
Parts:
Low Income
Low Inc—Caswell
County—Caswell
Parts:
Low Income
Low Inc—Cherokee
County—Cherokee
Parts:
Low Income
Low Inc—Clay
County—Clay
Parts:
Low Income
Low Inc—Craven
County—Craven
Parts:
Low Income
Low Inc—Cumberland Co
County—Cumberland
Parts:
Low Inc
Low Inc—Duplin
County—Duplin
Parts:
Low Income
Low Inc—Edgecombe
County—Edgecombe
Parts:
Low Income
Low Inc—Harnett Co
County—Harnett
Parts:
Low Income
Low Inc—Inner Greensboro
County—Guilford
Parts:
C.T. 101
C.T. 103
C.T. 107.02
C.T. 108.01
C.T. 109-110
C.T. 111.01-111.02
C.T. 112-115
C.T. 127.05-127.07
Low Inc—Jones
County—Jones
Parts:
Low Income
Low Inc—Lenoir
County—Lenoir
Parts:
Low Income
Low Inc—Macon
County—Macon
Parts:
Low Income
Low Inc—Mitchell
County—Mitchell
Parts:
Low Income
Low Inc—New Hanover
County—New Hanover
Parts:
Low Income
Low Inc—Pamlico
County—Pamlico
Parts:
Low Income
Low Inc—Person
County—Person
Parts:
Low Income
Low Inc—Robeson
County—Robeson
Parts:
Low Income
Low Inc—Sampson
County—Sampson
Parts:
Low Income
Low Inc/MFW—Henderson
County—Henderson
Parts:
Low Inc/MFW
Low Income—Cleveland
County—Cleveland
Parts:
Low-Income
Low Income—Surry
County—Surry
Parts:
Low-Income
Low-Income —Yancey County
County—Yancey
Parts:
Low-Income
Medicaid—Gaston Co
County—Gaston
Parts:
Medicaid

DENTAL: North Carolina Facility Listing
Facility Name
FCI—Butner
County—Vance

DENTAL: North Dakota County Listing
County Name
*Benson
*Billings
*Dunn
*Golden Valley
*Kidder
*McIntosh
*McKenzie
*Rolette
*Sioux
*Slope
*Towner

DENTAL: Ohio County Listing
County Name
*Adams
Population Group: Low Inc—Adams Co
*Ashland
Population Group: Low Inc—Ashland Co
*Athens
*Brown
Population Group: Low Inc—Brown Co
Clark
Population Group: Low Inc—SW Springfield City
Columbiana
Population Group: Low Inc—Columbiana Co
Cuyahoga
Service Area: Corlett/Mt. Pleas/Wdland
Service Area: Glenville (Area I—Cleveland)
Service Area: Western Collinwood
Population Group: Low Inc—Hough/Norwood
Population Group: Low Inc—Central/Fairfax/Kinsman
Franklin
Population Group: Low Inc—Near Eastside (Columbus)
Hamilton
Service Area: Winton Hills (Cincinnati)
*Jackson
Lucas
Population Group: Low Inc—Old West End/Center City/Door
*Meigs
Montgomery
Population Group: Low Inc—West Dayton
*Muskingum
Population Group: Low Inc—Muskingum/Perry
*Perry
Population Group: Low Inc—Muskingum/Perry
*Pike
Population Group: Low Inc—Pike Co
*Sandusky
Population Group: Low Inc/MFW—Sandusky Co
*Scioto
Population Group: Low Inc—Scioto Co
*Seneca
Population Group: Low Inc—Seneca Co
Washington
Population Group: Low Inc—Washington Co

DENTAL: Ohio Service Area Listing
Service Area Name
Corlett/Mt. Pleas/Wdland
County—Cuyahoga
Parts:
C.T. 1155
C.T. 1198-1199
C.T. 1204-1206
C.T. 1207.01-1207.02
C.T. 1208.01-1208.02
C.T. 1211-1213
C.T. 1214.01-1214.02
C.T. 1215-1216
C.T. 1275
Glenville (Area I—Cleveland)
County—Cuyahoga
Parts:
C.T. 1114.01-1114.02
C.T. 1161-1168
C.T. 1181-1185
Western Collinwood
County—Cuyahoga
Parts:
C.T. 1169
C.T. 1171.01-1171.02
C.T. 1172.01-1172.02
C.T. 1173-1175
C.T. 1179
C.T. 1261
Winton Hills (Cincinnati)
County—Hamilton
Parts:
C.T. 80

DENTAL: Ohio Population Group Listing
Population Group
Low Inc—Adams Co
County—Adams
Parts:
Low Income
Low Inc—Ashland Co
County—Ashland
Parts:
Low Income
Low Inc—Brown Co
County—Brown
Parts:
Low Income
Low Inc—Central/Fairfax/Kinsman
County—Cuyahoga
Parts:
C.T. 1079
C.T. 1087-1089
C.T. 1093
C.T. 1096-1099
C.T. 1103
C.T. 1129
C.T. 1131-1139
C.T. 1141-1145
C.T. 1147-1148
Low Inc—Columbiana Co
County—Columbiana
Parts:
Low Income
Low Inc—Hough/Norwood
County—Cuyahoga
Parts:
C.T. 1112-1113
C.T. 1115-1118
C.T. 1119.01-1119.02
C.T. 1121-1128
C.T. 1186.01-1186.02
C.T. 1189
Low Inc—Muskingum/Perry
County—Muskingum
Parts:
Low Income
County—Perry
Parts:
Low Income
Low Inc—Near Eastside (Columbus)
County—Franklin
Parts:
C.T. 25.20
C.T. 28-29
C.T. 36-38
C.T. 53
C.T. 54.10
Low Inc—Old West End/Center City/Door
County—Lucas
Parts:
C.T. 8
C.T. 14-16
C.T. 21-23
C.T. 24.01-24.02
C.T. 25-28
C.T. 31-37
Low Inc—Pike Co
County—Pike
Parts:
Low Income
Low Inc—Scioto Co
County—Scioto
Parts:
Low Income
Low Inc—Seneca Co
County—Seneca
Parts:
Low Income
Low Inc—SW Springfield City
County—Clark
Parts:
C.T. 1-3
C.T. 9.02
C.T. 10
C.T. 11.01-11.02
C.T. 12
Low Inc—Washington Co
County—Washington
Parts:
Low Income
Low Inc—West Dayton
County—Montgomery
Parts:
C.T. 2-4
C.T. 7
C.T. 10
C.T. 35-45
Low Inc/MFW—Sandusky Co
County—Sandusky
Parts:
Low Income
MFW

DENTAL: Oklahoma County Listing
County Name
*Caddo
Canadian
Facility: FCI El Reno
*Coal
Creek
*Haskell
*Le Flore
Service Area: Talihina
*McCurtain
Oklahoma
Population Group: Low Inc—SE Oklahoma City
Osage
Pottawatomie
Service Area: Konawa
*Pushmataha
Service Area: Talihina
*Seminole
Service Area: Konawa
*Tillman
Tulsa
Population Group: Am In—Tulsa

DENTAL: Oklahoma Service Area Listing
Service Area Name
Konawa
County—Pottawatomie
Parts:
Maud Division
Wanette-Asher Division
County—Seminole
Parts:
Konawa Division
Seminole South Division
Talihina
County—Le Flore
Parts:
South Le Flore Division
Talihina Division
County—Pushmataha
Parts:
North Pushmataha Division

DENTAL: Oklahoma Population Group Listing
Population Group
Am In—Tulsa
County—Tulsa
Parts:
American Indian
Low Inc—SE Oklahoma City
County—Oklahoma
Parts:
Low-Income

DENTAL: Oklahoma Facility Listing
Facility Name
FCI El Reno
County—Canadian

DENTAL: Oregon County Listing
County Name
Clackamas
*Curry
Service Area: Port Orford
*Gilliam
*Harney
Population Group: Low Inc—Harney Co
*Hood River
Population Group: Low Inc/MFW—Hood River Co
Jackson
Population Group: Low-Inc/MFW—Jackson Co
*Josephine
Population Group: Low Income—Josephine County
*Klamath
Population Group: Low Inc/MFW/Homeless—Klamath Co
*Malheur
Population Group: Low Inc/MFW—Malheur Co
Facility: Snake River Correct Inst
Marion
Population Group: Low Inc/MFW/Homeless—Polk And Marion C
*Morrow
Multnomah
Population Group: Low Inc—Inner NE Multnomah Co
Population Group: Low Inc—Southeast Multnoma County
Population Group: Low Inc—Mid-County Multnomah
Polk
Population Group: Low Inc/MFW/Homeless—Polk And Marion C
*Sherman
*Tillamook
*Umatilla
Population Group: Low Inc/MFW—Umatilla Co
*Wasco
Population Group: Low Inc/MFW—Wasco Co
Washington
Population Group: Low Inc/MFW—Washington Co
*Wheeler
Yamhill
Population Group: Low Inc—Yamhill
Facility: FCI Sheridan

DENTAL: Oregon Service Area Listing
Service Area Name
Port Orford
County—Curry
Parts:
Port Orford Division

DENTAL: Oregon Population Group Listing
Population Group
Low Inc—Harney Co
County—Harney
Low Inc—Inner NE Multnomah Co
County—Multnomah
Parts:
C.T 27.02
C.T. 22.01-22.02
C.T. 23.01-23.02
C.T. 24.01-24.02
C.T. 25.01-25.02
C.T. 26
C.T. 27.01-27.02
C.T. 28.01-28.02
C.T. 29.01-29.02
C.T. 30-32
C.T. 33.01-33.02
C.T. 34.01-34.02
C.T. 35.01-35.02
C.T. 36.01-36.03
C.T. 37.01-37.02
C.T. 38.01-38.03
C.T. 39.01-39.02
C.T. 40.01-40.02
C.T. 41.01-41.02
C.T. 72.01-72.02
C.T. 73-76
Low Inc—Mid-County Multnomah
County—Multnomah
Parts:
C.T. 6.01-6.02
C.T. 16.02
C.T. 17.02
C.T. 29.03
C.T. 77-79
C.T. 80.01-80.02
C.T. 92.01-92.02
C.T. 93-95
C.T. 97.01
81
82.01
82.02
83.01
83.02
84
85
89
90
91
Low Inc—Southeast Multnoma County
County—Multnomah
Parts:
C.T. 1-2
C.T. 3.01-3.02
C.T. 4.01-4.02
C.T. 5.01-5.02
C.T. 7.01-7.02
C.T. 8.01-8.02
C.T. 9.01-9.02
C.T. 10
C.T. 11.01-11.02
C.T. 12.01-12.02
C.T. 13.01-13.02
C.T. 14-15
C.T. 16.01
C.T. 17.01
C.T. 18.01-18.02
C.T. 19-21
C.T. 86-88
Low Inc—Yamhill
County—Yamhill
Parts:
Low Income/MFW
Low Inc/MFW—Hood River Co
County—Hood River
Parts:
Low Income
MFW
Low Inc/MFW—Malheur Co
County—Malheur
Parts:
Low Income/MFW
Low Inc/MFW—Umatilla Co
County—Umatilla
Parts:
Low Income
MFW
Low Inc/MFW—Wasco Co
County—Wasco
Parts:
Low Income
MFW
Low Inc/MFW—Washington Co
County—Washington
Parts:
Low Income/MFW
Low Inc/MFW/Homeless—Klamath Co
County—Klamath
Parts:
Low Income/MFW/Homeless
Low Inc/MFW/Homeless—Polk And Marion C
County—Marion
Parts:
Low Inc/MFW/Homeless
County—Polk
Parts:
Low Inc/MFW/Homeless
Low Income—Josephine County
County—Josephine
Parts:
Low-Income
Low-Inc/MFW—Jackson Co
County—Jackson
Parts:
Low Inc/MFW—Jackson Co

DENTAL: Oregon Facility Listing
Facility Name
FCI Sheridan
County—Yamhill
Snake River Correct Inst
County—Malheur

DENTAL: Pennsylvania County Listing
County Name
Allegheny
Service Area: Homewood-Brushton
Service Area: Wilkinsburg
Beaver
Population Group: Low Inc—Beaver Co
*Bedford
Population Group: Low Income—Bedford County
*Bradford
Population Group: Low Inc—Bradford Co
Butler
Population Group: Low-Inc Pop Of Butler Co
*Crawford
Population Group: Low Inc—Meadville/Conneautville
Dauphin
Population Group: Low Inc—Harrisburg
Erie
Population Group: Low Inc—Erie City
Fayette
Service Area: Greensboro
*Franklin
Population Group: Low Inc/MFW—Chambersburg
*Fulton
Population Group: Low Inc.—Fulton County
*Greene
Service Area: Greensboro
*Huntingdon
Service Area: Cromwell
*Jefferson
Population Group: Low Inc—Jefferson County
*Juniata
Population Group: Low Inc—Juniata
Lancaster
Population Group: Low Inc—Welsh Mountain
Population Group: Low Inc—SE Lancaster City
*Lawrence
Population Group: Low Inc—Lawrence Co
*McKean
Facility: FCI Mckean
Mercer
Population Group: Low Inc—Sharon/Farrell
*Mifflin
Population Group: Low Inc—Mifflin Co
Philadelphia
Population Group: Low Inc—Lower North Philadelphia
*Pike
Population Group: Low Inc—Pike County
*Schuylkill
Population Group: Low Inc—Schuylkill
Facility: FCI—Schuylkill
*Tioga
Population Group: Low-Income Tioga County
*Union
Facility: FCI Allenwood
Facility: USP—Lewisburg
Facility: USP Allenwood
*Wayne
Population Group: Low Inc—Wayne Co.
York
Service Area: York City

DENTAL: Pennsylvania Service Area Listing
Service Area Name
Cromwell
County—Huntingdon
Parts:
Clay Twp
Cromwell Twp
Dublin Twp
Orbisonia Boro
Rockhill Furnace Boro
Saltillo Boro
Shade Gap Boro
Springfield Twp
Tell Twp
Three Springs Boro
Greensboro
County—Fayette
Parts:
German Township
Masontown Borough
Nicholson Township
Point Marion Borough
Springhill Township
County—Greene
Parts:
Dunkard Township
Greene Township
Greensboro Borough
Monongahela Township
Homewood-Brushton
County—Allegheny
Parts:
C.T. 1204
C.T. 1207
C.T. 1301-1305
C.T. 1305
Wilkinsburg
County—Allegheny
Parts:
Wilkinsburg Borough
York City
County—York
Parts:
C.T. 1-3
C.T. 5
C.T. 7
C.T. 9-12
C.T. 15-16

DENTAL: Pennsylvania Population Group Listing
Population Group
Low Inc—Beaver Co
County—Beaver
Parts:
Low Income
Low Inc—Bradford Co
County—Bradford
Low Inc—Erie City
County—Erie
Parts:
Ct 1
Ct 10
Ct 11
Ct 12
Ct 13
Ct 14
Ct 15
Ct 16
Ct 17
Ct 18
Ct 19
Ct 2
Ct 20
Ct 21
Ct 22
Ct 23
Ct 24
Ct 25
Ct 26
Ct 27
Ct 28
Ct 29
Ct 3
Ct 30
Ct 4
Ct 5
Ct 6
Ct 7
Ct 8
Ct 9
Low Inc—Harrisburg
County—Dauphin
Parts:
C.T. 201-217
Low Inc—Jefferson County
County—Jefferson
Parts:
Low Income
Low Inc—Juniata
County—Juniata
Parts:
Low Income
Low Inc—Lawrence Co
County—Lawrence
Parts:
Low Income
Low Inc—Lower North Philadelphia
County—Philadelphia
Parts:
C.T. 125-149
C.T. 151-182
C.T. 192
C.T. 195
C.T. 200-201
Low Inc—Meadville/Conneautville
County—Crawford
Parts:
Beaver Twp
Conneaut Twp
Conneaut Lake Boro
Conneautville Boro
Cussewago Twp
Hayfield Twp
Meadville City
Pine Twp
Sadsbury Twp
Saegertown Boro
Spring Twp
Springboro Boro
Summerhill Twp
Summit Twp
Union Twp
Vernon Twp
West Mead Twp
Low Inc—Mifflin Co
County—Mifflin
Parts:
Low Income
Low Inc—Pike County
County—Pike
Parts:
Pike County
Low Inc—Schuylkill
County—Schuylkill
Parts:
Low Income
Low Inc—Sharon/Farrell
County—Mercer
Parts:
C.T. 301-309
Low Inc—SE Lancaster City
County—Lancaster
Parts:
C.T. 1
C.T. 7-9
C.T. 14-16
Low Inc—Wayne Co.
County—Wayne
Parts:
Low Income
Low Inc—Welsh Mountain
County—Lancaster
Parts:
Bart Township
Brecknock Township
Caernarvon Township
Christiana Borough
Colerain Township
Earl Township
East Earl Township
Eden Township
Leacock Township
Little Britain Township
New Holland Borough
Paradise Township
Quarryville Borough
Sadsbury Township
Salisbury Township
Terre Hill Borough
Low Inc.—Fulton County
County—Fulton
Parts:
Low Income
Low Inc/MFW—Chambersburg
County—Franklin
Parts:
Chambersburg Boro
Hamilton Twp
Letterkenny Twp
St. Thomas Twp
Low Income—Bedford County
County—Bedford
Parts:
Low Income
Low-Inc Pop Of Butler Co
County—Butler
Parts:
Allegheny Twp
Brady Twp
Bruin Boro
Butler City
Butler Twp
Center Twp
Cherry Twp
Cherry Valley Boro
Chicora Boro
Clay Twp
Clearfield Twp
Concord Twp
Connequenessing Boro
Connoquenessing Twp
Donegal Twp
East Butler Boro
Eau Claire Boro
Fairview Boro
Fairview Twp
Franklin Twp
Harrisville Boro
Karns City Boro
Lancaster Twp
Marion Twp
Mercer Twp
Muddy Creek Twp
Oakland Twp
Parker Twp
Petrolia Boro
Portersville Boro
Prospect Boro
Slippery Rock Boro
Slippery Rock Twp
Summit Twp
Venango Twp
Washington Twp
West Liberty Boro
West Sunbury Boro
Worth Twp
Low-Income Tioga County
County—Tioga
Parts:
Low-Income

DENTAL: Pennsylvania Facility Listing
Facility Name
FCI—Schuylkill
County—Schuylkill
FCI Allenwood
County—Union
FCI Mckean
County—McKean
USP—Lewisburg
County—Union
USP Allenwood
County—Union

DENTAL: Rhode Island County Listing
County Name
Newport
Population Group: Newport/Middletown Low Income
Providence
Population Group: Low Inc—NW Woonsocket
Population Group: Low Inc—Providence City
Population Group: Low Inc—C Falls/N Pawtucket
Washington
Population Group: Narrangansett Indian Tribe
Facility: Health Center Of South County

DENTAL: Rhode Island Population Group Listing
Population Group
Low Inc—C Falls/N Pawtucket
County—Providence
Parts:
Ct 108
Ct 109
Ct 110
Ct 111
Ct 149
Ct 150
Ct 151
Ct 152
Ct 153
Ct 154
Ct 155
Ct 156
Ct 157
Ct 158
Ct 159
Ct 160
Ct 161
Ct 163
Ct 164
Ct 165
Ct 166
Ct 167.97
Ct 167.98
Ct 168
Ct 169
Ct 170
Ct 171
Low Inc—NW Woonsocket
County—Providence
Parts:
C.T. 172
C.T. 174
C.T. 176
C.T. 178-183
Low Inc—Providence City
County—Providence
Parts:
Ct 01
Ct 02
Ct 03
Ct 04
Ct 05
Ct 06
Ct 07
Ct 08
Ct 09
Ct 10
Ct 11
Ct 12
Ct 13
Ct 14
Ct 15
Ct 16
Ct 17
Ct 18
Ct 19
Ct 20
Ct 21
Ct 22
Ct 23
Ct 24
Ct 25
Ct 26
Ct 27
Ct 28
Ct 29
Ct 30
Ct 31
Ct 32
Ct 33
Ct 34
Ct 35
Ct 36
Ct 37
Narrangansett Indian Tribe
County—Washington
Parts:
Charlestown Town
Newport/Middletown Low Income
County—Newport
Parts:
Ct 402
Ct 403.03
Ct 405
Ct 406
Ct 407
Ct 408
Ct 410
Ct 412

DENTAL: Rhode Island Facility Listing
Facility Name
Health Center Of South County
County—Washington

DENTAL: South Carolina County Listing
County Name
*Abbeville
Population Group: Low Inc—Abbeville/Greenwood/Mccormick
Aiken
Population Group: Low Inc—Aiken
*Allendale
Population Group: Low Inc—Allendale/Hampton
Anderson
Population Group: Low Inc—Anderson
*Bamberg
Population Group: Low Inc—Bamberg/Calhoun/Orangeburg
*Barnwell
Population Group: Low Inc—Barwell
*Beaufort
Population Group: Low Inc—Beaufort
Berkeley
Population Group: Low Inc—Berkeley
*Calhoun
Population Group: Low Inc—Bamberg/Calhoun/Orangeburg
Charleston
Population Group: Low Inc—Charleston/Dorchester
Cherokee
*Chester
Population Group: Low Inc—Chester/York
*Chesterfield
Population Group: Low Inc—Chesterfield
*Clarendon
*Colleton
*Darlington
Population Group: Low Inc—Darlington
*Dillon
*Dillon
Service Area: Dillon/Marion
Service Area: Dillon/Marion
Dorchester
Population Group: Low Inc—Charleston/Dorchester
Edgefield
Population Group: Low Inc—Edgefield
*Fairfield
Population Group: Low Inc—Fairfield
Florence
Population Group: Low Inc—Florence
*Georgetown
Population Group: Low Inc—Georgetown
*Greenwood
Population Group: Low Inc—Abbeville/Greenwood/Mccormick
*Hampton
Population Group: Low Inc—Allendale/Hampton
Facility: FCI Estill
Horry
Population Group: Low Inc—Horry
*Jasper
Population Group: Low Inc—Jasper
Facility: Ridgeland Ci
*Kershaw
Population Group: Low Inc—Kershaw
*Lancaster
Population Group: Low Inc—Lancaster
*Laurens
*Lee
*Marion
*Marion
Service Area: Dillon/Marion
Service Area: Dillon/Marion
*Marlboro
Population Group: Low Inc—Marlboro
*McCormick
Population Group: Low Inc—Abbeville/Greenwood/Mccormick
*Oconee
Population Group: Low Inc—Oconee
*Orangeburg
Population Group: Low Inc—Bamberg/Calhoun/Orangeburg
Pickens
Population Group: Low Inc—Pickens
Spartanburg
Population Group: Low Inc—Spartanburg
Sumter
*Union
Population Group: Low Inc—Union
*Williamsburg
York
Population Group: Low Inc—Chester/York

DENTAL: South Carolina Service Area Listing
Service Area Name
Dillon/Marion
County—Dillon
County—Marion
County—Marion

DENTAL: South Carolina Population Group Listing
Population Group
Low Inc—Abbeville/Greenwood/Mccormick
County—Abbeville
Parts:
Low Income
County—Greenwood
Parts:
Low Income
County—McCormick
Parts:
Low Income
Low Inc—Aiken
County—Aiken
Parts:
Low Income
Low Inc—Allendale/Hampton
County—Allendale
Parts:
Low Income
County—Hampton
Parts:
Low Income
Low Inc—Anderson
County—Anderson
Parts:
Low Income
Low Inc—Bamberg/Calhoun/Orangeburg
County—Bamberg
Parts:
Low Income
County—Calhoun
Parts:
Low Income
County—Orangeburg
Parts:
Low Income
Low Inc—Barwell
County—Barnwell
Parts:
Low Income
Low Inc—Beaufort
County—Beaufort
Parts:
Low Income
Low Inc—Berkeley
County—Berkeley
Parts:
Low Income
Low Inc—Charleston/Dorchester
County—Charleston
Parts:
Low Income
County—Dorchester
Parts:
Low Income
Low Inc—Chester/York
County—Chester
Parts:
Low Income
County—York
Parts:
Low Income
Low Inc—Chesterfield
County—Chesterfield
Parts:
Low Income
Low Inc—Darlington
County—Darlington
Parts:
Low Income
Low Inc—Edgefield
County—Edgefield
Parts:
Low Income
Low Inc—Fairfield
County—Fairfield
Parts:
Low Income
Low Inc—Florence
County—Florence
Parts:
Low Income
Low Inc—Georgetown
County—Georgetown
Parts:
Low Income
Low Inc—Horry
County—Horry
Parts:
Low Income
Low Inc—Jasper
County—Jasper
Parts:
Low Income
Low Inc—Kershaw
County—Kershaw
Parts:
Low Income
Low Inc—Lancaster
County—Lancaster
Parts:
Low Income
Low Inc—Marlboro
County—Marlboro
Parts:
Low Income
Low Inc—Oconee
County—Oconee
Parts:
Low Income
Low Inc—Pickens
County—Pickens
Parts:
Low Income
Low Inc—Spartanburg
County—Spartanburg
Parts:
Low Income
Low Inc—Union
County—Union
Parts:
Low Income

DENTAL: South Carolina Facility Listing
Facility Name
FCI Estill
County—Hampton
Ridgeland Ci
County—Jasper

DENTAL: South Dakota County Listing
County Name
*Bennett
*Corson
*Dewey
*Gregory
*Harding
*Lyman
*Meade
Service Area: Faith
Minnehaha
Population Group: Low Inc—Central Sioux Falls
*Perkins
*Roberts
*Shannon
Population Group: Low Income—Shannon
*Todd
*Ziebach

DENTAL: South Dakota Service Area Listing
Service Area Name
Faith
County—Meade
Parts:
Eagle Township
Faith City
Howard Township
North Meade Unorg.
Union Township
Upper Red Owl Township

DENTAL: South Dakota Population Group Listing
Population Group
Low Inc—Central Sioux Falls
County—Minnehaha
Parts:
C.T. 1-2
C.T. 7-9
Low Income—Shannon
County—Shannon
Parts:
Low Income

DENTAL: Tennessee County Listing
County Name
Anderson
Population Group: Low Inc—Anderson Co
*Bedford
Population Group: Low Inc—Bedford
*Benton
Population Group: Low Inc—Benton Co
*Bledsoe
Blount
Population Group: Low Inc—Blount Co
*Bradley
Population Group: Low Inc—Bradley Co
*Campbell
*Carroll
Population Group: Low Inc—Carroll Co
Carter
Population Group: Low Inc—Carter Co
Cheatham
Population Group: Low Inc—Cheatham
*Chester
Population Group: Low Inc—Chester Co
*Claiborne
*Clay
Population Group: Low Inc—Clay
*Cocke
Population Group: Low Inc—Cocke
*Coffee
Population Group: Low Inc—Coffee Co
*Crockett
Population Group: Low Inc—Crockett Co
*Cumberland
Population Group: Low Inc—Cumberland
Davidson
Population Group: Low Inc—E Nashville
Population Group: Low Inc Pop—Waverly-Belmont
Population Group: Low Inc/Homeless—N Nashville
*De Kalb
Population Group: Low Inc—Dekalb
*Decatur
Population Group: Low Inc—Decatur Co
Dickson
Population Group: Low Inc—Dickson
*Dyer
Population Group: Low Inc—Dyer Co
Fayette
*Fentress
Population Group: Low Inc—Fentress
*Franklin
Population Group: Low Inc—Franklin Co
*Gibson
Population Group: Low Inc—Gibson Co
*Giles
Population Group: Low Inc—Giles Co
Grainger
*Greene
Population Group: Low Inc—Greene Co
*Grundy
*Hamblen
Population Group: Low Inc—Hamblen Co
Hamilton
Population Group: Low Inc—Central Chattanooga
Facility: Woods Clinic
*Hancock
*Hardeman
Population Group: Low Inc—Hardeman Co
*Hardin
Population Group: Low Inc—Hardin Co
Hawkins
Population Group: Low Inc—Hawkins Co
*Haywood
Population Group: Low Inc—Haywood
*Henderson
Population Group: Low Inc—Henderson Co
*Henry
Population Group: Low Inc—Henry Co
*Hickman
Population Group: Low Inc—Hickman Co
*Houston
Population Group: Low Inc—Houston
*Humphreys
Population Group: Low Inc—Humphreys
*Jackson
Population Group: Low Inc—Jackson Co
Jefferson
Population Group: Low Inc—Jefferson Co
*Johnson
Knox
Population Group: Low Inc—Knoxville
*Lake
*Lauderdale
Population Group: Low Inc—Lauderdale Co
*Lawrence
Population Group: Low Inc—Lawrence Co
*Lewis
Population Group: Low Inc—Lewis Co
*Lincoln
Population Group: Low Inc—Lincoln Co
Loudon
Population Group: Low Inc—Loudon Co
*Macon
Madison
Population Group: Low Inc—Madison Co
Marion
Population Group: Low Inc—Marion Co
*Marshall
Population Group: Low Inc—Marshall Co
*Maury
Population Group: Low Inc—Maury Co
*McMinn
Population Group: Low Inc—Mcminn Co
*McNairy
Population Group: Low Inc—Mcnairy Co
*Meigs
*Monroe
Population Group: Low Inc—Monroe Co
Montgomery
Population Group: Low Inc—Montgomery
*Moore
Population Group: Low Inc—Moore Co
*Morgan
*Obion
Population Group: Low Inc—Obion Co
*Overton
Population Group: Low Inc—Overton
*Perry
Population Group: Low Inc—Perry Co
*Pickett
*Polk
Population Group: Low Inc—Polk Co
*Putnam
Population Group: Low Inc—Putnam
*Rhea
Population Group: Low Inc—Rhea Co
*Roane
Population Group: Low Inc—Roane Co
Robertson
Population Group: Low Inc—Robertson
*Scott
*Sequatchie
Population Group: Low Inc—Sequatchie Co
Sevier
Population Group: Low Inc—Sevier Co
Shelby
Population Group: Low Inc—Shelby
Facility: FCI Memphis
*Smith
Population Group: Low Inc—Smith
*Stewart
Population Group: Low Inc—Stewart
Sumner
Population Group: Low Inc—Highland Ridge
Tipton
Population Group: Low Inc—Tipton Co
*Trousdale
Population Group: Low Inc—Trousdale
Unicoi
Population Group: Low Inc—Unicoi Co
Union
*Van Buren
Population Group: Low Inc—Van Buren
*Warren
Population Group: Low Inc—Warren
Washington
Population Group: Low Inc—Washington Co
*Weakley
Population Group: Low Inc—Weakley Co
*White
Population Group: Low Inc—White

DENTAL: Tennessee Population Group Listing
Population Group
Low Inc—Anderson Co
County—Anderson
Parts:
Low Income
Low Inc—Bedford
County—Bedford
Parts:
Low Income
Low Inc—Benton Co
County—Benton
Parts:
Low Income
Low Inc—Blount Co
County—Blount
Parts:
Low Income
Low Inc—Bradley Co
County—Bradley
Parts:
Low Inc Pop
Low Inc—Carroll Co
County—Carroll
Parts:
Low Income
Low Inc—Carter Co
County—Carter
Parts:
Low Income
Low Inc—Central Chattanooga
County—Hamilton
Parts:
C.T. 1-8
C.T. 10-16
C.T. 18-21
C.T. 23-27
C.T. 31
C.T. 115
Low Inc—Cheatham
County—Cheatham
Parts:
Low Income
Low Inc—Chester Co
County—Chester
Parts:
Low Income
Low Inc—Clay
County—Clay
Parts:
Low Income
Low Inc—Cocke
County—Cocke
Parts:
Low Income
Low Inc—Coffee Co
County—Coffee
Parts:
Low Income
Low Inc—Crockett Co
County—Crockett
Parts:
Low Income
Low Inc—Cumberland
County—Cumberland
Parts:
Low Income
Low Inc—Decatur Co
County—Decatur
Parts:
Low Income
Low Inc—Dekalb
County—De Kalb
Parts:
Low Income
Low Inc—Dickson
County—Dickson
Parts:
Low Income
Low Inc—Dyer Co
County—Dyer
Parts:
Low Income
Low Inc—E Nashville
County—Davidson
Parts:
C.T. 112-129
Low Inc—Fentress
County—Fentress
Low Inc—Franklin Co
County—Franklin
Parts:
Low Income
Low Inc—Gibson Co
County—Gibson
Parts:
Low Income
Low Inc—Giles Co
County—Giles
Parts:
Low Income
Low Inc—Greene Co
County—Greene
Parts:
Low Income
Low Inc—Hamblen Co
County—Hamblen
Parts:
Low Income
Low Inc—Hardeman Co
County—Hardeman
Parts:
Low Income
Low Inc—Hardin Co
County—Hardin
Parts:
Hardin
Low Inc—Hawkins Co
County—Hawkins
Parts:
Low Income
Low Inc—Haywood
County—Haywood
Low Inc—Henderson Co
County—Henderson
Parts:
Low Income
Low Inc—Henry Co
County—Henry
Parts:
Low Income
Low Inc—Hickman Co
County—Hickman
Parts:
Low Income
Low Inc—Highland Ridge
County—Sumner
Parts:
Portland CCD
Westmoreland CCD
Whitehouse CCD
Low Inc—Houston
County—Houston
Parts:
Low Income
Low Inc—Humphreys
County—Humphreys
Parts:
Low Income
Low Inc—Jackson Co
County—Jackson
Parts:
Low Income
Low Inc—Jefferson Co
County—Jefferson
Parts:
Low Income
Low Inc—Knoxville
County—Knox
Parts:
C.T. 1-17
C.T. 19-20
C.T. 24
C.T. 26-28
Low Inc—Lauderdale Co
County—Lauderdale
Parts:
Low Income
Low Inc—Lawrence Co
County—Lawrence
Parts:
Low Income
Low Inc—Lewis Co
County—Lewis
Parts:
Low Income
Low Inc—Lincoln Co
County—Lincoln
Parts:
Low Income
Low Inc—Loudon Co
County—Loudon
Parts:
Low Income
Low Inc—Madison Co
County—Madison
Parts:
Low Income
Low Inc—Marion Co
County—Marion
Parts:
Low Income
Low Inc—Marshall Co
County—Marshall
Parts:
Low Income
Low Inc—Maury Co
County—Maury
Parts:
Low Income
Low Inc—Mcminn Co
County—McMinn
Parts:
Low Income
Low Inc—Mcnairy Co
County—McNairy
Parts:
Low Income
Low Inc—Monroe Co
County—Monroe
Parts:
Low Income
Low Inc—Montgomery
County—Montgomery
Parts:
Low Income
Low Inc—Moore Co
County—Moore
Parts:
Low Income
Low Inc—Obion Co
County—Obion
Parts:
Low Income
Low Inc—Overton
County—Overton
Parts:
Low Income
Low Inc—Perry Co
County—Perry
Parts:
Low Income
Low Inc—Polk Co
County—Polk
Parts:
Low Income
Low Inc—Putnam
County—Putnam
Parts:
Low Income
Low Inc—Rhea Co
County—Rhea
Parts:
Low Income
Low Inc—Roane Co
County—Roane
Parts:
Low Income
Low Inc—Robertson
County—Robertson
Parts:
Low Income
Low Inc—Sequatchie Co
County—Sequatchie
Parts:
Low Income
Low Inc—Sevier Co
County—Sevier
Parts:
Low Income
Low Inc—Shelby
County—Shelby
Parts:
Low Income
Low Inc—Smith
County—Smith
Parts:
Low Income
Low Inc—Stewart
County—Stewart
Parts:
Low Income
Low Inc—Tipton Co
County—Tipton
Parts:
Low Income
Low Inc—Trousdale
County—Trousdale
Parts:
Low Income
Low Inc—Unicoi Co
County—Unicoi
Parts:
Low Income
Low Inc—Van Buren
County—Van Buren
Parts:
Low Income
Low Inc—Warren
County—Warren
Low Inc—Washington Co
County—Washington
Parts:
Low Income
Low Inc—Weakley Co
County—Weakley
Parts:
Low Income
Low Inc—White
County—White
Parts:
Low Income
Low Inc Pop—Waverly-Belmont
County—Davidson
Parts:
C.T. 161-163
C.T. 170-171
Low Inc/Homeless—N Nashville
County—Davidson
Parts:
C.T. 133
C.T. 135-144
C.T. 146-148

DENTAL: Tennessee Facility Listing
Facility Name
FCI Memphis
County—Shelby
Woods Clinic
County—Hamilton

DENTAL: Texas County Listing
County Name
*Anderson
Facility: Beto Psn
Facility: Gurney Prison
*Aransas
Archer
*Armstrong
*Atascosa
Bastrop
*Bee (g)
Facility: McConnell Prsn
Bexar
Service Area: South Side (San Antonio)
Service Area: West Side (San Antonio)
*Borden
*Briscoe
*Brooks
*Burleson
Cameron
*Carson
*Castro
*Cochran
*Coke
Coryell (g)
Facility: Mountain View Prison
*Crosby
*Culberson
Dallas
Service Area: Lisbon
Service Area: South Dallas
Facility: FCI Seagoville
*Dawson
*De Witt
*Dickens
*Dimmit
*Donley
*Duval
*Edwards
El Paso
Service Area: Southeast El Paso
*Gaines
*Glasscock
*Hall
*Hansford
Hidalgo
*Hudspeth
Jefferson
Service Area: North Beaumont
Service Area: South Beaumont
*Jim Hogg
*Jim Wells
*Kent
*King
*Kinney
*La Salle
Liberty
*Live Oak
Facility: FCI Three Rivers
*Loving
Lubbock
Service Area: East Lubbock
*Maverick
*Medina
*Mitchell
*Motley
*Nacogdoches
Population Group: Low Inc—Nacogdoches Co
*Oldham
*Pecos
*Presidio
*Reeves
*Roberts
*Robertson
*San Jacinto
*Schleicher
*Shackelford
*Sherman
*Starr
*Sterling
*Stonewall
*Terrell
*Terry
*Throckmorton
Travis
Service Area: Dove Springs
Service Area: East Austin
Service Area: South Austin
*Trinity
Upshur
*Uvalde
*Val Verde
*Ward
Webb
*Wharton
Population Group: Low Inc—Wharton Co
*Willacy
*Wise
*Yoakum
*Zapata
*Zavala

DENTAL: Texas Service Area Listing
Service Area Name
Dove Springs
County—Travis
Parts:
C.T. 24.11-24.13
East Austin
County—Travis
Parts:
C.T. 4.02
C.T. 8.01-8.04
C.T. 9.01-9.02
C.T. 10
C.T. 18.11-18.12
C.T. 21.04-21.13
C.T. 22.01-22.02
C.T. 22.05
East Lubbock
County—Lubbock
Parts:
C.T. 1
C.T. 2.01-2.02
C.T. 3.01-3.02
C.T. 6.03-6.06
C.T. 7-13
C.T. 24-25
Lisbon
County—Dallas
Parts:
C.T. 56-57
C.T. 59.01-59.02
C.T. 87.01
C.T. 87.03-87.05
C.T. 88.01-88.02
North Beaumont
County—Jefferson
Parts:
C.T. 1.03
C.T. 6-9
South Austin
County—Travis
Parts:
C.T. 23.04
C.T. 23.10-23.12
C.T. 24.16
South Beaumont
County—Jefferson
Parts:
C.T. 10
C.T. 12
C.T. 14-26
South Dallas
County—Dallas
Parts:
C.T. 25
C.T. 27.01-27.02
C.T. 28-29
C.T. 33-38
C.T. 39.01-39.02
C.T. 40
C.T. 93.03-93.04
C.T. 115
C.T. 116.01
South Side (San Antonio)
County—Bexar
Parts:
C.T. 1402-1412
C.T. 1416-1418
C.T. 1501-1522
C.T. 1609
C.T. 1610.85
C.T. 1611-1612
C.T. 1619-1620
Southeast El Paso
County—El Paso
Parts:
C.T. 17-21
C.T. 28-32
C.T. 35-36
C.T. 37.01-37.02
C.T. 38.01-38.02
C.T. 39.01-39.03
C.T. 40.01-40.02
C.T. 41.03-41.07
C.T. 42.01-42.02
C.T. 103.10
C.T. 104.01-104.04
C.T. 105
West Side (San Antonio)
County—Bexar
Parts:
C.T. 1105-1108
C.T. 1601-1606
C.T. 1607.85
C.T. 1616
C.T. 1701-1716
C.T. 1901-1902

DENTAL: Texas Population Group Listing
Population Group
Low Inc—Nacogdoches Co
County—Nacogdoches
Parts:
Low Income
Low Inc—Wharton Co
County—Wharton
Parts:
Low Income

DENTAL: Texas Facility Listing
Facility Name
Beto Psn
County—Anderson
FCI Seagoville
County—Dallas
FCI Three Rivers
County—Live Oak
Gurney Prison
County—Anderson
McConnell Prsn
County—Bee
Mountain View Prison
County—Coryell

DENTAL: Utah County Listing
County Name
*Beaver
Population Group: Low Inc—Beaver
*Box Elder
Population Group: Low Inc—Box Elder
*Cache
Population Group: Low Inc—Cache
*Carbon
Population Group: Low Income—Carbon County
*Daggett
*Duchesne
Population Group: Low Income—Duchesne Co
*Emery
*Garfield
*Grand
Population Group: Low Income—Grand County
*Iron
Population Group: Low Inc—Iron
*Juab
Population Group: Low Inc—Juab
*Kane
Population Group: Low Inc—Kane
*Morgan
Population Group: Low Inc0me—Morgan County
*Piute
*Rich
Salt Lake
Population Group: Low Income— NW Salt Lake
Facility: Utah St. Prison (Draper)
*San Juan
Population Group: Low Inc—San Juan Co
*Sanpete
Population Group: Low Inc—Sanpete
*Sevier
Population Group: Low Inc—Sevier
*Tooele
Population Group: Low Inc—Tooele
*Uintah
Population Group: Low Income—Uintah Co
Utah
Population Group: Low Income—Utah Co
*Wasatch
Population Group: Low Inc—Wasatch
*Wayne
Weber
Population Group: Low Inc—Weber

DENTAL: Utah Population Group Listing
Population Group
Low Inc—Beaver
County—Beaver
Parts:
Low Income
Low Inc—Box Elder
County—Box Elder
Parts:
Low Income
Low Inc—Cache
County—Cache
Parts:
Low Income
Low Inc—Iron
County—Iron
Parts:
Low Income
Low Inc—Juab
County—Juab
Parts:
Low Income
Low Inc—Kane
County—Kane
Parts:
Low Income
Low Inc—San Juan Co
County—San Juan
Parts:
Low Income
Low Inc—Sanpete
County—Sanpete
Parts:
Low Income
Low Inc—Sevier
County—Sevier
Parts:
Low Income
Low Inc—Tooele
County—Tooele
Parts:
Low Income
Low Inc—Wasatch
County—Wasatch
Parts:
Low Income
Low Inc—Weber
County—Weber
Parts:
Low Income
Low Income— NW Salt Lake
County—Salt Lake
Parts:
C.T. 1001
C.T. 1003.03-1003.04
C.T. 1004-1006
C.T. 1019-1027
Low Income—Carbon County
County—Carbon
Parts:
Low Income
Low Income—Duchesne Co
County—Duchesne
Parts:
Low Income
Low Income—Grand County
County—Grand
Parts:
Low Income
Low Income—Uintah Co
County—Uintah
Parts:
Low Income
Low Income—Utah Co
County—Utah
Parts:
Low Income
Low Inc0me—Morgan County
County—Morgan
Parts:
Low Income

DENTAL: Utah Facility Listing
Facility Name
Utah St. Prison (Draper)
County—Salt Lake

DENTAL: Vermont County Listing
County Name
*Essex

DENTAL: Vrginia County Listing
County Name
*Accomack
Service Area: Accomack/Northampton
*Bedford
Service Area: Bedford
*Bedford City
Service Area: Bedford
*Brunswick
*Buchanan
*Charlotte
*Dickenson
*Lee
*Nelson
Service Area: Lovingston
Newport News
Service Area: Newport News
*Northampton
Service Area: Accomack/Northampton
Richmond City
Service Area: East End Richmond
Population Group: Homeless—Richmond City
*Russell
Scott
Suffolk
Service Area: City Of Suffolk
*Sussex

DENTAL: Virginia Service Area Listing
Service Area Name
Accomack/Northampton
County—Accomack
County—Northampton
Bedford
County—Bedford
County—Bedford City
City Of Suffolk
County—Suffolk
Parts:
C.T. 651
C.T. 653-655
C.T. 756
East End Richmond
County—Richmond City
Parts:
C.T. 201-212
Lovingston
County—Nelson
Parts:
Lovingston Dist
Massies Mill Dist
Schuyler Dist
Newport News
County—Newport News
Parts:
C.T. 302
C.T. 302.99
C.T. 303.98
C.T. 304-306
C.T. 308-309
C.T. 313

DENTAL: Virginia Population Group Listing
Population Group
Homeless—Richmond City
County—Richmond City
Parts:
C.T. 301-306
C.T. 412-415

DENTAL: Washington County Listing
County Name
*Adams
Population Group: Low Inc/MFW—Othello/Royal City
Benton
Population Group: Low Inc/MFW—Benton/Franklin
*Chelan
Population Group: MSFW—Chelan & Douglas Co
*Clallam
Service Area: W Side Olympic Peninsula
*Columbia
Population Group: Low Inc/MFW—Columbia & Walla Walla
*Douglas
Population Group: MSFW—Chelan & Douglas Co
*Ferry
Franklin
Population Group: Low Inc/MFW—Benton/Franklin
Facility: Coyote Ridge Corr Inst
*Grant
Population Group: Low Inc/MFW—Central Grant Co
Population Group: Low Inc/MFW—Othello/Royal City
*Island
Population Group: Low Inc—Island Co
*Jefferson
Service Area: W Side Olympic Peninsula
Population Group: Low Inc—Port Townsend
King
Population Group: Low Inc/Homeless- S. King Co
Kitsap
Population Group: Low Inc—Central Bremerton
*Klickitat
Population Group: Low Inc—E Klickitat Co
Population Group: Low Inc/MFW—W Klickitat Co
*Lewis
Service Area: Morton
*Lincoln
Service Area: Odessa
*Mason
Facility: Wa Corr/Reception Ct r
*Okanogan
Population Group: Medicaid Eligible—Okanogan Co
*Pend Oreille
Service Area: Ione/Metaline
Pierce
Population Group: Medicaid—S. Pierce Co
Facility: Wa Corr Ct r For Women
*Skagit
Population Group: Low Inc/MFW—Skagit/Whatcom
Snohomish
Population Group: Low Inc/Homeless—Everett/Lynnwood
Facility: Twin Rivers Corr Ct r
Spokane
Population Group: Low Inc—Central Spokane
*Stevens
*Wahkiakum
*Walla Walla
Population Group: Low Inc/MFW—Columbia & Walla Walla
Facility: Wa State Pen
Whatcom
Population Group: Low Inc/MFW—Skagit/Whatcom
Yakima
Population Group: MSFW—Toppenish/Grandview

DENTAL: Washington Service Area Listing
Service Area Name
Ione/Metaline
County—Pend Oreille
Parts:
Ione-Metaline Falls Division
Morton
County—Lewis
Parts:
Big Bottom Division
Mineral Division
Morton Division
Mossyrock Division
Odessa
County—Lincoln
Parts:
Odessa Division
W Side Olympic Peninsula
County—Clallam
Parts:
C.T. 9802-9805
County—Jefferson
Parts:
C.T. 9501

DENTAL: Washington Population Group Listing
Population Group
Low Inc—Central Bremerton
County—Kitsap
Parts:
C.T. 805-806
C.T. 810-813
Low Inc—Central Spokane
County—Spokane
Parts:
Spokane CCD
Low Inc—E Klickitat Co
County—Klickitat
Parts:
Goldendale CCD
Horse Heaven CCD
Low Inc—Island Co
County—Island
Parts:
Low Income
Low Inc—Port Townsend
County—Jefferson
Parts:
Discovery Bay CCD
Oak Bay CCD
Quilcene Bay CCD
Low Inc/Homeless—Everett/Lynnwood
County—Snohomish
Parts:
C.T. 401.98
C.T. 402-408
C.T. 410-412
C.T. 414-415
C.T. 418.01
C.T. 418.03-418.04
C.T. 419.01-419.02
C.T. 510-512
C.T. 514-515
C.T. 517
C.T. 518.01-518.02
Low Inc/Homeless- S. King Co
County—King
Parts:
C.T. 259
C.T. 292.01-292.02
C.T. 297
C.T. 298.01-298.02
C.T. 299
C.T. 300.02
C.T. 302.02
C.T. 303.03
C.T. 305-308
Low Inc/MFW—Benton/Franklin
County—Benton
Parts:
Low Income
MFW
County—Franklin
Parts:
Low Income
MFW
Low Inc/MFW—Central Grant Co
County—Grant
Parts:
Ephrata-Soap Lake CCD
George CCD
Gloyd CCD
Moses Lake CCD
Quincy CCD
Warden CCD
Wilson Creek CCD
Low Inc/MFW—Columbia & Walla Walla
County—Columbia
Parts:
Columbia
County—Walla Walla
Parts:
Walla Walla
Low Inc/MFW—Othello/Royal City
County—Adams
Parts:
Low Inc/MFW—Adams Co
County—Grant
Parts:
Low Inc/MFW—S Slopes C
Low Inc/MFW—Skagit/Whatcom
County—Skagit
Parts:
Low Income
MFW
County—Whatcom
Parts:
Low Income
MFW
Low Inc/MFW—W Klickitat Co
County—Klickitat
Parts:
Wahkiakus CCD
White Salmon CCD
Yakima Res CCD
Medicaid—S. Pierce Co
County—Pierce
Parts:
Buckley CCD
Eatonville CCD
Fort Lewis—Du Pont CCD
Graham-Thrift CCD
Mount Rainier CCD
Puyallup CCD
Roy CCD
Tacoma CCD
Medicaid Eligible—Okanogan Co
County—Okanogan
Parts:
Medicaid Eligible
MSFW—Chelan & Douglas Co
County—Chelan
Parts:
MSFW
County—Douglas
Parts:
MSFW
MSFW—Toppenish/Grandview
County—Yakima
Parts:
Mabton CCD
S Yakima CCD
Sunnyside CCD
Toppenish/Wapato CCD

DENTAL: Washington Facility Listing
Facility Name
Coyote Ridge Corr Inst
County—Franklin
Twin Rivers Corr Ct r
County—Snohomish
Wa Corr Ct r For Women
County—Pierce
Wa Corr/Reception Ct r
County—Mason
Wa State Pen
County—Walla Walla

DENTAL: West Virginia County Listing
County Name
*Calhoun
*Hampshire
Service Area: Baker
*Hardy
Service Area: Baker
Kanawha
Service Area: Cedar Grove
*Lincoln
*McDowell
*Monongalia
Service Area: Clay/Battelle (WV/PA)
*Raleigh
Facility: FCI Beckley
Wayne
Population Group: Low-Inc Wayne/Ft. Gay
*Wetzel
Service Area: Clay/Battelle (WV/PA)

DENTAL: West Virginia Service Area Listing
Service Area Name
Baker
County—Hampshire
Parts:
Capon District
County—Hardy
Parts:
Capon District
Lost River District
Cedar Grove
County—Kanawha
Parts:
C.T. 118
Clay/Battelle (WV/PA)
County—Monongalia
Parts:
C.T. 114
County—Wetzel
Parts:
C.T. 304

DENTAL: West Virginia Population Group Listing
Population Group
Low-Inc Wayne/Ft. Gay
County—Wayne
Parts:
Butler Dist
Stonewall Dist
Union Dist

DENTAL: West Virginia Facility Listing
Facility Name
FCI Beckley
County—Raleigh

DENTAL: Wisconsin County Listing
County Name
*Adams
Population Group: Low Inc—Adams Co
Facility: FCI Oxford
Dane
Population Group: Low Inc—Central Madison
*Forest
Service Area: Mountain
Kenosha
Population Group: Low Inc—Kenosha City
La Crosse
Population Group: Low Inc—LA Crosse Co
*Langlade
Service Area: Mountain
Marathon
Population Group: Low Inc—Wausau City
Milwaukee
Service Area: Inner City West
Service Area: Inner City North (Milwaukee)
Population Group: Low Inc—Inner City South
*Monroe
Population Group: Low Inc—Westby/Cashton
*Oconto
Service Area: Mountain
Rock
Population Group: Low Inc—Central Beloit City
*Vernon
Population Group: Low Inc—Westby/Cashton
*Waushara
Population Group: Low Inc—Waushara Co

DENTAL: Wisconsin Service Area Listing
Service Area Name
Inner City North (Milwaukee)
County—Milwaukee
Parts:
C.T. 66-72
C.T. 79-86
C.T. 101-107
C.T. 114-118
C.T. 139-142
C.T. 145-147
C.T. 151
Inner City West
County—Milwaukee
Parts:
C.T. 62
C.T. 87-90
C.T. 96-100
C.T. 119-123
C.T. 133-138
C.T. 148-149
Mountain
County—Forest
Parts:
Blackwell Town
Freedom Town
Wabeno Town
County—Langlade
Parts:
Evergreen Town
Langlade Town
White Lake Village
Wolf River Town
County—Oconto
Parts:
Armstrong Town
Bagley Town
Brazeau Town
Breed Town
Doty Town
Lakewood Town
Riverview Town
Townsend Town

DENTAL: Wisconsin Population Group Listing
Population Group
Low Inc—Adams Co
County—Adams
Parts:
Low Income
Low Inc—Central Beloit City
County—Rock
Parts:
C.T. 15-19
Low Inc—Central Madison
County—Dane
Parts:
C.T. 11
C.T. 12.98
C.T. 13.98
C.T. 14.01
C.T. 16.01-16.02
C.T. 17
Low Inc—Inner City South
County—Milwaukee
Parts:
C.T. 155-159
C.T. 162-169
C.T. 174-177
C.T. 178.98
C.T. 179
C.T. 180.97-180.98
Low Inc—Kenosha City
County—Kenosha
Parts:
C.T. 7-12
C.T. 16
Low Inc—LA Crosse Co
County—La Crosse
Parts:
Low Income
Low Inc—Wausau City
County—Marathon
Parts:
C.T. 1-2
C.T. 4-5
C.T. 6.01-6.02
C.T. 7
Low Inc—Waushara Co
County—Waushara
Parts:
Low Income
Low Inc—Westby/Cashton
County—Monroe
Parts:
Cashton Vil
Jefferson Town
Melvina Vil
Norwalk Vil
Portland Town
Ridgeville Town
Sheldon Town
Wellington Town
County—Vernon
Parts:
Christiana Town
Clinton Town
Forest Town
Ontario Vil
Westby City
Whitestown Town

DENTAL: Wisconsin Facility Listing
Facility Name
FCI Oxford
County—Adams

DENTAL: Wyoming County Listing
County Name
*Niobrara

DENTAL: American Samoa County Listing
County Name
*Eastern
Service Area: Terr. Of American Samoa
*Manua
Service Area: Terr. Of American Samoa
*Rose Island
Service Area: Terr. Of American Samoa
*Swains Island
Service Area: Terr. Of American Samoa
*Western
Service Area: Terr. Of American Samoa

DENTAL: American Samoa Service Area Listing
Service Area Name
Terr. Of American Samoa
County—Eastern
County—Manua
County—Rose Island
County—Swains Island
County—Western

DENTAL: Fed Ste Micronesia County Listing
County Name
*Chuuk State
*Kosrae State
*Pohnpei State
*Yap State

DENTAL: Guam County Listing
County Name
*Guam

DENTAL: N. Mariana Islands County Listing
County Name
*Northern Islands
Service Area: Commonwealth N. Marianas Islands
*Rota
Service Area: Commonwealth N. Marianas Islands
*Saipan
Service Area: Commonwealth N. Marianas Islands
*Tinian
Service Area: Commonwealth N. Marianas Islands

DENTAL: N. Mariana Islands Service Area Listing
Service Area Name
Commonwealth N. Marianas Islands
County—Northern Islands
County—Rota
County—Saipan
County—Tinian

DENTAL: Republic of Palau County Listing
County Name
*Republic Of Palau

DENTAL: Puerto Rico County Listing
County Name
*Adjuntas (W 1/2)
Service Area: Castaner
*Aguas Buenas
Service Area: Caguas (Sub-Region I)
*Caguas
Service Area: Caguas (Sub-Region I)
*Canovanas
Population Group: Rsa 14
*Ceiba
*Ceiba
Population Group: Rsa 14
Population Group: Rsa 14
*Cidra
Service Area: Caguas (Sub-Region I)
*Culebra
Population Group: Rsa 14
*Fajardo
Population Group: Rsa 14
*Gurabo
Service Area: Caguas (Sub-Region I)
*Humacao
Population Group: Low Inc—Humacao
*Juncos
Service Area: Caguas (Sub-Region I)
*Lares (S 1/2)
Service Area: Castaner
*Loiza
Population Group: Rsa 14
*Luquillo
Population Group: Rsa 14
*Manati
Population Group: Low Inc—Manati
*Maricao (E 1/2)
Service Area: Castaner
Mayaguez
Population Group: Low Inc—Mayaguez
*Orocovis
Population Group: Low Inc—Orocovis
*Rio Grande
Population Group: Rsa 14
*Vieques
Population Group: Rsa 14
*Yauco (N 1/4)
Service Area: Castaner

DENTAL: Puerto Rico Service Area Listing
Service Area Name
Caguas (Sub-Region I)
County—Aguas Buenas
County—Caguas
County—Cidra
County—Gurabo
County—Juncos
Castaner
County—Adjuntas (W 1/2)
County—Lares (S 1/2)
County—Maricao (E 1/2)
County—Yauco (N 1/4)

DENTAL: Puerto Rico Population Group Listing
Population Group
Low Inc—Humacao
County—Humacao
Parts:
Low Income
Low Inc—Manati
County—Manati
Parts:
Low Income
Low Inc—Mayaguez
County—Mayaguez
Parts:
Low Income
Low Inc—Orocovis
County—Orocovis
Parts:
Low Income
Rsa 14
County—Canovanas
Parts:
Canovanas
County—Ceiba
County—Ceiba
Parts:
Ceiba
County—Culebra
Parts:
Culebra
County—Fajardo
Parts:
Fajardo
County—Loiza
Parts:
Loiza
County—Luquillo
Parts:
Luquillo
County—Rio Grande
Parts:
Rio Grande
County—Vieques
Parts:
Vieques

DENTAL: Virgin Islands County Listing
County Name
*St. Croix

[FR Doc. 00-22682 Filed 9-14-00; 8:45 am]

BILLING CODE 4160-15-P